DEPARTMENT OF COMMERCE

National Oceanic and Atmospheric Administration

50 CFR Part 660

[Docket No. 040830250-4342-02; I.D. 081304C]

RIN 0648-AS27

Magnuson-Stevens Act Provisions; Fisheries off West Coast States and in the Western Pacific; Pacific Coast Groundfish Fishery; Biennial Specifications and Management Measures

AGENCY: National Marine Fisheries Service (NMFS), National Oceanic and Atmospheric Administration (NOAA), Commerce.

ACTION: Final rule.

SUMMARY: With this final rule, NMFS implements the 2005-2006 fishery specifications and management measures for groundfish taken in the U.S. exclusive economic zone (EEZ) off the coasts of Washington, Oregon, and California. This rule includes the levels of the acceptable biological catch (ABC) and optimum yields (OYS). The commercial OYS (the total catch OYS reduced by tribal allocations and by amounts expected to be taken in recreational and resource survey compensation fisheries) in this rule are allocated between the limited entry and open access fisheries and between different sectors of the limited entry fleet. Management measures for 2005-2006 are intended to: achieve but not exceed OYS; prevent overfishing; rebuild overfished species; reduce and minimize the bycatch and discard of overfished and depleted stocks; provide equitable harvest opportunity for the recreational and commercial fishing sectors; and, within the commercial fisheries, achieve harvest guidelines and limited entry and open access allocations to the extent practicable.

DATES: Effective January 1, 2005.

ADDRESSES: Copies of the Final Environmental Impact Statement (FEIS) for this action are available from Donald McIsaac, Executive Director, Pacific Fishery Management Council (Council), at 7700 NE Ambassador Place, Portland, OR 97220, phone: 503-820-2280. Copies of additional reports referred to in this document may also be obtained from the Council. Copies of the Record of Decision (ROD), final regulatory flexibility analysis (FRFA), and the Small Entity Compliance Guide (SECG) are available from D. Robert Lohn, Administrator, Northwest Region (Regional Administrator), NMFS, 7600 Sand Point Way, NE, Seattle, WA 98115-0070.

FOR FURTHER INFORMATION CONTACT: Yvonne deReynier (Northwest Region, NMFS), phone: 206-526-6129; fax: 206-526-6736 and; e-mail: yvonne.dereynier@noaa.gov.

SUPPLEMENTARY INFORMATION:

Electronic Access

The proposed and final rules for this action are also accessible via the Internet at the Office of the Federal Register's website at http://www.gpoaccess.gov/fr/index.html. Background information and documents are available at the NMFS Northwest Region website at www.nwr.noaa.gov/1sustfsh/gdfsh01.htm and at the Council's website at www.pcouncil.org. The SECG is available online at www.nwr.noaa.gov/1press/sfdpress.htm.

Background

A proposed rule to implement the 2005-2006 specifications and management measures for Pacific coast groundfish was published on September 21, 2004 (69 FR 56550). NMFS requested public comment on the proposed rule through October 21, 2004. During the comment period, NMFS received five letters of comment, which are addressed later in the preamble to this final rule. See the preamble to the proposed rule for additional background information on the fishery and on this final rule.

The Magnuson-Stevens Fishery Conservation and Management Act (Magnuson-Stevens Act) and the FMP require that NMFS implement actions to prevent overfishing and to rebuild overfished stocks. Specifications and management measures for 2005-2006 are designed to rebuild overfished stocks consistent with statutory requirements through constraining direct and incidental mortality, and to achieve as much of the OYS as practicable for healthier groundfish stocks managed under the FMP. In order to protect overfished species, allowable harvest levels of healthy species will only be achieved where such harvest will not deter rebuilding of overfished and depleted stocks. Commercial management measures for 2005-2006 include landings limits, size limits, gear restrictions, and time/area closures. Recreational management measures include bag limits, size limits, gear restrictions, and time/area closures. This final rule continues the coastwide depth-based management program that NMFS introduced in 2003, which closes portions of the continental shelf to fishing for groundfish and to fishing for many non-groundfish species in fisheries that take groundfish incidentally. These closures are intended to protect and rebuild overfished groundfish species.

Comments and Responses

During the comment period for the 2005-2006 specifications and management measures, which ended on October 21, 2004, NMFS received five letters of comment. One letter was received from a member of the public, two of these letters were received from non-governmental organizations representing environmental interests, and the fourth letter was received from the California Department of Fish and Game (CDFG). NMFS also received a letter of comment from the Council, summarizing its discussions at its September 2004 meeting on limited refinements to its 2005-2006 specifications and management measures recommendations. Those recommendations are discussed below in the section on Changes from the Proposed Rule. Comments received on the proposed rule are addressed here:

Comment 1: A commenter stated that the Magnuson-Stevens Act requires NMFS to rebuild overfished species as quickly as possible, citing 16 U.S.C. 1854(e)(4)(A). This commenter further stated that the fishing harvest levels NMFS proposes for nearly all the overfished Pacific groundfish species in the proposed specifications fail to comply with this legal requirement because they delay rebuilding for many years.

Response: The commenter states that overfished species must be rebuilt as quickly as possible. The Magnuson-Stevens Act, however, states that rebuilding periods shall “(i) be as short as possible, taking into account the status and biology of any overfished stocks of fish, the needs of fishing communities, recommendations by international organizations in which the United States participates, and the interaction of the overfished stock of fish within the marine ecosystem; and (ii) not exceed 10 years, except in cases where the biology of the stock of fish, other environmental conditions, or management measures under an international agreement in which the United States participates dictate otherwise.” [16 U.S.C. 1854(e)(4)(A)(i) and (ii)]

Federal regulations at 50 CFR 600.310(e)(4)(ii)(B) provide guidance on the lower and upper limits for rebuilding periods:

“(B) These factors enter into the specification of the time period for rebuilding as follows:

(1) The lower limit of the specified time period for rebuilding is determined by the status and biology of the stock or stock complex and its interactions with other components of the marine ecosystem, and is defined as the amount of time that would be required for rebuilding if fishing mortality were eliminated entirely.

(2) If the lower limit is less than 10 years, then the specified time period for rebuilding may be adjusted upward to the extent warranted by the needs of fishing communities and recommendations by international organizations in which the United States participates, except that no such upward adjustment can result in the specified time period exceeding 10 years, unless management measures under an international agreement in which the United States participates dictate otherwise.

(3) If the lower limit is 10 years or greater, then the specified time period for rebuilding may be adjusted upward to the extent warranted by the needs of fishing communities and recommendations by international organizations in which the United States participates, except that no such upward adjustment can exceed the rebuilding period calculated in the absence of fishing mortality, plus one mean generation time or equivalent period based on the species' life-history characteristics. For example, suppose a stock could be rebuilt within 12 years in the absence of any fishing mortality, and has a mean generation time of 8 years. The rebuilding period, in this case, could be as long as 20 years."

The overfished species harvest specifications implemented via this final rule were set according to the rebuilding plans and rebuilding parameters set for these species in the FMP and in Federal regulations. Allowable rebuilding periods for the eight overfished species were analyzed and discussed in and developed through Amendments 16-2 and 16-3 to the FMP. Rebuilding plans for the eight overfished West Coast groundfish species are found within the FMP at Section 4.5.4. Harvest parameters to implement rebuilding requirements are found in Federal regulations at 50 CFR 660.365.

In the preamble to the proposed rule for this action (69 FR 56550, September 21, 2004), NMFS provided details for each overfished species on minimum time to rebuild (TMIN), maximum time to rebuild (TMAX) and target rebuilding time (TTARGET). All of the minimum, maximum, and target rebuilding times for all of the overfished species were determined following stock assessments and rebuilding analyses for each species, using the best scientific information available at the time of the assessment. None of the overfished species, except lingcod, have TTARGET values equal to or exceeding their TMAX values. Lingcod's TTARGET and TMAX are both 2009, which is ten years after lingcod was declared overfished and also in compliance with the Magnuson-Stevens Act and national standard guidelines. All of the TTARGET values for the overfished species were determined following the requirements and guidance of the Magnuson-Stevens Act and the national standard guidelines. Thus, the rebuilding periods for all West Coast groundfish species and the harvest specifications implemented herein for those species comply with the Magnuson-Stevens Act; the commenter's assertion is incorrect.

Comment 2: One commenter stated that the harvest levels NMFS proposed conflict with NMFS's “Technical Guidance on the Use of the Precautionary Approaches to Implementing National Standard 1 of the Magnuson-Stevens Fishery Conservation and Management Act” (Technical Guidance). This commenter stated that the Technical Guidance directs NMFS to select overfished species harvest levels that have a 90-percent probability of rebuilding before TMAX and that result in a rebuilding period no longer than the midpoint between TMIN and TMAX. Further, this commenter stated that the OYS NMFS proposed for overfished species violate one or both of these directives. A second commenter stated that, under the Technical Guidance, overfished species harvest levels should be set so that the probability of achieving rebuilding by TMAX should be 90-percent or greater for those species whose assessments involve uncertainty. This second commenter also supported rebuilding periods no longer than the midpoint between TMIN and TMAX.

Response: NMFS has discussed this issue thoroughly in the preambles to its final rules to implement Amendment 16-1 (69 FR 8861, February 26, 2004,) Amendment 16-2 (69 FR 19347, April 13, 2004) and Amendment 16-3 (69 FR 57874, September 28, 2004.) These same commenters submitted these same comments on those rules and NMFS responded to those comments in each of those final rules. NMFS herein summarizes its responses to these comments and refers interested readers to the cited final rules for further information.

The first commenter is incorrect in calling the Technical Guidance a “directive.” The Technical Guidance is not a binding regulation that must be followed. As mentioned in the Preface to the Technical Guidance itself, it provides guidance on “those aspects of scientific fishery management advice that have biological underpinnings” and it recognizes that there are other important factors for fisheries management, such as the social and economic goals of the Magnuson-Stevens Act. Overfished species rebuilding plan probabilities of achieving BMSY within TMAX years that are less than 90 percent, and TTARGET dates that are greater than the midpoint between TMIN and TMAX, have been established in order to meet varying needs of West Coast fishing communities. As discussed in the response to Comment 1, all of the TTARGET dates for all of the overfished species are in compliance with the Magnuson-Stevens Act and the national standard guidelines.

Comment 3: A commenter referred to the Technical Guidance, stating that agreed upon fishing mortality rates and strategies to rebuild depleted species should be upheld when large year classes appear to ensure a successful rebuilding plan.

Response: The response to Comment 2 explained the status of the Technical Guidance. Amendments 16 2 and 16-3 amended the FMP to include overfished species rebuilding plans for lingcod, canary rockfish, darkblotched rockfish, Pacific ocean perch (POP), cowcod, bocaccio, yelloweye rockfish, and widow rockfish within the FMP. To implement these plans, two rebuilding parameters were added to the Code of Federal Regulations (CFR) for each overfished stock, the target year for rebuilding and the harvest control rule. The target year for rebuilding (TTARGET)is the year in which there is a 50 percent likelihood that the stock will have been rebuilt with a given mortality rate. The harvest control rule expresses a given fishing mortality rate that is to be used over the course of rebuilding. These parameters are used to establish the annual OYS.

The FMP also provides that, after a new stock assessment, if the Council and NMFS conclude that either or both the target year for rebuilding and the harvest control rule defined in regulation should be revised, the revision will be implemented through notice and comment rulemaking, and the updated values codified in the Federal regulation. Any change to a harvest control rule must be fully supported by a corresponding analysis.

The harvest control rule for lingcod is being revised by this action from F=0.0531 to F=0.17 in the north and from F=0.061 to F=0.15 in the south. These revisions are being made because of new data that became available from a new stock assessment and a revised rebuilding analysis. Rebuilding projections for the northern areas, if considered in isolation, indicate that the stock is above the rebuilt threshold of B40%. However, the southern portion of the stock has not yet rebuilt. When the total biomass is viewed coastwide, it is less than 1 percent below the rebuilt target of B40%.

For lingcod, the new assessment and rebuilding plan results indicated that the same TTARGET as is currently in regulation (69 FR 19347; April 13, 2004) could be maintained, but would allow a higher harvest rate while also increasing the probability of rebuilding the stock to TTARGET from 60 percent to 70 percent. The Magnuson-Stevens Act requires the Secretary of Commerce to review the adequacy of rebuilding plans at intervals that may not exceed 2 years. The rebuilding plans for all eight overfished species will be reviewed following their 2005 stock assessments. The Council's Scientific and Statistical Committee (SSC) is also drafting revisions to its Rebuilding Analyses Terms of Reference to incorporate rebuilding plan adequacy reviews. These reviews will aid NMFS and the Council in determining how and whether harvest targets and management measures need to be revised for the 2007 2008 fishing period.

Comment 4: A commenter stated that the PFMC has not adhered to its FMP's 40-10 policy (at Section 4.5 of the FMP) in developing its alternatives for 2005-2006 harvest levels for species in the precautionary zone (between B25 and B40 abundance.)

Response: The Council uses a precautionary policy, which was adopted as guidance in 1999 through Amendment 11 to the FMP, for setting OYS. The precautionary policy, also referred to as the 40-10 harvest policy, is intended to prevent species or stocks from becoming overfished. The biomass level needed to produce maximum sustainable yield (MSY) is referred to as BMSY. The Council uses 40 percent of a stock's unfished biomass as a default proxy for BMSY, or B40%. If the stock biomass is larger than BMSY, the OY may be set equal to or less than ABC. A stock with a current biomass between 25 percent of the unfished level (B25%) and the BMSY precautionary threshold is said to be in the “precautionary zone.” The Council's 40-10 policy reduces the fishing mortality rate when a stock is at or below its precautionary threshold. The lower a stock is in that B25%-B40% range, the greater the reduction in OY relative to the ABC. This is a default rebuilding policy for precautionary zone species that is intended to foster a quicker return to the BMSY level for those species. Stocks that fall below the B25% level are designated as overfished. Each of the eight overfished groundfish stocks is managed with species-specific harvest levels intended to rebuild that stock within its target rebuilding date, rather than with the default 40-10 policy. For further information on the 40-10 policy, see the preamble of the final rule to implement Amendment 16-1 (69 FR 8861, February 26, 2004) or the FMP at Section 4.5.

In 2005 and 2006, three stocks previously known to be in the precautionary zone were identified in section 2.4.2 of the FEIS for this action: Dover sole, sablefish, and shortspine thornyhead north. As discussed in the footnotes to Tables 1a-2b in this rule and in those same tables for and the preamble to the proposed rule for this action, the 2005 and 2006 OYS for these three precautionary zone species are all based on the 40-10 harvest policy. The first stock assessment for cabezon was prepared in 2003 for use in setting the 2005 and 2006 specifications and management measures. As a result of this stock assessment, cabezon was believed to be at 34.7 percent of its unfished biomass, which also makes it a precautionary zone stock. A description of the stock assessment and further discussion on the alternative ABCs and OYS may be found in the preamble of the proposed rule for this action (69 FR 56550, September 21, 2004).

During the specifications development process for 2005 and 2006, three alternative OYS were considered for each year for cabezon. The low OY alternatives of 44 mt for 2005 and 63 mt for 2006 were based on a harvest rate proxy of F50% with the application of the 60-20 harvest policy. A 60-20 harvest policy is used by the state of California for nearshore species in which the biomass is estimated to be within the precautionary zone, below 60 percent of their unfished biomass. The 60-20 harvest policy is similar to the 40-10 harvest policy described above, in that it reduces the fishing mortality rate when a stock is at or below its precautionary threshold. The difference is that the precautionary threshold is set at 60 percent of a stock's unfished biomass rather than at 40 percent. The OY is reduced in relation to the ABC, until, at B20%, the OY would be set at zero. California uses this more precautionary policy for its nearshore species to buffer against the strong fishing effort levels in California's nearshore waters. The mid-range OY alternatives of 69 mt for both 2005 and for 2006 were based on a constant harvest rate recommended by the CDFG. The high OY alternatives of 91 mt for 2005 and 107 mt for 2006 were based on the harvest rate proxy of F45% with the application of the 40-10 harvest policy. The Council considered these alternatives at its April 2004 meeting and recommended an ABC of 103 mt for 2005 and 108 mt for 2006, with a constant harvest OY of 69 mt for each year. Using a constant harvest rate over the 2 year period is expected to help stabilize the fishery and management measures.

Thus, the commenter is correct in stating that cabezon OY for 2005 and 2006 is not based on a strict 40-10 harvest policy. This is because the 40-10 harvest policy was the high OY option and the OY that is being adopted is a more conservative option. Adopting an OY that is more conservative than the 40-10 is expected to foster quicker return to the MSY level and is not contrary to the FMP. There are no other stocks in the precautionary zone.

Comment 5: A commenter urged NMFS to adopt catch levels that achieve OY on a continuing basis, saying that the MSY harvest levels should be treated as harvest limits that are rarely exceeded and that OY should be used as a management target safely below the MSY threshold.

Response: The harvest specifications implemented via this final rule are intended to achieve OY on a continuing basis. They are based on the requirements of and guidance from the Magnuson-Stevens Act, the national standard guidelines, and the FMP. Harvest specifications for overfished species are specific to and based on the rebuilding needs of each particular stock. Under the FMP ABCs are set at the MSY level. As discussed in the response to Comment 4, species in what the FMP refers to as the precautionary zone are managed with the 40-10 harvest policy to reduce OY from ABC. Species with less rigorous or no stock assessments are also managed using precautionary policies, described in the footnotes to Tables 1a-2b. In brief, those that have less rigorous stock assessments have OYS that are 56.25 percent of their ABCs and those that have no quantifiable stock assessments have OYS that are 37.5 of their ABCs.

Stocks that are above B40% and which have been assessed through formal stock assessments are permitted under the FMP to have their harvest specifications set so that OY=ABC. These stocks in 2005-2006 are: petrale sole, arrowtooth flounder, chilipepper rockfish, yellowtail rockfish, longspine thornyhead, and black rockfish. Pacific whiting was also in this category in 2004, but its assessment for 2005 is not yet complete. Other species, such as blackgill rockfish, are estimated be above B40%, but have had precautionary reductions to their harvest levels because they have not been rigorously assessed. Some of these more abundant stocks, such as chilipepper, have also had their OYS reduced from their ABCs in order to prevent strong target fishing on stocks that co-occur with overfished species. Management measures to constrain the incidental catch of overfished species will result in the OYS of most of the more abundant species not being fully harvested in 2005 and 2006.

NMFS is in the process of revising its National Standard 1 guidelines. Through that process, NMFS is considering the commenter's idea that OY levels for all species be set below MSY levels. To revise the National Standard 1 guidelines, NMFS will issue a proposed rule and provide a public comment period. The agency urges the commenter and others to track this process and review the proposed revisions to the national standard guidelines when they become available. NMFS has provided a preliminary study of revisions to the guidelines and draft regulatory language online at: http://www.nmfs.noaa.gov/sfa/domes_fish/index.htm#PR. The agency expects to publish a proposed rule discussing these potential revisions in January 2005.

Comment 6: A commenter stated that in proposing fishing harvest levels for the eight overfished groundfish species, NMFS has failed to disclose and consider adequately the total fishing mortality for these species in recent years, including repetitive overharvest for many of these species in recent years. This commenter further stated that in doing so, NMFS violated the Magnuson-Stevens Act at 16 U.S.C. 1853(a)(5), violated the reasoned decisionmaking duties imposed by the Administrative Procedure Act (APA), and the environmental analysis and disclosure obligations imposed by the National Environmental Policy Act (NEPA). This same commenter had commented on the EIS for this action and incorporated the comments they had provided on the EIS into the comments on the proposed rule for this action.

Response: Fishing mortality estimates of overfished groundfish species, also referred to as total catch estimates, are calculated by summing the best available data from recreational fishing, research activities, non-groundfish fishing, and commercial (including exempted fishing permit (EFP) fishing) fishing. The total catch values for the commercial fisheries, where discard mortality occurs at-sea, include both the landed catch values and at-sea discard mortality estimates. NMFS's bycatch and total catch modeling efforts were discussed in the preamble to the proposed rule for this action.

The commenter incorrectly states that NMFS has failed to disclose total fishing mortality for overfished species in recent years. Numerous tables in the FEIS provide historical total catch estimates that include data from recent years as well as projected total catch estimates of overfished species for 2005 and 2006. Overall total catch estimates for 2002 and 2003 from commercial fisheries (including EFP fishing), tribal and recreational fisheries are presented in Tables 4-1 and 4-2 of the FEIS. These tables display the total catch ABC and OY values (exceeding the ABC is considered overfishing), total landed catch, estimated total discard mortality, and an estimate of total catch (landed catch plus discard mortality). Total catch estimates from research activities in 2002 and 2003 are summarized in Tables 2-6 to 2-7. Tables 2-8 and 2-9 contain projections of scientific research catch for 2005 and 2006, which are based on the historic scientific activities. In addition, historical total catch is also incorporated into stock assessments. Landed catch and discard values can be found in the various stock assessments.

The commenter is also incorrect in stating that NMFS has failed to consider adequately the total fishing mortality of overfished species in recent years, including years in which the OY was exceeded (overharvested). The potential risk of exceeding the OY was disclosed in Section 9.7 of the FEIS, as part of the discussion of unavoidable adverse impacts. It is disclosed that overfishing is a potential adverse impact that could jeopardize the sustainability of a stock. However, this discussion emphasized that this is a potential adverse effect, which would depend on a continuing mis-specification of harvest levels or an inability to constrain total mortality to correctly specified OYS. NMFS addresses the effects of past over-harvest by accounting for historical harvests in the stock assessments used to set OYS. These analyses, which are discussed in Section 4.3 of the FEIS, form the basis for the range of OYS considered in the EIS. In addition, for fisheries that have shown a risk of exceeding the OY in the past, the Council has set more precautionary management measures in order to reduce the chance of exceeding the OY. For example, high catch rates in the California recreational groundfish fishery during 2003, which contributed to overfishing of lingcod stocks, were given greater weight in the catch projection model for 2005-2006 used to develop management measures for that fishery, resulting in more restrictive management measures.

Finally, NMFS responded to comments on the EIS from this commenter within the FEIS for this action. Those comments and agency responses are not included herein, but are available from the Council (see ADDRESSES).

Comment 7: A commenter recommended that, on an annual basis, NMFS and/or the Council should compare annual total mortality levels with specified OY values to determine if any overages have occurred. This commenter further recommended that, if overages have occurred, an inseason adjustment be made to the current year's OYS to compensate for the prior year's overages.

Response: The purpose of harvest limits is to achieve, “on a continuing basis, the OY from each fishery” (50 CFR 600.310(a.)) It is not NMFS' practice to adjust OYS for one year by the overages or underages from previous years. NMFS makes adjustments to harvest limits (ABCs and OYS) after conducting an assessment of the population of a particular species, an assessment that occurs every 2-4 years. However, NMFS and the Council continually address over- and under-harvests by adjusting management measures to try to achieve, but not exceed OYS. (OYS of several of the more abundant stocks will, of necessity, not be achieved in order to protect co-occurring overfished species.) Management measures are adjusted inseason using the best available scientific information. For example, after the 2003-2004 limited entry trawl and fixed gear observer program data becomes available in January 2005, it will be incorporated into the bycatch model for inseason use in management of the 2005 fisheries. In addition, NMFS is required to report annually to Congress on the status of overfished species and on whether overfishing has occurred on any managed species or species group (http://www.nmfs.noaa.gov/sfa/reports.html#sos).

Comment 8: A commenter stated that the darkblotched rockfish OY proposed by NMFS is the same as the ABC proposed for darkblotched rockfish. This commenter further stated that both the Magnuson-Stevens Act and the FMP bar NMFS from setting the OY for an overfished species at that species' ABC. The commenter cited the Magnuson-Stevens Act at 16 U.S.C. 1802(28), stating that the Act requires NMFS to set OYS for rebuilding species at a level below that which would result in the maximum sustained yield from the fishery, in order to allow for rebuilding. The commenter also cited the FMP at 4.6 as reading “Reduction in catches or fishing rates for either precautionary or rebuilding purposes is an important component of converting values of ABC to values of OY.”

Response: When setting the 2005 and 2006 ABCs, the Council again followed its policy of using a default harvest rate as a proxy for the fishing mortality rate that is expected to achieve MSY. Since 2001, the Council has used the following harvest rate proxies to set ABC values at MSY values: F40% for flatfish, F50% for rockfish (including thornyheads), and F45% for other groundfish such as sablefish and lingcod. The 2005-2006 OYS were set at levels that are expected to prevent overfishing; they are equal to or less than the ABCs. For overfished species, the OYS are consistent with adopted rebuilding plans, which allow each stock to rebuild within a period of time specific to that stock. For further discussion on the process for setting OYS, see the Amendment 16-2 final rule preamble's response to Comment 7 (69 FR 19347, April 13, 2004.)

A rebuilding analysis projects stock growth into the future given specific parameters. These parameters include potential growth of the stock, referred to as recruitment, or the amount of young fish that mature and enter the fishery. The rebuilding analysis methodology uses a Monte Carlo simulation technique in which many simulations project the change in a stock's biomass over time for a given fishing mortality rate, and is based on the biological characteristics of the species, including the known recruitment variability. A rebuilding analysis is different from a stock assessment which uses past biological and fishery information to judge the current state of the stock.

Selecting OYS for species managed under rebuilding plans is a different process than that used for species managed under the 40-10 harvest policy or the precautionary approach taken in setting OYS for species with no stock assessments or only rudimentary ones. For species without rebuilding plans, the ABC is the starting point and precautionary deductions are made to derive the OY.

Because darkblotched rockfish has been designated as an overfished species, a rebuilding analysis was prepared and a rebuilding plan was implemented in 2004. The 2003 stock assessment update and rebuilding analysis for darkblotched rockfish showed a sensitivity to relatively high 2000 and 2001 recruitment estimates (numbers of young fish from the 2000 and 2001 year classes that are expected to grow large enough to be caught in the fisheries.) Including recruitment estimates from 2000 and 2001 in the rebuilding analysis resulted in higher OY estimates because those recruits are predicted to enter the fishery and help rebuild the stock before the maximum allowable time. The ABCs on the other hand, were not as affected because the 2000 and 2001 recruits are too small to have already entered the fishery.

The darkblotched rockfish OYS being adopted for 2005 and 2006 are based on the species' rebuilding analysis using the recruitment estimates from the 2000 year class, but not from the 2001 year class. Using 2000 as the last year for recruitment estimates is more conservative than using model runs where the last year of recruitment estimates were from 2001, as was considered during the adoption of 2004 specifications and the darkblotched rockfish rebuilding plan. At that time, the Stock Assessment Review (STAR) panel had recommended that the model include the 2000 year class recruitment estimate, in order to balance the conflicting effects of the need to use the most recent information and the higher uncertainty levels associated with the most recent information on the sizes of younger year classes. The Council's recommendation was consistent with the STAR panel's recommendation. The OY generated from the rebuilding analysis was greater than the ABC generated from the stock assessment, both of which were reviewed by the Council's SSC. However, the Council recognized that they could not set a species' OY to exceed its ABC, and therefore recommended that the 2004 darkblotched rockfish OY be set equal to its 240 mt ABC. No new darkblotched rockfish stock assessment or rebuilding analysis was conducted in 2004, thus the 2005-2006 ABC and OY values are based on the 2003 stock assessment update and rebuilding analysis.

The commenter is incorrect in stating that the Magnuson-Stevens Act and the FMP bar NMFS from setting the OY for an overfished species at that species' ABC. The Magnuson-Stevens Act defines OY as being a value based on MSY; as reduced by any relevant economic, social, or ecological factor. Because of the rebuilding analysis, no factors require a reduction from the ABC to establish the darkblotched rockfish OY. An OY must be no higher than MSY for all stocks. For overfished fisheries (stocks), the OYS must be based upon a rebuilding schedule that increases stocks' biomass levels to those that would produce MSY within an appropriate time frame. On April 13, 2004 (69 FR 19347), Amendment 16-2 to the groundfish FMP implemented a rebuilding plan for darkblotched rockfish. The OYS being adopted for 2005 and 2006 are based on the darkblotched rockfish rebuilding plan. For darkblotched rockfish the ABC and OY for 2005 are being set at 269 mt and the ABC and OY for 2006 are being set at 294 mt.

Comment 9: A commenter stated that “NMFS's proposed fishing harvest level for darkblotched rockfish violates the Magnuson-Stevens Act and the APA because it fails to correct, or even give reasoned consideration to correcting, for repetitive overharvests of the species in recent years.” This commenter further stated that NMFS has more often exceeded its darkblotched rockfish OYS than has complied with them in recent years, which the commenter considers relevant factors within the meaning of the APA's requirement for reasoned decisionmaking.

Response: A full coastwide stock assessment for darkblotched rockfish was prepared for 2000. This stock assessment was updated in 2001 with data from the 2000 slope survey conducted by the Alaska Fisheries Science Center (AFSC)and available 2000 fishery data. In 2003 the assessment was updated for the 2003 rebuilding analysis and further added 2001 AFSC slope and shelf survey data and fishery data through 2002. As stated above, NMFS addresses the effects of past over-harvest during new stock assessments by accounting for historical harvests in the stock. These stock assessments are used as the basis for rebuilding plans, which define the range of OYS for overfished species.

As described below, the darkblotched rockfish OY was exceeded in 2001 and 2002, but not in 2003. The ABC was not exceeded in any of these years, so there was no “overfishing” during these years. Tables on Page 4 of the July 11, 2003, darkblotched rockfish stock status and rebuilding update display the harvest estimates (total catch estimates available at the time of the update for 2001 and 2002) that were incorporated into the analysis. In this comment, when the commenter uses the term “overharvesting” NMFS assumes that the commenter is using this term to indicate that the OY has been exceeded. The total estimated 2001 catch of darkblotched rockfish that was used in the rebuilding analysis was 161 mt, the 2001 ABC was a range between 302 and 349 mt and the total catch OY was 130 mt. Although the OY was exceeded, the ABC was not exceeded, therefore overfishing did not occur on darkblotched rockfish in 2001.

Overall 2002 and 2003 total catch estimates from commercial fisheries (including EFP fishing), tribal, and recreational fisheries are presented in Tables 4-1 and 4-2 of the FEIS. Total catch estimates for research activities in recent years are summarized in Tables 2-6 to 2-7. In 2002, the total estimated catch of darkblotched rockfish was 202.28 mt, the 2002 ABC was 205 mt and the total catch OY was 168 mt. Though the OY was exceeded, the ABC was not, therefore overfishing did not occur on darkblotched rockfish in 2002. In 2003, the total estimated catch of darkblotched rockfish was 144.9 mt, the 2003 ABC was 205 mt and the total catch OY was 172 mt. Neither the ABC or the OY were exceeded, therefore overfishing did not occur on darkblotched rockfish in 2003. Table 2-7 was incorrectly labeled as 2002 in the DEIS which may have lead the commenter to believe that an additional 5 mt of darkblotched rockfish had been taken in 2002. This typographical error was corrected in the FEIS.

In September 2004, the total catch of darkblotched rockfish was believed to have reached the 2004 OY, which is the same as the ABC. Therefore, NMFS made 2004 inseason fishery adjustments that were intended to drastically reduce the total mortality of darkblotched rockfish. As a result of projected overfishing in 2004 and to prevent overharvest in 2005 and 2006, the Council recommended enlarging the trawl Rockfish Conservation Area (trawl RCA) in 2005-2006 by moving the seaward boundary of the limited entry trawl RCA north of 38° N. lat. from a boundary line approximating the 150 fm (274 m) depth contour to one approximating the 200 fm (366 m) depth contour, with petrale sole fishing areas open in January-February and November-December. In addition, since the same trawl RCA also generally applies to the open access non-groundfish trawl fisheries, NMFS is extending this change to the open access non-groundfish trawl fleet between 40°10′ N. lat. and 38° N. lat. The Council also recommended reducing their initially-recommended slope rockfish trip limit north of 38° N. lat. from 8,000 lb (3,629 kg) to 4,000 lbs (1,814 kg) per two months. These recommendations were based on higher-than-expected incidental catches of darkblotched rockfish in 2004 resulting from trawl vessels targeting slope rockfish offshore of the trawl RCA. The Council recommended the reduced trip limits to allow slope rockfish retention at incidental levels in the DTS (Dover sole, thornyheads, sablefish) fishery without encouraging directed slope rockfish targeting. NMFS concurred with the Council's recommendation and has made the appropriate changes to the trawl RCAs and trip limits.

For 2005 and 2006, the predicted total darkblotched rockfish fishing mortality from all directed and incidental groundfish fisheries and research activities is expected to be substantially lower than the annual OYS (these values can be found in the footnotes to Table 1a). These darkblotched rockfish mortality savings are a secondary benefit of management measures intended to constrain canary rockfish total mortality. Designing management measures that result in total mortality levels that are lower than a species' OY leaves a residual amount of available harvest. This residual amount can reduce the risk of exceeding a species OY, particularly when there are difficulties in catch accounting or when new information becomes available that changes NMFS' understanding of total catch.

In summary, NMFS disagrees with the commenter's assertion that NMFS's proposed fishing harvest level for darkblotched rockfish fails to correct or give reasoned consideration to correcting, for having exceeded the OY (overharvests) in recent years. NMFS has disclosed recent total catch levels of darkblotched rockfish in relation to the annual ABCs and total catch OYS. As fishery data has become available, it has been incorporated into assessments, assessment updates and the rebuilding analyses. NMFS has modified 2005-2006 management measures following the September 2004 Council meeting when it was determined that overharvest might occur in 2004. This reconsideration resulted in changes to this final rule that are intended to keep the harvest of darkblotched rockfish within its OY.

Comment 10: A commenter stated that the proposed specifications, including but not limited to those for canary rockfish, fail to correct for past overharvests of overfished species or even to give reasoned consideration to correcting for those past overharvests.

Response: Fishing mortality, the rate at which animals are removed from the stock as a result of fishing, is incorporated into the stock assessment models. It is important for stock assessment scientists to use data regarding stock growth and mortality (fishing and natural) to understand the level of fishing a stock can sustain such that enough fish survive to replenish the stock and, in the case of overfished species, to rebuild it to the MSY level. As stated above, NMFS addresses the effects of past overharvest during stock assessments by accounting for historical harvests of the stock. These stock assessments are used as the basis for rebuilding plans which define the range of OYS for overfished species.

Table 2b from the 2001 canary rockfish stock assessment, which was prepared in April 2002, shows the commercial and recreational canary rockfish catch data from 1941-2001 that were used in the most recent canary rockfish stock assessment model. This was the best data available at the time of the assessment. The appropriate discard rates were applied to commercial landings to derive estimates of total catch. Similar data can also be found in the stock assessments for other species.

Overall, total catch estimates for 2002 and 2003 from commercial fisheries (including EFP fishing), tribal, and recreational fisheries are presented in Tables 4-1 and 4-2 of the FEIS. Total catch estimates for research activities in recent years are summarized in Tables 2-6 to 2-7. In 2002, the estimated total catch of canary rockfish was 109.7 mt, the 2002 ABC was 272 mt and the total catch OY was 93 mt. In 2003, the estimated total catch of canary rockfish was 49.8 mt, the 2003 ABC was 272 mt and the total catch OY was 44 mt. Although the OYS were exceeded in both of these years, the ABC was not, therefore overfishing did not occur on canary rockfish in 2002 or 2003. Similar data can also be found in the FEIS for overfished and other species. Darkblotched rockfish was addressed above in the response to Comment 9.

Canary rockfish are a schooling continental shelf rockfish taken in commercial and recreational fisheries coastwide. In June 2004, the Council's Groundfish Management Team (GMT) reported that a single early-June tow taken by a catcher vessel operating in the whiting mothership fishery was estimated to contain 3.9 mt of canary rockfish. This single haul exceeded the 0.9 mt total catch projection for the mothership sector. In response to the elevated catches of canary rockfish in the whiting fishery, the Council requested that NMFS implement an emergency rule that would allow appropriate sectors of the commercial whiting fishery to be closed if the impacts of the fishery on canary rockfish reached 7.3 mt for all sectors combined. NMFS implemented this emergency authority on August 3, 2004 (69 FR 46448).

NMFS monitored the whiting fishery throughout the summer and fall for its catch of overfished species, particularly canary and darkblotched rockfish. Based on canary rockfish harvest in non-whiting fisheries and the low canary bycatch rates in the whiting fishery following the June Council meeting, the Council lowered the canary rockfish bycatch limit on the whiting fisheries to 6.2 mt at its September Council meeting. Additionally, the Council recommended a limit of 9.5 mt of darkblotched rockfish bycatch in the whiting fisheries. NMFS retained the emergency authority to close sectors of the whiting fishery in between Council meetings. The Council recommended to NMFS that the agency propose for the 2005-2006 fishing period to retain mid-season whiting sector closure authority and to exercise that authority if 7.3 mt of canary rockfish are taken in the whiting fishery prior to the fishery's achieving the Pacific whiting OY. The Council also recommended the same authority for mid-season whiting sector closures if 231.8 mt in 2005 or 243.2 mt in 2006 of widow rockfish are taken in the whiting fishery prior to the fishery's achieving the Pacific whiting OY. As the 2005 and 2006 fishing seasons progress, NMFS and the Council will monitor the fisheries to determine whether additional or modified bycatch limits are necessary for the whiting fisheries. Similar to 2004, bycatch limits of overfished species would likely be based on the GMT's bycatch scorecard amounts. NMFS concurs with this recommendation and has implemented it with this action at § 660.370(c)(1)(ii) and § 660.373(b)(4).

In summary, NMFS finds that the commenter is incorrect in stating that NMFS's proposed fishing harvest level for canary rockfish fails to correct or give reasoned consideration to correcting, for having exceeded the OY (overharvests) in recent years. NMFS has disclosed recent total catch levels of canary rockfish in relation to the annual ABCs and total catch OYS. As fishery data has become available, it has been incorporated into assessments, assessment updates and the rebuilding analyses. Management measures are designed, using the best and most current information available, to keep harvests within OYS. The Council's recommendations and NMFS's proposed rule were based in part on their experiences managing the 2004 fisheries.

Comment 11: A commenter stated that NMFS has proposed to more than triple the OY for lingcod, despite its admission that recruitment of the 1999 year class is uncertain and that there is uncertainty in the catch projections and the stock assessment for the species. This commenter further stated that, in light of this uncertainty and the lingcod overharvests in 2002 and 2003, NMFS cannot increase the rate of lingcod harvest and still comply with its duties to prevent overfishing and rebuild overfished species as quickly as possible. Finally, the commenter stated that NMFS has claimed to make management changes to address past lingcod overharvests, but that management changes made in 2003 to respond to 2002 overharvests were unsuccessful at preventing overharvests in 2003.

Response: A new coastwide stock assessment was prepared for lingcod in 2003. As a result of the revised assessment, the spawning stock biomass was estimated to be at 31 percent of its unfished biomass in the north and 19 percent of its unfished biomass in the south. This is a substantial increase from the previous assessment which had estimated the lingcod biomass to be at 15 percent coastwide in 2000. As a result of the new adopted stock assessment, the coastwide ABCs will be 2,922 mt (1,874 north and 1,048 south) in 2005 and 2,716 mt, (1,694 north and 1,021 south) in 2006. NMFS recognizes that this is a large increase from the 2004 ABC of 1,385 mt which was based on the previous assessment.

A new rebuilding analysis was also prepared for lingcod. Rebuilding projections for the northern areas, if considered in isolation, indicate that the stock is above the rebuilt threshold of B40%. (It should be noted that the assessment model estimate of current biomass can differ from the estimate obtained from the rebuilding analysis, because the rebuilding analysis computes B0 using average recruitment from 1973-2002, while the Coleraine assessment model uses the estimate of average recruitment in an unfished state (R0), and references the 2003 spawning biomass.) The southern portion of the stock has not yet rebuilt. When the total biomass is viewed coastwide, it is less than 1% percent below the rebuilt target of B40%.

The Council considered the alternative OYS and recommended the mid-range OY, with the modification that the OY be fixed at 2,414 mt (the 2006 value, which was the lower of the two values) for both years. For lingcod, the new assessment and rebuilding plan results indicated that the same TTARGET as is currently in regulation for the lingcod rebuilding plan (69 FR 19347; April 13, 2004) could be maintained, but would allow a higher harvest rate while also increasing the probability of rebuilding the stock by TMAX from 60 percent to 70 percent. The commenter is correct that this increase is more than 3 times the 735 mt OY in 2004; however, the increase in the OY conforms with the lingcod rebuilding plan and is not unexpected given the increased size of the lingcod biomass.

In support of their selection, the Council indicated that the lingcod harvest guidelines needed to be conservative because the 1999 year class is moving through the fishery and recruitment is uncertain. There is uncertainty in catch projections and assessments, and the Council did not want to see an increase in effort in the fishery. The estimated mortality from all directed and incidental groundfish fisheries and research activities are predicted to result in total fishing mortality of lingcod that is substantially lower than the annual OYS (these values can be found in the footnotes to Table 1a). These lingcod mortality savings are a secondary benefit of management measures intended to constrain canary rockfish total mortality. Designing management measures that result in total mortality levels that are lower than that species' OY leaves a residual amount of available harvest. This residual amount can reduce the risk of exceeding a species' OY, particularly when there are difficulties in catch accounting or when new information becomes available that changes NMFS' understanding of total catch.

Throughout the specification and management measure process, NMFS has acknowledged the scientific uncertainty in setting ABCs and OYS and has disclosed, in various supporting documents and in the rulemaking process, the precautionary measures taken to address the inherent uncertainty in fisheries management. Although greater scientific certainty can improve management decisions, scientific uncertainty is an inherent part of fisheries management. Uncertainties must be acknowledged, as has been done within the stock assessments, FEIS, and in the proposed rule supporting this action. In general, NMFS has been precautionary when implementing measures to protect the fishery resources against the harm that could result from those uncertainties. Many other overfished species' rebuilding measures are intended to acknowledge scientific uncertainty in fisheries management and to guard against potential negative effects of that uncertainty.

In 2002, the estimated catch of lingcod was 983 mt, the 2002 ABC was 841 mt and the total catch OY was 577 mt. In 2003, the estimated catch of lingcod was 1,371.6 mt, the 2003 ABC was 841 mt and the total catch OY was 651 mt. These total catch estimates for 2002 and 2003 were updated with new observer program data on bycatch rates in summer 2004 for the FEIS for this action.

The commenter who submitted this particular comment also commented on the proposed rule to implement the 2004 specifications and management measures (69 FR 1380), stating that the agency needed to do something about reducing the effect of the 2004 fisheries on lingcod. This comment and NMFS's response are found in the final rule to implement the 2004 specifications and management measures, see Comment 12 and response, 69 FR 11064, March 9, 2004. In short, NMFS acknowledged that overfishing had occurred on lingcod in 2002 and 2003, and that restrictive measures taken in 2003 had not been adequate to prevent overfishing. The agency then detailed changes it had made between the proposed and final rules for 2004 in order to further constrain fishing, particularly in the recreational fishery off California.

NMFS has revised its specifications and management measures process through Amendment 17 to the FMP, in order to provide a public notice-and-comment period on a proposed rule prior to the start of the fishing year. This new process requires the agency to prepare the proposed and final rules for the 2005-2006 specifications and management measures prior to the completion of either the 2004 fishing year or the datasets on total 2004 fishing mortality. NMFS anticipates that, as new 2004 fishing year data becomes available in 2005, the Council and NMFS will consider whether revisions are needed to management measures intended to constrain lingcod harvest. This final rule implements the California recreational fishery measures initially proposed for this action, which are more constraining in season length and area closures than those implemented for 2004. Lingcod bag limit changes generally do not have much effect on the overall catch of lingcod, since most anglers only take one lingcod per trip.

Comment 12: A commenter stated that NMFS is proposing to manage canary rockfish in an aggressively risky way that fails to offer the protection it needs because it has provided only a small reserve in the canary rockfish OY compared with those provided for lingcod, bocaccio and darkblotched rockfish.

Response: As discussed in the preamble to the proposed rule for this action, and in the footnotes to Tables 1a-2b, the canary rockfish OY has been divided between the commercial, recreational, tribal, and research fisheries. There is a small, residual amount of canary rockfish, 2.5 mt in 2005 and 1.8 mt in 2006, that is currently not projected to be harvested by these fisheries. This residual amount is held in reserve for possible use during the 2005 and/or 2006 fisheries. Also discussed in the preamble to the proposed rule for this action is the fact that harvest restrictions to protect canary rockfish will constrain all fisheries in their achievement of target species' OYS. A secondary effect of the constraints required to protect canary rockfish is protection for other, associated overfished species. The residual amounts of lingcod, bocaccio, and darkblotched rockfish that may be unharvested in 2005 and/or 2006 are expected to go unharvested because canary rockfish co-occurs with these species. Management measures to protect canary rockfish are not only constraining to the achievement of target species OYS, they also keep harvests of other overfished species below their OYS. In other words, NMFS expects there to be residual unharvested amounts of lingcod, bocaccio, and darkblotched rockfish because the harvest of these species will be restricted by canary rockfish protection measures. To eliminate confusion over the use of varying terms, NMFS has corrected the footnotes to Tables 1a-2b to refer to the expected residual amounts of unharvest fish as “residual amounts” not expected to be taken in any sector, rather than as “reserves,” which might be confused as being available to a particular sector.

The trip limits are based on the best available information, and are designed to keep harvests within the OYS. These residual amounts of overfished species that are not currently projected to be harvested result in part from the design of the overall fishery. They are not specifically designed as a management tool to keep harvests under the OY, but NMFS acknowledges this secondary benefit from the reserves. These reserves reduce the need for intensive inseason management to keep the harvest within the OY, and to reduce the risk of exceeding the OY. However, the overall management regime balances these benefits and risks with the other benefits and risks inherent in the management system.

Comment 13: A commenter stated that NMFS's proposed status quo management of canary rockfish violates the Magnuson-Stevens Act because of the large overharvest of canary rockfish in recent years.

Response: NMFS discussed recent years' canary rockfish harvest in the response to Comment 10. The 2002 total catch is estimated to be 16.7 mt above the OY of 93 mt and 162.3 mt below the ABC of 272 mt. The 2003 total catch is estimated to be 5.8 mt above the OY of 44 mt and 222.2 mt below the ABC of 272 mt.

The commenter has incorrectly asserted that NMFS has proposed status quo management to protect canary rockfish and other overfished species. The canary rockfish ABCs for 2005 and 2006 were set in accordance with the Council's precautionary policy of setting rockfish ABCs based on an F50% harvest rate. The 2005 and 2006 OYS for canary rockfish were set in accordance with the FMP's overfished species rebuilding plan for this species (Section 4.5.4) and implementing Federal regulations at 50 CFR 660.365(a).

Canary rockfish are taken in a wide range of fisheries and NMFS has revised management measures from 2004, particularly making them more conservative in fisheries with a greater tendency to incidentally catch canary rockfish. As discussed above in the response to Comment 10, NMFS is implementing in this final rule a bycatch limit program for the Pacific whiting fisheries. The mothership fishery for whiting took an unexpected amount of canary rockfish in 2004, leading to an emergency rule to establish a canary rockfish bycatch limit. For 2005 and 2006, NMFS has implemented canary and widow rockfish bycatch limits for the whiting fishery at § 660.373(b)(4). Regulations at § 660.370(c)(1)(ii) allow the Council and NMFS, via routine inseason action, to establish new bycatch limits or adjust bycatch limits inseason for overfished species taken in the whiting fisheries. NMFS has also implemented a new requirement for a bycatch-reducing trawl gear, the selective flatfish trawl gear, for use in nearshore waters north of 40°10′ N. lat. As discussed in the preamble to the proposed rule for this action, this modified trawl net design has shown itself successful in several years of experiments at reducing incidental rockfish catch in trawl fisheries targeting more abundant flatfish. Management measures to control canary rockfish catch in the California recreational fisheries are also more restrictive than in 2004, with shorter fishing seasons and larger closed areas.

Comment 14: A commenter stated that NMFS is not proposing to allow for a harvest reserve for widow rockfish in 2005 or 2006. The commenter asks why a significant harvest reserve is necessary for lingcod, darkblotched, and bocaccio, but not for widow rockfish.

Response: As discussed above in the response to Comment 12, the residual amounts of lingcod, darkblotched rockfish, and bocaccio that are expected to go unharvested are the result of management measures intended to constrain the harvest of canary rockfish. The Council did not set specific harvest reserves for these species; rather, it has simply indicated the amounts of these species expected to go unharvested because the fisheries are constrained to protect canary rockfish.

Widow rockfish is a schooling, pelagic shelf rockfish that is similar to yellowtail rockfish in its open water schooling tendencies, whereas canary rockfish tend to school near rockpiles. The bulk of the widow rockfish OYS in 2005 and 2006 are expected to be taken in the Pacific whiting fisheries, a primarily open water fishery. Although the Pacific whiting biomass is estimated to be above B40%, NMFS reduced the 2004 whiting ABC from 514,441 mt to a 250,000 mt OY to protect co-occurring widow rockfish from incidental catch in the whiting fisheries. NMFS anticipates that the 2005 and 2006 ABCs for Pacific whiting will be similarly large, and will again have to be reduced so that the OYS are set at levels that protect widow rockfish. The at-sea whiting fisheries will continue to be monitored inseason by mandatory observers (69 FR 31751, June 7, 2004) with near realtime data while the shore-based fishery will be monitored under a full retention program which will have a monitoring mechanism and timely inseason data. The whiting fishery may take less widow rockfish than expected; but as an initial prediction, NMFS and the Council expect the whiting fisheries to take the majority of the widow rockfish OYS in 2005 and 2006, leaving little or no residual amounts of widow rockfish unharvested. Given the level of inseason monitoring in the whiting fisheries, it is reasonable to expect that fishing can be constrained to stay within the specified limit for widow rockfish.

In 2004, the whiting harvest was constrained to 250,000 mt with an estimated take of 211 mt of widow rockfish. Through the end of the primary season, the preliminary estimate of widow rockfish in the whiting fishery was 49.86 mt, well below the projected value of 211 mt. However, because the incidental take of widow rockfish has been associated with rare events where a substantial amount is taken in an individual tow, effective monitoring is essential. In addition, NMFS supports the at-sea whiting industry's efforts to self monitor bycatch through the use of the Sea State program, in which bycatch data is exchanged within the fleet so that the participating vessels can take immediate action when bycatch concerns arise.

Comment 15: A commenter stated that, without explanation, NMFS proposed to decrease slightly the cowcod OY for 2005 then to raise it again for 2006. This commenter also stated that NMFS has proposed substantial increases for bocaccio and yelloweye rockfish harvest levels. Finally, the commenter stated that NMFS had failed to explain these increases, thereby failing to meet its duties to engage in reasoned decisionmaking, to prevent overfishing, and to rebuild overfished species as quickly and effectively as possible.

Response: NMFS is not raising the cowcod OY for 2006. There was a typographical error in the Table 2a 2006 OY for cowcod. With this final rule, OYS for the Monterey and Conception areas have been revised from 2.4 mt for each to 2.1 mt for each, which is consistent with the approved rebuilding plan for cowcod. Footnote “y” from Table 2a had correctly stated this, and the “Overfished Species” section of the preamble to the proposed rule for this action provided details from the cowcod rebuilding plan, including the correct OY. A typo in the harvest control value in footnote “Y” for Table 1a was identified and revised from F=0.0009 to F=0.009. The F=0.009 is the rebuilding harvest rate in Federal regulations implementing the cowcod rebuilding plan at § 660.365(f) and was used to determine the 2005 and 2006 OYs for cowcod. This harvest control rule was correctly listed in the “Overfished Species” section of the proposed rule for this action.

The bases for the bocaccio and yelloweye rockfish OYS for 2005 and 2006 were explained in the footnotes to Tables 1a through 2b and in the “Overfished Species” section of the preamble to the proposed rule for this action. These species are being managed in accordance with the approved rebuilding plans at Section 4.5.4 of the FMP and implementing Federal regulations at 50 CFR 660.365(a). Changes in the OYS result when rebuilding harvest rates are applied to the annual biomass projections from the most recent stock assessments. In this case, the stocks are projected to have increased slightly, resulting in slight increases to the OYS. An error in the harvest control rule in the bocaccio footnote to Table 2a (2006) has been revised from F= 0.041 to F=0.0498. The F=0.0498 is the rebuilding harvest rate in Federal regulations implementing the bocaccio rebuilding plan at § 660.365(e) and was used to determine the 2005 and 2006 OYS for bocaccio. This harvest control rule was correctly listed in the “Overfished Species” section of the proposed rule for this action. NMFS identified a typo in the PMAX value in Table 2-2 of the FEIS the correct value is 80 percent (the value adopted for yelloweye rockfish rebuilding under amendment 16-3.)

Comment 16: A commenter stated that NMFS has proposed to dramatically shrink the size of the RCAs off the Pacific Coast. This commenter was opposed to this proposal, stating that nothing has changed that warrants a rolling back of these RCAs. This commenter stated that doing so is forbidden by the Magnuson-Stevens Act because it reduces the use of practicable bycatch-reduction measures, as defined at 16 U.S.C. 1851(a)(9) and 1853(a)(11). This commenter also states that since the RCAs serve to protect essential fish habitat (EFH), they may not be abandoned or scaled back. And, this commenter states that because the RCAs are used to prevent overfishing and rebuild overfished species, scaling them back violates the Magnuson-Stevens Act requirement to rebuild overfished stocks as quickly as possible. The commenter states that NMFS has failed to explain the roll-back in the size of the RCAs or to explain how the increased mortality caused by the scaling back of the RCAs can be squared with NMFS's legal obligations under the APA.

Response: RCAs are gear and fishery-specific, so that there is a Trawl RCA, a Non-Trawl RCA, and a Recreational RCA. These RCAs vary in size and in area covered depending on how the gear type affected interacts with overfished species. For 2005 and 2006, NMFS is implementing a status quo Non-Trawl RCA; a status quo Recreational RCA off Washington and Oregon, and a Recreational RCA off California that covers a larger area and which is closed for longer periods during the year than in 2004. The Trawl RCA that NMFS initially proposed would have allowed fishing in a larger area both shoreward and seaward of the 2004 Trawl RCA. However, as explained in the preamble to this final rule in the section “Changes from the Proposed Rule,” this final rule established the seaward boundary of the RCA at 200 fm (369 m) throughout the year, with modifications for petrale sole fishing areas in the winter months of January-February and November-December. The final rule for the 2004 fisheries had this same seaward boundary, except that it only extended to 150 fm (276 m) in the July-August period. Therefore, the only changes in the Trawl RCA are the increase in size from a deeper seaward boundary in July-August and the shoreward boundary changes described below. The Trawl RCA implemented here is 70.6 percent the size of the initially established 2004 Trawl RCA. The reductions in the size of the Trawl RCA are detailed in Table 3-1 of the FEIS for this action.

The RCAs were intended and designed to reduce the bycatch of adult life stage overfished species. For 2005 and beyond, NMFS is implementing a new gear requirement for trawl vessels participating in the area shoreward of the RCA north of 40°10' N. lat. Council discussion documents leading up to their final recommendations including the results of a set of ODFW gear experiments, the EIS for this action, and the preamble to the proposed rule all discussed the new selective flatfish trawl gear and its rockfish bycatch-reduction properties. Selective flatfish trawl gear reduces the bycatch of rockfish in targeted flatfish fisheries, including overfished rockfish, and increases the areas where trawl vessels may operate with lower bycatch rates. Using a gear restriction in order to reduce the restrictiveness of other fishery management measures is the FMP's eighth objective. NMFS is able to reduce the size of the Trawl RCA in 2005-2006 because it has implemented this new trawl gear requirement. This reduction in the size of the Trawl RCA as a result of the new gear requirement was also explained in Council and NMFS background, NEPA, and Federal Register documents. Thus, the commenter is incorrect in asserting that NMFS has failed in its obligations to explain the revision in the size of the RCAs. The commenter also draws an erroneous conclusion in equating a reduction in the size of the RCAs with an increase in rockfish mortality. NMFS expects that rockfish bycatch mortality rates in the nearshore trawl fishery north of 40°10' N. lat. will be reduced with this new gear requirement. The combination of the new gear requirement and the smaller RCA is projected to keep the mortality of overfished species within the rebuilding OYS and allow harvest of healthy stocks.

As stated above, the RCAs were designed to reduce the bycatch of adult life-stage overfished species. Under Amendment 11 to the FMP, groundfish EFH includes the entire West Coast EEZ. Thus, with the RCAs being inside the EEZ and closed to fishing for groundfish, they do afford some habitat protection for EFH from groundfish fishing gear. They do not, however, target particular groundfish habitat for habitat protection from fishing gear. NMFS is exploring measures for groundfish habitat protection with its EIS on Groundfish EFH, a draft of which is scheduled to be made available to the public in February 2005. NMFS anticipates that EIS will result in an FMP amendment that provides habitat protection measures to reduce the effects of fishing gear on EFH. If those habitat protection measures result in fishing area closures, NMFS expects to subsequently re-evaluate the area and location of its RCAs to better mesh its EFH protection and bycatch reduction responsibilities.

Finally, the RCAs have been set in accordance with overfished species harvest specifications, which are based on overfished species rebuilding rates set in the FMP's rebuilding plans. Regulations that impose additional gear restrictions, reduce the size of the Trawl RCA, and increase the size of the Recreational RCA continue to implement the approved rebuilding plans for groundfish, in accordance with the Magnuson-Stevens Act. The commenter's misinterpretation of the rebuilding provisions of the Magnuson-Stevens Act were addressed in the response to Comment 1, above.

Comment 17: A commenter expressed a concern that the shift of fishing effort from the continental shelf to the slope due to the RCA closures has placed greater pressure on slope and offshore habitats and marine life. This commenter urged NMFS to analyze and address the adverse impacts of fishing gears used in the groundfish fishery on EFH through the use of habitat-friendly gears, no-take marine protected areas, and time and effort restrictions.

Response: NMFS agrees that it is likely that fishing effort has increased in continental slope areas as a result of the closure of large portions of the continental shelf to fishing for groundfish. The agency notes, however, that approximately 35 percent of the limited entry trawl fleet were removed from the fishing grounds altogether with the December 2003 trawl vessel/permit buyback program. Thus, while continental shelf RCAs may have increased slope fishing effort, the buyback decreased trawl fishing effort on the slope and elsewhere. NMFS is analyzing the adverse impacts of fishing gear on EFH and the measures proposed by the commenter as part of its EIS on West Coast Groundfish EFH. NMFS expects to make the Draft EIS available for public review in February 2005. In the interim, this final rule implements measures the commenter has proposed in the form of: requirements that prevent large-footrope gear from operating within and shoreward of the RCAs to prevent those vessels from accessing overfished rockfish in their rocky habitat; RCAs designed to reduce incidental catch of overfished groundfish and which, as an added benefit, protect EFH within the RCAs from the effects of groundfish fishing gear; and, season closures used in most of the fisheries to reduce overfished species bycatch, although those have only brief and temporary incidental benefits for habitat. Fishing effort has been restricted in the Federal commercial fisheries through the limited entry program, the sablefish endorsement permit stacking program, and the trawl permit buyback program.

Comment 18: A commenter stated that NMFS has refused to even seriously consider the alternative of managing the fishery under a system of bycatch caps. This commenter also stated that NMFS has failed to establish adequate bycatch assessment requirements for the fishery because there are no bycatch assessment requirements contained in the proposed specifications. A second commenter stated that a standardized reporting methodology has not been established for all fisheries and urges NMFS to establish a standardize reporting methodology as soon as possible to accurately count bycatch of groundfish-related fishing. This second commenter also urged NMFS to assess the bycatch of all marine life in the groundfish fishery and take steps to minimize this bycatch in accordance with Federal law.

Response: The first commenter is incorrect in asserting that NMFS has not considered implementing bycatch caps to manage the fisheries. In September 2004, NMFS published a Programmatic FEIS on groundfish bycatch mitigation. This document discusses bycatch cap programs and the requirements for implementing one. Because the requirements for establishing a program have not been met, it is currently not practicable to implement caps in most of the fishery at this time. However, NMFS and the Council are working to implement the preferred alternative in the EIS. Nonetheless, this final rule implements a bycatch limit provision for the high volume whiting fisheries. This fishery is monitored inseason with real-time observer data, which makes bycatch limits a viable management measure to reduced incidental catch of overfished species. Under the provisions at 50 CFR 660.370(c)(1)(ii), the Council may recommend and NMFS may establish or adjust overfished species bycatch limits inseason for the Pacific whiting fisheries. At § 660.373(b)(4), NMFS has implemented initial bycatch limits for canary rockfish of 7.3 mt in 2005 and 2006 and for widow rockfish of 231.8 mt in 2005 and 243.2 mt in 2006. If an overfished species bycatch limit were achieved, NMFS would have the authority to close one or more sectors of the whiting fishery without further consultation with the Council. NMFS first implemented this provision in 2004 with an emergency rule (69 FR 46448, August 3, 2004).

The first commenter is also incorrect in asserting that there are no bycatch assessment requirements in place for the fisheries because there are no bycatch assessment requirements in this action. NMFS discussed its bycatch reporting and assessment methodologies in the preamble to the proposed rule for this action (69 FR 56550, September 21, 2004). Regulations implementing requirements for fishing and at-sea processing vessels to participate in Federal observer programs that gather bycatch data may be found at 50 CFR 660.314.

West Coast standardized bycatch reporting methodologies collect total catch (landed + discard) data from the commercial and recreational fisheries. As discussed in the preamble to the proposed rule for this action, the West Coast Groundfish Observer Program and the at-sea whiting observer program, in combination with state logbooks, state EFP data-gathering programs, vessel monitoring system coverage, and landings reporting requirements together constitute the standardized total catch reporting methodology for West Coast commercial groundfish fisheries. The standardized total catch reporting methodology for recreational fisheries is a combination of Federal and state efforts using at-dock port sampling programs, charterboat logbooks, and state and Federal in-person and telephone interviews. NMFS and the states work together through the Pacific States Marine Fisheries Commission and through the Council process to constantly improve and update their standardized total catch reporting methodologies. In 2005-2006, NMFS will be revising its bycatch model to incorporate data on limited entry fixed gear fisheries other than the primary sablefish fishery, which will also include improvements in our understanding of bycatch in the directed open access fisheries. NMFS also expects to incorporate observer data from the directed open access fisheries into the groundfish management process in 2005 for inseason management of the nearshore open access fisheries.

The second commenter also requested that NMFS assess the bycatch of all marine life in the groundfish fishery and take steps to minimize this bycatch in accordance with Federal law. In the West Coast groundfish fisheries, the need to protect and rebuild overfished groundfish and to prevent incidental catch of endangered and threatened salmon has driven the agency's priorities for bycatch assessment. However, the agency collects data on a broad range of bycatch species and assesses marine life bycatch as staff time and funding permits. Both the Northwest and Southwest Fisheries Science Centers are researching Pacific ecosystem interactions between a broad range of marine species and between these species and their physical environment.

Comment 19: A commenter stated that NMFS and the Council must remain committed to using information from the groundfish observer program to adjust management measures inseason based on higher than anticipated bycatch mortality.

Response: The agency's past practice has been to incorporate new observer data inseason into the management process. The Council used newly received observer data to revise its management measures inseason in both 2003 and 2004. NMFS and the Council plan to continue this practice in the 2005-2006 management cycle, as explained above in the response to Comment 7.

Comment 20: Two commenters asserted that NMFS has failed to adopt, or even analyze, all practicable bycatch reduction measures.

Response: NMFS has evaluated the practicability of bycatch reduction measures in an EIS published in September 2004, and is currently working on implementation of the preferred alternative. In addition, NMFS has explained in the preamble to the proposed rule, in a section entitled, “Management Measures to Reduce Bycatch,” the currently practicable bycatch reduction measures that are in place in the fishery, through this final rule and through associated regulatory programs.

Comment 21: A commenter asserted that the proposed specifications fail to show that NMFS is proposing management measures sufficient to enforce the harvest levels mandated by the specifications.

Response: The preamble to the proposed rule for this action explains how and why the management measures were designed, and the EIS and other documents referred to in the proposed rule provide additional explanatory information.

Comment 22: The CDFG requested that NMFS align the limited entry fixed gear trip limit for shortspine thornyheads north and south of 40°10' N. lat. so that they are both 2,000 lb (907.2 kg) per 2-month period.

Response: NMFS consulted with representatives of the States of Oregon and Washington on this request from the State of California, who did not oppose California's proposal. Subsequent to that consultation, NMFS agrees with and is implementing this recommendation. This is a minor change to the regulation and will reduce confusion for fishermen and enforcement personnel. With this final rule, the shortspine thornyhead 2-month cumulative limit for limited entry fixed gear participants operating north of 40°10′ N. lat. will be 2,000 lb (907.2 kg) instead of 2,100 lb, as proposed. This cumulative limit is currently in place for vessels operating in this fishery and area, and will be the same as the limit for this fishery operating south of 40°10′ N. lat.

Comment 23: The CDFG requested that NMFS specify that dip nets are a legal open access gear for groundfish. Dip nets are defined in Section 1.43 of Title 14 California Code of Regulations as, “Webbing supported by a frame, and hand held, not more than six feet in greatest dimension, excluding handle."

Response: NMFS is not implementing this recommendation. Although dip nets themselves may have minimal impact on the environment, the open access fishery is already overcapitalized and it would be inappropriate to add a new gear type to the fishery in this final rule. The groundfish regulations currently list the gears that are permitted in this fishery at § 660.310, and dip nets are not listed there. Proposals to add a new permitted gear to the groundfish fishery should be proposed by the Council under one of the management frameworks in the FMP.

Changes from the Proposed Rule

At its September 13-17 meeting in San Diego, CA, the Council reviewed its June recommendations for the 2005-2006 fishery specifications and management measures. The Council provided NMFS with comments on its June recommendations, asking that NMFS make a few refinements to the 2005-2006 specifications and management measures that the agency had published as proposed in the Federal Register. On September 24, 2004, Council staff transmitted the Council's recommended refinements in a letter to NMFS. That letter did not detail the Council's rationale for the recommended refinements, referring instead to public discussions held at the September 2004 Council meeting. Thus, the Council's September 2004 recommendations are discussed in this section on changes from the proposed rule, rather than above in responses to comments received during the comment period.

The Council recommended reducing limited entry fixed gear limits for longspine (from 19,000 lb (8618.4 kg)/two months to 10,000 lb (4,536 kg)/2 months) and shortspine thornyheads (from 4,200 lb (1905.12 kg)/two months to 2,000 lb (907.2 kg)/two months) south of 40°10′ N. lat. The trip limits the Council had recommended in June had been based on the limited entry trawl trip limits for these species, and the trawl limits had been based in part on the reduced number of trawl fishery participants following the trawl buyback. The Council and its advisory bodies felt that it was inappropriate to increase thornyhead landings limits for a sector of the fishery that had not participated in, and which would not be paying for, the trawl buyback program. The thornyhead limits the Council had recommended in June were higher than those in place for the limited entry fixed gear fishery in 2004. The Council was also concerned that these higher thornyhead limits would allow the fisheries to attain the thornyhead OYS early in the year, requiring early fishery closures. NMFS concurs with this recommendation and has made the recommended changes to the limited entry trip limits in Table 4 (South).

NMFS provided the Council with a revised projection in the level of expected 2006 research catch of sablefish in advance of the September 2004 Council meeting. As a result of the projected increase in 2006 research catch of sablefish, the Council recommended slight decreases in the limited entry fixed gear tier sablefish limits for 2006. The tier limits the Council had recommended in June were: Tier 1 at 63,000 lb (28,576 kg), Tier 2 at 28,600 lb (12,973 kg), and Tier 3 at 16,400 lb (7,394 kg). The Council has recommended revising those limits to: Tier 1 at 62,700 lb (28,440 kg), Tier 2 at 28,500 lb (12,927 kg), and Tier 3 at 16,300 lb (7,394 kg). Prior to publishing the proposed rule for this action, NMFS had mistakenly calculated the 2006 tier limits from the amount of sablefish available to the fisheries after the increase in research catch estimates had been accounted for. Thus, the proposed rule for this action proposed to implement the 2006 tier limits that the Council recommended at its September meeting. For this reason, no changes will be made to this action as a result of the Council's confirmation of the needed increase in sablefish research set aside.

Although lingcod is considered to be a coastwide stock, the Council indicated that the OY should be set to avoid the disproportionate catch of lingcod coming from either the northern or southern areas of the coast. Therefore, the Council recommended establishing separate northern and southern lingcod OYS, with the north-south division occurring at 42° N. lat, the Oregon-California border.

For the states to better manage the catch of lingcod in their recreational fisheries to stay within their respective OYS, the Council also recommended setting recreational harvest guidelines for the same areas. With state specific harvest guidelines, each state can monitor its recreational catches and adjust state management measures to keep the harvests within the harvest guideline. For the recreational fisheries in the southern area, the harvest guideline will be 422 mt in both 2005 and 2006. For the recreational fisheries in the northern area, the harvest guidelines announced in the proposed rule were 206 mt for 2005 and 239 mt for 2006.

The northern recreational fishery for 2005 and 2006 was calculated in June 2004 using an increasing linear trend of lingcod catches since 2001. The increasing trend appears to be the result of increasing availability of lingcod to the recreational fishery due to successful rebuilding of the stock. Because angler effort, angler success, and average fish weight also show an increasing trend, it was necessary to recalculate the anticipated catches using actual inseason catch estimates from 2004. The recalculation resulted in slightly higher recreational catch estimates for 2005 and 2006 for the northern area. At its September 2004 meeting, the Council considered this new information and recommended that the lingcod harvest guideline for the northern recreational fishery be revised to accommodate the increased projections. For 2005, the northern area recreational harvest guideline for lingcod is being revised from 206 mt to 234 mt, and for 2006 it is being revised from 239 mt to 271 mt. Because a large portion of the lingcod OY was not anticipated to be taken in either 2005 or 2006, these will not result in the OY being exceeded. NMFS concurs with this recommendation and has made the recommended changes to Tables 1 and 2 of 50 CFR part 660 subpart G.

At its September meeting, the Council also recommended moving the 2005-2006 seaward boundary of the limited entry trawl RCA north of 38° N. lat. from a boundary line approximating the 150 fm (274 m) depth contour to one approximating the 200 fm (366 m) depth contour, with petrale sole fishing areas open in January-February and November-December in order to protect darkblotched rockfish. Historically, the limited entry and open access exempted trawl RCAs have had the same boundaries unless otherwise specified. Darkblotched rockfish is also in need of protection from exempted trawl fisheries in this area and the Council did not specify a separate open access trawl RCA for this area. Therefore, NMFS is applying the Council's boundary revision recommendation to both the limited entry and open access non-groundfish trawl fleets between 40°10′ N. lat and 38° N. lat. [Note: The open access non-groundfish trawl fleet north of 40°10' N. lat. is not subject to RCA restrictions.] Additionally, the Council recommended reducing their initially-recommended slope rockfish trip limit north of 38° N. lat. from 8,000 lb (3,629 kg) to 4,000 lb (1,814 kg) per two months. These recommendations were based on higher-than-expected incidental catches of darkblotched rockfish in 2004 resulting from trawl vessels targeting slope rockfish offshore of the trawl RCA. The Council recommended the reduced trip limits and increased RCA size to allow slope rockfish retention at incidental levels in the DTS (Dover sole, thornyheads, sablefish) fishery without encouraging directed slope rockfish targeting. NMFS concurs with this recommendation and has made the appropriate changes to the trawl RCAs and trip limits in Table 3 (North) and (South) and in the open access RCAs in Table 5 (South.)

Finally, the Council's GMT had noticed a typo in the limited entry fixed gear and open access trip limit tables for deeper nearshore rockfish between 40°10 ′' N. lat. and 34°27′ N. lat. Table 4 (South) and Table 5 (South) in the proposed rule had indicated a deeper nearshore rockfish trip limit of 400 lb (181 kg) per month in September-October. Those tables should have indicated a deeper nearshore rockfish trip limit of 400 lb (181 kg) per two months in September-October. NMFS concurs with this recommended correction and has made the appropriate changes to Tables 4 (South) and 5 (South). [NOTE: After the Council recommended this change, CDFG realized that this trip limit was intentionally modeled as the original 400 lb per month. Therefore, this trip limit may be changed back to 400 lb per month during an inseason action in 2005.]

In addition to Council recommended changes, NMFS is also clarifying limited entry trawl gear requirements based on feedback received during a NMFS Enforcement training session held in Seattle on September 21, 2004. Language specifying skirt mesh size on midwater trawl gear is re-worded to relieve an unnecessary restriction. Previously, Federal regulations at 50 CFR 660.310 had required that skirt mesh size be the same as and coincide knot-to-knot with the net to which it is attached. The intent of this regulation is to facilitate the escape of small fish from the net by ensuring that skirt mesh size is not smaller than the mesh size on the net to which it is attached. The regulation is not intended to prevent skirt mesh size from being larger than the mesh size on the net to which it is attached. Therefore, language specifying skirt mesh size is reworded to require that skirt mesh size must be equal to or larger than the mesh size on the net to which it is attached.

NMFS is clarifying language at § 660.382(a) and § 660.383(a) on weekly trip limits for sablefish. This is not a change to the regulations, rather in these paragraphs, new examples are provided to clarify regulations prohibiting vessels from landing sablefish under both the weekly and daily trip limits within the same calendar week.

NMFS is clarifying language at § 660.370(h)(7) regarding operating in both limited entry and open access fisheries to include closed areas as follows, “Open access trip limits and closed areas apply to any fishing conducted with open access gear,...” Since open access closed areas are not always the same as limited entry closed areas, the phrase “closed areas” was added to this paragraph to clarify that open access closed areas also apply to limited entry vessels when those vessels are fishing with open access gear.

There has been some confusion about whether gear other than the open access gear listed in the open access fishery section could be used to participate in the open access fishery. In order to eliminate this confusion, NMFS is clarifying language at Section 660.383(b) to state that gear used to fish in the open access fishery must be one of the gears listed in the open access fishery section at 660.383(b). This is not a substantive change in the regulations because other sections of the regulations (§§ 660.310 and 660.306(a)(5) make it clear that only specifically authorized gear may be used in the groundfish fishery. This is merely a clarification of a section of the regulations.

As explained above in the responses to Comments 10 and 18 and in the preamble to the proposed rule for this action, NMFS is implementing overfished species bycatch limits as a routine management measure for the whiting fishery in 2005-2006. In the proposed rule for this action, NMFS had proposed codifying bycatch limits as a routine management measure for the whiting fishery, but had not included specific limits for any overfished species. During review of an internal draft of this final rule, Council staff pointed out to NMFS that the Council had, as part of its specifications and management measures package, recommended bycatch limits of 7.3 mt for canary rockfish in 2005 and 2006 and 231.8 mt and 243.2 mt for widow rockfish in 2005 and 2006, respectively. These limits were discussed in the DEIS at Sections 2.2 and 4.3. Therefore, NMFS has revised this final rule to include a new sub-paragraph § 660.373(b)(4) on bycatch limits in the Pacific whiting fishery that codifies the limits the Council recommended for canary and widow rockfish. None of these changes are substantive; rather, they clarify how a new regulatory program is to be used.

Finally, NMFS made corrections to Tables 1 and 2 of 50 CFR 660 Subpart G to correct typos from these tables as they had appeared in the proposed rule for this action. NMFS corrected the 2006 cowcod OYS in Table 2a the OY value for the Monterey area was revised from 2.4 mt to 2.1 mt, and the OY value for the Conception area was changed from 2.4 mt to 2.1 mt. NMFS corrected the amount of lingcod estimated to be taken in non-groundfish fisheries in footnote b/ for Table 1a from 2.0 mt to 2.8 mt. NMFS corrected the estimated tribal catch value for yelloweye rockfish in footnote aa/ for Table 2a, changing it from 2.4 mt to 2.3 mt. Finally, NMFS also corrected some harvest rates referenced in footnotes, as described above in the response to Comment 15.

Changes to RCA boundary coordinates announced by NMFS in this final rule are in response to feedback NMFS received from the commercial trawl industry and CDFG. The commercial trawl industry contacted NMFS and CDFG to let the agencies know that the 200 fm (366 m) RCA boundary, specifically designed to allow fishing in petrale sole areas, did not, in fact, allow fishing in petrale sole areas off northern California. CDFG reviewed the 200 fm (366 m) RCA boundary in question and concurred with industry that, unlike the 250 fm (457 m) RCA boundary, modified to allow fishing in petrale sole areas, the 200 fm (366 m) RCA boundary it did not allow access to petrale sole areas. Therefore, CDFG recommended revising the 200 fm (366 m) RCA boundary, that is modified to allow fishing in petrale sole areas, to provide fishery access to two important petrale sole fishing areas off northern California. During CDFG's review of petrale sole fishing areas, they also discovered that both RCA boundaries (the 200 fm (366 m) and the 250 fm (457 m)) specifically designed to allow fishing in petrale sole areas did not adhere to their respective depth contours as closely as possible. To ensure that these RCA boundaries adhere to the proper depth contours, CDFG additionally recommended minor revisions to the 200 fm (366 m) RCA boundary, that is modified to allow fishing in petrale sole areas, and minor revisions to the 250 fm (457 m) RCA boundary, that is modified to allow fishing in petrale sole areas. Another RCA boundary revision suggested by CDFG involves the 100 fm (183 m) RCA boundary around the California's Cordell Banks. The 100 fm (183 m) RCA boundary around Cordell Banks is designed to fully enclose the Banks, with a series of specific latitude and longitude coordinates, in order to prohibit fishing for groundfish in the Banks's shallow waters. Because the 100 fm (183 m) RCA boundaries coordinates published in the proposed rule (69 FR 56550, September 21, 2004) did not fully enclose the Cordell Banks area, CDFG recommended revising the coordinates to ensure that they fully enclose Cordell Banks. NMFS concurs with these recommendations and revisions to the 200 fm (366 m) and the 250 fm (457 m) RCA boundaries, modified to allow fishing in petrale sole areas, can be found in § 660.394 and revisions to the 100 (183 m) RCA boundary around Cordell Banks can be found in § 660.390.

Revisions to Paperwork Reduction Act References in 15 CFR 902.1(b)

Section 3507(c)(B)(i) of the PRA requires that agencies inventory and display a current control number assigned by the Director, Office of Management and Budget (OMB), for each agency information collection. Section 902.1(b) identifies the location of NOAA regulations for which OMB approval numbers have been issued. Because this rule will move gear identification regulations from § 660.310 to § 660.382, 15 CFR 902.1(b) is revised to reference correctly the new section resulting from this regulations reorganization.

Classification

These final specifications and management measures for 2005-2006 are issued under the authority of, and are in accordance with, the Magnuson-Stevens Act, the FMP, and 50 CFR part 660 subpart G (the regulations implementing the FMP).

The 2005-2006 specifications and management measures are intended to protect overfished and other depressed stocks while also allowing as much harvest of more abundant groundfish stocks as possible during the course of the year. If these measures are not effective on January 1, 2005, the management measures from January 1, 2004 will remain in effect. Management measures from January 2004 were based on the best scientific information available at that time. Since then, stock assessments on lingcod and cabezon, plus new observer data and revisions to NMFS's bycatch model have become available and have been used to develop the 2005-2006 management measures. The 2004 management measures are also not tailored to the 2005-2006 harvest levels and, for some species, are not conservative enough to meet the Council's rebuilding goals for 2005-2006. Leaving the 2004 management measures in place could cause harm to some stocks. The commercial fishery is managed with two-month cumulative limits, so even a short delay in effectiveness could allow the fleets to harvest the entire two-month limit before the 2005 measures are effective. Delaying the effectiveness of this rule by 30 days would also be confusing to the public, since it would result in a change in trip limits in the midst of the two-month January-February cumulative trip limit period. The comment period on the proposed rule for this action ended on October 20, 2004; NMFS has been working expeditiously since then to review and respond to comments received, and to make the modifications discussed earlier in this notice to trip limits and area closures. Finally, delay in publishing these measures could also require unnecessarily restrictive measures, including possible fishery closures, later in the year to make up for the excessive harvest that would be caused by late implementation of these regulations. Thus, a delay in effectiveness could ultimately cause economic harm to the fishing industry and associated fishing communities. For these reasons, the AA finds good cause under 5 U.S.C. 553(d)(3) to waive the requirement to delay the effective date of this rule for 30 days.

The Council prepared an FEIS for this action; a notice of availability was published on November 12, 2004 (69 FR 65427). A copy of this FEIS is available from the Council (see ADDRESSES). On December 13, 2004, NMFS issued a ROD that documents the agency's final decisions on NMFS's approval of the Council's preferred OY alternative for the 2005-2006 Pacific Coast groundfish specifications and management measures. On the whole, the 2005-2006 specifications and management measures are structured to protect and rebuild overfished groundfish species and are expected to have short-term positive effects on the biological environment and negative effects on fishing communities and the socio-economic environment. Over the long-term and beyond the two-year scope of these specifications and management measures, this action is expected to have positive effects on both the biological and socio-economic environment.

This final rule has been determined to be not significant for purposes of Executive Order 12866.

Pursuant to Executive Order 13175, this final rule was developed after meaningful consultation and collaboration with tribal officials from the area covered by the FMP. Under the Magnuson-Stevens Act at 16 U.S.C. 1852(b)(5), one of the voting members of the Council must be a representative of an Indian tribe with federally recognized fishing rights from the area of the Council's jurisdiction. In addition, regulations implementing the FMP establish a procedure by which the tribes with treaty fishing rights in the area covered by the FMP request new allocations or regulations specific to the tribes, in writing, before the first of the two meetings at which the Council considers groundfish management measures. The regulations at 50 CFR 660.324(d) further state “the Secretary will develop tribal allocations and regulations under this paragraph in consultation with the affected tribe(s) and, insofar as possible, with tribal consensus.” The tribal management measures in this rule have been developed following these procedures. The tribal representative on the Council made a motion to adopt the tribal management measures, which was passed by the Council. Those management measures, which were developed and proposed by the tribes, are finalized via this rule.

NMFS prepared an FRFA that describes the impact of this action on small entities. The IRFA was summarized in the proposed rule published on September 21, 2004 (69 FR 56550). The following is a summary of the FRFA. A SECG for this final rule is available from the Regional Administrator (see ADDRESSES) or online at www.nwr.noaa.gov/1press/sfdpress.htm. The need for and objectives of this final rule are contained in the SUMMARY and in the Background section under SUPPLEMENTARY INFORMATION. NMFS did not receive any comments on the IRFA or on the proposed rule regarding the economic effects of this final rule.

These final 2005-2006 specifications and management measures are intended to allow West Coast commercial and recreational fisheries participants to fish the harvestable surplus of more abundant stocks while also ensuring that those fisheries do not exceed the allowable catch levels intended to protect overfished and depleted stocks. The form of the specifications, in ABCs and OYS, follows the guidance of the Magnuson-Stevens Act, the national standard guidelines, and the FMP for protecting and conserving fish stocks. Fishery management measures include trip and bag limits, size limits, time/area closures, gear restrictions, and other measures intended to allow year-round West Coast groundfish landings without compromising overfished species rebuilding measures.

Approximately 1,700 vessels participated in the West Coast commercial groundfish fisheries in 2001. Of those, about 420 vessels were registered to limited entry permits issued for either trawl, longline, or pot gear. Of the remaining approximately 1,280 vessels, about 770 participated in the open access fisheries and derived more than 5 percent of their fisheries revenue from groundfish landings. All but 10-20 of the 1,700 vessels participating in the groundfish fisheries are considered small businesses by the Small Business Administration. In the 2001 recreational fisheries, there were 106 Washington charter vessels engaged in salt water fishing outside of Puget Sound, 232 charter vessels active on the Oregon coast, and 415 charter vessels active on the California coast. Although some charter businesses, particularly those in or near large California cities, may not be small businesses, all are assumed to be small businesses for purposes of this discussion.

The Magnuson-Stevens Act requires that actions taken to implement FMPs be consistent with the ten national standards, one of which requires that conservation and management measures shall, consistent with the conservation requirements of the Act, “take into account the importance of fishery resources to fishing communities in order to (A) provide for the sustained participation of such communities and, (B) to the extent practicable, minimize adverse economic impacts on such communities.”

Fishing communities that rely on the groundfish resource and people who participate in the groundfish fisheries have weathered many regulatory changes in recent years. NMFS and the Council introduced the first overfished species rebuilding measures in 2000, which severely curtailed the fisheries from previous fishing levels. Since then, NMFS has implemented numerous management measures and regulatory programs intended to rebuild overfished stocks and to better monitor the catch and bycatch of all groundfish species. These programs are expected to improve the status of West Coast groundfish overfished stocks over time and, by extension, the economic health of the fishing communities that depend on those stocks. Initially, however, the broad suite of new regulatory programs that NMFS has introduced since 2000 have: reduced overall groundfish harvest levels, increased costs of participating in the fisheries, and caused confusion for fishery participants trying to track new regulatory regimes.

The Council considered five alternative specifications and management measures regimes for 2005 and 2006: the no action alternative, which would have implemented the 2004 regime for 2005 and 2006; the low OY alternative, which set a series of conservative groundfish harvest levels that were either intended to achieve high probabilities of rebuilding within TMAX for overfished species or modest harvest levels for more abundant stocks; the high OY alternative, which set harvest levels that were either intended to achieve lower probabilities of rebuilding within TMAX for overfished species or higher harvest levels for more abundant stocks; the medium OY alternative, which set harvest levels intermediate to those of the low and high alternatives, and; the Council OY alternative (preferred alternative,) which was the same as the medium OY alternative, but with more precautionary OY levels for lingcod, Pacific cod, cowcod, canary and yelloweye rockfish. Each of these alternatives included both harvest levels (specifications) and management measures needed to achieve those harvest levels, with the most restrictive management measures corresponding to the lowest OYS. The most notable difference between the Council's preferred alternative and the other alternatives is that alternative's requirement that trawl vessels operating north of 40°10′ N. lat. use selective flatfish trawl gear. Because selective flatfish trawl gear has lower rockfish bycatch rates than conventional trawl gear, the targeted flatfish amounts available to the trawl fisheries are higher under the Council's preferred alternative than under the other alternatives.

Each of the alternatives analyzed by the Council was expected to have different overall effects on the economy. Among other factors, the EIS for this action reviewed alternatives for expected changes in revenue and income from 2003 levels. The low OY alternative was expected to decrease annual commercial income from the no action alternative by $1.99 million in 2005 and 2006, decrease commercial fishery-related annual employment from the no action alternative by 0.3 percent in 2005 and 2006, and result in no changes in recreational fishery income from the no action alternative. The high OY alternative was expected to increase annual commercial income from the no action alternative by $2.54 million in 2005 and 2006, increase commercial fishery-related annual employment from the no action alternative by 0.4 percent in 2005 and 2006, and result in no changes in recreational fishery income from the no action alternative. The medium OY alternative was expected to increase annual commercial income from the no action alternative by $1.51 million in 2005 and 2006, increase commercial fishery-related annual employment from the no action alternative by 0.3 percent in 2005 and 2006, and result in no changes in recreational fishery income from the no action alternative. The Council's OY alternative was expected to increase annual commercial income from the no action alternative by $3.02 million in 2005 and 2006, increase commercial fishery-related annual employment from the no action alternative by 0.5 percent in 2005 and 2006, and result in no changes in recreational fishery income from the no action alternative. The Council's preferred alternative would have had commercial fisheries effects that were similar to or less beneficial than the medium OY alternative had the Council preferred alternative not included the requirement that trawl vessels north of 40°10' N. lat. fish with selective flatfish trawl gear in nearshore waters. The Council's preferred alternative is intended to meet the conservation requirements of the Magnuson-Stevens Act while reducing to the extent practicable the adverse economic impacts of these conservation measures on the fishing industries and associated communities.

The following collection-of-information requirement has already been approved by OMB for U.S. fishing activities:

a. Approved under 0648-0305 Gear identification requirements, estimated at 15 minutes per response (§ 660.382).

List of Subjects in 50 CFR Part 660

Administrative practice and procedure, American Samoa, Fisheries, Fishing, Guam, Hawaiian Natives, Indians, Northern Mariana Islands, Reporting and recordkeeping requirements.

Dated: December 13, 2004.
Rebecca Lent,
Deputy Assistant Administrator for Regulatory Programs, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.302, the definition for “ Trawl fishing line,” is removed, the definitions for “Fishing gear,” “Groundfish,” “land or landings,” “North-South management area,” and “Trip limits,” at paragraph (3) are revised and the definition for “fishery,” is added to read as follows:

§ 660.302 Definitions.

Fishery (See § 600.10).

Fishing gear includes the following types of gear and equipment used in the groundfish fishery:

(1) Bobbin trawl. The same as a roller trawl, a type of bottom trawl.

(2) Bottom trawl. A trawl in which the otter boards or the footrope of the net are in contact with the seabed. It includes roller (or bobbin) trawls, Danish and Scottish seine gear, and pair trawls fished on the bottom. Any trawl not meeting the requirements for a midwater trawl in § 660.322 is a bottom trawl.

(3) Breastline. A rope or cable that connects the end of the headrope and the end of the trawl fishing line along the edge of the trawl web closest to the towing point.

(4) Chafing gear. Webbing or other material attached to the codend of a trawl net to protect the codend from wear.

(5) Codend. (See § 600.10).

(6) Commercial vertical hook-and-line. Commercial fishing with hook-and-line gear that involves a single line anchored at the bottom and buoyed at the surface so as to fish vertically.

(7) Double-bar mesh. Two lengths of twine tied into a single knot.

(8) Double-walled codend. A codend constructed of two walls of webbing.

(9) Fixed gear (anchored nontrawl gear). Longline, trap or pot, set net, and stationary hook-and-line (including commercial vertical hook-and-line) gears.

(10) Gillnet. (See § 600.10).

(11) Headrope. A rope or wire attached to the trawl webbing forming the leading edge of the top panel of the trawl net.

(12) Hook-and-line. One or more hooks attached to one or more lines. It may be stationary (commercial vertical hook-and-line) or mobile (troll).

(13) Longline. A stationary, buoyed, and anchored groundline with hooks attached, so as to fish along the seabed. It does not include commercial vertical hook-and-line or troll gear.

(14) Mesh size. The opening between opposing knots. Minimum mesh size means the smallest distance allowed between the inside of one knot to the inside of the opposing knot, regardless of twine size.

(15) Midwater (pelagic or off-bottom) trawl. A trawl in which the otter boards may be in contact with the seabed but the footrope of the net remains above the seabed. It includes pair trawls if fished in midwater. A midwater trawl has no rollers or bobbins on the net.

(16) Non-groundfish trawl gear. Any trawl gear other than bottom or midwater trawl gear authorized for use in the limited entry groundfish trawl fishery. Non-groundfish trawl gear generally includes trawl gear used to target pink shrimp, ridgeback prawns, California halibut and sea cucumber.

(17) Nontrawl gear. All legal commercial groundfish gear other than trawl gear.

(18) Pot. A trap.

(19) Roller trawl (bobbin trawl). A trawl with footropes equipped with rollers or bobbins made of wood, steel, rubber, plastic, or other hard material that keep the footrope above the seabed, thereby protecting the net. A roller trawl is a type of bottom trawl.

(20) Set net. A stationary, buoyed, and anchored gillnet or trammel net.

(21) Single-walled codend. A codend constructed of a single wall of webbing knitted with single or double-bar mesh.

(22) Spear. A sharp, pointed, or barbed instrument on a shaft.

(23) Trammel net. A gillnet made with two or more walls joined to a common float line.

(24) Trap (or pot). A portable, enclosed device with one or more gates or entrances and one or more lines attached to surface floats.

(25) Trawl fishing line. A length of chain or wire rope in the bottom front end of a trawl net to which the webbing or lead ropes are attached.

(26) Trawl riblines. Heavy rope or line that runs down the sides, top, or underside of a trawl net from the mouth of the net to the terminal end of the codend to strengthen the net during fishing.

Groundfish means species managed by the PCGFMP, specifically:

(1) Sharks: leopard shark, Triakis semifasciata; soupfin shark, Galeorhinus zyopterus; spiny dogfish, Squalus acanthias.

(2) Skates: big skate, Raja binoculata; California skate, R. inornata; longnose skate, R. rhina.

(3) Ratfish: ratfish, Hydrolagus colliei.

(4) Morids: finescale codling, Antimora microlepis.

(5) Grenadiers: Pacific rattail, Coryphaenoides acrolepis.

(6) Roundfish: cabezon, Scorpaenichthys marmoratus; kelp greenling, Hexagrammos decagrammus; lingcod, Ophiodon elongatus; Pacific cod, Gadus macrocephalus; Pacific whiting, Merluccius productus; sablefish, Anoplopoma fimbria.

(7) Rockfish: In addition to the species below, longspine thornyhead, S. altivelis, and shortspine thornyhead, S. alascanus, “rockfish” managed under the PCGFMP include all genera and species of the family Scorpaenidae that occur off Washington, Oregon, and California, even if not listed below. The Scorpaenidae genera are Sebastes, Scorpaena, Scorpaenodes, and Sebastolobus. Where species below are listed both in a major category (nearshore, shelf, slope) and as an area-specific listing (north or south of 40°10′ N. lat.) those species are considered “minor” in the geographic area listed.

(i) Nearshore rockfish includes black rockfish, Sebastes melanops and the following minor nearshore rockfish species:

(A) North of 40°10′ N. lat.:black and yellow rockfish, S. chrysomelas; blue rockfish, S. mystinus; brown rockfish, S. auriculatus; calico rockfish, S. dalli; China rockfish, S. nebulosus; copper rockfish, S. caurinus; gopher rockfish, S. carnatus; grass rockfish, S. rastrelliger; kelp rockfish, S. atrovirens; olive rockfish, S. serranoides; quillback rockfish, S. maliger; treefish, S. serriceps.

(B) South of 40°10′ N. lat., nearshore rockfish are divided into three management categories:

(1) Shallow nearshore rockfish consists of black and yellow rockfish, S. chrysomelas; China rockfish, S. nebulosus; gopher rockfish, S. carnatus; grass rockfish, S. rastrelliger; kelp rockfish, S. atrovirens.

(2) Deeper nearshore rockfish consists of black rockfish, S. melanops, blue rockfish, S. mystinus; brown rockfish, S. auriculatus; calico rockfish, S. dalli; copper rockfish, S. caurinus; olive rockfish, S. serranoides; quillback rockfish, S. maliger; treefish, S. serriceps.

(3) California scorpionfish, Scorpaena guttata.

(ii) Shelf rockfish includes bocaccio, Sebastes paucispinis; canary rockfish, S. pinniger; chilipepper, S. goodei; cowcod, S. levis; shortbelly rockfish, S. jordani; widow rockfish, S. entomelas; yelloweye rockfish, S. ruberrimus; yellowtail rockfish, S. flavidus and the following minor shelf rockfish species:

(A) North of 40°10′ N. lat.: bronzespotted rockfish, S. gilli; bocaccio, Sebastes paucispinis; chameleon rockfish, S. phillipsi; chilipepper, S. goodei; cowcod, S. levis; dusky rockfish, S. ciliatus; dwarf-red, S. rufianus; flag rockfish, S. rubrivinctus; freckled, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; swordspine rockfish, S. ensifer; tiger rockfish, S. nigrocinctus; vermilion rockfish, S. miniatus.

(B) South of 40°10′ N. lat.: bronzespotted rockfish, S. gilli; chameleon rockfish, S. phillipsi; dusky rockfish, S. ciliatus; dwarf-red rockfish, S. rufianus; flag rockfish, S. rubrivinctus; freckled, S. lentiginosus; greenblotched rockfish, S. rosenblatti; greenspotted rockfish, S. chlorostictus; greenstriped rockfish, S. elongatus; halfbanded rockfish, S. semicinctus; harlequin rockfish, S. variegatus; honeycomb rockfish, S. umbrosus; Mexican rockfish, S. macdonaldi; pink rockfish, S. eos; pinkrose rockfish, S. simulator; pygmy rockfish, S. wilsoni; redstripe rockfish, S. proriger; rosethorn rockfish, S. helvomaculatus; rosy rockfish, S. rosaceus; silvergray rockfish, S. brevispinis; speckled rockfish, S. ovalis; squarespot rockfish, S. hopkinsi; starry rockfish, S. constellatus; stripetail rockfish, S. saxicola; swordspine rockfish, S. ensifer; tiger rockfish, S. nigrocinctus; vermilion rockfish, S. miniatus; yellowtail rockfish, S. flavidus.

(iii) Slope rockfish includes darkblotched rockfish, S. crameri; Pacific ocean perch, S. alutus; splitnose rockfish, S. diploproa and the following minor slope rockfish species:

(A) North of 40°10' N. lat.: aurora rockfish, Sebastes aurora; bank rockfish, S. rufus; blackgill rockfish, S. melanostomus; redbanded rockfish, S. babcocki; rougheye rockfish, S. aleutianus; sharpchin rockfish, S. zacentrus; shortraker rockfish, S. borealis; splitnose rockfish, S. diploproa; yellowmouth rockfish, S. reedi.

(B) South of 40°10′ N. lat.: aurora rockfish, Sebastes aurora; bank rockfish, S. rufus; blackgill rockfish, S. melanostomus; Pacific ocean perch, S. alutus; redbanded rockfish, S. babcocki; rougheye rockfish, S. aleutianus; sharpchin rockfish, S. zacentrus; shortraker rockfish, S. borealis; yellowmouth rockfish, S. reedi.

(8) Flatfish: arrowtooth flounder (arrowtooth turbot), Atheresthes stomias; butter sole, Isopsetta isolepis; curlfin sole, Pleuronichthys decurrens; Dover sole, Microstomus pacificus; English sole, Parophrys vetulus; flathead sole, Hippoglossoides elassodon; Pacific sanddab, Citharichthys sordidus; petrale sole, Eopsetta jordani; rex sole, Glyptocephalus zachirus; rock sole, Lepidopsetta bilineata; sand sole, Psettichthys melanostictus; starry flounder, Platichthys stellatus. Where Tables 3-5 of this subpart refer to landings limits for “other flatfish,” those limits apply to all flatfish cumulatively taken except for those flatfish species specifically listed in Tables 1-2 of this subpart. (i.e., “other flatfish” includes butter sole, curlfin sole, flathead sole, Pacific sanddab, rex sole, rock sole, sand sole, and starry flounder.)

(9) “Other fish”: Where Tables 3-5 of this subpart refer to landings limits for “other fish,” those limits apply to all groundfish listed here in paragraphs (1)-(8) except for those groundfish species specifically listed in Tables 1-2 of this subpart with an ABC for that area (generally north and/or south of 40°10' N. lat.). (i.e., “other fish” may include all sharks, skates, ratfish, morids, grenadiers, and kelp greenling listed in this section, as well as cabezon in the north and Pacific cod in the south.)

Land or landing means to begin transfer of fish, offloading fish, or to offload fish from any vessel. Once transfer of fish begins, all fish aboard the vessel are counted as part of the landing.

North-South management area means the management areas defined in paragraphs (1)(i) through (v) of this definition (Vancouver, Columbia, Eureka, Monterey Conception) or defined and bounded by one or more of the commonly used geographic coordinates set out in paragraphs (2)(i) through (xi) of this definition for the purposes of implementing different management measures in separate sections of the U.S. West Coast.

(1) Management areas—(i) Vancouver. (A) The northeastern boundary is that part of a line connecting the light on Tatoosh Island, WA, with the light on Bonilla Point on Vancouver Island, British Columbia (at 48°35.73′ N. lat., 124°43.00′ W. long.) south of the International Boundary between the U.S. and Canada (at 48°29.62′ N. lat., 124°43.55′ W. long.), and north of the point where that line intersects with the boundary of the U.S. territorial sea.

(B) The northern and northwestern boundary is a line connecting the following coordinates in the order listed, which is the provisional international boundary of the EEZ as shown on NOAA/NOS Charts #18480 and #18007:

Point | N. Lat. | W. Long.
1 | 48°29.62′ | 124°43.55′
2 | 48°30.18′ | 124°47.22′
3 | 48°30.37′ | 124°50.35′
4 | 48°30.23′ | 124°54.87′
5 | 48°29.95′ | 124°59.23′
6 | 48°29.73′ | 125°00.10′
7 | 48°28.15′ | 125°05.78′
8 | 48°27.17′ | 125°08.42′
9 | 48°26.78′ | 125°09.20′
10 | 48°20.27′ | 125°22.80′
11 | 48°18.37′ | 125°29.97′
12 | 48°11.08′ | 125°53.80′
13 | 47°49.25′ | 126°40.95′
14 | 47°36.78′ | 127°11.97′
15 | 47°22.00′ | 127°41.38′
16 | 46°42.08′ | 128°51.93′
17 | 46°31.78′ | 129°07.65′

(C) The southern limit is 47°30′ N. lat.

(i) Columbia. (A) The northern limit is 47°30′ N. lat.

(B) The southern limit is 43°00′ N. lat.

(ii) Eureka. (A) The northern limit is 43°00′ N. lat.

(B) The southern limit is 40°30′ N. lat.

(iii) Monterey. (A) The northern limit is 40°30′ N. lat.

(B) The southern limit is 36°00′ N. lat.

(iv) Conception. (A) The northern limit is 36°00′ N. lat.

(B) The southern limit is the U.S.-Mexico International Boundary, which is a line connecting the following coordinates in the order listed:

Point | N. Lat. | W. Long.
1 | 32°35.37′ | 117°27.82′
2 | 32°37.62′ | 117°49.52′
3 | 31°07.97′ | 118°36.30′
4 | 30°32.52′ | 121°51.97′

(2) Commonly used geographic coordinates. (i) Cape Alava, WA—48°10.00′ N. lat.

(ii) Queets River, WA—47°31.70′ N. lat.

(iii) Leadbetter Point, WA—46°38.17′ N. lat.

(iv) Washington/Oregon border—46°16.00′ N. lat.

(v) Cape Falcon, OR—45°46.00′ N. lat.

(vi) Cape Lookout, OR—45°20.25′ N. lat.

(vii) Cascade Head, OR—45°03.83′ N. lat.

(viii) Heceta Head, OR—44°08.30′ N. lat.

(ix) Cape Argo, OR—43°20.83′ N. lat.

(x) Cape Blanco, OR—42°50.00′ N. lat.

(xi) Humbug Mountain—42°40.50′ N. lat.

(xii) Marck Arch, OR—42°13.67′ N. lat.

(xiii) Oregon/California border—42°00.00' N. lat.

(xiv) Cape Mendocino, CA—40°30.00′ N. lat.

(xv) North/South management line—40°10.00′ N. lat.

(xvi) Point Arena, CA—38°57.50′ N. lat.

(xvii) Point San Pedro, CA—37°35.67′ N. lat.

(xviii) Pigeon Point, CA—37°11.00′ N. lat.

(xix) Ano Nuevo, CA—37°07.00′ N. lat.

(xx) Point Lopez, CA—36°00.00′ N. lat.

(xxi) Point Conception, CA—34°27.00′ N. lat. [Note: Regulations that apply to waters north of 34°27.00′ N. lat. are applicable only west of 120°28.00′ W. long.; regulations that apply to waters south of 34°27.00′ N. lat. also apply to all waters both east of 120°28.00′ W. long. and north of 34°27.00′ N. lat.]

Trip limits. * * *

(3) A weekly trip limit is the maximum amount of a groundfish species or species group that may be taken and retained, possessed, or landed per vessel in 7 consecutive days, starting at 0001 hours l.t. on Sunday and ending at 2400 hours l.t. on Saturday. Weekly trip limits may not be accumulated during multiple week trips. If a calendar week falls within two different months or two different cumulative limit periods, a vessel is not entitled to two separate weekly limits during that week.

3. In § 660.306, paragraphs (a)(6) and (a)(7) are revised and (a)(12) is added to read as follows:

§ 660.306 Prohibitions.

(a) * * *

(6) Take and retain, possess, or land more groundfish than specified under §§ 660.370 through 660.373 or §§ 660.381 through 660.385, or under an EFP issued under § 660.350 or part 600 of this chapter.

(7) Fail to sort, prior to the first weighing after offloading, those groundfish species or species groups for which there is a trip limit, size limit, quota, harvest guideline, or OY, if the vessel fished or landed in an area during a time when such trip limit, size limit, quota, harvest guideline, or OY applied.

(12) Transfer fish to another vessel at sea unless a vessel is participating in the primary whiting fishery as part of the mothership or catcher-processor sectors, as described at § 660.373(a).

§ 660.310 [Removed]

4. Remove § 660.310.

5. Section 660.321 is added to read as follows:

§ 660.321 Black rockfish harvest guideline.

From the commercial harvest of black rockfish off Washington State, a treaty Indian tribes' harvest guideline is set of 20,000 lb (9,072 kg) for the area north of Cape Alava, WA (48°09.50' N. lat) and 10,000 lb (4,536 kg) for the area between Destruction Island, WA (47°40' N. lat.) and Leadbetter Point, WA (46°38.17' N. lat.). This harvest guideline applies and is available to the treaty Indian tribes identified in § 660.324(b).

6. Section § 660.322 is added to read as follows:

§ 660.322 Sablefish allocations.

(a) Tribal-nontribal allocation. The sablefish allocation to Pacific coast treaty Indian tribes identified at § 660.324(b) is 10 percent of the sablefish total catch OY for the area north of 36° N. lat. This allocation represents the total amount available to the treaty Indian fisheries before deductions for discard mortality. The annual tribal sablefish allocations are provided in § 660.385(a).

(b) Between the limited entry and open access sectors. Sablefish is allocated between the limited entry and open access fisheries according to the procedure described in § 660.320(a).

(c) Between the limited entry trawl and limited entry nontrawl sectors. The limited entry sablefish allocation is further allocated 58 percent to the trawl sector and 42 percent to the nontrawl (longline and pot/trap) sector.

(d) Between the limited entry fixed gear primary season and daily trip limit fisheries. Within the limited entry nontrawl sector allocation, 85 percent is reserved for the primary season described in § 660.372(b), leaving 15 percent for the limited entry daily trip limit fishery described in § 660.372(c).

(e) Ratios between tiers for sablefish endorsed limited entry permit holders. The Regional Administrator will biennially or annually calculate the size of the cumulative trip limit for each of the three tiers associated with the sablefish endorsement such that the ratio of limits between the tiers is approximately 1:1.75:3.85 for Tier 3:Tier 2:Tier 1, respectively. The size of the cumulative trip limits will vary depending on the amount of sablefish available for the primary fishery and on estimated discard mortality rates within the fishery. The size of the cumulative trip limits for the three tiers in the primary fishery will be announced in § 660.372.

7. In § 660.323, paragraph (a) is revised to read as follows:

§ 660.323 Pacific whiting allocations, allocation attainment, and inseason allocation reapportionment.

(a) Allocations. (1) Annual treaty tribal whiting allocations are provided in § 660.385(e).

(2) The non-tribal commercial harvest guideline for whiting is allocated among three sectors, as follows: 34 percent for the catcher/processor sector; 24 percent for the mothership sector; and 42 percent for the shoreside sector. No more than 5 percent of the shoreside allocation may be taken and retained south of 42° N. lat. before the start of the primary whiting season north of 42° N. lat. These allocations are harvest guidelines unless otherwise announced in the Federal Register. The non-tribal Pacific whiting allocations in 2005 are as follows:

(i) Catcher/processor sector-TBA(24 percent);

(ii) Mothership sector-TBA (34 percent);

(iii) Shore-based sector-TBA (42 percent). No more than 5 percent (TBA) of the shore-based whiting allocation may be taken before the shore-based fishery begins north of 42° N. lat. on June 15, 2005.

8. In § 660.365, paragraph (c) is revised to read as follows:

§ 660.365 Overfished species rebuilding plans.

(c) Lingcod. The target date for rebuilding the lingcod stock to BMSY is 2009. The harvest control rule to be used to rebuild the lingcod stock is an annual harvest rate of F=0.17 in the north and F=0.15 in the south.

9. In § 660.370, paragraphs (a), (c) introductory text, (c)(1), (d) and (f) are revised and (g) and (h) are added to read as follows:

§ 660.370 Specifications and management measures.

(a) General. NMFS will establish and adjust specifications and management measures biennially or annually and during the fishing year. Management of the Pacific Coast groundfish fishery will be conducted consistent with the standards and procedures in the PCGFMP and other applicable law. The PCGFMP is available from the Regional Administrator or the Council. Regulations under this subpart may be promulgated, removed, or revised during the fishing year. Any such action will be made according to the framework standards and procedures in the PCGFMP and other applicable law, and will be published in the Federal Register.

(c) Routine management measures. In addition to the catch restrictions in §§ 660.371 through 660.373, other catch restrictions that are likely to be adjusted on a biennial or more frequent basis may be imposed and announced by a single notification in the Federal Register if good cause exists under the APA to waive notice and comment, and if they have been designated as routine through the two-meeting process described in the PCGFMP. Routine management measures that may be revised during the fishing year via this process are implemented in paragraph (h) of this section and in §§ 660.371 through 660.373, §§ 660.381 through 660.385 and Tables 3-5 of this subpart. Most trip, bag, and size limits, and area closures in the groundfish fishery have been designated “routine,” which means they may be changed rapidly after a single Council meeting. Council meetings are held in the months of March, April, June, September, and November. Inseason changes to routine management measures are announced in the Federal Register pursuant to the requirements of the Administrative Procedure Act (APA). Changes to trip limits are effective at the times stated in the Federal Register. Once a change is effective, it is illegal to take and retain, possess, or land more fish than allowed under the new trip limit. This means that, unless otherwise announced in the Federal Register, offloading must begin before the time a fishery closes or a more restrictive trip limit takes effect. The following catch restrictions have been designated as routine:

(1) Commercial limited entry and open access fisheries—(i) Trip landing and frequency limits, size limits, all gear. Trip landing and frequency limits have been designated as routine for the following species or species groups: widow rockfish, canary rockfish, yellowtail rockfish, Pacific ocean perch, yelloweye rockfish, black rockfish, blue rockfish, splitnose rockfish, chilipepper rockfish, bocaccio, cowcod, minor nearshore rockfish or shallow and deeper minor nearshore rockfish, shelf or minor shelf rockfish, and minor slope rockfish; DTS complex which is composed of Dover sole, sablefish, shortspine thornyheads, and longspine thornyheads; petrale sole, rex sole, arrowtooth flounder, Pacific sanddabs, and the flatfish complex, which is composed of those species plus any other flatfish species listed at § 660.302; Pacific whiting; lingcod; and “other fish” as a complex consisting of all groundfish species listed at § 660.302 and not otherwise listed as a distinct species or species group. Size limits have been designated as routine for sablefish and lingcod. Trip landing and frequency limits and size limits for species with those limits designated as routine may be imposed or adjusted on a biennial or more frequent basis for the purpose of keeping landings within the harvest levels announced by NMFS, and for the other purposes given in paragraphs (c)(1)(i)(A) and (B) of this section.

(A) Trip landing and frequency limits. To extend the fishing season; to minimize disruption of traditional fishing and marketing patterns; to reduce discards; to discourage target fishing while allowing small incidental catches to be landed; to protect overfished species; to allow small fisheries to operate outside the normal season; and, for the open access fishery only, to maintain landings at the historical proportions during the 1984-88 window period.

(B) Size limits. To protect juvenile fish; to extend the fishing season.

(ii) Differential trip landing limits and frequency limits based on gear type, closed seasons. Trip landing and frequency limits that differ by gear type and closed seasons may be imposed or adjusted on a biennial or more frequent basis for the purpose of rebuilding and protecting overfished or depleted stocks. To achieve the rebuilding of an overfished or depleted stock, the Pacific whiting primary seasons described at § 660.373(b), may be closed for any or all of the fishery sectors identified at § 660.373(a) before the sector allocation is reached if any of the bycatch limits identified at § 660.373(b)(4) are reached.

(d) Automatic actions. Automatic management actions may be initiated by the NMFS Regional Administrator without prior public notice, opportunity to comment, or a Council meeting. These actions are nondiscretionary, and the impacts must have been taken into account prior to the action. Unless otherwise stated, a single notice will be published in the Federal Register making the action effective if good cause exists under the APA to waive notice and comment. Automatic actions are used in the Pacific whiting fishery to close the fishery or reinstate trip limits when a whiting harvest guideline, commercial harvest guideline, or a sector's allocation is reached, or is projected to be reached; or to reapportion unused allocation to other sectors of the fishery.

(f) Exempted fisheries. U.S. vessels operating under an exempted fishing permit (EFP) issued under 50 CFR part 600 are also subject to restrictions in §§ 660.301 through 660.394, unless otherwise provided in the permit. EFPs may include the collecting of scientific samples of groundfish species that would otherwise be prohibited for retention.

(g) Applicability. Groundfish species harvested in the territorial sea (0-3 nm) will be counted toward the catch limitations in §§ 660.370 through 660.385 and in Tables 1-5 of this subpart.

(h) Fishery restrictions.—(1) Commercial trip limits and recreational bag and boat limits. Commercial trip limits and recreational bag and boat limits defined in § 660.302 and set in §§ 660.371 through 660.373, §§ 660.381 through 660.385 and Tables 3-5 of this subpart must not be exceeded.

(2) Landing. As stated at 50 CFR 660.302 (in the definition of “Landing”), once the offloading of any species begins, all fish aboard the vessel are counted as part of the landing and must be reported as such. Transfer of fish at sea is prohibited under § 660.306(a)(12) unless a vessel is participating in the primary whiting fishery as part of the mothership or catcher-processor sectors, as described at § 660.373(a).

(3) Fishing ahead. Unless the fishery is closed, a vessel that has landed its cumulative or daily limit may continue to fish on the limit for the next legal period, so long as no fish (including, but not limited to, groundfish with no trip limits, shrimp, prawns, or other nongroundfish species or shellfish) are landed (offloaded) until the next legal period. Fishing ahead is not allowed during or before a closed period.

(4) Weights and percentages. All weights are round weights or round-weight equivalents unless otherwise specified. Percentages are based on round weights, and, unless otherwise specified, apply only to legal fish on board.

(5) Size limits, length measurement, and weight limits—(i) Size limits and length measurement. Unless otherwise specified, size limits in the commercial and recreational groundfish fisheries apply to the “total length,” which is the longest measurement of the fish without mutilation of the fish or the use of force to extend the length of the fish. No fish with a size limit may be retained if it is in such condition that its length has been extended or cannot be determined by these methods. For conversions not listed here, contact the state where the fish will be landed.

(A) Whole fish. For a whole fish, total length is measured from the tip of the snout (mouth closed) to the tip of the tail in a natural, relaxed position.

(B) “Headed” fish. For a fish with the head removed (“headed”), the length is measured from the origin of the first dorsal fin (where the front dorsal fin meets the dorsal surface of the body closest to the head) to the tip of the upper lobe of the tail; the dorsal fin and tail must be left intact.

(C) Filets. A filet is the flesh from one side of a fish extending from the head to the tail, which has been removed from the body (head, tail, and backbone) in a single continuous piece. Filet lengths may be subject to size limits for some groundfish taken in the recreational fishery off California (see § 660.384). A filet is measured along the length of the longest part of the filet in a relaxed position; stretching or otherwise manipulating the filet to increase its length is not permitted.

(ii) Weight limits and conversions. The weight limit conversion factor established by the state where the fish is or will be landed will be used to convert the processed weight to round weight for purposes of applying the trip limit. Weight conversions provided herein are those conversions currently in use by the States of Washington, Oregon and California and may be subject to change by those states. Fishery participants should contact fishery enforcement officials in the state where the fish will be landed to determine that state's official conversion factor. To determine the round weight, multiply the processed weight times the conversion factor.

(iii) Sablefish. The following conversion applies to both the limited entry and open access fisheries when trip limits are in effect for those fisheries. For headed and gutted (eviscerated) sablefish the weight conversion factor is 1.6 (multiply the headed and gutted weight by 1.6 to determine the round weight).

(iv) Lingcod. The following conversions apply in both limited entry and open access fisheries.

(A) For lingcod with the head removed, the minimum size limit is 19.5 inches (49.5 cm), which corresponds to 24 inches (61 cm) total length for whole fish.

(B) The weight conversion factor for headed and gutted lingcod is 1.5. The conversion factor for lingcod that has only been gutted with the head on is 1.1.

(6) Sorting. Under § 660.306(a)(7), it is unlawful for any person to “fail to sort, prior to the first weighing after offloading, those groundfish species or species groups for which there is a trip limit, size limit, quota, harvest guideline, or OY, if the vessel fished or landed in an area during a time when such trip limit, size limit, OY, or quota applied.” The States of Washington, Oregon, and California may also require that vessels record their landings as sorted on their state fish tickets. This provision applies to both the limited entry and open access fisheries. The following species must be sorted in 2005 and 2006:

(i) For vessels with a limited entry permit:

(A) Coastwide - widow rockfish, canary rockfish, darkblotched rockfish, yelloweye rockfish, shortbelly rockfish, black rockfish, minor nearshore rockfish, minor shelf rockfish, minor slope rockfish, shortspine and longspine thornyhead, Dover sole, arrowtooth flounder, rex sole, petrale sole, arrowtooth flounder, other flatfish, lingcod, sablefish, and Pacific whiting

(B) North of 40°10′ N. lat.—POP, yellowtail rockfish, and, for fixed gear, blue rockfish;

(C) South of 40°10′ N. lat.—minor shallow nearshore rockfish, minor deeper nearshore rockfish, California scorpionfish, chilipepper rockfish, bocaccio rockfish, splitnose rockfish, Pacific sanddabs, and cabezon.

(ii) For open access vessels (vessels without a limited entry permit):

(A) Coastwide -widow rockfish, canary rockfish, darkblotched rockfish, yelloweye rockfish, black rockfish, minor nearshore rockfish, minor shelf rockfish, minor slope rockfish, Dover sole, arrowtooth flounder, petrale sole, rex sole, other flatfish, lingcod, sablefish, Pacific whiting, and Pacific sanddabs;

(B) North of 40°10′ N. lat.—blue rockfish, POP, yellowtail rockfish;

(C) South of 40°10′ N. lat.—minor shallow nearshore rockfish, minor deeper nearshore rockfish, chilipepper rockfish, bocaccio rockfish, splitnose rockfish, and cabezon;

(D) South of Point Conception, CA—thornyheads.

(7) Operating in both limited entry and open access fisheries. Open access trip limits apply to any fishing conducted with open access gear, even if the vessel has a valid limited entry permit with an endorsement for another type of gear. A vessel that operates in both the open access and limited entry fisheries is not entitled to two separate trip limits for the same species. If a vessel has a limited entry permit and uses open access gear, but the open access limit is smaller than the limited entry limit, the open access limit may not be exceeded and counts toward the limited entry limit. If a vessel has a limited entry permit and uses open access gear, but the open access limit is larger than the limited entry limit, the smaller limited entry limit applies, even if taken entirely with open access gear.

(8) “Crossover provisions,” operating in north-south management areas with different trip limits. NMFS uses different types of management areas for West Coast groundfish management. One type of management area is the north-south management area, a large ocean area with northern and southern boundary lines wherein trip limits, seasons, and conservation areas follow a single theme. Within each north-south management area, there may be one or more conservation areas, detailed in §§ 660.302 and 660.390 through 660.394. The provisions within this paragraph apply to vessels operating in different north-south management areas. Trip limits for a species or a species group may differ in different north-south management areas along the coast. The following “crossover” provisions apply to vessels operating in different geographical areas that have different cumulative or “per trip” trip limits for the same species or species group. Such crossover provisions do not apply to species that are subject only to daily trip limits, or to the trip limits for black rockfish off Washington (see § 660.371).

(i) Going from a more restrictive to a more liberal area. If a vessel takes and retains any groundfish species or species group of groundfish in an area where a more restrictive trip limit applies before fishing in an area where a more liberal trip limit (or no trip limit) applies, then that vessel is subject to the more restrictive trip limit for the entire period to which that trip limit applies, no matter where the fish are taken and retained, possessed, or landed.

(ii) Going from a more liberal to a more restrictive area. If a vessel takes and retains a groundfish species or species group in an area where a higher trip limit or no trip limit applies, and takes and retains, possesses or lands the same species or species group in an area where a more restrictive trip limit applies, that vessel is subject to the more restrictive trip limit for the entire period to which that trip limit applies, no matter where the fish are taken and retained, possessed, or landed.

(iii) Operating in two different areas where a species or species group is managed with different types of trip limits. During the fishing year, NMFS may implement management measures for a species or species group that set different types of trip limits (for example, per trip limits versus cumulative trip limits) for different areas. If a vessel fishes for a species or species group that is managed with different types of trip limits in two different areas within the same cumulative limit period, then that vessel is subject to the most restrictive overall cumulative limit for that species, regardless of where fishing occurs.

(iv) Minor rockfish. Several rockfish species are designated with species-specific limits on one side of the 40°10′ N. lat. management line, and are included as part of a minor rockfish complex on the other side of the line. A vessel that takes and retains fish from a minor rockfish complex (nearshore, shelf, or slope) on both sides of a management line during a single cumulative limit period is subject to the more restrictive cumulative limit for that minor rockfish complex during that period.

(A) If a vessel takes and retains minor slope rockfish north of 40°10.00′ N. lat., that vessel is also permitted to take and retain, possess or land splitnose rockfish up to its cumulative limit south of 38° N. lat., even if splitnose rockfish were a part of the landings from minor slope rockfish taken and retained north of 40°10.00′ N. lat.

(B) If a vessel takes and retains minor slope rockfish south of 40°10.00′ N. lat., that vessel is also permitted to take and retain, possess or land POP up to its cumulative limit north of 40°10.00′ N. lat., even if POP were a part of the landings from minor slope rockfish taken and retained south of 38° N. lat.

(C) If a trawl vessel takes and retains minor shelf rockfish south of 40°10′ N. lat., that vessel is also permitted to take and retain, possess, or land yellowtail rockfish up to its cumulative limits north of 40°10′ N. lat., even if yellowtail rockfish is part of the landings from minor shelf rockfish taken and retained south of 40°10′ N. lat. Yellowtail rockfish is included in overall shelf rockfish limits for limited entry fixed gear and open access gear groups. Widow rockfish is included in overall shelf rockfish limits for all gear groups.

(D) If a trawl vessel takes and retains minor shelf rockfish north of 40°10′ N. lat., that vessel is also permitted to take and retain, possess, or land chilipepper rockfish up to its cumulative limits south of 40°10′ N. lat., even if chilipepper rockfish is part of the landings from minor shelf rockfish taken and retained north of 40°10′ N. lat.

(v) “DTS complex.” There are differential trawl trip limits for the “DTS complex” north and south of the management line at 40°10' N. lat. Vessels operating in the limited entry trawl fishery are subject to the crossover provisions in this paragraph when making landings that include any one of the four species in the “DTS complex.”

(vi) Flatfish complex. There are differential trip limits for the flatfish complex (butter, curlfin, English, flathead, petrale, rex, rock, and sand soles, Pacific sanddab, and starry flounder) north and south of the management line at 40°10' N. lat. Vessels operating in the limited entry trawl fishery are subject to the crossover provisions in this paragraph when making landings that include any one of the species in the flatfish complex.

10. Section 660.371 is revised to read as follows:

§ 660.371 Black rockfish fishery management.

The trip limit for black rockfish (Sebastes melanops) for commercial fishing vessels using hook-and-line gear between the U.S.-Canada border and Cape Alava (48°09.50′ N. lat.), and between Destruction Island (47°40′ N. lat.) and Leadbetter Point (46°38.17′ N. lat.), is 100 lbs (45 kg) or 30 percent, by weight of all fish on board, whichever is greater, per vessel per fishing trip. These per trip limits apply to limited entry and open access fisheries, in conjunction with the cumulative trip limits and other management measures in §§ 660.382 and 660.383. The crossover provisions in § 660.370(h)(8) do not apply to the black rockfish per-trip limits.

11. In § 660.372, the introductory paragraph, paragraphs (b)(1), and (b)(3)(i) are revised, (b)(3)(ii) is removed and paragraphs (b)(3)(iii) and (b)(3)(iv) are redesignated as paragraphs (b)(3)(ii) and (b)(3)(iii), respectively, and paragraph (c) is revised to read as follows:

§ 660.372 Fixed gear sablefish fishery management.

This section applies to the primary season for the fixed gear limited entry sablefish fishery north of 36° N. lat., except for paragraph (c), of this section, which also applies to the open access fishery north of 36° N. lat. and to both the limited entry and open access fisheries south of 36° N. lat. Limited entry and open access fixed gear sablefish fishing outside of the primary sablefish season north of 36° N. lat. is governed by routine management measures imposed under § 660.370.

(b) Primary season limited entry, fixed gear sablefish fishery—(1) Season dates. North of 36° N. lat., the primary sablefish season for limited entry, fixed gear vessels begins at 12 noon l.t. on April 1 and ends at 12 noon l.t. on October 31, unless otherwise announced by the Regional Administrator. If a vessel is registered for use with a sablefish-endorsed limited entry permit, all sablefish taken after April 1 count against the cumulative limits associated with the permit(s) registered for use with that vessel.

(3) * * *

(i) A vessel participating in the primary season will be constrained by the sablefish cumulative limit associated with each of the permits registered for use with that vessel. During the primary season, each vessel authorized to participate in that season under paragraph (a) of this section may take, retain, possess, and land sablefish, up to the cumulative limits for each of the permits registered for use with that vessel. If multiple limited entry permits with sablefish endorsements are registered for use with a single vessel, that vessel may land up to the total of all cumulative limits announced in the Federal Register for the tiers for those permits, except as limited by paragraph (b)(3)(iii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under paragraph (c) of this section. For 2005, the following limits are in effect: Tier 1 at 64,100 lb (29,075 kg), Tier 2 at 29,100 lb (13,200 kg), and Tier 3 at 16,600 lb (7,530 kg). For 2006, the following limits are in effect: Tier 1 at 62,700 lb (28,440 kg), Tier 2 at 28,500 lb (12,927 kg), and Tier 3 at 16,300 lb (7,394 kg).

(c) Limited entry and open access daily trip limit fisheries both north and south of 36° N. lat. (1) Before the start of the primary season, all sablefish landings made by a vessel authorized under paragraph (a) of this section to participate in the primary season will be subject to the restrictions and limits of the limited entry daily and/or weekly trip limit fishery for sablefish, which is governed by routine management measures imposed under § 660.370(c).

(2) Following the start of the primary season, all landings made by a vessel authorized under paragraph (a) of this section to participate in the primary season will count against the primary season cumulative limit(s) associated with the permit(s) registered for use with that vessel. A vessel that is eligible to participate in the primary sablefish season may participate in the daily trip limit fishery for sablefish once that vessels' primary season sablefish limit(s) have been taken, or after the end of the primary season, whichever occurs earlier. Any subsequent sablefish landings by that vessel will be subject to the restrictions and limits of the limited entry daily and/or trip limit fishery for sablefish for the remainder of the calendar year.

(3) No vessel may land sablefish against both its primary season cumulative sablefish limits and against the daily and/or weekly trip limit fishery limits within the same 24 hour period of 0001 hours l.t. to 2400 hours l.t. If a vessel has taken all of its tier limit except for an amount that is smaller than the daily trip limit amount, that vessel's subsequent sablefish landings are automatically subject to daily and/or weekly trip limits.

(4) Vessels registered for use with a limited entry, fixed gear permit that does not have a sablefish endorsement may participate in the limited entry, daily and/or weekly trip limit fishery for as long as that fishery is open during the year, subject to routine management measures imposed under § 660.370(c). Daily and/or weekly trip limits for the limited entry fishery north and south of 36° N. lat. are provided in Tables 4 (North) and 4 (South) of this subpart.

(5) Open access vessels may participate in the open access, daily trip limit fishery for as long as that fishery is open during the year, subject to the routine management measures imposed under § 660.370(c). Daily and/or weekly trip limits for the open access fishery north and south of 36° N. lat. are provided in Tables 5 (North) and 5 (South) of this subpart.

12. In § 660.373, paragraphs (b)(1)(iii), (b)(3), (b)(4), and (d)(1) are added and paragraph (d)(2) is added and reserved to read as follows:

§ 660.373 Pacific whiting (whiting) fishery management.

(b) * * *

(1) * * *

(iii) 2005 and 2006 primary whiting seasons. After the start of a primary season for a sector of the whiting fishery, the season remains open for that sector until the quota is taken and the fishery season for that sector is closed by NMFS. In both 2005 and 2006, the primary seasons for the whiting fishery start on the same dates as follows:

(A) Catcher/processor sector - May 15;

(B) Mothership sector May 15;

(C) Shore-based sector June 15 north of 42° N. lat.; April 1 between 42° - 40°30′ N. lat.

(3) 2005-2006 trip limits in the whiting fishery. The “per trip” limit for whiting before and after the regular (primary) season for the shore-based sector is announced in Table 4 of this subpart, and is a routine management measure under § 660.370(c). This trip limit includes any whiting caught shoreward of 100 fathoms (183 m) in the Eureka, CA area. The “per trip” limit for other groundfish species before, during and after the regular (primary) season are announced in Table 3 (North) and Table 3 (South) of this subpart and apply as follows:

(i) During the groundfish cumulative limit periods both before and after the primary whiting season, vessels may use either small and/or large footrope gear, but are subject to the more restrictive trip limits for those entire cumulative periods.

(ii) During the primary whiting season for a sector of the fishery, then the midwater trip limits apply and are additive to the trip limits for other groundfish species for that fishing period (i.e., vessels are not constrained by the lower midwater limits and can harvest up to a footrope-specific trawl limit plus the midwater trawl limit per species or species group for that cumulative limit period).

(4) 2005—2006 bycatch limits in the whiting fishery. The bycatch limits for the whiting fishery may be used inseason to close a sector or sectors of the whiting fishery to achieve the rebuilding of an overfished or depleted stock, under routine managmenet measure authority at § 660.370 (c)(1)(ii). These limits are routine management measures under § 660.370 (c) and, as such, may be adjusted inseason or may have new species added to the list of those with bycatch limits. For 2005, the whiting fishey bycatch limits are 7.3 mt of canary rockfish and 231.8 mt of widow rockfish. For 2006, the whiting fishery bycatch limits are 7.3 mt of canary rockfish and 243.2 mt of widow rockfish.

(d) * * *

(1) 2005-2006 whiting trip limits. No more than 10,000 lb (4,536 kg) of whiting may be taken and retained, possessed, or landed by a vessel that, at any time during a fishing trip, fished in the fishery management area shoreward of the 100 fm (183 m) contour (as shown on NOAA Charts 18580, 18600, and 18620) in the Eureka management area (defined at § 660.302).

(2) [Reserved]

13. A new § 660.380 is added to read as follows:

§ 660.380 Groundfish harvest specifications.

Fishery specifications include ABCs, the designation of OYs (which may be represented by harvest guidelines (HGs) or quotas for species that need individual management,) and the allocation of commercial OYs between the open access and limited entry segments of the fishery. These specifications include fish caught in state ocean waters (0-3 nm offshore) as well as fish caught in the EEZ (3-200 nm offshore). Specifications and management measures are provided as Tables 1a and 1b, and 2a and 2b of this subpart.

14. A new § 660.381 is added to read as follows:

§ 660.381 Limited entry trawl fishery management measures.

(a) General. Limited entry trawl vessels include those vessels registered to a limited entry permit with a trawl endorsement. Most species taken in limited entry trawl fisheries will be managed with cumulative trip limits (see trip limits in Tables 3 (North) and 3 (South) of this subpart), size limits (see § 660.370 (h)(5)), seasons (see Pacific whiting at § 660.373), gear restrictions (see paragraph (b) of this section) and closed areas (see paragraph (d) of this section and §§ 660.390 through 660.394). The trawl fishery has gear requirements and trip limits that differ by the type of trawl gear on board and the area fished. Federal commercial groundfish regulations are not intended to supersede any more restrictive state commercial groundfish regulations relating to federally-managed groundfish. Cowcod retention is prohibited in all fisheries and groundfish vessels operating south of Point Conception must adhere to CCA restrictions (see paragraph (d)(1) of this section and § 660.390). The trip limits in Table 3 (North) and Table 3 (South) of this subpart apply to vessels participating in the limited entry groundfish trawl fishery and may not be exceeded. Federal commercial groundfish regulations are not intended to supersede any more restrictive state commercial groundfish regulations relating to federally-managed groundfish.

(b) Trawl gear requirements and restrictions. Trawl nets may be fished with or without otter boards, and may use warps or cables to herd fish.

(1) Codends. Only single-walled codends may be used in any trawl. Double-walled codends are prohibited.

(2) Mesh size. Groundfish trawl gear must meet the minimum mesh size requirements in this paragraph. Mesh size requirements apply throughout the net. Minimum trawl mesh sizes are: bottom trawl, 4.5 inches (11.4 cm); midwater trawl, 3.0 inches (7.6 cm). Minimum trawl mesh size requirements are met if a 20-gauge stainless steel wedge, less one thickness of the metal wedge, can be passed with only thumb pressure through at least 16 of 20 sets of two meshes each of wet mesh.

(3) Chafing gear. Chafing gear may encircle no more than 50 percent of the net's circumference, except as provided in paragraph (b)(5) of this section. No section of chafing gear may be longer than 50 meshes of the net to which it is attached. Except at the corners, the terminal end of each section of chafing gear must not be connected to the net. (The terminal end is the end farthest from the mouth of the net.) Chafing gear must be attached outside any riblines and restraining straps. There is no limit on the number of sections of chafing gear on a net.

(4) Large footrope trawl gear. Large footrope gear is bottom trawl gear with a footrope diameter larger than 8 inches (20 cm) (including rollers, bobbins or other material encircling or tied along the length of the footrope).

(5) Small footrope trawl gear. Small footrope gear is bottom trawl gear with a footrope diameter of 8 inches (20 cm) or smaller (including rollers, bobbins or other material encircling or tied along the length of the footrope). Chafing gear may be used only on the last 50 meshes of a small footrope trawl, measured from the terminal (closed) end of the codend. Other lines or ropes that run parallel to the footrope may not be augmented such that they have a diameter larger than 8 inches (20 cm). For enforcement purposes, the footrope will be measured in a straight line from the outside edge to the opposite outside edge at the widest part on any individual part, including any individual disk, roller, bobbin, or any other device.

(i) Selective flatfish trawl gear is a type of small footrope trawl gear. The selective flatfish trawl net must be a two-seamed net and its breastline may not be longer than 3 ft (0.92 m) in length. There may be no floats along the center third of the selective flatfish trawl net's headrope and the headrope must be at least 30 percent longer in length than the footrope. Selective flatfish trawl gear may not have a footrope that is longer than 105 ft (32.26 m) in length. An explanatory diagram of a selective flatfish trawl net is provided as Figure 1 of Part 660, Subpart G.

(ii) [Reserved]

(6) Midwater (or pelagic) trawl gear. Midwater trawl gear must have unprotected footropes at the trawl mouth, and must not have rollers, bobbins, tires, wheels, rubber discs, or any similar device anywhere on any part of the net. The footrope of midwater gear may not be enlarged by encircling it with chains or by any other means. Ropes or lines running parallel to the footrope of midwater trawl gear must be bare and may not be suspended with chains or any other materials. Sweep lines, including the bottom leg of the bridle, must be bare. For at least 20 ft (6.15 m) immediately behind the footrope or headrope, bare ropes or mesh of 16-inch (40.6-cm) minimum mesh size must completely encircle the net. A band of mesh (a “skirt”) may encircle the net under transfer cables, lifting or splitting straps (chokers), but must be: over riblines and restraining straps; the same mesh size and coincide knot-to-knot with the net to which it is attached; and no wider than 16 meshes.

(c) Cumulative trip limits and prohibitions by limited entry trawl gear type. Management measures may vary depending on the type of trawl gear (i.e., large footrope, small footrope, selective flatfish, or midwater trawl gear) used and/or on board a vessel during a fishing trip and the area fished. Trawl nets may be used on and off the seabed. For some species or species groups, Table 3 (North) and Table 3 (South) provide cumulative and/or trip limits that are specific to different types of trawl gear: large footrope, small footrope (including selective flatfish), selective flatfish, and midwater. If Table 3 (North) and Table 3 (South) provide gear specific limits for a particular species or species group, it is unlawful to take and retain, possess or land that species or species group with limited entry trawl gears other than those listed.

(1) Large footrope trawl gear. It is unlawful for any vessel using large footrope gear to fish for groundfish shoreward of the RCAs defined at paragraph (d) of this section and at §§ 660.390 through 660.394. The use of large footrope gear is permitted seaward of the RCAs coastwide.

(2) Small footrope trawl gear. North of 40°10′ N. lat., it is unlawful for any vessel using small footrope gear (except selective flatfish gear) to fish for groundfish or have small footrope trawl gear (except selective flatfish gear) onboard while fishing shoreward of the RCA defined at paragraph (d) of this section and at §§ 660.390 through 660.394. South of 40°10′ N. lat., small footrope gear is required shoreward of the RCA. Small footrope gear is permitted seaward of the RCA coastwide.

(i) North of 40°10′ N. lat., selective flatfish gear is required shoreward of the RCA defined at paragraph (d) of this section and at §§ 660.390 through 660.394. South of 40°10′ N. lat., selective flatfish gear is permitted, but not required, shoreward of the RCA. The use of selective flatfish trawl gear is permitted seaward of the RCA coastwide.

(ii) [Reserved]

(3) Midwater trawl gear. North of 40°10′ N. lat., midwater trawl gear is permitted only for vessels participating in the primary Pacific whiting fishery (for details on the Pacific whiting fishery see § 660.373). South of 40°10′ N. lat., the use of midwater trawl gear is prohibited shoreward of the RCA and permitted seaward of the RCA.

(4) More than one type of trawl gear on board. The cumulative trip limits in Table 3 (North) or Table 3 (South) of this subpart must not be exceeded. A vessel that is trawling within a Groundfish Conservation Area (GCA) with trawl gear authorized for use within a GCA may not have any other type of trawl gear on board.

(i) North of 40°10′ N. lat., a vessel may have more than one type of limited entry trawl gear on board, but the most restrictive trip limit associated with the gear on board applies for that trip and will count toward the cumulative trip limit for that gear. If selective flatfish trawl gear is used by or is on board a vessel at any time north of 40°10′ N. lat. (either shoreward or seaward of RCA) and those trip limits are the most restrictive for a species or species group during the entire cumulative limit period, then selective flatfish trawl limits apply to that vessel for that species or species group for that entire cumulative limit period, regardless of whether other gear types are also used during that period. Midwater trawl gear is allowed only for vessels participating in the primary whiting season. On non-whiting trips (defined as any fishing trip that takes, retains, possess, or lands less than 10,000 lb (4,536 kg) of whiting), vessels with both large footrope and midwater trawl gear on board during a trip may access the large footrope limits while fishing with large footrope gear seaward of the RCA.

(ii) South of 40°10′ N. lat., a vessel may have more than one type of limited entry trawl gear on board, but the most restrictive trip limit associated with the gear on board applies for that trip and will count toward the cumulative limit for that gear. If a vessel has small footrope trawl gear on board, then it may not have any other trawl gear on board. For vessels using more than one type of trawl gear during a cumulative limit period, limits are additive up to the largest limit for the type of gear used during that period. (Example: If a vessel harvests 300 lb (136 kg) of chilipepper rockfish with small footrope gear, it may harvest up to 11,700 lb (5,209 kg) of chilipepper rockfish with large footrope gear during July and August.) If a vessel fishes north of 40°10′ N. lat. with either selective flatfish or small footrope gear onboard the vessel at any time during the cumulative limit period, the most restrictive trip limit associated with the gear on board applies for that trip and will count toward the cumulative trip limit for that gear.

(d) Trawl Groundfish Conservation Areas (GCAs). A Groundfish Conservation Area (GCA), a type of closed area, is a geographic area defined by coordinates expressed in degrees of latitude and longitude. The following GCAs apply to vessels participating in the limited entry trawl fishery.

(1) Cowcod Conservation Areas (CCAs). Vessels using limited entry trawl gear are prohibited from fishing within the CCAs. See § 660.390 for the coordinates that define the CCAs. Limited entry trawl vessels may transit through the Western CCA with their gear stowed and groundfish on board only in a corridor through the Western CCA bounded on the north by the latitude line at 33°00.50' N. lat., and bounded on the south by the latitude line at 32°59.50' N. lat. It is unlawful to take and retain, possess, or land groundfish within the CCAs, except as authorized in this paragraph, when those waters are open to fishing.

(2) Farallon Islands. Under California law, commercial fishing for all groundfish is prohibited between the shoreline and the 10 fm (18 m) depth contour around the Farallon Islands. (See § 660.390)

(3) Cordell Banks. Commercial fishing for groundfish is prohibited in waters less than 100 fm (183 m) around Cordell Banks as defined by specific latitude and longitude coordinates at § 660.390. [Note: California state regulations also prohibit fishing for all greenlings of the genus Hexagrammos, California sheephead and ocean whitefish in this area.]

(4) Trawl rockfish conservation areas. The trawl RCAs are closed areas, defined by specific latitude and longitude coordinates designed to approximate specific depth contours, where fishing with limited entry trawl gear is prohibited.

(i) Coastwide, it is unlawful to take and retain, possess, or land any species of fish taken with trawl gear within the trawl RCA, except as permitted for vessels participating in the primary whiting season. Throughout the year, boundaries for the trawl RCA are provided in Table 3 (North) and Table 3 (South) of this subpart, and may be modified by NMFS inseason pursuant to § 660.370(c). Trawl RCA boundaries are defined by specific latitude and longitude coordinates which are provided at §§ 660.390 through 660.394.

(ii) Trawl vessels may transit through the trawl RCA, with or without groundfish on board, provided all groundfish trawl gear is stowed either: below deck; or if the gear cannot readily be moved, in a secured and covered manner, detached from all towing lines, so that it is rendered unusable for fishing; or remaining on deck uncovered if the trawl doors are hung from their stanchions and the net is disconnected from the doors. These restrictions do not apply to vessels fishing with mid-water trawl gear for Pacific whiting or taking and retaining yellowtail rockfish or widow rockfish in association with Pacific whiting caught with mid-water trawl gear or to taking and retaining yellowtail or widow rockfish with mid-water trawl gear when trip limits are authorized for those species.

(iii) If a vessel fishes in the trawl RCA, it may not participate in any fishing on that trip that is prohibited by the restrictions that apply within the trawl RCA. [For example, if a vessel participates in the pink shrimp fishery within the RCA, the vessel cannot on the same trip participate in the DTS fishery seaward of the RCA.] Nothing in these Federal regulations supercede any state regulations that may prohibit trawling shoreward of the 3-nm state waters boundary line.

15. A new § 660.382 is added to read as follows:

§ 660.382 Limited entry fixed gear fishery management measures.

(a) General. Most species taken in limited entry fixed gear (longline and pot/trap) fisheries will be managed with cumulative trip limits (see trip limits in Tables 4 (North) and 4 (South) of this subpart), size limits (see § 660.370(h)(5)), seasons (see trip limits in Tables 4 (North) and 4 (South) of this subpart and primary sablefish season details in § 660.372(b)), gear restrictions (see paragraph (b) of this section), and closed areas (see paragraph (c) of this section and §§ 660.390 through 660.394). Cowcod retention is prohibited in all fisheries and groundfish vessels operating south of Point Conception must adhere to CCA restrictions (see paragraph (c)(2) of this section and § 660.390). Yelloweye rockfish and canary rockfish retention is prohibited in the limited entry fixed gear fisheries. Regulations governing and tier limits for the limited entry, fixed gear primary sablefish season north of 36° N. lat. are found in § 660.372. Vessels not participating in the primary sablefish season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 4 (North) and Table 4 (South) of this subpart apply to vessels participating in the limited entry groundfish fixed gear fishery and may not be exceeded. Federal commercial groundfish regulations are not intended to supersede any more restrictive state commercial groundfish regulations relating to federally-managed groundfish.

(b) Gear Restrictions—(1) General. The following types of fishing gear are authorized in the limited entry fixed gear fishery, with the restrictions set forth in this section: longline and pot or trap. Vessels participating in the limited entry fixed gear fishery may also fish with open access gear subject to the gear restrictions at § 660.383(b), but will be subject to the most restrictive trip limits for the gear used as specified at § 660.370(h)(7).

(2) Limited entry fixed gear. (i) Fixed gear (longline, trap or pot) must be:

(A) Marked at the surface, at each terminal end, with a pole, flag, light, radar reflector, and a buoy.

(B) Attended at least once every 7 days.

(ii) A buoy used to mark fixed gear under paragraph (b)(2)(i)(A) of this section must be marked with a number clearly identifying the owner or operator of the vessel. The number may be either:

(A) If required by applicable state law, the vessel's number, the commercial fishing license number, or buoy brand number; or

(B) The vessel documentation number issued by the USCG, or, for an undocumented vessel, the vessel registration number issued by the state.

(3) Traps or pots. Traps must have biodegradable escape panels constructed with # 21 or smaller untreated cotton twine in such a manner that an opening at least 8 inches (20.3 cm) in diameter results when the twine deteriorates.

(c) Groundfish Conservation Areas. A Groundfish Conservation Area (GCA), a type of closed area, is a geographic area defined by coordinates expressed in degrees latitude and longitude. The following GCAs apply to vessels participating in the limited entry fixed gear fishery.

(1) Yelloweye Rockfish Conservation Area. The latitude and longitude coordinates of the Yelloweye Rockfish Conservation Area (YRCA) boundaries are specified at § 660.390. The YRCA is designated as an area to be avoided (a voluntary closure) by commercial fixed gear fishermen.

(2) Cowcod Conservation Areas. The latitude and longitude coordinates of the Cowcod Conservation Areas (CCAs) boundaries are specified at § 660.390. Fishing with limited entry fixed gear is prohibited within the CCAs, except that fishing for “other flatfish” is permitted within the CCAs using no more than 12 hooks, “Number 2” or smaller, which measure no more than 11 mm (0.44 inches) point to shank, and up to 2 lb (0.91 kg) of weight per line. Fishing with limited entry fixed gear for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to 2 lb (0.91 kg) of weight per line. It is unlawful to take and retain, possess, or land groundfish taken with non-trawl gear within the non-trawl RCA, unless otherwise authorized in this section. Limited entry fixed gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. [For example, if a vessel participates in the salmon troll fishery within the RCA, the vessel cannot on the same trip participate in the sablefish fishery outside of the RCA.] Boundaries for the non-trawl RCA throughout the year are provided in the header to Table 4 (North) and Table 4 (South) of this subpart and may be modified by NMFS inseason pursuant to § 660.370(c). Non-trawl RCA boundaries are defined by specific latitude and longitude coordinates and are provided at §§ 660.390 through 660.394.

(4) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to 2 lb (0.91 kg) of weight per line. (See Table 4 (South) of this subpart.) For a definition of the Farallon Islands, see § 660.390.

(5) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to 2 lb (0.91 kg) of weight per line. [Note: California state regulations also prohibit fishing for all greenlings of the genus Hexagrammos, California sheephead and ocean whitefish in this area.]

16. Section 660.383 is added to read as follows:

§ 660.383 Open access fishery management measures.

(a) General. Groundfish species taken in open access fisheries will be managed with cumulative trip limits (see trip limits in Tables 5 (North) and 5 (South) of this subpart), size limits (see § 660.370(h)(5)), seasons, gear restrictions (see paragraph (b) of this section), and closed areas (see paragraph (c) of this section and §§ 660.390 through 660.394). Unless otherwise specified, a vessel operating in the open access fishery is subject to, and must not exceed any trip limit, frequency limit, and/or size limit for the open access fishery. Cowcod retention is prohibited in all fisheries and groundfish vessels operating south of Point Conception must adhere to CCA restrictions (see paragraph (c)(2) of this section and § 660.390). Retention of yelloweye rockfish and canary rockfish is prohibited in all open access fisheries. For information on the open access daily/weekly trip limit fishery for sablefish, see § 660.372(c) and the trip limits in Tables 5 (North) and 5 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.371. The trip limits in Table 5 (North) and Table 5 (South) of this subpart apply to vessels participating in the open access fisheries and may not be exceeded. Federal commercial groundfish regulations are not intended to supersede any more restrictive state commercial groundfish regulations relating to federally managed groundfish.

(b) Gear restrictions. Open access gear is gear used to take and retain groundfish from a vessel that does not have a valid permit for the Pacific Coast groundfish fishery with an endorsement for the gear used to harvest the groundfish. This includes longline, trap, pot, hook-and-line (fixed or mobile), setnet (anchored gillnet or trammel net, which are permissible south of 38° N. lat. only), spear and non-groundfish trawl gear (trawls used to target non-groundfish species: pink shrimp or ridgeback prawns, and, south of Pt. Arena, CA (38°57.50′ N. lat.), California halibut or sea cucumbers). Restrictions for gears used in the open access fisheries are as follows:

(1) Non-groundfish trawl gear. Non-groundfish trawl gear is any trawl gear other than limited entry groundfish trawl gear as described at § 660.381(b) and as defined at § 660.302 for trawl vessels with limited entry groundfish permits. Non-groundfish trawl gear is generally trawl gear used to target pink shrimp, ridgeback prawn, California halibut and sea cucumber. Non-groundfish trawl gear is exempt from the limited entry trawl gear restrictions at § 660.381(b).

(2) Fixed gear. (i) Fixed gear (longline, trap or pot, set net and stationary hook-and-line gear, including commercial vertical hook-and-line gear) must be:

(A) Marked at the surface, at each terminal end, with a pole, flag, light, radar reflector, and a buoy except as provided in paragraph (b)(3)(ii) of this section.

(B) Attended at least once every 7 days.

(ii) Commercial vertical hook-and-line gear that is closely tended may be marked only with a single buoy of sufficient size to float the gear. “Closely tended” means that a vessel is within visual sighting distance or within 0.25 nm (463 m) as determined by electronic navigational equipment, of its commercial vertical hook-and-line gear.

(iii) A buoy used to mark fixed gear under paragraph (b)(3)(i)(A) or (b)(3)(ii) of this section must be marked with a number clearly identifying the owner or operator of the vessel. The number may be either:

(A) If required by applicable state law, the vessel's number, the commercial fishing license number, or buoy brand number; or

(B) The vessel documentation number issued by the USCG, or, for an undocumented vessel, the vessel registration number issued by the state.

(3) Set nets. Fishing for groundfish with set nets is prohibited in the fishery management area north of 38°00.00′ N. lat.

(4) Traps or pots. Traps must have biodegradable escape panels constructed with # 21 or smaller untreated cotton twine in such a manner that an opening at least 8 inches (20.3 cm) in diameter results when the twine deteriorates.

(5) Spears. Spears may be propelled by hand or by mechanical means.

(c) Open Access Groundfish Conservation Areas. A Groundfish Conservation Area (GCA), a type of closed area, is a geographic area defined by coordinates expressed in degrees latitude and longitude. The following GCAs apply to participants in the open access fishery.

(1) Yelloweye Rockfish Conservation Area. The latitude and longitude coordinates of the Yelloweye Rockfish Conservation Area (YRCA) boundaries are specified at § 660.390. The YRCA is designated as an area to be avoided (a voluntary closure) by commercial fixed gear fishermen.

(2) Cowcod Conservation Areas. The latitude and longitude coordinates of the Cowcod Conservation Areas (CCAs) boundaries are specified at § 660.390. Fishing with open access gear is prohibited within the CCAs, except that fishing for “other flatfish” is permitted within the CCAs using no more than 12 hooks, “Number 2” or smaller, which measure no more than 11 mm (0.44 inches) point to shank, and up to 2 lb (0.91 kg) of weight per line. Fishing with open access gear, except trawl gear, for rockfish and lingcod is permitted shoreward of the 20-fm (37-m) depth contour. It is unlawful to take and retain, possess, or land groundfish within the CCAs, except for species authorized in this paragraph caught according to gear requirements in this paragraph, when those waters are open to fishing. Commercial fishing vessels may transit through the Western CCA with their gear stowed and groundfish on board only in a corridor through the Western CCA bounded on the north by the latitude line at 33°00.50′ N. lat., and bounded on the south by the latitude line at 32°59.50′ N. lat.

(3) Non-trawl Rockfish Conservation Areas for the open access fisheries. Fishing for groundfish with non-trawl gear (limited entry or open access longline and pot or trap, open access hook-and-line, gillnet, set net, trammel net and spear) is prohibited within the non-trawl rockfish conservation area (RCA), except that commercial fishing for “other flatfish” is permitted within the non-trawl RCA off California (between 42° N. lat. south to the U.S./Mexico border) using no more than 12 hooks, “Number 2” or smaller, which measure no more than 11 mm (0.44 inches) point to shank, and up to 2 lb (0.91 kg) of weight per line. It is unlawful to take and retain, possess, or land groundfish taken with non-trawl gear within the non-trawl RCA, unless otherwise authorized in this section. Open access non-trawl gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. Retention of groundfish caught by salmon troll gear is prohibited in the designated RCAs, except that salmon trollers may retain yellowtail rockfish caught both inside and outside the non-trawl RCA subject to the limits in Tables 5 (North) and 5 (South) of this subpart. Boundaries for the non-trawl RCA throughout the year are provided in the open access trip limit tables, Table 5 (North) and Table 5(South) of this subpart and may be modified by NMFS inseason pursuant to § 660.370(c). Non-trawl RCA boundaries are defined by specific latitude and longitude coordinates which are specified at §§ 660.390 through 660.394.

(4) Trawl Rockfish Conservation Areas for the open access non-groundfish trawl fisheries.

(i) Fishing with any open access trawl gear is prohibited within the trawl RCA coastwide, except as authorized in this paragraph. Coastwide, it is unlawful to take and retain, possess, or land any species of fish taken with trawl gear within the trawl RCA, except as permitted in this paragraph for vessels participating in the pink shrimp and ridgeback prawn trawl fisheries. Boundaries for the trawl RCA throughout the year in the open access fishery are provided in Table 5 (North) and Table 5 (South) of this subpart and may be modified by NMFS inseason pursuant to § 660.370(c). Trawl RCA boundaries are defined by specific latitude and longitude coordinates which are specified below at §§ 660.390 through 660.394. The trawl rockfish conservation area (RCA) is closed coastwide to open access non-groundfish trawl fishing, except as follows:

(A) Pink shrimp trawling is permitted in the trawl RCA, and

(B) When the shoreward line of the trawl RCA is shallower than 100 fm (183 m), the ridgeback prawn trawl fishery south of 34°27.00′ N. lat. may operate out to the 100 fm boundary line specified at § 660.393 (i.e., the shoreward boundary of the trawl RCA is at the 100 fm boundary line all year for the ridgeback prawn trawl fishery in this area).

(ii) For the non-groundfish trawl gear fisheries, non-groundfish trawl gear RCAs, if applicable, are generally described in the non-groundfish trawl gear sections at the bottom of Tables 5 (North) and 5 (South) of this subpart. Retention of groundfish caught by non-groundfish trawl gear is prohibited in the designated RCAs, except that:

(A) pink shrimp trawl may retain groundfish caught both within and shoreward and seaward of the non-groundfish trawl RCA subject to the limits in Tables 5 (North) and 5 (South) of this subpart, and

(B) South of 34°27′ N. lat., ridgeback prawn trawl may retain groundfish caught both within the non-groundfish trawl RCA out to 100 fm (183 m) when the shoreward boundary of the trawl RCA is shallower than 100 fm (183 m) (i.e., the shoreward boundary of the trawl RCA is at the 100 fm boundary line all year for the ridgeback prawn trawl fishery in this area) and shoreward and seaward of the non-groundfish trawl RCA subject to the limits in Tables 5 (North) and 5 (South) of this subpart.

(iii) If a vessel fishes in the trawl RCA, it may not participate in any fishing on that trip that is prohibited by the restrictions that apply within the trawl RCA. [For example, if a vessel participates in the pink shrimp fishery within the RCA, the vessel cannot on the same trip participate in the DTS fishery seaward of the RCA.] Nothing in these Federal regulations supercede any state regulations that may prohibit trawling shoreward of the 3-nm state waters boundary line.

(5) Farallon Islands. Under California law, commercial fishing for all groundfish is prohibited between the shoreline and the 10-fm (18-m) depth contour around the Farallon Islands, except that commercial fishing for “other flatfish” is permitted around the Farallon Islands using no more than 12 hooks, “Number 2” or smaller, which measure no more than 11 mm (0.44 inches) point to shank, and up to 2 lb (0.91 kg) of weight per line. (See Table 5 (South) of this subpart.) For a definition of the Farallon Islands, see § 660.390.

(6) Cordell Banks. Commercial fishing for groundfish is prohibited in waters less than 100 fm (183 m) around Cordell Banks as defined by specific latitude and longitude coordinates at § 660.390, except that commercial fishing for “other flatfish” is permitted around Cordell Banks using no more than 12 hooks, “Number 2” or smaller, which measure no more than 11 mm (0.44 inches) point to shank, and up to 2 lb (0.91 kg) of weight per line. [Note: California state regulations also prohibit fishing for all greenlings of the genus Hexagrammos, California sheephead and ocean whitefish in this area.]

(d) Groundfish taken with non-groundfish trawl gear by vessels engaged in fishing for ridgeback prawns, California halibut, or sea cucumbers. Trip limits for groundfish retained in the ridgeback prawn, California halibut, or sea cucumber fisheries are in the open access trip limit table, Table 5 (South) of this subpart. The table also generally describes the RCAs for vessels participating in these fisheries.

(1) Participation in the ridgeback prawn fishery. A trawl vessel will be considered participating in the ridgeback prawn fishery if:

(i) It is not fishing under a valid Federal limited entry groundfish permit issued under § 660.333 for trawl gear; and

(ii) The landing includes ridgeback prawns taken in accordance with California Fish and Game Code, section 8595, which states: “Prawns or shrimp may be taken for commercial purposes with a trawl net, subject to Article 10 (commencing with Section 8830) of Chapter 3.”

(2) Participation in the California halibut fishery. A trawl vessel will be considered participating in the California halibut fishery if:

(i) It is not fishing under a valid Federal limited entry groundfish permit issued under § 660.333 for trawl gear;

(ii) All fishing on the trip takes place south of Pt. Arena, CA (38°57.50′ N. lat.); and

(iii) The landing includes California halibut of a size required by California Fish and Game Code section 8392(a), which states: “No California halibut may be taken, possessed or sold which measures less than 22 in (56 cm) in total length, unless it weighs 4 lb (1.8144 kg) or more in the round, 3 and one-half lbs (1.587 kg) or more dressed with the head on, or 3 lbs (1.3608 kg) or more dressed with the head off. Total length means the shortest distance between the tip of the jaw or snout, whichever extends farthest while the mouth is closed, and the tip of the longest lobe of the tail, measured while the halibut is lying flat in natural repose, without resort to any force other than the swinging or fanning of the tail.”

(3) Participation in the sea cucumber fishery. A trawl vessel will be considered to be participating in the sea cucumber fishery if:

(i) It is not fishing under a valid Federal limited entry groundfish permit issued under § 660.333 for trawl gear;

(ii) All fishing on the trip takes place south of Pt. Arena, CA (38°57.50′ N. lat.); and

(iii) The landing includes sea cucumbers taken in accordance with California Fish and Game Code, section 8405, which requires a permit issued by the State of California.

(e) Groundfish taken with non-groundfish trawl gear by vessels engaged in fishing for pink shrimp. Trip limits for groundfish retained in the pink shrimp fishery are in Tables 5 (North) and 5 (South) of this subpart. Notwithstanding § 660.370(h)(7), a vessel that takes and retains pink shrimp and also takes and retains groundfish in either the limited entry or another open access fishery during the same applicable cumulative limit period that it takes and retains pink shrimp (which may be 1 month or 2 months, depending on the fishery and the time of year), may retain the larger of the two limits, but only if the limit(s) for each gear or fishery are not exceeded when operating in that fishery or with that gear. The limits are not additive; the vessel may not retain a separate trip limit for each fishery.

17. Section § 660.384 is added to read as follows:

§ 660.384 Recreational fishery management measures.

(a) General. Federal recreational groundfish regulations are not intended to supersede any more restrictive state recreational groundfish regulations relating to federally-managed groundfish. The bag limits include fish taken in both state and Federal waters.

(b) Gear restrictions. The only types of fishing gear authorized for recreational fishing are hook-and-line and spear. Spears may be propelled by hand or by mechanical means. More fishery-specific gear restrictions may be required by state as noted in paragraph (c) of this section (e.g. California's recreational “other flatfish” fishery).

(c) State-specific recreational fishery management measures. Federal recreational groundfish regulations are not intended to supersede any more restrictive State recreational groundfish regulations relating to federally-managed groundfish. Off the coast of Washington, Oregon, and California, boat limits apply, whereby each fisher aboard a vessel may continue to use angling gear until the combined daily limits of groundfish for all licensed and juvenile anglers aboard has been attained (additional state restrictions on boat limits may apply).

(1) Washington. For each person engaged in recreational fishing in the EEZ seaward of Washington, the groundfish bag limit is 15 groundfish per day, including rockfish and lingcod, and is open year-round (except for lingcod). The following sublimits and closed areas apply:

(i) Recreational Groundfish Conservation Areas off Washington.

(A) Yelloweye Rockfish Conservation Area. Recreational fishing for groundfish and halibut is prohibited within the YRCA. It is unlawful for recreational fishing vessels to take, retain, possess, or land groundfish within the YRCA. The YRCA is defined by latitude and longitude coordinates specified at § 660.390.

(B) Recreational Rockfish Conservation Area. Fishing for groundfish with recreational gear is prohibited within the recreational RCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Washington, if recreational fishing for all groundfish is prohibited seaward of a boundary line approximating the 30-fm (55-m) depth contour, a document will be published in the Federal Register inseason pursuant to § 660.370(c). Coordinates for the boundary line approximating the 30-fm (55-m) depth contour are listed in § 660.391.

(ii) Rockfish. In areas of the EEZ seaward of Washington that are open to recreational groundfish fishing, there is a 10 rockfish per day bag limit. Taking and retaining canary rockfish and yelloweye rockfish is prohibited.

(iii) Lingcod. Recreational fishing for lingcod is open between the closest Saturday to March 15 through the closest Saturday to October 15. For 2005, the lingcod season will be open from March 12 through October 15. For 2006, the lingcod season will be open from March 18 through October 14. In areas of the EEZ seaward of Washington that are open to recreational groundfish fishing and when the recreational season for lingcod is open, there is a bag limit of 2 lingcod per day, which may be no smaller than 24 in (61 cm) total length.

(2) Oregon—(i) Recreational Groundfish Conservation Areas off Oregon. Fishing for groundfish with recreational gear is prohibited within the recreational RCA, a type of closed area or GCA. It is unlawful to take and retain, possess, or land groundfish taken with recreational gear within the recreational RCA. A vessel fishing in the recreational RCA may not be in possession of any groundfish. [For example, if a vessel participates in the recreational salmon fishery within the RCA, the vessel cannot be in possession of groundfish while in the RCA. The vessel may, however, on the same trip fish for and retain groundfish shoreward of the RCA on the return trip to port.] Off Oregon, from June 1 through September 30, recreational fishing for groundfish is prohibited seaward of a recreational RCA boundary line approximating the 40 fm (73 m) depth contour. Coordinates for the boundary line approximating the 40 fm (73 m) depth contour are listed at § 660.391. Recreational fishing for all groundfish may be prohibited inseason seaward of the 20 fm (37 m) depth contour or a boundary line approximating the 30 fm (55 m) depth contour. If the closure seaward of the 20 fm (37 m) depth contour or a boundary line approximating the 30 fm (55 m) depth contour is implemented inseason, a document will be published in the Federal Register pursuant to § 660.370(c). Coordinates for the boundary line approximating the 30 fm (55 m) depth contour are listed at § 660.391.

(ii) Seasons. Recreational fishing for groundfish is open from January 1 through December 31, subject to the closed areas described in paragraph (c)(2) of this section.

(iii) Bag limits, size limits. The bag limits for each person engaged in recreational fishing in the EEZ seaward of Oregon are two lingcod per day, which may be no smaller than 24 in (61 cm) total length; and 10 marine fish per day, which excludes Pacific halibut, salmon, tuna, perch species, sturgeon, sanddabs, lingcod, striped bass and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited.

(3) California. Seaward of California, California law provides that, in times and areas when the recreational fishery is open, there is a 20-fish bag limit for all species of finfish, within which no more than 10 fish of any one species may be taken or possessed by any one person. [Note: There are some exceptions to this rule. The following groundfish species are not subject to a bag limit: petrale sole, Pacific sanddab and starry flounder.] California state law may provide regulations similar to Federal regulations for the following state-managed species: ocean whitefish, California sheephead, and all greenlings of the genus Hexogrammos. Kelp greenling is the only federally-managed greenling. Retention of cowcod, yelloweye rockfish, and canary rockfish is prohibited in the recreational fishery seaward of California all year in all areas. For each person engaged in recreational fishing in the EEZ seaward of California, the following closed areas, seasons, bag limits, and size limits apply:

(i) Recreational Groundfish Conservation Areas off California. A Groundfish Conservation Area (GCA), a type of closed area, is a geographic area defined by coordinates expressed in degrees latitude and longitude. The following GCAs apply to participants in California's recreational fishery.

(A) Recreational Rockfish Conservation Areas. The recreational RCAs are areas that are closed to recreational fishing for groundfish. Fishing for groundfish with recreational gear is prohibited within the recreational RCA, except that recreational fishing for “other flatfish” is permitted within the recreational RCA as specified in paragraph (c)(3)(iv) of this section. It is unlawful to take and retain, possess, or land groundfish taken with recreational gear within the recreational RCA, unless otherwise authorized in this section. A vessel fishing in the recreational RCA may not be in possession of any species prohibited by the restrictions that apply within the recreational RCA. [For example, if a vessel participates in the recreational salmon fishery within the RCA, the vessel cannot be in possession of rockfish while in the RCA. The vessel may, however, on the same trip fish for and retain rockfish shoreward of the RCA on the return trip to port.]

(1) Between 42° N. lat. (California/Oregon border) and 40°10.00′ N. lat., recreational fishing for all groundfish (except “other flatfish” as specified in paragraph (c)(3)(iv) of this section) is prohibited seaward of a boundary line approximating the 40 fm (73 m) depth contour along the mainland coast and along islands and offshore seamounts from July 1 through October 31; and is closed entirely from January 1 through June 30 and from November 1 through December 31 (i.e., prohibited seaward of the shoreline). Recreational fishing for all groundfish may be prohibited inseason seaward of a boundary line approximating the 30 fm (55 m) depth contour. If a closure seaward of the boundary line approximating the 30 fm (55 m) depth contour is implemented inseason, a document will be published in the Federal Register pursuant to § 660.370(c). Coordinates for the boundary line approximating the 30 fm (55 m) and 40 fm (73 m) depth contours are specified in § 660.391.

(2) Between 40°10.00′ N. lat. and 36°N. lat., recreational fishing for all groundfish (except “other flatfish” as specified in paragraph (c)(3)(iv) of this section) is prohibited seaward of the 20 fm (37 m) depth contour along the mainland coast and along islands and offshore seamounts from July 1 through November 30; and is closed entirely from January 1 through June 30 and from December 1 through December 31 (i.e., prohibited seaward of the shoreline). Closures around the Farallon Islands (see paragraph (c)(3)(i)(C) of this section) and Cordell Banks (see paragraph (c)(3)(i)(D) of this section) also apply in this area.

(3) Between 36° N. lat. and 34°27.00′ N. lat., recreational fishing for all groundfish (except “other flatfish” as specified in paragraph (c)(3)(iv) of this section) is prohibited shoreward of the 20 fm (37 m) depth contour and seaward of a boundary line approximating the 40-fm (73-m) depth contour along the mainland coast and along islands and offshore seamounts from May 1 through September 30 (i.e., fishing is permitted only between 20 fm and 40 fm); and is closed entirely from January 1 through April 30 and from October 1 through December 31 (i.e., prohibited seaward of the shoreline). Coordinates for the boundary line approximating the 40-fm (73-m) depth contour are specified in § 660.391.

(4) South of 34°27.00′ N. lat., recreational fishing for all groundfish (except California scorpionfish as specified below in this paragraph and in paragraph (v) and “other flatfish” as specified in paragraph (c)(3)(iv) of this section) is prohibited shoreward of a boundary line approximating the 30 fm (55 m) depth contour and seaward of a boundary line approximating the 60-fm (110-m) depth contour along the mainland coast and along islands and offshore seamounts from March 1 through June 30; and is prohibited seaward of a boundary line approximating the 40-fm (73-m) depth contour from July 1 through September 30; except in the CCAs where fishing is prohibited seaward of the 20-fm (37-m) depth contour when the fishing season is open (see paragraph (c)(3)(i)(B) of this section). Recreational fishing for all groundfish (except California scorpionfish and “other flatfish”) is closed entirely from January 1 through February 29 and from October 1 through December 31 (i.e., prohibited seaward of the shoreline). Recreational fishing for California scorpionfish south of 34°27.00′ N. lat. is prohibited seaward of a boundary line approximating the 40-fm (73-m) depth contour from October 1 through November 30, and seaward of the 20-fm (37-m) depth contour from December 1 through December 31, except in the CCAs where fishing is prohibited seaward of the 20-fm (37-m) depth contour when the fishing season is open. Recreational fishing for California scorpionfish south of 34°27.00′ N. lat. is closed entirely from January 1 through September 30 (i.e., prohibited seaward of the shoreline). Coordinates for the boundary line approximating the 30 fm (55 m), 40 fm (73 m), and 60-fm (110-m) depth contours are specified in §§ 660.391 and 660.392.

(B) Cowcod Conservation Areas. The latitude and longitude coordinates of the Cowcod Conservation Areas (CCAs) boundaries are specified at § 660.390. In general, recreational fishing for all groundfish is prohibited within the CCAs, except that fishing for “other flatfish” is permitted within the CCAs as specified in paragraph (c)(3)(iv) of this section. However, recreational fishing for the following species is permitted shoreward of the 20-fm (37-m) depth contour: minor nearshore rockfish, cabezon, kelp greenling, lingcod, California scorpionfish, and “other flatfish” (subject to gear requirements at paragraph (c)(3)(iv) of this section). [NOTE: California state regulations also permit recreational fishing for all greenlings of the genus Hexogrammas shoreward of the 20-fm (37-m) depth contour in the CCAs.] It is unlawful to take and retain, possess, or land groundfish within the CCAs, except for species authorized in this section.

(C) Farallon Islands. Under California state law, recreational fishing for groundfish is prohibited between the shoreline and the 10-fm (18-m) depth contour around the Farallon Islands, except that recreational fishing for “other flatfish” is permitted around the Farallon Islands as specified in paragraph (c)(3)(iv) of this section. (Note: California state regulations also prohibit the retention of other greenlings of the genus Hexagrammos, California sheephead and ocean whitefish.) For a definition of the Farallon Islands, see § 660.390.

(D) Cordell Banks. Recreational fishing for groundfish is prohibited in waters less than 100 fm (183 m) around Cordell Banks as defined by specific latitude and longitude coordinates at § 660.390, except that recreational fishing for “other flatfish” is permitted around Cordell Banks as specified in paragraph (c)(3)(iv) of this section. [Note: California state regulations also prohibit fishing for all greenlings of the genus Hexagrammos, California sheephead and ocean whitefish.]

(ii) RCG Complex. The California rockfish, cabezon, greenling complex (RCG Complex), as defined in state regulations (Section 1.91, Title 14, California Code of Regulations), includes all rockfish, kelp greenling, rock greenling, and cabezon. This category does not include California scorpionfish, also known as “sculpin.

(A) Seasons. When recreational fishing for the RCG Complex is open, it is permitted only outside of the recreational RCAs described in paragraph (c)(3)(i) of this section.

(1) North of 40°10.00′ N. lat., recreational fishing for the RCG Complex is open from July 1 through October 31.

(2) Between 40°10.00′ N. lat. and 36° N. lat., recreational fishing for the RCG Complex is open from July 1 through November 30 (i.e., it's closed from January 1 through June 30 and from December 1 through December 31).

(3) Between 36° N. lat. and 34°27.00′ N. lat., recreational fishing for the RCG Complex is open from May 1 through September 30 (i.e., it's closed from January 1 through April 30 and from October 1 through December 31).

(4) South of 34°27.00′ N. lat., recreational fishing for the RCG Complex is open from March 1 through September 30 (i.e., it's closed from January 1 through February 29 and from October 1 through December 31).

(B) Bag limits, hook limits. In times and areas when the recreational season for the RCG Complex is open, there is a limit of 2 hooks and 1 line when fishing for rockfish. The bag limit is 10 RCG Complex fish per day coastwide. Retention of canary rockfish, yelloweye rockfish and cowcod is prohibited. North of 40°10′ N. lat., within the 10 RCG Complex fish per day limit, no more than 2 may be bocaccio, no more than 2 may be greenling (kelp and/or other greenlings) and no more than 3 may be cabezon. South of 40°10′ N. lat., within the 10 RCG Complex fish per day limit, no more than 1 may be bocaccio, no more than 2 may be greenling (kelp and/or other greenlings) and no more than 3 may be cabezon. Multi-day limits are authorized by a valid permit issued by California and must not exceed the daily limit multiplied by the number of days in the fishing trip.

(C) Size limits. The following size limits apply: bocaccio may be no smaller than 10 in (25 cm) total length; cabezon may be no smaller than 15 in (38 cm) total length; and kelp and other greenling may be no smaller than 12 in (30 cm) total length.

(D) Dressing/Fileting. Cabezon, kelp greenling, and rock greenling taken in the recreational fishery may not be fileted at sea. Rockfish skin may not be removed when fileting or otherwise dressing rockfish taken in the recreational fishery. The following rockfish filet size limits apply: bocaccio filets may be no smaller than 5 in (12.8 cm) and brown-skinned rockfish fillets may be no smaller than 6.5 in (16.6 cm). “Brown-skinned” rockfish include the following species: brown, calico, copper, gopher, kelp, olive, speckled, squarespot, and yellowtail.

(iii) Lingcod—(A) Seasons. When recreational fishing for lingcod is open, it is permitted only outside of the recreational RCAs described in paragraph (c)(3)(i) of this section.

(1) North of 40°10.00′ N. lat., recreational fishing for lingcod is open from July 1 through October 31.

(2) Between 40°10.00′ N. lat. and 36° N. lat., recreational fishing for lingcod is open from July 1 through November 30 (i.e., it's closed from January 1 through June 30 and from December 1 through December 31).

(3) Between 36° N. lat. and 34°27.00' N. lat., recreational fishing for lingcod is open from May 1 through September 30 (i.e., it's closed from January 1 through April 30 and from October 1 through December 31).

(4) South of 34°27.00′ N. lat., recreational fishing for lingcod is open from March 1 through September 30 (i.e., it's closed from January 1 through February 29 and from October 1 through December 31).

(B) Bag limits, hook limits. In times and areas when the recreational season for lingcod is open, there is a limit of 2 hooks and 1 line when fishing for lingcod. The bag limit is 2 lingcod per day. Multi-day limits are authorized by a valid permit issued by California and must not exceed the daily limit multiplied by the number of days in the fishing trip.

(C) Size limits. Lingcod may be no smaller than 24 in (61 cm) total length.

(D) Dressing/Fileting. Lingcod filets may be no smaller than 16 in (41 cm) in length.

(iv) “Other flatfish”. Coastwide off California, recreational fishing for “other flatfish” is permitted both shoreward of and within the closed areas described in paragraph (c)(3)(i) of this section. Recreational fishing for “other flatfish” is permitted within the closed areas, subject to a limit of up to 12 hooks, “Number 2” or smaller, which measure no more than 11 mm (0.44 inches) point to shank, and up to 2 lb (0.91 kg) of weight per line. “Other flatfish,” except Pacific sanddab and starry flounder, are subject to the overall 20-fish bag limit for all species of finfish, of which there may be no more than 10 fish of any one species. There is no season restriction or size limit for “other flatfish;” however, it is prohibited to filet “other flatfish” at sea.

(v) California scorpionfish. California scorpionfish only occur south of 40°10.00′ N. lat.

(A) Seasons. When recreational fishing for California scorpionfish is open, it is permitted only outside of the recreational RCAs described in paragraph (c)(3)(i) of this section.

(1) Between 40°10.00′ N. lat. and 36° N. lat., recreational fishing for California scorpionfish is open from July 1 through November 30 (i.e., it's closed from January 1 through June 30 and from December 1 through December 31).

(2) Between 36° N. lat. and 34°27.00′ N. lat., recreational fishing for California scorpionfish is open from May 1 through September 30 (i.e., it's closed from January 1 through April 30 and from October 1 through December 31).

(3) South of 34°27.00′ N. lat., recreational fishing for California scorpionfish is open from October 1 through December 31 (i.e., it's closed from January 1 through September 30).

(B) Bag limits, hook limits. South of 40°10.00' N. lat., in times and areas where the recreational season for California scorpionfish is open, the bag limit is 5 California scorpionfish per day. California scorpionfish do not count against the 10 RCG Complex fish per day limit. Multi-day limits are authorized by a valid permit issued by California and must not exceed the daily limit multiplied by the number of days in the fishing trip.

(C) Size limits. California scorpionfish may be no smaller than 10 in (25 cm) total length.

(D) Dressing/Fileting. California scorpionfish filets may be no smaller than 5 in (12.8 cm) and must bear an intact 1 in (2.6 cm) square patch of skin.

18. Section 660.385 is added to read as follows:

§ 660.385 Washington coastal tribal fisheries management measures.

In 1994, the United States formally recognized that the four Washington coastal treaty Indian tribes (Makah, Quileute, Hoh, and Quinault) have treaty rights to fish for groundfish in the Pacific Ocean, and concluded that, in general terms, the quantification of those rights is 50 percent of the harvestable surplus of groundfish that pass through the tribes usual and accustomed fishing areas (described at 50 CFR 660.324). Tribal fishery allocations for sablefish and whiting, are provided in paragraphs (a) and (e) of this section, respectively, and the tribal harvest guideline for black rockfish is provided in paragraph (b)(1) of this section. Trip limits for certain species were recommended by the tribes and the Council for 2005-2006 and are specified here with the tribal allocations.

(a) Sablefish. In 2005, the tribal allocation is 731.4 mt and in 2006 the tribal allocation is 719.4 mt. These allocations are, for each year, 10 percent of the total catch OY, less 2.3 percent estimated discard mortality.

(b) Rockfish. (1) For the commercial harvest of black rockfish off Washington State, a harvest guideline of: 20,000 lb (9,072 kg) north of Cape Alava, WA (48°09′30″ N. lat.) and 10,000 lb (4,536 kg) between Destruction Island, WA (47°40′00″ N. lat.) and Leadbetter Point, WA (46°38′10″ N. lat.). There are no tribal harvest restrictions for the area between Cape Alava and Destruction Island.

(2) Thornyheads are subject to a 300-lb (136-kg) trip limit.

(3) Canary rockfish are subject to a 300-lb (136-kg) trip limit.

(4) Yelloweye rockfish are subject to a 100-lb (45-kg) trip limit.

(5) The Makah Tribe will manage the midwater trawl fisheries as follows: yellowtail rockfish taken in the directed tribal mid-water trawl fisheries are subject to a cumulative limit of 180,000 lb (81,647 kg) per 2-month period for the entire fleet. Landings of widow rockfish must not exceed 10 percent of the weight of yellowtail rockfish landed in any two-month period. These limits may be adjusted by the tribe inseason to minimize the incidental catch of canary rockfish and widow rockfish.

(6) Other rockfish, including minor nearshore, minor shelf, and minor slope rockfish groups are subject to a 300-lb (136-kg) trip limit per species or species group, or to the non-tribal limited entry trip limit for those species if those limits are less restrictive than 300 lb (136 kg) per trip.

(7) Rockfish taken during open competition tribal commercial fisheries for Pacific halibut will not be subject to trip limits.

(c) Lingcod. Lingcod are subject to a 600 lb (272 kg) daily trip limit and a 1,800 lb (816 kg) weekly limit, unless taken in the treaty salmon troll fisheries. Lingcod taken in the treaty salmon troll fisheries are subject to a 1,000 lb (454 kg) daily trip limit and a 4,000 lb (1,814 kg) weekly limit.

(d) Flatfish and other fish. Treaty fishing vessels using bottom trawl gear are subject to the limits applicable to the non-tribal limited entry trawl fishery for Pacific cod, English sole, rex sole, arrowtooth flounder, and other flatfish that are published at the beginning of the year. Treaty fishing vessels are restricted to a 50,000 lb (22,680 kg) per 2-month limit for petrale sole for the entire year.

(e) Pacific whiting. Whiting allocations will be announced when the final OY is announced in the Federal Register.

19. Section 660.390 is revised to read as follows:

§ 660.390 Groundfish conservation areas.

In § 660.302, a groundfish conservation area is defined as “a geographic area defined by coordinates expressed in latitude and longitude, created and enforced for the purpose of contributing to the rebuilding of overfished West Coast groundfish species.” While some groundfish conservation areas may be designed with the intent that their shape be determined by ocean bottom depth contours, their shapes are defined in regulation by latitude/longitude coordinates and are enforced by those coordinates. Latitude/longitude coordinates designating the large-scale boundaries for rockfish conservation areas are found in §§ 660.391 through 660.394. Fishing activity that is prohibited or permitted within a particular groundfish conservation area is detailed in Federal Register documents associated with the harvest specifications and management measures process and at § 660.381 through § 660.384.

(a) Yelloweye Rockfish Conservation Area. The Yelloweye Rockfish Conservation Area (YRCA) is a C-shaped area off the northern Washington coast intended to protect yelloweye rockfish. The YRCA is defined by straight lines connecting the following specific latitude and longitude coordinates in the order listed:

48°18.00′ N. lat.; 125°18.00′ W. long.;

48°18.00′ N. lat.; 124°59.00′ W. long.;

48°11.00′ N. lat.; 124°59.00′ W. long.;

48°11.00′ N. lat.; 125°11.00′ W. long.;

48°04.00′ N. lat.; 125°11.00′ W. long.;

48°04.00′ N. lat.; 124°59.00′ W. long.;

48°00.00′ N. lat.; 124°59.00′ W. long.;

48°00.00′ N. lat.; 125°18.00′ W. long.;

and connecting back to 48°18.00′ N. lat.; 125°18.00′ W.long.

(b) Cowcod Conservation Areas. The Cowcod Conservation Areas (CCAs) are two areas off the southern California coast intended to protect cowcod. The Western CCA is an area south of Point Conception defined by the straight lines connecting the following specific latitude and longitude coordinates in the order listed:

33°50.00′ N. lat., 119°30.00′ W. long.;

33°50.00′ N. lat., 118°50.00′ W. long.;

32°20.00′ N. lat., 118°50.00′ W. long.;

32°20.00′ N. lat., 119°37.00′ W. long.;

33°00.00′ N. lat., 119°37.00′ W. long.;

33°00.00′ N. lat., 119°53.00′ W. long.;

33°33.00′ N. lat., 119°53.00′ W. long.;

33°33.00′ N. lat., 119°30.00′ W. long.;

and connecting back to 33°50.00′ N. lat., 119°30.00′ W.long.

The Eastern CCA is an area west of San Diego defined by the straight lines connecting the following specific latitude and longitude coordinates in the order listed:

32°42.00′ N. lat., 118°02.00′ W. long.;

32°42.00′ N. lat., 117°50.00′ W. long.;

32°36.70′ N. lat., 117°50.00′ W. long.;

32°30.00′ N. lat., 117°53.50′ W. long.;

32°30.00′ N. lat., 118°02.00′ W. long.;

and connecting back to 32°42.00′ N. lat., 118°02.00′ W.long.

(c) Farallon Islands. The Farallon Islands, off San Francisco and San Mateo Counties, include Southeast Farallon Island, Middle Farallon Island, North Farallon Island and Noon Day Rock. Generally, the State of California prohibts fishing for groundfish between the shoreline and the 10 fm (18 m) depth contour around the Farallon Islands.

(d) Cordell Banks. Cordell Banks are located offshore of California's Marin County. Generally, fishing for groundfish is prohibited in waters less than 100 fm (183 m) around Cordell Banks as defined by specific latitude and longitude coordinates.The Cordell Banks closed area is defined by straight lines connecting the following specific latitude and longitude coordinates in the order listed:

38°03.18′ N. lat., 123°20.77′ W. long.;

38°06.29′ N. lat., 123°25.03′ W. long.;

38°06.34′ N. lat., 123°29.32′ W. long.;

38°04.57′ N. lat., 123°31.30′ W. long.;

38°02.32′ N. lat., 123°31.07′ W. long.;

38°00.00′ N. lat., 123°28.40′ W. long.;

37°58.10′ N. lat., 123°26.66′ W. long.;

37°55.07′ N. lat., 123°26.81′ W. long.;

and connecting back to 38°03.18' N. lat., 123°20.77′ W. long.

(e) Rockfish Conservation Areas. RCAs are defined in the Federal Register through the harvest specifications and management measures process. RCAs may apply to a single gear type or to a group of gear types such as “trawl RCAs” or “non-trawl RCAs.” Specific latitude and longitude coordinates for RCA boundaries that approximate the depth contours selected for both trawl, non-trawl, and recreational RCAs are provided in §§ 660.391 through 660.394. Also provided in §§ 660.391 through 660.394 are references to islands and rocks that serve as reference points for the RCAs.

(1) Trawl (Limited Entry and Open Access Nongroundfish Trawl Gears) Rockfish Conservation Area. Trawl RCAs are intended to protect a complex of species, such as overfished shelf rockfish species, and have boundaries defined by specific latitude and longitude coordinates intended to approximate particular depth contours. Boundaries for the trawl RCA throughout the year are provided in Tables 3 and 5 (North) and Tables 3 and 5 (South) and may be modified by NMFS inseason pursuant to § 660.370(c). Trawl RCA boundaries are defined by specific latitude and longitude coordinates and are provided in §§ 660.391 through 660.394.

(2) Non-Trawl (Limited Entry Fixed Gear and Open Access Non-trawl Gears) Rockfish Conservation Area. Non-trawl RCAs are intended to protect a complex of species, such as overfished shelf rockfish species, and have boundaries defined by specific latitude and longitude coordinates intended to approximate particular depth contours. Boundaries for the non-trawl RCA throughout the year are provided in Tables 4 and 5 (North) and Tables 4 and 5 (South) of this subpart and may be modified by NMFS inseason pursuant to § 660.370(c). Non-trawl RCA boundaries are defined by specific latitude and longitude coordinates and are provided in §§ 660.391 through 660.394.

(3) Recreational Rockfish Conservation Area. Recreational RCAs are closed areas intended to protect overfished rockfish species. Recreational RCAs may either have boundaries defined by general depth contours or boundaries defined by specific latitude and longitude coordinates intended to approximate particular depth contours. Boundaries for the recreational RCAs throughout the year are provided in the text in § 660.384(c) under each state (Washington, Oregon and California) and may be modified by NMFS inseason. Recreational RCA boundaries that are defined by specific latitude and longitude coordinates and are provided in §§ 660.391 through 660.394.

20. Section 660.391 is added to read as follows:

§ 660.391 Latitude/longitude coordinates defining the 27 fm (49 m) through 40 fm (73 m) depth contours.

Boundaries for RCAs are defined by straight lines connecting a series of latitude/longitude coordinates. This section provides coordinates for the 27 fm (49 m) through 40 fm (73 m) depth contours.

(a) The 27 fm (49 m) depth contour used between 46°16′ N. lat. and 40°10′ N. lat. is defined by straight lines connecting all of the following points in the order stated:

(1) 46°16.00′ N. lat., 124°12.39′ W. long.;

(2) 46°14.85′ N. lat., 124°12.39′ W. long.;

(3) 46°03.95′ N. lat., 124°03.64′ W. long.;

(4) 45°43.14′ N. lat., 124°00.17′ W. long.;

(5) 45°23.33′ N. lat., 124°01.99′ W. long.;

(6) 45°09.54′ N. lat., 124°01.65′ W. long.;

(7) 44°39.99′ N. lat., 124°08.67′ W. long.;

(8) 44°20.86′ N. lat., 124°10.31′ W. long.;

(9) 43°37.11′ N. lat., 124°14.91′ W. long.;

(10) 43°27.54′ N. lat., 124°18.98′ W. long.;

(11) 43°20.68′ N. lat., 124°25.53′ W. long.;

(12) 43°15.08′ N. lat., 124°27.17′ W. long.;

(13) 43°06.89′ N. lat., 124°29.65′ W. long.;

(14) 43°01.02′ N. lat., 124°29.70′ W. long.;

(15) 42°52.67′ N. lat., 124°36.10′ W. long.;

(16) 42°45.96′ N. lat., 124°37.95′ W. long.;

(17) 42°45.80′ N. lat., 124°35.41′ W. long.;

(18) 42°38.46′ N. lat., 124°27.49′ W. long.;

(19) 42°35.29′ N. lat., 124°26.85′ W. long.;

(20) 42°31.49′ N. lat., 124°31.40′ W. long.;

(21) 42°29.06′ N. lat., 124°32.24′ W. long.;

(22) 42°14.26′ N. lat., 124°26.27′ W. long.;

(23) 42°04.86′ N. lat., 124°21.94′ W. long.;

(24) 42°00.10′ N. lat., 124°20.99′ W. long.;

(25) 42°00.00′ N. lat., 124°21.03′ W. long.;

(26) 41°56.33′ N. lat., 124°20.34′ W. long.;

(27) 41°50.93′ N. lat., 124°23.74′ W. long.;

(28) 41°41.83′ N. lat., 124°16.99′ W. long.;

(29) 41°35.48′ N. lat., 124°16.35′ W. long.;

(30) 41°23.51′ N. lat., 124°10.48′ W. long.;

(31) 41°04.62′ N. lat., 124°14.44′ W. long.;

(32) 40°54.28′ N. lat., 124°13.90′ W. long.;

(33) 40°40.37′ N. lat., 124°26.21′ W. long.;

(34) 40°34.03′ N. lat., 124°27.36′ W. long.;

(35) 40°28.88′ N. lat., 124°32.41′ W. long.;

(36) 40°24.82′ N. lat., 124°29.56′ W. long.;

(37) 40°22.64′ N. lat., 124°24.05′ W. long.;

(38) 40°18.67′ N. lat., 124°21.90′ W. long.;

(39) 40°14.23′ N. lat., 124°23.72′ W. long.; and

(40) 40°10.00′ N. lat., 124°17.22′ W. long.

(b) The 30 fm (55 m) depth contour between the U.S. border with Canada and the U.S. border with Mexico is defined by straight lines connecting all of the following points in the order stated:

(1) 48°24.79′ N. lat., 124°44.07′ W. long.;

(2) 48°24.80′ N. lat., 124°44.74′ W. long.;

(3) 48°23.94′ N. lat., 124°44.70′ W. long.;

(4) 48°23.51′ N. lat., 124°45.01′ W. long.;

(5) 48°22.59′ N. lat., 124°44.97′ W. long.;

(6) 48°21.75′ N. lat., 124°45.26′ W. long.;

(7) 48°21.23′ N. lat., 124°47.78′ W. long.;

(8) 48°20.32′ N. lat., 124°49.53′ W. long.;

(9) 48°16.72′ N. lat., 124°51.58′ W. long.;

(10) 48°10.00′ N. lat., 124°52.58′ W. long.;

(11) 48°05.63′ N. lat., 124°52.91′ W. long.;

(12) 47°53.37′ N. lat., 124°47.37′ W. long.;

(13) 47°40.28′ N. lat., 124°40.07′ W. long.;

(14) 47°31.70′ N. lat., 124°37.03′ W. long.;

(15) 47°25.67′ N. lat., 124°34.79′ W. long.;

(16) 47°12.82′ N. lat., 124°29.12′ W. long.;

(17) 46°52.94′ N. lat., 124°22.58′ W. long.;

(18) 46°44.18′ N. lat., 124°18.00′ W. long.;

(19) 46°38.17′ N. lat., 124°15.88′ W. long.;

(20) 46°29.53′ N. lat., 124°15.89′ W. long.;

(21) 46°19.27′ N. lat., 124°14.15′ W. long.;

(22) 46°16.00′ N. lat., 124°13.05′ W. long.;

(23) 46°07.00′ N. lat., 124°07.01′ W. long.;

(24) 45°55.95′ N. lat., 124°02.23′ W. long.;

(25) 45°54.53′ N. lat., 124°02.57′ W. long.;

(26) 45°50.65′ N. lat., 124°01.62′ W. long.;

(27) 45°48.20′ N. lat., 124°02.16′ W. long.;

(28) 45°46.00′ N. lat., 124°01.86′ W. long.;

(29) 45°43.47′ N. lat., 124°01.28′ W. long.;

(30) 45°40.48′ N. lat., 124°01.03′ W. long.;

(31) 45°39.04′ N. lat., 124°01.68′ W. long.;

(32) 45°35.48′ N. lat., 124°01.89′ W. long.;

(33) 45°29.81′ N. lat., 124°02.45′ W. long.;

(34) 45°27.96′ N. lat., 124°01.89′ W. long.;

(35) 45°27.22′ N. lat., 124°02.67′ W. long.;

(36) 45°24.20′ N. lat., 124°02.94′ W. long.;

(37) 45°20.60′ N. lat., 124°01.74′ W. long.;

(38) 45°20.25′ N. lat., 124°01.85′ W. long.;

(39) 45°16.44′ N. lat., 124°03.22′ W. long.;

(40) 45°13.63′ N. lat., 124°02.70′ W. long.;

(41) 45°11.04′ N. lat., 124°03.59′ W. long.;

(42) 45°08.55′ N. lat., 124°03.47′ W. long.;

(43) 45°02.82′ N. lat., 124°04.64′ W. long.;

(44) 45°03.38′ N. lat., 124°04.79′ W. long.;

(45) 44°58.06′ N. lat., 124°05.03′ W. long.;

(46) 44°53.97′ N. lat., 124°06.92′ W. long.;

(47) 44°48.89′ N. lat., 124°07.04′ W. long.;

(48) 44°46.94′ N. lat., 124°08.25′ W. long.;

(49) 44°42.72′ N. lat., 124°08.98′ W. long.;

(50) 44°38.16′ N. lat., 124°11.48′ W. long.;

(51) 44°33.38′ N. lat., 124°11.54′ W. long.;

(52) 44°28.51′ N. lat., 124°12.03′ W. long.;

(53) 44°27.65′ N. lat., 124°12.56′ W. long.;

(54) 44°19.67′ N. lat., 124°12.37′ W. long.;

(55) 44°10.79′ N. lat., 124°12.22′ W. long.;

(56) 44°09.22′ N. lat., 124°12.28′ W. long.;

(57) 44°08.30′ N. lat., 124°12.30′ W. long.;

(58) 44°00.22′ N. lat., 124°12.80′ W. long.;

(59) 43°51.56′ N. lat., 124°13.17′ W. long.;

(60) 43°44.26′ N. lat., 124°14.50′ W. long.;

(61) 43°33.82′ N. lat., 124°16.28′ W. long.;

(62) 43°28.66′ N. lat., 124°18.72′ W. long.;

(63) 43°23.12′ N. lat., 124°24.04′ W. long.;

(64) 43°20.83′ N. lat., 124°25.67′ W. long.;

(65) 43°20.49′ N. lat., 124°25.90′ W. long.;

(66) 43°16.41′ N. lat., 124°27.52′ W. long.;

(67) 43°14.23′ N. lat., 124°29.28′ W. long.;

(68) 43°14.03′ N. lat., 124°28.31′ W. long.;

(69) 43°11.92′ N. lat., 124°28.26′ W. long.;

(70) 43°11.02′ N. lat., 124°29.11′ W. long.;

(71) 43°10.13′ N. lat., 124°29.15′ W. long.;

(72) 43°09.27′ N. lat., 124°31.03′ W. long.;

(73) 43°07.73′ N. lat., 124°30.92′ W. long.;

(74) 43°05.93′ N. lat., 124°29.64′ W. long.;

(75) 43°01.59′ N. lat., 124°30.64′ W. long.;

(76) 42°59.73′ N. lat., 124°31.16′ W. long.;

(77) 42°53.75′ N. lat., 124°36.09′ W. long.;

(78) 42°50.00′ N. lat., 124°38.39′ W. long.;

(79) 42°49.37′ N. lat., 124°38.81′ W. long.;

(80) 42°46.42′ N. lat., 124°37.69′ W. long.;

(81) 42°46.07′ N. lat., 124°38.56′ W. long.;

(82) 42°45.29′ N. lat., 124°37.95′ W. long.;

(83) 42°45.61′ N. lat., 124°36.87′ W. long.;

(84) 42°44.28′ N. lat., 124°33.64′ W. long.;

(85) 42°42.75′ N. lat., 124°31.84′ W. long.;

(86) 42°40.50′ N. lat., 124°29.67′ W. long.;

(87) 42°40.04′ N. lat., 124°29.19′ W. long.;

(88) 42°38.09′ N. lat., 124°28.39′ W. long.;

(89) 42°36.72′ N. lat., 124°27.54′ W. long.;

(90) 42°36.56′ N. lat., 124°28.40′ W. long.;

(91) 42°35.76′ N. lat., 124°28.79′ W. long.;

(92) 42°34.03′ N. lat., 124°29.98′ W. long.;

(93) 42°34.19′ N. lat., 124°30.58′ W. long.;

(94) 42°31.27′ N. lat., 124°32.24′ W. long.;

(95) 42°27.07′ N. lat., 124°32.53′ W. long.;

(96) 42°24.21′ N. lat., 124°31.23′ W. long.;

(97) 42°20.47′ N. lat., 124°28.87′ W. long.;

(98) 42°14.60′ N. lat., 124°26.80′ W. long.;

(99) 42°13.67′ N. lat., 124°26.25′ W. long.;

(100) 42°10.90′ N. lat., 124°24.57′ W. long.;

(101) 42°07.04′ N. lat., 124°23.35′ W. long.;

(102) 42°02.16′ N. lat., 124°22.59′ W. long.;

(103) 42°00.00′ N. lat., 124°21.81′ W. long.;

(104) 41°55.75′ N. lat., 124°20.72′ W. long.;

(105) 41°50.93′ N. lat., 124°23.76′ W. long.;

(106) 41°42.53′ N. lat., 124°16.47′ W. long.;

(107) 41°37.20′ N. lat., 124°17.05′ W. long.;

(108) 41°24.58′ N. lat., 124°10.51′ W. long.;

(109) 41°20.73′ N. lat., 124°11.73′ W. long.;

(110) 41°17.59′ N. lat., 124°10.66′ W. long.;

(111) 41°04.54′ N. lat., 124°14.47′ W. long.;

(112) 40°54.26′ N. lat., 124°13.90′ W. long.;

(113) 40°40.31′ N. lat., 124°26.24′ W. long.;

(114) 40°34.00′ N. lat., 124°27.39′ W. long.;

(115) 40°30.00′ N. lat., 124°31.32′ W. long.;

(116) 40°28.89′ N. lat., 124°32.43′ W. long.;

(117) 40°24.77′ N. lat., 124°29.51′ W. long.;

(118) 40°22.47′ N. lat., 124°24.12′ W. long.;

(119) 40°19.73′ N. lat., 124°23.59′ W. long.;

(120) 40°18.64′ N. lat., 124°21.89′ W. long.;

(121) 40°17.67′ N. lat., 124°23.07′ W. long.;

(122) 40°15.58′ N. lat., 124°23.61′ W. long.;

(123) 40°13.42′ N. lat., 124°22.94′ W. long.;

(124) 40°10.00′ N. lat., 124°16.65′ W. long.;

(125) 40°09.46′ N. lat., 124°15.28′ W. long.;

(126) 40°08.89′ N. lat., 124°15.24′ W. long.;

(127) 40°06.40′ N. lat., 124°10.97′ W. long.;

(128) 40°06.08′ N. lat., 124°09.34′ W. long.;

(129) 40°06.64′ N. lat., 124°08.00′ W. long.;

(130) 40°05.08′ N. lat., 124°07.57′ W. long.;

(131) 40°04.29′ N. lat., 124°08.12′ W. long.;

(132) 40°00.61′ N. lat., 124°07.35′ W. long.;

(133) 39°58.60′ N. lat., 124°05.51′ W. long.;

(134) 39°54.89′ N. lat., 124°04.67′ W. long.;

(135) 39°53.01′ N. lat., 124°02.33′ W. long.;

(136) 39°53.20′ N. lat., 123°58.18′ W. long.;

(137) 39°48.45′ N. lat., 123°53.21′ W. long.;

(138) 39°43.89′ N. lat., 123°51.75′ W. long.;

(139) 39°39.60′ N. lat., 123°49.14′ W. long.;

(140) 39°34.43′ N. lat., 123°48.48′ W. long.;

(141) 39°30.63′ N. lat., 123°49.71′ W. long.;

(142) 39°21.25′ N. lat., 123°50.54′ W. long.;

(143) 39°08.87′ N. lat., 123°46.24′ W. long.;

(144) 39°03.79′ N. lat., 123°43.91′ W. long.;

(145) 38°59.65′ N. lat., 123°45.94′ W. long.;

(146) 38°57.50′ N. lat., 123°46.28′ W. long.;

(147) 38°56.80′ N. lat., 123°46.48′ W. long.;

(148) 38°51.16′ N. lat., 123°41.48′ W. long.;

(149) 38°45.77′ N. lat., 123°35.14′ W. long.;

(150) 38°42.21′ N. lat., 123°28.17′ W. long.;

(151) 38°34.05′ N. lat., 123°20.96′ W. long.;

(152) 38°22.47′ N. lat., 123°07.48′ W. long.;

(153) 38°16.52′ N. lat., 123°05.62′ W. long.;

(154) 38°14.42′ N. lat., 123°01.91′ W. long.;

(155) 38°08.24′ N. lat., 122°59.79′ W. long.;

(156) 38°02.69′ N. lat., 123°01.96′ W. long.;

(157) 38°00.00′ N. lat., 123°04.75′ W. long.;

(158) 37°58.41′ N. lat., 123°02.93′ W. long.;

(159) 37°58.25′ N. lat., 122°56.49′ W. long.;

(160) 37°50.30′ N. lat., 122°52.23′ W. long.;

(161) 37°43.36′ N. lat., 123°04.18′ W. long.;

(162) 37°40.77′ N. lat., 123°01.62′ W. long.;

(163) 37°40.13′ N. lat., 122°57.30′ W. long.;

(164) 37°42.59′ N. lat., 122°53.64′ W. long.;

(165) 37°35.67′ N. lat., 122°44.20′ W. long.;

(166) 37°29.62′ N. lat., 122°36.00′ W. long.;

(167) 37°22.38′ N. lat., 122°31.66′ W. long.;

(168) 37°13.86′ N. lat., 122°28.27′ W. long.;

(169) 37°11.00′ N. lat., 122°26.50′ W. long.;

(170) 37°08.01′ N. lat., 122°24.75′ W. long.;

(171) 37°07.00′ N. lat., 122°23.60′ W. long.;

(172) 37°05.84′ N. lat., 122°22.47′ W. long.;

(173) 36°58.77′ N. lat., 122°13.03′ W. long.;

(174) 36°53.74′ N. lat., 122°03.39′ W. long.;

(175) 36°52.71′ N. lat., 122°00.14′ W. long.;

(176) 36°52.51′ N. lat., 121°56.77′ W. long.;

(177) 36°49.44′ N. lat., 121°49.63′ W. long.;

(178) 36°48.01′ N. lat., 121°49.92′ W. long.;

(179) 36°48.25′ N. lat., 121°47.66′ W. long.;

(180) 36°46.26′ N. lat., 121°51.27′ W. long.;

(181) 36°39.14′ N. lat., 121°52.05′ W. long.;

(182) 36°38.00′ N. lat., 121°53.57′ W. long.;

(183) 36°39.14′ N. lat., 121°55.45′ W. long.;

(184) 36°38.50′ N. lat., 121°57.09′ W. long.;

(185) 36°36.75′ N. lat., 121°59.44′ W. long.;

(186) 36°34.97′ N. lat., 121°59.37′ W. long.;

(187) 36°33.07′ N. lat., 121°58.32′ W. long.;

(188) 36°33.27′ N. lat., 121°57.07′ W. long.;

(189) 36°32.68′ N. lat., 121°57.03′ W. long.;

(190) 36°32.04′ N. lat., 121°55.98′ W. long.;

(191) 36°31.61′ N. lat., 121°55.72′ W. long.;

(192) 36°31.59′ N. lat., 121°57.12′ W. long.;

(193) 36°31.52′ N. lat., 121°57.57′ W. long.;

(194) 36°30.88′ N. lat., 121°57.90′ W. long.;

(195) 36°30.25′ N. lat., 121°57.37′ W. long.;

(196) 36°29.47′ N. lat., 121°57.55′ W. long.;

(197) 36°26.72′ N. lat., 121°56.40′ W. long.;

(198) 36°24.33′ N. lat., 121°56.00′ W. long.;

(199) 36°23.36′ N. lat., 121°55.45′ W. long.;

(200) 36°18.86′ N. lat., 121°56.15′ W. long.;

(201) 36°16.21′ N. lat., 121°54.81′ W. long.;

(202) 36°15.30′ N. lat., 121°53.79′ W. long.;

(203) 36°12.04′ N. lat., 121°45.38′ W. long.;

(204) 36°11.87′ N. lat., 121°44.45′ W. long.;

(205) 36°12.13′ N. lat., 121°44.25′ W. long.;

(206) 36°11.89′ N. lat., 121°43.65′ W. long.;

(207) 36°10.56′ N. lat., 121°42.62′ W. long.;

(208) 36°09.90′ N. lat., 121°41.57′ W. long.;

(209) 36°08.14′ N. lat., 121°40.44′ W. long.;

(210) 36°06.69′ N. lat., 121°38.79′ W. long.;

(211) 36°05.85′ N. lat., 121°38.47′ W. long.;

(212) 36°03.08′ N. lat., 121°36.25′ W. long.;

(213) 36°02.92′ N. lat., 121°35.89′ W. long.;

(214) 36°01.53′ N. lat., 121°36.13′ W. long.;

(215) 36°00.59′ N. lat., 121°35.40′ W. long.;

(216) 36°00.00′ N. lat., 121°34.10′ W. long.;

(217) 35°59.93′ N. lat., 121°33.81′ W. long.;

(218) 35°59.69′ N. lat., 121°31.84′ W. long.;

(219) 35°58.59′ N. lat., 121°30.30′ W. long.;

(220) 35°54.02′ N. lat., 121°29.71′ W. long.;

(221) 35°51.54′ N. lat., 121°27.67′ W. long.;

(222) 35°50.42′ N. lat., 121°25.79′ W. long.;

(223) 35°48.37′ N. lat., 121°24.29′ W. long.;

(224) 35°47.02′ N. lat., 121°22.46′ W. long.;

(225) 35°42.28′ N. lat., 121°21.20′ W. long.;

(226) 35°41.57′ N. lat., 121°21.82′ W. long.;

(227) 35°39.24′ N. lat., 121°18.84′ W. long.;

(228) 35°35.14′ N. lat., 121°10.45′ W. long.;

(229) 35°30.11′ N. lat., 121°05.59′ W. long.;

(230) 35°25.86′ N. lat., 121°00.07′ W. long.;

(231) 35°22.82′ N. lat., 120°54.68′ W. long.;

(232) 35°17.96′ N. lat., 120°55.54′ W. long.;

(233) 35°14.83′ N. lat., 120°55.42′ W. long.;

(234) 35°08.87′ N. lat., 120°50.22′ W. long.;

(235) 35°05.55′ N. lat., 120°44.89′ W. long.;

(236) 35°02.91′ N. lat., 120°43.94′ W. long.;

(237) 34°53.80′ N. lat., 120°43.94′ W. long.;

(238) 34°34.89′ N. lat., 120°41.92′ W. long.;

(239) 34°32.48′ N. lat., 120°40.05′ W. long.;

(240) 34°30.12′ N. lat., 120°32.81′ W. long.;

(241) 34°27.00′ N. lat., 120°30.46′ W. long.;

(242) 34°27.00′ N. lat., 120°30.31′ W. long.;

(243) 34°25.84′ N. lat., 120°27.40′ W. long.;

(244) 34°25.16′ N. lat., 120°20.18′ W. long.;

(245) 34°25.88′ N. lat., 120°18.24′ W. long.;

(246) 34°27.26′ N. lat., 120°12.47′ W. long.;

(247) 34°26.27′ N. lat., 120°02.22′ W. long.;

(248) 34°23.41′ N. lat., 119°53.40′ W. long.;

(249) 34°23.33′ N. lat., 119°48.74′ W. long.;

(250) 34°22.31′ N. lat., 119°41.36′ W. long.;

(251) 34°21.72′ N. lat., 119°40.14′ W. long.;

(252) 34°21.25′ N. lat., 119°41.18′ W. long.;

(253) 34°20.25′ N. lat., 119°39.03′ W. long.;

(254) 34°19.87′ N. lat., 119°33.65′ W. long.;

(255) 34°18.67′ N. lat., 119°30.16′ W. long.;

(256) 34°16.95′ N. lat., 119°27.90′ W. long.;

(257) 34°13.02′ N. lat., 119°26.99′ W. long.;

(258) 34°08.62′ N. lat., 119°20.89′ W. long.;

(259) 34°06.95′ N. lat., 119°17.68′ W. long.;

(260) 34°05.93′ N. lat., 119°15.17′ W. long.;

(261) 34°08.42′ N. lat., 119°13.11′ W. long.;

(262) 34°05.23′ N. lat., 119°13.34′ W. long.;

(263) 34°04.98′ N. lat., 119°11.39′ W. long.;

(264) 34°04.55′ N. lat., 119°11.09′ W. long.;

(265) 34°04.15′ N. lat., 119°09.35′ W. long.;

(266) 34°04.89′ N. lat., 119°07.86′ W. long.;

(267) 34°04.08′ N. lat., 119°07.33′ W. long.;

(268) 34°04.10′ N. lat., 119°06.89′ W. long.;

(269) 34°05.08′ N. lat., 119°07.02′ W. long.;

(270) 34°05.27′ N. lat., 119°04.95′ W. long.;

(271) 34°04.51′ N. lat., 119°04.70′ W. long.;

(272) 34°02.26′ N. lat., 118°59.88′ W. long.;

(273) 34°01.08′ N. lat., 118°59.77′ W. long.;

(274) 34°00.94′ N. lat., 118°51.65′ W. long.;

(275) 33°59.77′ N. lat., 118°49.26′ W. long.;

(276) 34°00.04′ N. lat., 118°48.92′ W. long.;

(277) 33°59.65′ N. lat., 118°48.43′ W. long.;

(278) 33°59.46′ N. lat., 118°47.25′ W. long.;

(279) 33°59.80′ N. lat., 118°45.89′ W. long.;

(280) 34°00.21′ N. lat., 118°37.64′ W. long.;

(281) 33°59.26′ N. lat., 118°34.58′ W. long.;

(282) 33°58.07′ N. lat., 118°33.36′ W. long.;

(283) 33°53.76′ N. lat., 118°30.14′ W. long.;

(284) 33°51.00′ N. lat., 118°25.19′ W. long.;

(285) 33°50.07′ N. lat., 118°24.70′ W. long.;

(286) 33°50.16′ N. lat., 118°23.77′ W. long.;

(287) 33°48.80′ N. lat., 118°25.31′ W. long.;

(288) 33°47.07′ N. lat., 118°27.07′ W. long.;

(289) 33°46.12′ N. lat., 118°26.87′ W. long.;

(290) 33°44.15′ N. lat., 118°25.15′ W. long.;

(291) 33°43.54′ N. lat., 118°23.02′ W. long.;

(292) 33°41.35′ N. lat., 118°18.86′ W. long.;

(293) 33°39.96′ N. lat., 118°17.37′ W. long.;

(294) 33°40.12′ N. lat., 118°16.33′ W. long.;

(295) 33°39.28′ N. lat., 118°16.21′ W. long.;

(296) 33°38.04′ N. lat., 118°14.86′ W. long.;

(297) 33°36.57′ N. lat., 118°14.67′ W. long.;

(298) 33°34.93′ N. lat., 118°10.94′ W. long.;

(399) 33°35.14′ N. lat., 118°08.61′ W. long.;

(300) 33°35.69′ N. lat., 118°07.68′ W. long.;

(301) 33°36.21′ N. lat., 118°07.53′ W. long.;

(302) 33°36.43′ N. lat., 118°06.73′ W. long.;

(303) 33°36.05′ N. lat., 118°06.15′ W. long.;

(304) 33°36.32′ N. lat., 118°03.91′ W. long.;

(305) 33°35.69′ N. lat., 118°03.64′ W. long.;

(306) 33°34.62′ N. lat., 118°00.04′ W. long.;

(307) 33°34.80′ N. lat., 117°57.73′ W. long.;

(308) 33°35.57′ N. lat., 117°56.62′ W. long.;

(309) 33°35.46′ N. lat., 117°55.99′ W. long.;

(310) 33°35.98′ N. lat., 117°55.99′ W. long.;

(311) 33°35.46′ N. lat., 117°55.38′ W. long.;

(312) 33°35.21′ N. lat., 117°53.46′ W. long.;

(313) 33°33.61′ N. lat., 117°50.45′ W. long.;

(314) 33°31.41′ N. lat., 117°47.28′ W. long.;

(315) 33°27.54′ N. lat., 117°44.36′ W. long.;

(316) 33°26.63′ N. lat., 117°43.17′ W. long.;

(317) 33°25.21′ N. lat., 117°40.90′ W. long.;

(318) 33°20.33′ N. lat., 117°35.99′ W. long.;

(319) 33°16.35′ N. lat., 117°31.51′ W. long.;

(320) 33°11.53′ N. lat., 117°26.81′ W. long.;

(321) 33°07.59′ N. lat., 117°21.13′ W. long.;

(322) 33°02.21′ N. lat., 117°19.05′ W. long.;

(323) 32°56.55′ N. lat., 117°17.70′ W. long.;

(324) 32°54.61′ N. lat., 117°16.60′ W. long.;

(325) 32°52.32′ N. lat., 117°15.97′ W. long.;

(326) 32°51.48′ N. lat., 117°16.15′ W. long.;

(327) 32°51.85′ N. lat., 117°17.26′ W. long.;

(328) 32°51.55′ N. lat., 117°19.01′ W. long.;

(329) 32°49.55′ N. lat., 117°19.63′ W. long.;

(330) 32°46.71′ N. lat., 117°18.32′ W. long.;

(331) 32°36.35′ N. lat., 117°15.68′ W. long.; and

(332) 32°32.85′ N. lat., 117°15.44′ W. long.

(c) The 30 fm (55 m) depth contour around the Farallon Islands off the state of California is defined by straight lines connecting all of the following points in the order stated:

(1) 37°46.73′ N. lat., 123°6.37′ W. long.;

(2) 37°45.79′ N. lat., 123°07.91′ W. long.;

(3) 37°45.28′ N. lat., 123°07.75′ W. long.;

(4) 37°44.98′ N. lat., 123°07.11′ W. long.;

(5) 37°45.51′ N. lat., 123°06.26′ W. long.;

(6) 37°45.14′ N. lat., 123°05.41′ W. long.;

(7) 37°45.31′ N. lat., 123°04.82′ W. long.;

(8) 37°46.11′ N. lat., 123°05.23′ W. long.;

(9) 37°46.44′ N. lat., 123°05.63′ W. long.; and

(10) 37°46.73′ N. lat., 123°06.37′ W. long.

(d) The 30 fm (55 m) depth contour around Noon Day Rock off the state of California is defined by straight lines connecting all of the following points in the order stated:

(1) 37°47.83′ N. lat., 123°10.83′ W. long.;

(2) 37°47.51′ N. lat., 123°11.19′ W. long.;

(3) 37°47.33′ N. lat., 123°10.68′ W. long.;

(4) 37°47.02′ N. lat., 123°10.59′ W. long.;

(5) 37°47.21′ N. lat., 123°09.85′ W. long.;

(6) 37°47.56′ N. lat., 123°09.72′ W. long.;

(7) 37°47.87′ N. lat., 123°10.26′ W. long.; and

(8) 37°47.83′ N. lat., 123°10.83′ W. long.

(e) The 30 fm (55 m) depth contour around the northern Channel Islands off the state of California is defined by straight lines connecting all of the following points in the order stated:

(1) 34°00.98′ N. lat., 119°20.46′ W. long.;

(2) 34°00.53′ N. lat., 119°20.98′ W. long.;

(3) 34°00.17′ N. lat., 119°21.83′ W. long.;

(4) 33° 59.65′ N. lat., 119°24.45′ W. long.;

(5) 33°59.68′ N. lat., 119°25.20′ W. long.;

(6) 33°59.95′ N. lat., 119°26.25′ W. long.;

(7) 33°59.87′ N. lat., 119°27.27′ W. long.;

(8) 33°59.55′ N. lat., 119°28.02′ W. long.;

(9) 33°58.63′ N. lat., 119°36.48′ W. long.;

(10) 33°57.62′ N. lat., 119°41.13′ W. long.;

(11) 33°57.00′ N. lat., 119°42.20′ W. long.;

(12) 33°56.93′ N. lat., 119°48.00′ W. long.;

(13) 33°56.45′ N. lat., 119°49.12′ W. long.;

(14) 33°58.54′ N. lat., 119°52.80′ W. long.;

(15) 33°59.95′ N. lat., 119°54.49′ W. long.;

(16) 33°59.83′ N. lat., 119°56.00′ W. long.;

(17) 33°59.18′ N. lat., 119°57.17′ W. long.;

(18) 33°57.83′ N. lat., 119°56.74′ W. long.;

(19) 33°55.71′ N. lat., 119°56.89′ W. long.;

(20) 33°53.89′ N. lat., 119°57.68′ W. long.;

(21) 33°52.93′ N. lat., 119°59.80′ W. long.;

(22) 33°52.79′ N. lat., 120°01.81′ W. long.;

(23) 33°52.51′ N. lat., 120°03.08′ W. long.;

(24) 33°53.12′ N. lat., 120°04.88′ W. long.;

(25) 33°53.12′ N. lat., 120°05.80′ W. long.;

(26) 33°52.94′ N. lat., 120°06.50′ W. long.;

(27) 33°54.03′ N. lat., 120°10.00′ W. long.;

(28) 33°54.58′ N. lat., 120°11.82′ W. long.;

(29) 33°57.08′ N. lat., 120°14.58′ W. long.;

(30) 33°59.50′ N. lat., 120°16.72′ W. long.;

(31) 33°59.63′ N. lat., 120°17.88′ W. long.;

(32) 34°00.30′ N. lat., 120°19.14′ W. long.;

(33) 34°00.02′ N. lat., 120°19.68′ W. long.;

(34) 34°00.08′ N. lat., 120°21.73′ W. long.;

(35) 34°00.94′ N. lat., 120°24.82′ W. long.;

(36) 34°01.09′ N. lat., 120°27.29′ W. long.;

(37) 34°00.96′ N. lat., 120°28.09′ W. long.;

(38) 34°01.56′ N. lat., 120°28.71′ W. long.;

(39) 34°01.80′ N. lat., 120°28.31′ W. long.;

(40) 34°03.60′ N. lat., 120°28.87′ W. long.;

(41) 34°05.20′ N. lat., 120°29.38′ W. long.;

(42) 34°05.35′ N. lat., 120°28.20′ W. long.;

(43) 34°05.30′ N. lat., 120°27.33′ W. long.;

(44) 34°05.65′ N. lat., 120°26.79′ W. long.;

(45) 34°05.69′ N. lat., 120°25.82′ W. long.;

(46) 34°07.24′ N. lat., 120°24.98′ W. long.;

(47) 34°06.00′ N. lat., 120°23.30′ W. long.;

(48) 34°05.64′ N. lat., 120°21.44′ W. long.;

(49) 34°03.61′ N. lat., 120°18.40′ W. long.;

(50) 34°03.25′ N. lat., 120°16.64′ W. long.;

(51) 34°04.33′ N. lat., 120°14.22′ W. long.;

(52) 34°04.11′ N. lat., 120°11.17′ W. long.;

(53) 34°03.72′ N. lat., 120°09.93′ W. long.;

(54) 34°03.81′ N. lat., 120°08.96′ W. long.;

(55) 34°03.36′ N. lat., 120°06.52′ W. long.;

(56) 34°04.80′ N. lat., 120°04.00′ W. long.;

(57) 34°03.48′ N. lat., 120°01.75′ W. long.;

(58) 34°04.00′ N. lat., 120°01.00′ W. long.;

(59) 34°03.99′ N. lat., 120°00.15′ W. long.;

(60) 34°03.51′ N. lat., 119°59.42′ W. long.;

(61) 34°03.79′ N. lat., 119°58.15′ W. long.;

(62) 34°04.72′ N. lat., 119°57.61′ W. long.;

(63) 34°05.14′ N. lat., 119°55.17′ W. long.;

(64) 34°04.66′ N. lat., 119°51.60′ W. long.;

(65) 34°03.79′ N. lat., 119°48.86′ W. long.;

(66) 34°03.79′ N. lat., 119°45.46′ W. long.;

(67) 34°03.27′ N. lat., 119°44.17′ W. long.;

(68) 34°03.29′ N. lat., 119°43.30′ W. long.;

(69) 34°01.71′ N. lat., 119°40.83′ W. long.;

(70) 34°01.74′ N. lat., 119°37.92′ W. long.;

(71) 34°02.07′ N. lat., 119°37.17′ W. long.;

(72) 34°02.93′ N. lat., 119°36.52′ W. long.;

(73) 34°03.48′ N. lat., 119°35.50′ W. long.;

(74) 34°03.56′ N. lat., 119°32.80′ W. long.;

(75) 34°02.72′ N. lat., 119°31.84′ W. long.;

(76) 34°02.20′ N. lat., 119°30.53′ W. long.;

(77) 34°01.49′ N. lat., 119°30.20′ W. long.;

(78) 34°00.66′ N. lat., 119°28.62′ W. long.;

(79) 34°00.66′ N. lat., 119°27.57′ W. long.;

(80) 34°01.41′ N. lat., 119°26.91′ W. long.;

(81) 34°00.91′ N. lat., 119°24.28′ W. long.;

(82) 34°01.51′ N. lat., 119°22.06′ W. long.; and

(83) 34°01.41′ N. lat., 119°20.61′ W. long.

(f) The 30 fm (55 m) depth contour around San Clemente Island off the state of California is defined by straight lines connecting all of the following points in the order stated:

(1) 33°03.37′ N. lat., 118°37.76′ W. long.;

(2) 33°02.72′ N. lat., 118°38.12′ W. long.;

(3) 33°02.18′ N. lat., 118°37.46′ W. long.;

(4) 33°00.66′ N. lat., 118°37.36′ W. long.;

(5) 33°00.08′ N. lat., 118°36.94′ W. long.;

(6) 33°00.11′ N. lat., 118°36.00′ W. long.;

(7) 32°58.02′ N. lat., 118°35.41′ W. long.;

(8) 32°56.00′ N. lat., 118°33.59′ W. long.;

(9) 32°54.76′ N. lat., 118°33.58′ W. long.;

(10) 32°53.97′ N. lat., 118°32.45′ W. long.;

(11) 32°51.18′ N. lat., 118°30.83′ W. long.;

(12) 32°50.00′ N. lat., 118°29.68′ W. long.;

(13) 32°49.72′ N. lat., 118°28.33′ W. long.;

(14) 32°47.88′ N. lat., 118°26.90′ W. long.;

(15) 32°47.30′ N. lat., 118°25.73′ W. long.;

(16) 32°47.28′ N. lat., 118°24.83′ W. long.;

(17) 32°48.12′ N. lat., 118°24.33′ W. long.;

(18) 32°48.74′ N. lat., 118°23.39′ W. long.;

(19) 32°48.69′ N. lat., 118°21.75′ W. long.;

(20) 32°49.06′ N. lat., 118°20.53′ W. long.;

(21) 32°50.28′ N. lat., 118°21.90′ W. long.;

(22) 32°51.73′ N. lat., 118°23.86′ W. long.;

(23) 32°52.79′ N. lat., 118°25.08′ W. long.;

(24) 32°54.03′ N. lat., 118°26.83′ W. long.;

(25) 32°54.70′ N. lat., 118°27.55′ W. long.;

(26) 32°55.49′ N. lat., 118°29.04′ W. long.;

(27) 32°59.58′ N. lat., 118°32.51′ W. long.;

(28) 32°59.89′ N. lat., 118°32.52′ W. long.;

(29) 33°00.29′ N. lat., 118°32.73′ W. long.;

(30) 33°00.85′ N. lat., 118°33.50′ W. long.;

(31) 33°01.70′ N. lat., 118°33.64′ W. long.;

(32) 33°02.90′ N. lat., 118°35.35′ W. long.;

(33) 33°02.61′ N. lat., 118°36.96′ W. long.; and

(34) 33°03.37′ N. lat., 118°37.76′ W. long.

(g) The 30 fm (55 m) depth contour around Santa Catalina Island off the state of California is defined by straight lines connecting all of the following points in the order stated:

(1) 33°19.13′ N. lat., 118°18.04′ W. long.;

(2) 33°18.32′ N. lat., 118°18.20′ W. long.;

(3) 33°17.82′ N. lat., 118°18.73′ W. long.;

(4) 33°17.54′ N. lat., 118°19.52′ W. long.;

(5) 33°17.99′ N. lat., 118°21.71′ W. long.;

(6) 33°18.48′ N. lat., 118°22.82′ W. long.;

(7) 33°18.77′ N. lat., 118°26.95′ W. long.;

(8) 33°19.69′ N. lat., 118°28.87′ W. long.;

(9) 33°20.53′ N. lat., 118°30.52′ W. long.;

(10) 33°20.46′ N. lat., 118°31.47′ W. long.;

(11) 33°20.98′ N. lat., 118°31.39′ W. long.;

(12) 33°20.81′ N. lat., 118°30.49′ W. long.;

(13) 33°21.38′ N. lat., 118°30.07′ W. long.;

(14) 33°23.12′ N. lat., 118°29.31′ W. long.;

(15) 33°24.95′ N. lat., 118°29.70′ W. long.;

(16) 33°25.39′ N. lat., 118°30.50′ W. long.;

(17) 33°25.21′ N. lat., 118°30.79′ W. long.;

(18) 33°25.65′ N. lat., 118°31.60′ W. long.;

(19) 33°25.65′ N. lat., 118°32.04′ W. long.;

(20) 33°25.94′ N. lat., 118°32.96′ W. long.;

(21) 33°25.86′ N. lat., 118°33.49′ W. long.;

(22) 33°26.06′ N. lat., 118°34.12′ W. long.;

(23) 33°28.28′ N. lat., 118°36.60′ W. long.;

(24) 33°28.83′ N. lat., 118°36.42′ W. long.;

(25) 33°28.72′ N. lat., 118°34.93′ W. long.;

(26) 33°28.71′ N. lat., 118°33.61′ W. long.;

(27) 33°28.81′ N. lat., 118°32.95′ W. long.;

(28) 33°28.73′ N. lat., 118°32.07′ W. long.;

(29) 33°27.55′ N. lat., 118°30.14′ W. long.;

(30) 33°27.86′ N. lat., 118°29.41′ W. long.;

(31) 33°26.98′ N. lat., 118°29.06′ W. long.;

(32) 33°26.96′ N. lat., 118°28.58′ W. long.;

(33) 33°26.76′ N. lat., 118°28.40′ W. long.;

(34) 33°26.52′ N. lat., 118°27.66′ W. long.;

(35) 33°26.31′ N. lat., 118°27.41′ W. long.;

(36) 33°25.09′ N. lat., 118°23.13′ W. long.;

(37) 33°24.80′ N. lat., 118°22.86′ W. long.;

(38) 33°24.60′ N. lat., 118°22.02′ W. long.;

(39) 33°22.82′ N. lat., 118°21.04′ W. long.;

(40) 33°20.23′ N. lat., 118°18.45′ W. long.; and

(41) 33°19.13′ N. lat., 118°18.04′ W. long.

(h) The 40 fm (73 m) depth contour between 46°16′ N. lat. and the U.S. border with Mexico is defined by straight lines connecting all of the following points in the order stated:

(1) 46°16.00′ N. lat., 124°16.10′ W. long.;

(2) 46°15.29′ N. lat., 124°15.60′ W. long.;

(3) 46°11.90′ N. lat., 124°13.59′ W. long.;

(4) 46°06.93′ N. lat., 124°10.15′ W. long.;

(5) 46°05.33′ N. lat., 124°08.30′ W. long.;

(6) 45°58.69′ N. lat., 124°05.60′ W. long.;

(7) 45°57.71′ N. lat., 124°05.82′ W. long.;

(8) 45°53.97′ N. lat., 124°05.04′ W. long.;

(9) 45°49.75′ N. lat., 124°05.14′ W. long.;

(10) 45°47.88′ N. lat., 124°05.16′ W. long.;

(11) 45°47.07′ N. lat., 124°04.21′ W. long.;

(12) 45°46.00′ N. lat., 124°04.49′ W. long.;

(13) 45°44.34′ N. lat., 124°05.09′ W. long.;

(14) 45°40.64′ N. lat., 124°04.90′ W. long.;

(15) 45°33.00′ N. lat., 124°04.46′ W. long.;

(16) 45°32.27′ N. lat., 124°04.74′ W. long.;

(17) 45°29.26′ N. lat., 124°04.22′ W. long.;

(18) 45°20.25′ N. lat., 124°04.67′ W. long.;

(19) 45°19.99′ N. lat., 124°04.62′ W. long.;

(20) 45°17.50′ N. lat., 124°04.91′ W. long.;

(21) 45°11.29′ N. lat., 124°05.19′ W. long.;

(22) 45°05.79′ N. lat., 124°05.40′ W. long.;

(23) 45°05.07′ N. lat., 124°05.93′ W. long.;

(24) 45°03.83′ N. lat., 124°06.47′ W. long.;

(25) 45°01.70′ N. lat., 124°06.53′ W. long.;

(26) 44°58.75′ N. lat., 124°07.14′ W. long.;

(27) 44°51.28′ N. lat., 124°10.21′ W. long.;

(28) 44°49.49′ N. lat., 124°10.89′ W. long.;

(29) 44°44.96′ N. lat., 124°14.39′ W. long.;

(30) 44°43.44′ N. lat., 124°14.78′ W. long.;

(31) 44°42.27′ N. lat., 124°13.81′ W. long.;

(32) 44°41.68′ N. lat., 124°15.38′ W. long.;

(33) 44°34.87′ N. lat., 124°15.80′ W. long.;

(34) 44°33.74′ N. lat., 124°14.43′ W. long.;

(35) 44°27.66′ N. lat., 124°16.99′ W. long.;

(36) 44°19.13′ N. lat., 124°19.22′ W. long.;

(37) 44°15.35′ N. lat., 124°17.37′ W. long.;

(38) 44°14.38′ N. lat., 124°17.78′ W. long.;

(39) 44°12.80′ N. lat., 124°17.18′ W. long.;

(40) 44°09.23′ N. lat., 124°15.96′ W. long.;

(41) 44°08.38′ N. lat., 124°16.80′ W. long.;

(42) 44°08.30′ N. lat., 124°16.75′ W. long.;

(43) 44°01.18′ N. lat., 124°15.42′ W. long.;

(44) 43°51.60′ N. lat., 124°14.68′ W. long.;

(45) 43°42.66′ N. lat., 124°15.46′ W. long.;

(46) 43°40.49′ N. lat., 124°15.74′ W. long.;

(47) 43°38.77′ N. lat., 124°15.64′ W. long.;

(48) 43°34.52′ N. lat., 124°16.73′ W. long.;

(49) 43°28.82′ N. lat., 124°19.52′ W. long.;

(50) 43°23.91′ N. lat., 124°24.28′ W. long.;

(51) 43°20.83′ N. lat., 124°26.63′ W. long.;

(52) 43°17.96′ N. lat., 124°28.81′ W. long.;

(53) 43°16.75′ N. lat., 124°28.42′ W. long.;

(54) 43°13.98′ N. lat., 124°31.99′ W. long.;

(55) 43°13.71′ N. lat., 124°33.25′ W. long.;

(56) 43°12.26′ N. lat., 124°34.16′ W. long.;

(57) 43°10.96′ N. lat., 124°32.34′ W. long.;

(58) 43°05.65′ N. lat., 124°31.52′ W. long.;

(59) 42°59.66′ N. lat., 124°32.58′ W. long.;

(60) 42°54.97′ N. lat., 124°36.99′ W. long.;

(61) 42°53.81′ N. lat., 124°38.58′ W. long.;

(62) 42°50.00′ N. lat., 124°39.68′ W. long.;

(63) 42°49.14′ N. lat., 124°39.92′ W. long.;

(64) 42°46.47′ N. lat., 124°38.65′ W. long.;

(65) 42°45.60′ N. lat., 124°39.04′ W. long.;

(66) 42°44.79′ N. lat., 124°37.96′ W. long.;

(67) 42°45.00′ N. lat., 124°36.39′ W. long.;

(68) 42°44.14′ N. lat., 124°35.16′ W. long.;

(69) 42°42.15′ N. lat., 124°32.82′ W. long.;

(70) 42°40.50′ N. lat., 124°31.98′ W. long.;

(71) 42°38.82′ N. lat., 124°31.09′ W. long.;

(72) 42°35.91′ N. lat., 124°31.02′ W. long.;

(73) 42°31.34′ N. lat., 124°34.84′ W. long.;

(74) 42°28.13′ N. lat., 124°34.83′ W. long.;

(75) 42°26.73′ N. lat., 124°35.58′ W. long.;

(76) 42°23.85′ N. lat., 124°34.05′ W. long.;

(77) 42°21.68′ N. lat., 124°30.64′ W. long.;

(78) 42°19.62′ N. lat., 124°29.02′ W. long.;

(79) 42°15.01′ N. lat., 124°27.72′ W. long.;

(80) 42°13.67′ N. lat., 124°26.93′ W. long.;

(81) 42°11.38′ N. lat., 124°25.62′ W. long.;

(82) 42°04.66′ N. lat., 124°24.39′ W. long.;

(83) 42°00.00′ N. lat., 124°23.55′ W. long.;

(84) 41°51.35′ N. lat., 124°25.25′ W. long.;

(85) 41°44.10′ N. lat., 124°19.05′ W. long.;

(86) 41°38.00′ N. lat., 124°20.04′ W. long.;

(87) 41°18.43′ N. lat., 124°13.48′ W. long.;

(88) 40°55.12′ N. lat., 124°16.33′ W. long.;

(89) 40°41.00′ N. lat., 124°27.66′ W. long.;

(90) 40°36.71′ N. lat., 124°27.15′ W. long.;

(91) 40°32.81′ N. lat., 124°29.42′ W. long.;

(92) 40°30.00′ N. lat., 124°32.38′ W. long.;

(93) 40°29.13′ N. lat., 124°33.23′ W. long.;

(94) 40°24.55′ N. lat., 124°30.40′ W. long.;

(95) 40°22.32′ N. lat., 124°24.19′ W. long.;

(96) 40°19.67′ N. lat., 124°25.52′ W. long.;

(97) 40°18.63′ N. lat., 124°22.38′ W. long.;

(98) 40°15.21′ N. lat., 124°24.53′ W. long.;

(99) 40°12.56′ N. lat., 124°22.69′ W. long.;

(100) 40°10.00′ N. lat., 124°17.84′ W. long.;

(101) 40°09.30′ N. lat., 124°15.68′ W. long.;

(102) 40°08.31′ N. lat., 124°15.17′ W. long.;

(103) 40°05.62′ N. lat., 124°09.80′ W. long.;

(104) 40°06.57′ N. lat., 124°07.99′ W. long.;

(105) 40°00.86′ N. lat., 124°08.42′ W. long.;

(106) 39°54.79′ N. lat., 124°05.25′ W. long.;

(107) 39°52.75′ N. lat., 124°02.62′ W. long.;

(108) 39°52.51′ N. lat., 123°58.15′ W. long.;

(109) 39°49.64′ N. lat., 123°54.98′ W. long.;

(110) 39°41.46′ N. lat., 123°50.65′ W. long.;

(111) 39°34.57′ N. lat., 123°49.24′ W. long.;

(112) 39°22.62′ N. lat., 123°51.21′ W. long.;

(113) 39°04.58′ N. lat., 123°45.43′ W. long.;

(114) 39°00.45′ N. lat., 123°47.58′ W. long.;

(115) 38°57.50′ N. lat., 123°47.27′ W. long.;

(116) 38°55.82′ N. lat., 123°46.97′ W. long.;

(117) 38°52.26′ N. lat., 123°44.35′ W. long.;

(118) 38°45.41′ N. lat., 123°35.67′ W. long.;

(119) 38°40.60′ N. lat., 123°28.22′ W. long.;

(120) 38°21.64′ N. lat., 123°08.91′ W. long.;

(121) 38°12.01′ N. lat., 123°03.86′ W. long.;

(122) 38°06.16′ N. lat., 123°07.01′ W. long.;

(123) 38°00.00′ N. lat., 123°07.05′ W. long.;

(124) 37°51.73′ N. lat., 122°57.97′ W. long.;

(125) 37°47.96′ N. lat., 122°59.34′ W. long.;

(126) 37°47.37′ N. lat., 123°08.84′ W. long.;

(127) 37°50.00′ N. lat., 123°14.38′ W. long.;

(128) 37°39.91′ N. lat., 123°00.84′ W. long.;

(129) 37°38.75′ N. lat., 122°52.16′ W. long.;

(130) 37°35.67′ N. lat., 122°49.47′ W. long.;

(131) 37°20.24′ N. lat., 122°33.82′ W. long.;

(132) 37°11.00′ N. lat., 122°28.50′ W. long.;

(133) 37°07.00′ N. lat., 122°26.26′ W. long.;

(134) 36°52.04′ N. lat., 122°04.60′ W. long.;

(135) 36°52.00′ N. lat., 121°57.41′ W. long.;

(136) 36°47.87′ N. lat., 121°50.15′ W. long.;

(137) 36°48.07′ N. lat., 121°48.21′ W. long.;

(138) 36°45.93′ N. lat., 121°52.11′ W. long.;

(139) 36°40.55′ N. lat., 121°52.59′ W. long.;

(140) 36°38.93′ N. lat., 121°58.17′ W. long.;

(141) 36°36.54′ N. lat., 122°00.18′ W. long.;

(142) 36°32.87′ N. lat., 121°58.81′ W. long.;

(143) 36°31.90′ N. lat., 121°56.00′ W. long.;

(144) 36°31.51′ N. lat., 121°58.17′ W. long.;

(145) 36°23.28′ N. lat., 121°56.10′ W. long.;

(146) 36°17.52′ N. lat., 121°57.33′ W. long.;

(147) 36°15.90′ N. lat., 121°57.00′ W. long.;

(148) 36°11.06′ N. lat., 121°43.10′ W. long.;

(149) 36°02.85′ N. lat., 121°36.21′ W. long.;

(150) 36°01.22′ N. lat., 121°36.36′ W. long.;

(151) 36°00.00′ N. lat., 121°34.73′ W. long.;

(152) 35°58.67′ N. lat., 121°30.68′ W. long.;

(153) 35°54.16′ N. lat., 121°30.21′ W. long.;

(154) 35°46.98′ N. lat., 121°24.02′ W. long.;

(155) 35°40.75′ N. lat., 121°21.89′ W. long.;

(156) 35°34.36′ N. lat., 121°11.07′ W. long.;

(157) 35°29.30′ N. lat., 121°05.74′ W. long.;

(158) 35°22.15′ N. lat., 120°56.15′ W. long.;

(159) 35°14.93′ N. lat., 120°56.37′ W. long.;

(160) 35°04.06′ N. lat., 120°46.35′ W. long.;

(161) 34°45.85′ N. lat., 120°43.96′ W. long.;

(162) 34°37.80′ N. lat., 120°44.44′ W. long.;

(163) 34°32.82′ N. lat., 120°42.08′ W. long.;

(164) 34°27.00′ N. lat., 120°31.27′ W. long.;

(165) 34°24.25′ N. lat., 120°23.33′ W. long.;

(166) 34°26.48′ N. lat., 120°13.93′ W. long.;

(167) 34°25.12′ N. lat., 120°03.46′ W. long.;

(168) 34°17.58′ N. lat., 119°31.62′ W. long.;

(169) 34°11.49′ N. lat., 119°27.30′ W. long.;

(170) 34°05.59′ N. lat., 119°15.52′ W. long.;

(171) 34°08.60′ N. lat., 119°12.93′ W. long.;

(172) 34°04.81′ N. lat., 119°13.44′ W. long.;

(173) 34°04.26′ N. lat., 119°12.39′ W. long.;

(174) 34°03.89′ N. lat., 119°07.06′ W. long.;

(175) 34°05.14′ N. lat., 119°05.55′ W. long.;

(176) 34°01.27′ N. lat., 118°59.62′ W. long.;

(177) 33°59.56′ N. lat., 118°48.21′ W. long.;

(178) 33°59.30′ N. lat., 118°35.43′ W. long.;

(179) 33°55.14′ N. lat., 118°32.16′ W. long.;

(180) 33°52.95′ N. lat., 118°34.49′ W. long.;

(181) 33°51.07′ N. lat., 118°31.50′ W. long.;

(182) 33°52.45′ N. lat., 118°28.54′ W. long.;

(183) 33°49.86′ N. lat., 118°24.10′ W. long.;

(184) 33°47.14′ N. lat., 118°28.38′ W. long.;

(185) 33°44.14′ N. lat., 118°25.18′ W. long.;

(186) 33°41.54′ N. lat., 118°19.63′ W. long.;

(187) 33°37.86′ N. lat., 118°15.06′ W. long.;

(188) 33°36.58′ N. lat., 118°15.97′ W. long.;

(189) 33°34.78′ N. lat., 118°12.60′ W. long.;

(190) 33°34.46′ N. lat., 118°08.77′ W. long.;

(191) 33°35.92′ N. lat., 118°07.04′ W. long.;

(192) 33°36.06′ N. lat., 118°03.96′ W. long.;

(193) 33°34.98′ N. lat., 118°02.74′ W. long.;

(194) 33°34.03′ N. lat., 117°59.37′ W. long.;

(195) 33°35.46′ N. lat., 117°55.61′ W. long.;

(196) 33°34.97′ N. lat., 117°53.33′ W. long.;

(197) 33°31.20′ N. lat., 117°47.40′ W. long.;

(198) 33°27.26′ N. lat., 117°44.34′ W. long.;

(199) 33°24.84′ N. lat., 117°40.75′ W. long.;

(200) 33°11.45′ N. lat., 117°26.84′ W. long.;

(201) 33°07.59′ N. lat., 117°21.46′ W. long.;

(202) 33°01.74′ N. lat., 117°19.23′ W. long.;

(203) 32°56.44′ N. lat., 117°18.08′ W. long.;

(204) 32°54.63′ N. lat., 117°16.94′ W. long.;

(205) 32°51.67′ N. lat., 117°16.21′ W. long.;

(206) 32°52.16′ N. lat., 117°19.41′ W. long.;

(207) 32°46.91′ N. lat., 117°20.43′ W. long.;

(208) 32°43.49′ N. lat., 117°18.12′ W. long.; and

(209) 32°33.00′ N. lat., 117°16.39′ W. long.

(i) The 40 fm (73 m) depth contour around the northern Channel Islands off the state of California is defined by straight lines connecting all of the following points in the order stated:

(1) 34°07.88′ N. lat., 120°27.79′ W. long.;

(2) 34°07.45′ N. lat., 120°28.26′ W. long.;

(3) 34°07.03′ N. lat., 120°27.29′ W. long.;

(4) 34°06.19′ N. lat., 120°28.81′ W. long.;

(5) 34°06.44′ N. lat., 120°31.17′ W. long.;

(6) 34°05.81′ N. lat., 120°31.97′ W. long.;

(7) 34°03.51′ N. lat., 120°29.61′ W. long.;

(8) 34°01.56′ N. lat., 120°28.83′ W. long.;

(9) 34°00.81′ N. lat., 120°27.94′ W. long.;

(10) 33°59.26′ N. lat., 120°17.95′ W. long.;

(11) 33°54.71′ N. lat., 120°12.72′ W. long.;

(12) 33°51.61′ N. lat., 120°02.49′ W. long.;

(13) 33°51.68′ N. lat., 119°59.41′ W. long.;

(14) 33°52.71′ N. lat., 119°57.25′ W. long.;

(15) 33°55.83′ N. lat., 119°55.92′ W. long.;

(16) 33°59.64′ N. lat., 119°56.03′ W. long.;

(17) 33°56.30′ N. lat., 119°48.63′ W. long.;

(18) 33°56.77′ N. lat., 119°41.87′ W. long.;

(19) 33°58.54′ N. lat., 119°34.98′ W. long.;

(20) 33°59.52′ N. lat., 119°24.69′ W. long.;

(21) 34°00.24′ N. lat., 119°21.00′ W. long.;

(22) 34°02.00′ N. lat., 119°19.57′ W. long.;

(23) 34°01.29′ N. lat., 119°23.92′ W. long.;

(24) 34°01.95′ N. lat., 119°28.94′ W. long.;

(25) 34°03.90′ N. lat., 119°33.43′ W. long.;

(26) 34°03.31′ N. lat., 119°36.51′ W. long.;

(27) 34°02.13′ N. lat., 119°37.99′ W. long.;

(28) 34°01.96′ N. lat., 119°40.35′ W. long.;

(29) 34°03.52′ N. lat., 119°43.22′ W. long.;

(30) 34°04.03′ N. lat., 119°45.66′ W. long.;

(31) 34°04.03′ N. lat., 119°48.13′ W. long.;

(32) 34°05.15′ N. lat., 119°52.97′ W. long.;

(33) 34°05.47′ N. lat., 119°57.55′ W. long.;

(34) 34°04.43′ N. lat., 120°02.29′ W. long.;

(35) 34°05.64′ N. lat., 120°04.05′ W. long.;

(36) 34°04.16′ N. lat., 120°07.60′ W. long.;

(37) 34°05.04′ N. lat., 120°12.78′ W. long.;

(38) 34°04.45′ N. lat., 120°17.78′ W. long.;

(39) 34°07.37′ N. lat., 120°24.14′ W. long.; and

(40) 34°07.88′ N. lat., 120°27.79′ W. long.

(j) The 40 fm (73 m) depth contour around San Clemente Island off the state of California is defined by straight lines connecting all of the following points in the order stated:

(1) 33°02.94′ N. lat., 118°38.42′ W. long.;

(2) 33°01.79′ N. lat., 118°37.67′ W. long.;

(3) 33°00.47′ N. lat., 118°37.65′ W. long.;

(4) 32°59.64′ N. lat., 118°37.04′ W. long.;

(5) 32°59.81′ N. lat., 118°36.37′ W. long.;

(6) 32°57.84′ N. lat., 118°35.67′ W. long.;

(7) 32°55.89′ N. lat., 118°33.88′ W. long.;

(8) 32°54.75′ N. lat., 118°33.57′ W. long.;

(9) 32°53.75′ N. lat., 118°32.47′ W. long.;

(10) 32°50.36′ N. lat., 118°30.50′ W. long.;

(11) 32°49.78′ N. lat., 118°29.65′ W. long.;

(12) 32°49.70′ N. lat., 118°28.96′ W. long.;

(13) 32°46.79′ N. lat., 118°25.60′ W. long.;

(14) 32°45.24′ N. lat., 118°24.55′ W. long.;

(15) 32°45.94′ N. lat., 118°24.12′ W. long.;

(16) 32°46.85′ N. lat., 118°24.79′ W. long.;

(17) 32°48.49′ N. lat., 118°23.25′ W. long.;

(18) 32°48.80′ N. lat., 118°20.52′ W. long.;

(19) 32°49.76′ N. lat., 118°20.98′ W. long.;

(20) 32°55.04′ N. lat., 118°27.97′ W. long.;

(21) 32°55.48′ N. lat., 118°29.01′ W. long.;

(22) 33°00.35′ N. lat., 118°32.61′ W. long.;

(23) 33°01.79′ N. lat., 118°33.66′ W. long.;

(24) 33°02.98′ N. lat., 118°35.40′ W. long.; and

(25) 33°02.94′ N. lat., 118°38.42′ W. long.

(k) The 40 fm (73 m) depth contour around Santa Catalina Island off the state of California is defined by straight lines connecting all of the following points in the order stated:

(1) 33°28.90′ N. lat., 118°36.43′ W. long.;

(2) 33°28.49′ N. lat., 118°36.70′ W. long.;

(3) 33°28.02′ N. lat., 118°36.70′ W. long.;

(4) 33°25.81′ N. lat., 118°33.95′ W. long.;

(5) 33°25.78′ N. lat., 118°32.94′ W. long.;

(6) 33°24.77′ N. lat., 118°29.99′ W. long.;

(7) 33°23.19′ N. lat., 118°29.61′ W. long.;

(8) 33°20.81′ N. lat., 118°30.52′ W. long.;

(9) 33°21.06′ N. lat., 118°31.52′ W. long.;

(10) 33°20.43′ N. lat., 118°31.62′ W. long.;

(11) 33°20.45′ N. lat., 118°30.46′ W. long.;

(12) 33°18.71′ N. lat., 118°27.64′ W. long.;

(13) 33°17.36′ N. lat., 118°18.75′ W. long.;

(14) 33°19.17′ N. lat., 118°17.56′ W. long.;

(15) 33°22.20′ N. lat., 118°20.11′ W. long.;

(16) 33°23.31′ N. lat., 118°20.45′ W. long.;

(17) 33°24.71′ N. lat., 118°22.13′ W. long.;

(18) 33°25.27′ N. lat., 118°23.30′ W. long.;

(19) 33°26.73′ N. lat., 118°28.00′ W. long.;

(20) 33°27.85′ N. lat., 118°29.33′ W. long.;

(21) 33°27.91′ N. lat., 118°29.93′ W. long.;

(22) 33°28.79′ N. lat., 118°32.16′ W. long.; and

(23) 33°28.90′ N. lat., 118°36.40′ W. long.

21. Section 660.392 is added to read as follows:

§ 660.392 Latitude/longitude coordinates defining the 50 fm (91 m) through 75 fm (137 m) depth contours.

Boundaries for RCAs are defined by straight lines connecting a series of latitude/longitude coordinates. This section provides coordinates for the 50 fm (91 m) through 75 fm (137 m) depth contours.

(a) The 50 fm (91 m) depth contour between the U.S. border with Canada and the U.S. border with Mexico is defined by straight lines connecting all of the following points in the order stated:

(1) 48°22.15′ N. lat., 124°43.15′ W. long.;

(2) 48°22.15′ N. lat., 124°49.10′ W. long.;

(3) 48°20.03′ N. lat., 124°51.18′ W. long.;

(4) 48°16.61′ N. lat., 124°53.72′ W. long.;

(5) 48°14.68′ N. lat., 124°54.50′ W. long.;

(6) 48°12.02′ N. lat., 124°55.29′ W. long.;

(7) 48°03.14′ N. lat., 124°57.02′ W. long.;

(8) 47°56.05′ N. lat., 124°55.60′ W. long.;

(9) 47°52.58′ N. lat., 124°54.00′ W. long.;

(10) 47°50.18′ N. lat., 124°52.36′ W. long.;

(11) 47°45.34′ N. lat., 124°51.07′ W. long.;

(12) 47°40.96′ N. lat., 124°48.84′ W. long.;

(13) 47°34.59′ N. lat., 124°46.24′ W. long.;

(14) 47°27.86′ N. lat., 124°42.12′ W. long.;

(15) 47°22.34′ N. lat., 124°39.43′ W. long.;

(16) 47°17.66′ N. lat., 124°38.75′ W. long.;

(17) 47°06.25′ N. lat., 124°39.74′ W. long.;

(18) 47°00.43′ N. lat., 124°38.01′ W. long.;

(19) 46°52.00′ N. lat., 124°32.44′ W. long.;

(20) 46°35.41′ N. lat., 124°25.51′ W. long.;

(21) 46°25.43′ N. lat., 124°23.46′ W. long.;

(22) 46°16.00′ N. lat., 124°17.32′ W. long.;

(23) 45°50.88′ N. lat., 124°09.68′ W. long.;

(24) 45°46.00′ N. lat., 124°09.39′ W. long.;

(25) 45°20.25′ N. lat., 124°07.34′ W. long.;

(26) 45°12.99′ N. lat., 124°06.71′ W. long.;

(27) 45°03.83′ N. lat., 124°09.17′ W. long.;

(28) 44°52.48′ N. lat., 124°11.22′ W. long.;

(29) 44°42.41′ N. lat., 124°19.70′ W. long.;

(30) 44°38.80′ N. lat., 124°26.58′ W. long.;

(31) 44°24.99′ N. lat., 124°31.22′ W. long.;

(32) 44°18.11′ N. lat., 124°43.74′ W. long.;

(33) 44°15.23′ N. lat., 124°40.47′ W. long.;

(34) 44°18.80′ N. lat., 124°35.48′ W. long.;

(35) 44°19.62′ N. lat., 124°27.18′ W. long.;

(36) 44°08.30′ N. lat., 124°22.17′ W. long.;

(37) 43°56.65′ N. lat., 124°16.86′ W. long.;

(38) 43°34.95′ N. lat., 124°17.47′ W. long.;

(39) 43°20.83′ N. lat., 124°29.11′ W. long.;

(40) 43°12.60′ N. lat., 124°35.80′ W. long.;

(41) 43°08.96′ N. lat., 124°33.77′ W. long.;

(42) 42°59.66′ N. lat., 124°34.79′ W. long.;

(43) 42°54.29′ N. lat., 124°39.46′ W. long.;

(44) 42°50.00′ N. lat., 124°39.84′ W. long.;

(45) 42°46.50′ N. lat., 124°39.99′ W. long.;

(46) 42°41.00′ N. lat., 124°34.92′ W. long.;

(47) 42°40.50′ N. lat., 124°34.98′ W. long.;

(48) 42°36.29′ N. lat., 124°34.70′ W. long.;

(49) 42°28.36′ N. lat., 124°37.90′ W. long.;

(50) 42°25.53′ N. lat., 124°37.68′ W. long.;

(51) 42°18.64′ N. lat., 124°29.47′ W. long.;

(52) 42°12.95′ N. lat., 124°27.34′ W. long.;

(53) 42°13.67′ N. lat., 124°27.67′ W. long.;

(54) 42°03.04′ N. lat., 124°25.81′ W. long.;

(55) 42°00.00′ N. lat., 124°26.21′ W. long.;

(56) 41°57.60′ N. lat., 124°27.35′ W. long.;

(57) 41°52.53′ N. lat., 124°26.51′ W. long.;

(58) 41°50.17′ N. lat., 124°25.63′ W. long.;

(59) 41°46.01′ N. lat., 124°22.16′ W. long.;

(60) 41°26.50′ N. lat., 124°21.78′ W. long.;

(61) 41°15.66′ N. lat., 124°16.42′ W. long.;

(62) 41°05.45′ N. lat., 124°16.89′ W. long.;

(63) 40°54.55′ N. lat., 124°19.53′ W. long.;

(64) 40°42.22′ N. lat., 124°28.29′ W. long.;

(65) 40°39.68′ N. lat., 124°28.37′ W. long.;

(66) 40°36.76′ N. lat., 124°27.39′ W. long.;

(67) 40°34.44′ N. lat., 124°28.89′ W. long.;

(68) 40°32.57′ N. lat., 124°32.43′ W. long.;

(69) 40°30.95′ N. lat., 124°33.87′ W. long.;

(70) 40°30.00′ N. lat., 124°34.18′ W. long.;

(71) 40°28.90′ N. lat., 124°34.59′ W. long.;

(72) 40°24.36′ N. lat., 124°31.42′ W. long.;

(73) 40°23.66′ N. lat., 124°28.35′ W. long.;

(74) 40°22.54′ N. lat., 124°24.71′ W. long.;

(75) 40°21.52′ N. lat., 124°24.86′ W. long.;

(76) 40°21.25′ N. lat., 124°25.59′ W. long.;

(77) 40°20.63′ N. lat., 124°26.47′ W. long.;

(78) 40°19.18′ N. lat., 124°25.98′ W. long.;

(79) 40°18.42′ N. lat., 124°24.77′ W. long.;

(80) 40°18.64′ N. lat., 124°22.81′ W. long.;

(81) 40°15.31′ N. lat., 124°25.28′ W. long.;

(82) 40°15.37′ N. lat., 124°26.82′ W. long.;

(83) 40°11.91′ N. lat., 124°22.68′ W. long.;

(84) 40°10.01′ N. lat., 124°19.97′ W. long.;

(85) 40°10.00′ N. lat., 124°19.97′ W. long.;

(86) 40°09.20′ N. lat., 124°15.81′ W. long.;

(87) 40°07.51′ N. lat., 124°15.29′ W. long.;

(88) 40°05.22′ N. lat., 124°10.06′ W. long.;

(89) 40°06.51′ N. lat., 124°08.01′ W. long.;

(90) 40°00.72′ N. lat., 124°08.45′ W. long.;

(91) 39°56.60′ N. lat., 124°07.12′ W. long.;

(92) 39°52.58′ N. lat., 124°03.57′ W. long.;

(93) 39°50.65′ N. lat., 123°57.98′ W. long.;

(94) 39°40.16′ N. lat., 123°52.41′ W. long.;

(95) 39°30.12′ N. lat., 123°52.92′ W. long.;

(96) 39°24.53′ N. lat., 123°55.16′ W. long.;

(97) 39°11.58′ N. lat., 123°50.93′ W. long.;

(98) 38°57.50′ N. lat., 123°51.10′ W. long.;

(99) 38°55.13′ N. lat., 123°51.14′ W. long.;

(100) 38°28.58′ N. lat., 123°22.84′ W. long.;

(101) 38°14.60′ N. lat., 123°09.92′ W. long.;

(102) 38°01.84′ N. lat., 123°09.75′ W. long.;

(103) 38°00.00′ N. lat., 123°09.25′ W. long.;

(104) 37°55.24′ N. lat., 123°08.30′ W. long.;

(105) 37°52.06′ N. lat., 123°09.19′ W. long.;

(106) 37°50.21′ N. lat., 123°14.90′ W. long.;

(107) 37°35.67′ N. lat., 122°55.43′ W. long.;

(108) 37°11.00′ N. lat., 122°31.67′ W. long.;

(109) 37°07.00′ N. lat., 122°28.00′ W. long.;

(110) 37°03.06′ N. lat., 122°24.22′ W. long.;

(111) 36°50.20′ N. lat., 122°03.58′ W. long.;

(112) 36°51.46′ N. lat., 121°57.54′ W. long.;

(113) 36°44.14′ N. lat., 121°58.10′ W. long.;

(114) 36°36.76′ N. lat., 122°01.16′ W. long.;

(115) 36°15.62′ N. lat., 121°57.13′ W. long.;

(116) 36°10.41′ N. lat., 121°42.92′ W. long.;

(117) 36°02.56′ N. lat., 121°36.37′ W. long.;

(118) 36°00.00′ N. lat., 121°35.15′ W. long.;

(119) 35°58.26′ N. lat., 121°32.88′ W. long.;

(120) 35°40.38′ N. lat., 121°22.59′ W. long.;

(121) 35°24.35′ N. lat., 121°02.53′ W. long.;

(122) 35°02.66′ N. lat., 120°51.63′ W. long.;

(123) 34°39.52′ N. lat., 120°48.72′ W. long.;

(124) 34°31.26′ N. lat., 120°44.12′ W. long.;

(125) 34°27.00′ N. lat., 120°33.31′ W. long.;

(126) 34°23.47′ N. lat., 120°24.76′ W. long.;

(127) 34°25.83′ N. lat., 120°17.26′ W. long.;

(128) 34°24.65′ N. lat., 120°04.83′ W. long.;

(129) 34°23.18′ N. lat., 119°56.18′ W. long.;

(130) 34°19.20′ N. lat., 119°41.64′ W. long.;

(131) 34°16.82′ N. lat., 119°35.32′ W. long.;

(132) 34°13.43′ N. lat., 119°32.29′ W. long.;

(133) 34°05.39′ N. lat., 119°15.13′ W. long.;

(134) 34°08.22′ N. lat., 119°13.64′ W. long.;

(135) 34°07.64′ N. lat., 119°13.10′ W. long.;

(136) 34°04.56′ N. lat., 119°13.73′ W. long.;

(137) 34°03.90′ N. lat., 119°12.66′ W. long.;

(138) 34°03.66′ N. lat., 119°06.82′ W. long.;

(139) 34°04.58′ N. lat., 119°04.91′ W. long.;

(140) 34°01.35′ N. lat., 119°00.30′ W. long.;

(141) 34°00.24′ N. lat., 119°03.18′ W. long.;

(142) 33°59.63′ N. lat., 119°03.20′ W. long.;

(143) 33°59.54′ N. lat., 119°00.88′ W. long.;

(144) 34°00.82′ N. lat., 118°59.03′ W. long.;

(145) 33°59.11′ N. lat., 118°47.52′ W. long.;

(146) 33°59.07′ N. lat., 118°36.33′ W. long.;

(147) 33°55.06′ N. lat., 118°32.86′ W. long.;

(148) 33°53.56′ N. lat., 118°37.75′ W. long.;

(149) 33°51.22′ N. lat., 118°36.14′ W. long.;

(150) 33°50.48′ N. lat., 118°32.16′ W. long.;

(151) 33°51.86′ N. lat., 118°28.71′ W. long.;

(152) 33°50.09′ N. lat., 118°27.88′ W. long.;

(153) 33°49.95′ N. lat., 118°26.38′ W. long.;

(154) 33°50.73′ N. lat., 118°26.17′ W. long.;

(155) 33°49.86′ N. lat., 118°24.25′ W. long.;

(156) 33°48.10′ N. lat., 118°26.87′ W. long.;

(157) 33°47.54′ N. lat., 118°29.66′ W. long.;

(158) 33°44.10′ N. lat., 118°25.25′ W. long.;

(159) 33°41.78′ N. lat., 118°20.28′ W. long.;

(160) 33°38.18′ N. lat., 118°15.69′ W. long.;

(161) 33°37.50′ N. lat., 118°16.71′ W. long.;

(162) 33°35.98′ N. lat., 118°16.54′ W. long.;

(163) 33°34.15′ N. lat., 118°11.22′ W. long.;

(164) 33°34.29′ N. lat., 118°08.35′ W. long.;

(165) 33°35.85′ N. lat., 118°07.00′ W. long.;

(166) 33°36.12′ N. lat., 118°04.15′ W. long.;

(167) 33°34.97′ N. lat., 118°02.91′ W. long.;

(168) 33°34.00′ N. lat., 117°59.53′ W. long.;

(169) 33°35.44′ N. lat., 117°55.67′ W. long.;

(170) 33°35.15′ N. lat., 117°53.55′ W. long.;

(171) 33°31.12′ N. lat., 117°47.40′ W. long.;

(172) 33°27.99′ N. lat., 117°45.19′ W. long.;

(173) 33°26.88′ N. lat., 117°43.87′ W. long.;

(174) 33°25.44′ N. lat., 117°41.63′ W. long.;

(175) 33°19.50′ N. lat., 117°36.08′ W. long.;

(176) 33°12.74′ N. lat., 117°28.53′ W. long.;

(177) 33°10.29′ N. lat., 117°25.68′ W. long.;

(178) 33°07.36′ N. lat., 117°21.23′ W. long.;

(179) 32°59.39′ N. lat., 117°18.56′ W. long.;

(180) 32°56.10′ N. lat., 117°18.37′ W. long.;

(181) 32°54.43′ N. lat., 117°16.93′ W. long.;

(182) 32°51.89′ N. lat., 117°16.42′ W. long.;

(183) 32°52.24′ N. lat., 117°19.36′ W. long.;

(184) 32°47.06′ N. lat., 117°21.92′ W. long.;

(185) 32°45.09′ N. lat., 117°20.68′ W. long.;

(186) 32°43.62′ N. lat., 117°18.68′ W. long.; and

(187) 32°33.43′ N. lat., 117°17.00′ W. long.

(b) The 50 fm (91 m) depth contour between the U.S. border with Canada and the Swiftsure Bank is defined by straight lines connecting all of the following points in the order stated:

(1) 48°30.15′ N. lat., 124°56.12′ W. long.;

(2) 48°28.29′ N. lat., 124°56.30′ W. long.;

(3) 48°29.23′ N. lat., 124°53.63′ W. long.; and

(4) 48°30.31′ N. lat., 124°51.73′ W. long.

(c) The 50 fm (91 m) depth contour around the northern Channel Islands off the state of California is defined by straight lines connecting all of the following points in the order stated:

(1) 34°08.40′ N. lat., 120°33.78′ W. long.;

(2) 34°07.80′ N. lat., 120°30.99′ W. long.;

(3) 34°08.68′ N. lat., 120°26.61′ W. long.;

(4) 34°05.85′ N. lat., 120°17.13′ W. long.;

(5) 34°05.57′ N. lat., 119°51.35′ W. long.;

(6) 34°07.08′ N. lat., 119°52.43′ W. long.;

(7) 34°04.49′ N. lat., 119°35.55′ W. long.;

(8) 34°04.73′ N. lat., 119°32.77′ W. long.;

(9) 34°02.02′ N. lat., 119°19.18′ W. long.;

(10) 34°01.03′ N. lat., 119°19.50′ W. long.;

(11) 33°59.45′ N. lat., 119°22.38′ W. long.;

(12) 33°58.68′ N. lat., 119°32.36′ W. long.;

(13) 33°56.43′ N. lat., 119°41.13′ W. long.;

(14) 33°56.04′ N. lat., 119°48.20′ W. long.;

(15) 33°57.32′ N. lat., 119°51.96′ W. long.;

(16) 33°59.32′ N. lat., 119°55.59′ W. long.;

(17) 33°57.52′ N. lat., 119°55.19′ W. long.;

(18) 33°56.26′ N. lat., 119°54.29′ W. long.;

(19) 33°54.30′ N. lat., 119°54.83′ W. long.;

(20) 33°50.97′ N. lat., 119°57.03′ W. long.;

(21) 33°50.03′ N. lat., 120°03.00′ W. long.;

(22) 33°51.14′ N. lat., 120°03.65′ W. long.;

(23) 33°54.49′ N. lat., 120°12.85′ W. long.;

(24) 33°58.48′ N. lat., 120°18.50′ W. long.;

(25) 34°00.71′ N. lat., 120°28.21′ W. long.;

(26) 34°03.60′ N. lat., 120°30.60′ W. long.;

(27) 34°06.96′ N. lat., 120°34.22′ W. long.;

(28) 34°08.01′ N. lat., 120°35.24′ W. long.; and

(29) 34°08.40′ N. lat., 120°33.78′ W. long.

(d) The 50 fm (91 m) depth contour around San Clemente Island off the state of California is defined by straight lines connecting all of the following points in the order stated:

(1) 33°03.73′ N. lat., 118°36.98′ W. long.;

(2) 33°02.56′ N. lat., 118°34.12′ W. long.;

(3) 32°55.54′ N. lat., 118°28.87′ W. long.;

(4) 32°55.02′ N. lat., 118°27.69′ W. long.;

(5) 32°49.73′ N. lat., 118°20.99′ W. long.;

(6) 32°48.55′ N. lat., 118°20.24′ W. long.;

(7) 32°47.92′ N. lat., 118°22.45′ W. long.;

(8) 32°45.25′ N. lat., 118°24.59′ W. long.;

(9) 32°50.23′ N. lat., 118°30.80′ W. long.;

(10) 32°55.28′ N. lat., 118°33.83′ W. long.;

(11) 33°00.45′ N. lat., 118°37.88′ W. long.;

(12) 33°03.27′ N. lat., 118°38.56′ W. long.; and

(13) 33°03.73′ N. lat., 118°36.98′ W. long.

(e) The 50 fm (91 m) depth contour around Santa Catalina Island off the state of California is defined by straight lines connecting all of the following points in the order stated:

(1) 33°28.01′ N. lat., 118°37.42′ W. long.;

(2) 33°29.02′ N. lat., 118°36.33′ W. long.;

(3) 33°28.97′ N. lat., 118°33.16′ W. long.;

(4) 33°28.71′ N. lat., 118°31.22′ W. long.;

(5) 33°26.66′ N. lat., 118°27.48′ W. long.;

(6) 33°25.35′ N. lat., 118°22.83′ W. long.;

(7) 33°22.61′ N. lat., 118°19.18′ W. long.;

(8) 33°20.06′ N. lat., 118°17.35′ W. long.;

(9) 33°17.58′ N. lat., 118°17.42′ W. long.;

(10) 33°17.05′ N. lat., 118°18.72′ W. long.;

(11) 33°17.87′ N. lat., 118°24.47′ W. long.;

(12) 33°18.63′ N. lat., 118°28.16′ W. long.;

(13) 33°20.17′ N. lat., 118°31.69′ W. long.;

(14) 33°20.85′ N. lat., 118°31.82′ W. long.;

(15) 33°23.19′ N. lat., 118°29.78′ W. long.;

(16) 33°24.85′ N. lat., 118°31.22′ W. long.;

(17) 33°25.65′ N. lat., 118°34.11′ W. long.; and

(18) 33°28.01′ N. lat., 118°37.42′ W. long.

(f) The 60 fm (110 m) depth contour used between the U.S. border with Canada and the U.S. border with Mexico is defined by straight lines connecting all of the following points in the order stated:

(1) 48°26.70′ N. lat., 125°09.43′ W. long.;

(2) 48°23.76′ N. lat., 125°06.77′ W. long.;

(3) 48°23.01′ N. lat., 125°03.48′ W. long.;

(4) 48°22.42′ N. lat., 124°57.84′ W. long.;

(5) 48°22.62′ N. lat., 124°48.97′ W. long.;

(6) 48°18.61′ N. lat., 124°52.52′ W. long.;

(7) 48°16.62′ N. lat., 124°54.03′ W. long.;

(8) 48°15.39′ N. lat., 124°54.79′ W. long.;

(9) 48°13.81′ N. lat., 124°55.45′ W. long.;

(10) 48°10.51′ N. lat., 124°56.56′ W. long.;

(11) 48°06.90′ N. lat., 124°57.72′ W. long.;

(12) 48°02.23′ N. lat., 125°00.20′ W. long.;

(13) 48°00.87′ N. lat., 125°00.37′ W. long.;

(14) 47°56.30′ N. lat., 124°59.51′ W. long.;

(15) 47°46.84′ N. lat., 124°57.34′ W. long.;

(16) 47°36.49′ N. lat., 124°50.93′ W. long.;

(17) 47°32.01′ N. lat., 124°48.45′ W. long.;

(18) 47°27.19′ N. lat., 124°46.47′ W. long.;

(19) 47°21.76′ N. lat., 124°43.29′ W. long.;

(20) 47°17.82′ N. lat., 124°42.12′ W. long.;

(21) 47°08.87′ N. lat., 124°43.10′ W. long.;

(22) 47°03.16′ N. lat., 124°42.61′ W. long.;

(23) 46°49.70′ N. lat., 124°36.80′ W. long.;

(24) 46°42.91′ N. lat., 124°33.20′ W. long.;

(25) 46°39.67′ N. lat., 124°30.59′ W. long.;

(26) 46°32.47′ N. lat., 124°26.34′ W. long.;

(27) 46°23.69′ N. lat., 124°25.41′ W. long.;

(28) 46°20.84′ N. lat., 124°24.24′ W. long.;

(29) 46°16.00′ N. lat., 124°19.10′ W. long.;

(30) 46°15.97′ N. lat., 124°18.81′ W. long.;

(31) 46°11.23′ N. lat., 124°19.96′ W. long.;

(32) 46°02.51′ N. lat., 124°19.84′ W. long.;

(33) 45°59.05′ N. lat., 124°16.52′ W. long.;

(34) 45°51.00′ N. lat., 124°12.83′ W. long.;

(35) 45°45.85′ N. lat., 124°11.54′ W. long.;

(36) 45°38.53′ N. lat., 124°11.91′ W. long.;

(37) 45°30.90′ N. lat., 124°10.94′ W. long.;

(38) 45°21.20′ N. lat., 124°09.12′ W. long.;

(39) 45°12.43′ N. lat., 124°08.74′ W. long.;

(40) 44°59.89′ N. lat., 124°11.95′ W. long.;

(41) 44°51.96′ N. lat., 124°15.15′ W. long.;

(42) 44°44.64′ N. lat., 124°20.07′ W. long.;

(43) 44°39.24′ N. lat., 124°28.09′ W. long.;

(44) 44°30.61′ N. lat., 124°31.66′ W. long.;

(45) 44°26.19′ N. lat., 124°35.88′ W. long.;

(46) 44°18.88′ N. lat., 124°45.16′ W. long.;

(47) 44°14.69′ N. lat., 124°45.51′ W. long.;

(48) 44°10.97′ N. lat., 124°38.78′ W. long.;

(49) 44°08.71′ N. lat., 124°33.54′ W. long.;

(50) 44°04.92′ N. lat., 124°24.55′ W. long.;

(51) 43°57.49′ N. lat., 124°20.05′ W. long.;

(52) 43°50.26′ N. lat., 124°21.84′ W. long.;

(53) 43°41.69′ N. lat., 124°21.94′ W. long.;

(54) 43°35.52′ N. lat., 124°21.51′ W. long.;

(55) 43°25.77′ N. lat., 124°28.47′ W. long.;

(56) 43°20.25′ N. lat., 124°31.59′ W. long.;

(57) 43°12.73′ N. lat., 124°36.69′ W. long.;

(58) 43°08.08′ N. lat., 124°36.10′ W. long.;

(59) 43°00.33′ N. lat., 124°37.57′ W. long.;

(60) 42°53.99′ N. lat., 124°41.04′ W. long.;

(61) 42°46.66′ N. lat., 124°41.13′ W. long.;

(62) 42°41.74′ N. lat., 124°37.46′ W. long.;

(63) 42°37.42′ N. lat., 124°37.22′ W. long.;

(64) 42°27.35′ N. lat., 124°39.90′ W. long.;

(65) 42°23.94′ N. lat., 124°38.28′ W. long.;

(66) 42°17.72′ N. lat., 124°31.10′ W. long.;

(67) 42°10.35′ N. lat., 124°29.11′ W. long.;

(68) 42°00.00′ N. lat., 124°28.00′ W. long.;

(69) 41°54.87′ N. lat., 124°28.50′ W. long.;

(70) 41°45.80′ N. lat., 124°23.89′ W. long.;

(71) 41°34.40′ N. lat., 124°24.03′ W. long.;

(72) 41°28.33′ N. lat., 124°25.46′ W. long.;

(73) 41°15.80′ N. lat., 124°18.90′ W. long.;

(74) 41°09.77′ N. lat., 124°17.99′ W. long.;

(75) 41°02.26′ N. lat., 124°18.71′ W. long.;

(76) 40°53.54′ N. lat., 124°21.18′ W. long.;

(77) 40°49.93′ N. lat., 124°23.02′ W. long.;

(78) 40°43.15′ N. lat., 124°28.74′ W. long.;

(79) 40°40.19′ N. lat., 124°29.07′ W. long.;

(80) 40°36.77′ N. lat., 124°27.61′ W. long.;

(81) 40°34.13′ N. lat., 124°29.39′ W. long.;

(82) 40°33.15′ N. lat., 124°33.46′ W. long.;

(83) 40°30.00′ N. lat., 124°35.84′ W. long.;

(84) 40°24.72′ N. lat., 124°33.06′ W. long.;

(85) 40°23.91′ N. lat., 124°31.28′ W. long.;

(86) 40°23.67′ N. lat., 124°28.35′ W. long.;

(87) 40°22.53′ N. lat., 124°24.72′ W. long.;

(88) 40°21.51′ N. lat., 124°24.86′ W. long.;

(89) 40°21.02′ N. lat., 124°27.70′ W. long.;

(90) 40°19.75′ N. lat., 124°27.06′ W. long.;

(91) 40°18.23′ N. lat., 124°25.30′ W. long.;

(92) 40°18.60′ N. lat., 124°22.86′ W. long.;

(93) 40°15.43′ N. lat., 124°25.37′ W. long.;

(94) 40°15.55′ N. lat., 124°28.16′ W. long.;

(95) 40°11.27′ N. lat., 124°22.56′ W. long.;

(96) 40°10.00′ N. lat., 124°19.97′ W. long.;

(97) 40°09.20′ N. lat., 124°15.81′ W. long.;

(98) 40°07.51′ N. lat., 124°15.29′ W. long.;

(99) 40°05.22′ N. lat., 124°10.06′ W. long.;

(100) 40°06.51′ N. lat., 124°08.01′ W. long.;

(101) 40°00.72′ N. lat., 124°08.45′ W. long.;

(102) 39°56.60′ N. lat., 124°07.12′ W. long.;

(103) 39°52.58′ N. lat., 124°03.57′ W. long.;

(104) 39°50.65′ N. lat., 123°57.98′ W. long.;

(105) 39°40.16′ N. lat., 123°52.41′ W. long.;

(106) 39°30.12′ N. lat., 123°52.92′ W. long.;

(107) 39°24.53′ N. lat., 123°55.16′ W. long.;

(108) 39°11.58′ N. lat., 123°50.93′ W. long.;

(109) 38°57.50′ N. lat., 123°51.14′ W. long.;

(110) 38°55.13′ N. lat., 123°51.14′ W. long.;

(111) 38°28.58′ N. lat., 123°22.84′ W. long.;

(112) 38°08.57′ N. lat., 123°14.74′ W. long.;

(113) 38°00.00′ N. lat., 123°15.61′ W. long.;

(114) 37°56.98′ N. lat., 123°21.82′ W. long.;

(115) 37°48.01′ N. lat., 123°15.90′ W. long.;

(116) 37°35.67′ N. lat., 122°58.48′ W. long.;

(117) 37°11.00′ N. lat., 122°40.22′ W. long.;

(118) 37°07.00′ N. lat., 122°37.64′ W. long.;

(119) 37°02.08′ N. lat., 122°25.49′ W. long.;

(120) 36°48.20′ N. lat., 122°03.32′ W. long.;

(121) 36°51.46′ N. lat., 121°57.54′ W. long.;

(122) 36°44.14′ N. lat., 121°58.10′ W. long.;

(123) 36°36.76′ N. lat., 122°01.16′ W. long.;

(124) 36°15.62′ N. lat., 121°57.13′ W. long.;

(125) 36°10.42′ N. lat., 121°42.90′ W. long.;

(126) 36°02.55′ N. lat., 121°36.35′ W. long.;

(127) 36°00.00′ N. lat., 121°35.15′ W. long.;

(128) 35°58.25′ N. lat., 121°32.88′ W. long.;

(129) 35°40.38′ N. lat., 121°22.59′ W. long.;

(130) 35°24.35′ N. lat., 121°02.53′ W. long.;

(131) 35°02.66′ N. lat., 120°51.63′ W. long.;

(132) 34°39.52′ N. lat., 120°48.72′ W. long.;

(133) 34°31.26′ N. lat., 120°44.12′ W. long.;

(134) 34°27.00′ N. lat., 120°36.00′ W. long.;

(135) 34°23.00′ N. lat., 120°25.32′ W. long.;

(136) 34°25.68′ N. lat., 120°17.46′ W. long.;

(137) 34°23.18′ N. lat., 119°56.17′ W. long.;

(138) 34°18.73′ N. lat., 119°41.89′ W. long.;

(139) 34°11.18′ N. lat., 119°31.21′ W. long.;

(140) 34°10.01′ N. lat., 119°25.84′ W. long.;

(141) 34°03.88′ N. lat., 119°12.46′ W. long.;

(142) 34°03.58′ N. lat., 119°06.71′ W. long.;

(143) 34°04.52′ N. lat., 119°04.89′ W. long.;

(144) 34°01.28′ N. lat., 119°00.27′ W. long.;

(145) 34°00.20′ N. lat., 119°03.18′ W. long.;

(146) 33°59.60′ N. lat., 119°03.14′ W. long.;

(147) 33°59.45′ N. lat., 119°00.87′ W. long.;

(148) 34°00.71′ N. lat., 118°59.07′ W. long.;

(149) 33°59.05′ N. lat., 118°47.34′ W. long.;

(150) 33°59.06′ N. lat., 118°36.30′ W. long.;

(151) 33°55.05′ N. lat., 118°32.85′ W. long.;

(152) 33°53.56′ N. lat., 118°37.73′ W. long.;

(153) 33°51.22′ N. lat., 118°36.13′ W. long.;

(154) 33°50.19′ N. lat., 118°32.19′ W. long.;

(155) 33°51.28′ N. lat., 118°29.12′ W. long.;

(156) 33°49.89′ N. lat., 118°28.04′ W. long.;

(157) 33°49.95′ N. lat., 118°26.38′ W. long.;

(158) 33°50.73′ N. lat., 118°26.16′ W. long.;

(159) 33°49.87′ N. lat., 118°24.37′ W. long.;

(160) 33°47.54′ N. lat., 118°29.65′ W. long.;

(161) 33°44.10′ N. lat., 118°25.25′ W. long.;

(162) 33°41.77′ N. lat., 118°20.32′ W. long.;

(163) 33°38.17′ N. lat., 118°15.69′ W. long.;

(164) 33°37.48′ N. lat., 118°16.72′ W. long.;

(165) 33°35.98′ N. lat., 118°16.54′ W. long.;

(166) 33°34.15′ N. lat., 118°11.22′ W. long.;

(167) 33°34.09′ N. lat., 118°08.15′ W. long.;

(168) 33°35.73′ N. lat., 118°05.01′ W. long.;

(169) 33°33.75′ N. lat., 117°59.82′ W. long.;

(170) 33°35.44′ N. lat., 117°55.65′ W. long.;

(171) 33°35.15′ N. lat., 117°53.54′ W. long.;

(172) 33°31.12′ N. lat., 117°47.39′ W. long.;

(173) 33°27.49′ N. lat., 117°44.85′ W. long.;

(174) 33°16.42′ N. lat., 117°32.92′ W. long.;

(175) 33°06.66′ N. lat., 117°21.59′ W. long.;

(176) 33°00.08′ N. lat., 117°19.02′ W. long.;

(177) 32°56.11′ N. lat., 117°18.41′ W. long.;

(178) 32°54.43′ N. lat., 117°16.93′ W. long.;

(179) 32°51.89′ N. lat., 117°16.42′ W. long.;

(180) 32°52.61′ N. lat., 117°19.50′ W. long.;

(181) 32°46.96′ N. lat., 117°22.69′ W. long.;

(182) 32°44.98′ N. lat., 117°21.87′ W. long.;

(183) 32°43.52′ N. lat., 117°19.32′ W. long.; and

(184) 32°33.56′ N. lat., 117°17.72′ W. long.

(g) The 60 fm (110 m) depth contour around the northern Channel Islands off the state of California is defined by straight lines connecting all of the following points in the order stated:

(1) 120°26.31′ N. lat., 34°09.16′ W. long.;

(2) 120°16.43′ N. lat., 34°06.69′ W. long.;

(3) 120°04.00′ N. lat., 34°06.38′ W. long.;

(4) 119°52.06′ N. lat., 34°07.36′ W. long.;

(5) 119°36.94′ N. lat., 34°04.84′ W. long.;

(6) 119°35.50′ N. lat., 34°04.84′ W. long.;

(7) 119°32.80′ N. lat., 34°05.04′ W. long.;

(8) 119°26.70′ N. lat., 34°04.00′ W. long.;

(9) 119°21.40′ N. lat., 34°02.80′ W. long.;

(10) 119°18.97′ N. lat., 34°02.36′ W. long.;

(11) 119°19.42′ N. lat., 34°00.65′ W. long.;

(12) 119°22.38′ N. lat., 33°59.45′ W. long.;

(13) 119°32.36′ N. lat., 33°58.68′ W. long.;

(14) 119°41.09′ N. lat., 33°56.14′ W. long.;

(15) 119°48.00′ N. lat., 33°55.84′ W. long.;

(16) 119°52.09′ N. lat., 33°57.22′ W. long.;

(17) 119°55.59′ N. lat., 33°59.32′ W. long.;

(18) 119°55.19′ N. lat., 33°57.52′ W. long.;

(19) 119°54.25′ N. lat., 33°56.10′ W. long.;

(20) 119°56.02′ N. lat., 33°50.28′ W. long.;

(21) 119°59.67′ N. lat., 33°48.51′ W. long.;

(22) 120°03.58′ N. lat., 33°49.14′ W. long.;

(23) 120°06.50′ N. lat., 33°51.93′ W. long.;

(24) 120°13.06′ N. lat., 33°54.36′ W. long.;

(25) 120°20.46′ N. lat., 33°58.53′ W. long.;

(26) 120°28.12′ N. lat., 34°00.12′ W. long.;

(27) 120°35.85′ N. lat., 34°08.09′ W. long.;

(28) 120°34.58′ N. lat., 34°08.80′ W. long.; and

(29) 120°26.31′ N. lat., 34°09.16′ W. long.;

(h) The 60 fm (110 m) depth contour around San Clemente Island off the state of California is defined by straight lines connecting all of the following points in the order stated:

(1) 33°04.06′ N. lat., 118°37.32′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.60′ N. lat., 118°22.00′ W. long.;

(8) 32°44.59′ N. lat., 118°24.52′ W. long.;

(9) 32°49.97′ N. lat., 118°31.52′ W. long.;

(10) 32°53.62′ N. lat., 118°32.94′ W. long.;

(11) 32°55.63′ N. lat., 118°34.82′ W. long.;

(12) 33°00.71′ N. lat., 118°38.42′ W. long.;

(13) 33°03.31′ N. lat., 118°38.74′ W. long.; and

(14) 33°04.06′ N. lat., 118°37.32′ W. long.

(i) The 60 fm (110 m) depth contour around Santa Catalina Island off the state of California is defined by straight lines connecting all of the following points in the order stated:

(1) 33°28.15′ N. lat., 118°37.85′ W. long.;

(2) 33°29.23′ N. lat., 118°36.27′ W. long.;

(3) 33°28.85′ N. lat., 118°30.85′ W. long.;

(4) 33°26.69′ N. lat., 118°27.37′ W. long.;

(5) 33°25.35′ N. lat., 118°22.83′ W. long.;

(6) 33°22.60′ N. lat., 118°18.82′ W. long.;

(7) 33°19.49′ N. lat., 118°16.91′ W. long.;

(8) 33°17.13′ N. lat., 118°16.58′ W. long.;

(9) 33°16.72′ N. lat., 118°18.07′ W. long.;

(10) 33°18.35′ N. lat., 118°27.86′ W. long.;

(11) 33°20.03′ N. lat., 118°32.04′ W. long.;

(12) 33°21.86′ N. lat., 118°31.72′ W. long.;

(13) 33°23.15′ N. lat., 118°29.89′ W. long.;

(14) 33°25.13′ N. lat., 118°32.16′ W. long.;

(15) 33°25.73′ N. lat., 118°34.88′ W. long.; and

(16) 33°28.15′ N. lat., 118°37.85′ W. long.

(j) The 75 fm (137 m) depth contour used between the U.S. border with Canada and the U.S. border with Mexico is defined by straight lines connecting all of the following points in the order stated:

(1) 48°16.80′ N. lat., 125°34.90′ W. long.;

(2) 48°14.50′ N. lat., 125°29.50′ W. long.;

(3) 48°12.08′ N. lat., 125°28.00′ W. long.;

(4) 48°09.00′ N. lat., 125°28.00′ W. long.;

(5) 48°07.80′ N. lat., 125°31.70′ W. long.;

(6) 48°04.28′ N. lat., 125°29.00′ W. long.;

(7) 48°02.50′ N. lat., 125°25.70′ W. long.;

(8) 48°10.00′ N. lat., 125°20.19′ W. long.;

(9) 48°21.70′ N. lat., 125°17.56′ W. long.;

(10) 48°23.12′ N. lat., 125°10.25′ W. long.;

(11) 48°21.99′ N. lat., 125°02.59′ W. long.;

(12) 48°23.05′ N. lat., 124°48.80′ W. long.;

(13) 48°17.10′ N. lat., 124°54.82′ W. long.;

(14) 48°05.10′ N. lat., 124°59.40′ W. long.;

(15) 48°04.50′ N. lat., 125°02.00′ W. long.;

(16) 48°04.70′ N. lat., 125°04.08′ W. long.;

(17) 48°05.20′ N. lat., 125°04.90′ W. long.;

(18) 48°06.80′ N. lat., 125°06.15′ W. long.;

(19) 48°05.91′ N. lat., 125°08.30′ W. long.;

(20) 48°07.00′ N. lat., 125°09.80′ W. long.;

(21) 48°06.93′ N. lat., 125°11.48′ W. long.;

(22) 48°04.98′ N. lat., 125°10.02′ W. long.;

(23) 47°54.00′ N. lat., 125°04.98′ W. long.;

(24) 47°44.52′ N. lat., 125°00.00′ W. long.;

(25) 47°42.00′ N. lat., 124°58.98′ W. long.;

(26) 47°35.52′ N. lat., 124°55.50′ W. long.;

(27) 47°22.02′ N. lat., 124°44.40′ W. long.;

(28) 47°16.98′ N. lat., 124°45.48′ W. long.;

(29) 47°10.98′ N. lat., 124°48.48′ W. long.;

(30) 47°04.98′ N. lat., 124°49.02′ W. long.;

(31) 46°57.98′ N. lat., 124°46.50′ W. long.;

(32) 46°54.00′ N. lat., 124°45.00′ W. long.;

(33) 46°48.48′ N. lat., 124°44.52′ W. long.;

(34) 46°40.02′ N. lat., 124°36.00′ W. long.;

(35) 46°34.09′ N. lat., 124°27.03′ W. long.;

(36) 46°24.64′ N. lat., 124°30.33′ W. long.;

(37) 46°19.98′ N. lat., 124°36.00′ W. long.;

(38) 46°18.14′ N. lat., 124°34.26′ W. long.;

(39) 46°18.72′ N. lat., 124°22.68′ W. long.;

(40) 46°16.00′ N. lat., 124°19.49′ W. long.;

(41) 46°14.64′ N. lat., 124°22.54′ W. long.;

(42) 46°11.08′ N. lat., 124°30.74′ W. long.;

(43) 46°04.28′ N. lat., 124°31.49′ W. long.;

(44) 45°55.97′ N. lat., 124°19.95′ W. long.;

(45) 45°46.00′ N. lat., 124°16.41′ W. long.;

(46) 45°44.97′ N. lat., 124°15.96′ W. long.;

(47) 45°43.14′ N. lat., 124°21.86′ W. long.;

(48) 45°34.44′ N. lat., 124°14.44′ W. long.;

(49) 45°20.25′ N. lat., 124°12.23′ W. long.;

(50) 45°15.49′ N. lat., 124°11.49′ W. long.;

(51) 45°03.83′ N. lat., 124°13.75′ W. long.;

(52) 44°57.31′ N. lat., 124°15.03′ W. long.;

(53) 44°43.90′ N. lat., 124°28.88′ W. long.;

(54) 44°28.64′ N. lat., 124°35.67′ W. long.;

(55) 44°25.31′ N. lat., 124°43.08′ W. long.;

(56) 44°17.15′ N. lat., 124°47.98′ W. long.;

(57) 44°13.67′ N. lat., 124°54.41′ W. long.;

(58) 44°08.30′ N. lat., 124°54.75′ W. long.;

(59) 43°56.85′ N. lat., 124°55.32′ W. long.;

(60) 43°57.50′ N. lat., 124°41.23′ W. long.;

(61) 44°01.79′ N. lat., 124°38.00′ W. long.;

(62) 44°02.16′ N. lat., 124°32.62′ W. long.;

(63) 43°58.15′ N. lat., 124°30.39′ W. long.;

(64) 43°53.25′ N. lat., 124°31.39′ W. long.;

(65) 43°35.56′ N. lat., 124°28.17′ W. long.;

(66) 43°21.84′ N. lat., 124°36.07′ W. long.;

(67) 43°20.83′ N. lat., 124°35.49′ W. long.;

(68) 43°19.73′ N. lat., 124°34.86′ W. long.;

(69) 43°09.38′ N. lat., 124°39.30′ W. long.;

(70) 43°07.11′ N. lat., 124°37.66′ W. long.;

(71) 42°56.27′ N. lat., 124°43.29′ W. long.;

(72) 42°50.00′ N. lat., 124°42.30′ W. long.;

(73) 42°45.00′ N. lat., 124°41.50′ W. long.;

(74) 42°40.50′ N. lat., 124°39.46′ W. long.;

(75) 42°39.72′ N. lat., 124°39.11′ W. long.;

(76) 42°32.88′ N. lat., 124°40.13′ W. long.;

(77) 42°32.30′ N. lat., 124°39.04′ W. long.;

(78) 42°26.96′ N. lat., 124°44.31′ W. long.;

(79) 42°24.11′ N. lat., 124°42.16′ W. long.;

(80) 42°21.10′ N. lat., 124°35.46′ W. long.;

(81) 42°14.72′ N. lat., 124°32.30′ W. long.;

(82) 42°13.67′ N. lat., 124°32.29′ W. long.;

(83) 42°09.24′ N. lat., 124°32.04′ W. long.;

(84) 42°01.89′ N. lat., 124°32.70′ W. long.;

(85) 42°00.00′ N. lat., 124°32.02′ W. long.;

(86) 41°46.18′ N. lat., 124°26.60′ W. long.;

(87) 41°29.22′ N. lat., 124°28.04′ W. long.;

(88) 41°09.62′ N. lat., 124°19.75′ W. long.;

(89) 40°50.71′ N. lat., 124°23.80′ W. long.;

(90) 40°43.35′ N. lat., 124°29.30′ W. long.;

(91) 40°40.24′ N. lat., 124°29.86′ W. long.;

(92) 40°37.50′ N. lat., 124°28.68′ W. long.;

(93) 40°34.42′ N. lat., 124°29.65′ W. long.;

(94) 40°34.74′ N. lat., 124°34.61′ W. long.;

(95) 40°31.70′ N. lat., 124°37.13′ W. long.;

(96) 40°30.00′ N. lat., 124°36.50′ W. long.;

(97) 40°25.03′ N. lat., 124°34.77′ W. long.;

(98) 40°23.58′ N. lat., 124°31.49′ W. long.;

(99) 40°23.64′ N. lat., 124°28.35′ W. long.;

(100) 40°22.53′ N. lat., 124°24.76′ W. long.;

(101) 40°21.46′ N. lat., 124°24.86′ W. long.;

(102) 40°21.74′ N. lat., 124°27.63′ W. long.;

(103) 40°19.76′ N. lat., 124°28.15′ W. long.;

(104) 40°18.00′ N. lat., 124°25.38′ W. long.;

(105) 40°18.54′ N. lat., 124°22.94′ W. long.;

(106) 40°15.55′ N. lat., 124°25.75′ W. long.;

(107) 40°16.06′ N. lat., 124°30.48′ W. long.;

(108) 40°15.75′ N. lat., 124°31.69′ W. long.;

(109) 40°10.00′ N. lat., 124°21.28′ W. long.;

(110) 40°08.37′ N. lat., 124°17.99′ W. long.;

(111) 40°09.00′ N. lat., 124°15.77′ W. long.;

(112) 40°06.93′ N. lat., 124°16.49′ W. long.;

(113) 40°03.60′ N. lat., 124°11.60′ W. long.;

(114) 40°06.20′ N. lat., 124°08.23′ W. long.;

(115) 40°00.94′ N. lat., 124°08.57′ W. long.;

(116) 40°00.01′ N. lat., 124°09.84′ W. long.;

(117) 39°57.75′ N. lat., 124°09.53′ W. long.;

(118) 39°55.56′ N. lat., 124°07.67′ W. long.;

(119) 39°52.21′ N. lat., 124°05.54′ W. long.;

(120) 39°48.07′ N. lat., 123°57.48′ W. long.;

(121) 39°41.60′ N. lat., 123°55.12′ W. long.;

(122) 39°30.39′ N. lat., 123°55.03′ W. long.;

(123) 39°29.48′ N. lat., 123°56.12′ W. long.;

(124) 39°13.76′ N. lat., 123°54.65′ W. long.;

(125) 39°05.21′ N. lat., 123°55.38′ W. long.;

(126) 38°57.50′ N. lat., 123°54.50′ W. long.;

(127) 38°55.90′ N. lat., 123°54.35′ W. long.;

(128) 38°48.59′ N. lat., 123°49.61′ W. long.;

(129) 38°28.82′ N. lat., 123°27.44′ W. long.;

(130) 38°09.70′ N. lat., 123°18.66′ W. long.;

(131) 38°01.81′ N. lat., 123°19.22′ W. long.;

(132) 38°00.00′ N. lat., 123°22.19′ W. long.;

(133) 37°57.70′ N. lat., 123°25.98′ W. long.;

(134) 37°56.73′ N. lat., 123°25.22′ W. long.;

(135) 37°55.59′ N. lat., 123°25.62′ W. long.;

(136) 37°52.79′ N. lat., 123°23.85′ W. long.;

(137) 37°49.13′ N. lat., 123°18.83′ W. long.;

(138) 37°46.01′ N. lat., 123°12.28′ W. long.;

(139) 37°35.67′ N. lat., 123°00.33′ W. long.;

(140) 37°24.16′ N. lat., 122°51.96′ W. long.;

(141) 37°23.32′ N. lat., 122°52.38′ W. long.;

(142) 37°11.00′ N. lat., 122°45.48′ W. long.;

(143) 37°07.00′ N. lat., 122°41.60′ W. long.;

(144) 37°04.12′ N. lat., 122°38.94′ W. long.;

(145) 37°00.64′ N. lat., 122°33.26′ W. long.;

(146) 36°59.15′ N. lat., 122°27.84′ W. long.;

(147) 37°01.41′ N. lat., 122°24.41′ W. long.;

(148) 36°58.75′ N. lat., 122°23.81′ W. long.;

(149) 36°59.17′ N. lat., 122°21.44′ W. long.;

(150) 36°57.51′ N. lat., 122°20.69′ W. long.;

(151) 36°51.46′ N. lat., 122°10.01′ W. long.;

(152) 36°48.43′ N. lat., 122°06.47′ W. long.;

(153) 36°48.66′ N. lat., 122°04.99′ W. long.;

(154) 36°47.75′ N. lat., 122°03.33′ W. long.;

(155) 36°51.23′ N. lat., 121°57.79′ W. long.;

(156) 36°49.72′ N. lat., 121°57.87′ W. long.;

(157) 36°48.84′ N. lat., 121°58.68′ W. long.;

(158) 36°47.89′ N. lat., 121°58.53′ W. long.;

(159) 36°48.66′ N. lat., 121°50.49′ W. long.;

(160) 36°45.56′ N. lat., 121°54.11′ W. long.;

(161) 36°45.30′ N. lat., 121°57.62′ W. long.;

(162) 36°38.54′ N. lat., 122°01.13′ W. long.;

(163) 36°35.76′ N. lat., 122°00.87′ W. long.;

(164) 36°32.58′ N. lat., 121°59.12′ W. long.;

(165) 36°32.95′ N. lat., 121°57.62′ W. long.;

(166) 36°31.96′ N. lat., 121°56.27′ W. long.;

(167) 36°31.74′ N. lat., 121°58.24′ W. long.;

(168) 36°30.57′ N. lat., 121°59.66′ W. long.;

(169) 36°27.80′ N. lat., 121°59.30′ W. long.;

(170) 36°26.52′ N. lat., 121°58.09′ W. long.;

(171) 36°23.65′ N. lat., 121°58.94′ W. long.;

(172) 36°20.93′ N. lat., 122°00.28′ W. long.;

(173) 36°18.23′ N. lat., 122°03.10′ W. long.;

(174) 36°14.21′ N. lat., 121°57.73′ W. long.;

(175) 36°14.68′ N. lat., 121°55.43′ W. long.;

(176) 36°10.42′ N. lat., 121°42.90′ W. long.;

(177) 36°02.55′ N. lat., 121°36.35′ W. long.;

(178) 36°01.04′ N. lat., 121°36.47′ W. long.;

(179) 36°00.00′ N. lat., 121°35.15′ W. long.;

(180) 35°58.25′ N. lat., 121°32.88′ W. long.;

(181) 35°39.35′ N. lat., 121°22.63′ W. long.;

(182) 35°24.44′ N. lat., 121°02.23′ W. long.;

(183) 35°10.84′ N. lat., 120°55.90′ W. long.;

(184) 35°04.35′ N. lat., 120°51.62′ W. long.;

(185) 34°55.25′ N. lat., 120°49.36′ W. long.;

(186) 34°47.95′ N. lat., 120°50.76′ W. long.;

(187) 34°39.27′ N. lat., 120°49.16′ W. long.;

(188) 34°31.05′ N. lat., 120°44.71′ W. long.;

(189) 34°27.00′ N. lat., 120°36.54′ W. long.;

(190) 34°22.60′ N. lat., 120°25.41′ W. long.;

(191) 34°25.45′ N. lat., 120°17.41′ W. long.;

(192) 34°22.94′ N. lat., 119°56.40′ W. long.;

(193) 34°18.37′ N. lat., 119°42.01′ W. long.;

(194) 34°11.22′ N. lat., 119°32.47′ W. long.;

(195) 34°09.58′ N. lat., 119°25.94′ W. long.;

(196) 34°03.89′ N. lat., 119°12.47′ W. long.;

(197) 34°03.57′ N. lat., 119°06.72′ W. long.;

(198) 34°04.53′ N. lat., 119°04.90′ W. long.;

(199) 34°02.84′ N. lat., 119°02.37′ W. long.;

(200) 34°01.30′ N. lat., 119°00.26′ W. long.;

(201) 34°00.22′ N. lat., 119°03.20′ W. long.;

(202) 33°59.60′ N. lat., 119°03.16′ W. long.;

(203) 33°59.46′ N. lat., 119°00.88′ W. long.;

(204) 34°00.49′ N. lat., 118°59.08′ W. long.;

(205) 33°59.07′ N. lat., 118°47.34′ W. long.;

(206) 33°58.73′ N. lat., 118°36.45′ W. long.;

(207) 33°55.24′ N. lat., 118°33.42′ W. long.;

(208) 33°53.71′ N. lat., 118°38.01′ W. long.;

(209) 33°51.22′ N. lat., 118°36.17′ W. long.;

(210) 33°49.85′ N. lat., 118°32.31′ W. long.;

(211) 33°49.61′ N. lat., 118°28.07′ W. long.;

(212) 33°49.95′ N. lat., 118°26.38′ W. long.;

(213) 33°50.36′ N. lat., 118°25.84′ W. long.;

(214) 33°49.84′ N. lat., 118°24.78′ W. long.;

(215) 33°47.53′ N. lat., 118°30.12′ W. long.;

(216) 33°44.11′ N. lat., 118°25.25′ W. long.;

(217) 33°41.77′ N. lat., 118°20.32′ W. long.;

(218) 33°38.17′ N. lat., 118°15.70′ W. long.;

(219) 33°37.48′ N. lat., 118°16.73′ W. long.;

(220) 33°36.01′ N. lat., 118°16.55′ W. long.;

(221) 33°33.76′ N. lat., 118°11.37′ W. long.;

(222) 33°33.76′ N. lat., 118°07.94′ W. long.;

(223) 33°35.59′ N. lat., 118°05.05′ W. long.;

(224) 33°33.75′ N. lat., 117°59.82′ W. long.;

(225) 33°35.10′ N. lat., 117°55.68′ W. long.;

(226) 33°34.91′ N. lat., 117°53.76′ W. long.;

(227) 33°30.77′ N. lat., 117°47.56′ W. long.;

(228) 33°27.50′ N. lat., 117°44.87′ W. long.;

(229) 33°16.89′ N. lat., 117°34.37′ W. long.;

(230) 33°06.66′ N. lat., 117°21.59′ W. long.;

(231) 33°03.35′ N. lat., 117°20.92′ W. long.;

(232) 33°00.07′ N. lat., 117°19.02′ W. long.;

(233) 32°55.99′ N. lat., 117°18.60′ W. long.;

(234) 32°54.43′ N. lat., 117°16.93′ W. long.;

(235) 32°52.13′ N. lat., 117°16.55′ W. long.;

(236) 32°52.61′ N. lat., 117°19.50′ W. long.;

(237) 32°46.95′ N. lat., 117°22.81′ W. long.;

(238) 32°45.01′ N. lat., 117°22.07′ W. long.;

(239) 32°43.40′ N. lat., 117°19.80′ W. long.; and

(240) 32°33.74′ N. lat., 117°18.67′ W. long.

(k) The 75 fm (137 m) depth contour around the northern Channel Islands off the state of California is defined by straight lines connecting all of the following points in the order stated:

(1) 34°09.12′ N. lat., 120°35.03′ W. long.;

(2) 34°09.99′ N. lat., 120°27.85′ W. long.;

(3) 34°07.19′ N. lat., 120°16.28′ W. long.;

(4) 34°06.56′ N. lat., 120°04.00′ W. long.;

(5) 34°07.27′ N. lat., 119°57.76′ W. long.;

(6) 34°07.48′ N. lat., 119°52.08′ W. long.;

(7) 34°05.18′ N. lat., 119°37.94′ W. long.;

(8) 34°05.22′ N. lat., 119°35.52′ W. long.;

(9) 34°05.12′ N. lat., 119°32.74′ W. long.;

(10) 34°04.32′ N. lat., 119°27.32′ W. long.;

(11) 34°03.00′ N. lat., 119°21.36′ W. long.;

(12) 34°02.32′ N. lat., 119°18.46′ W. long.;

(13) 34°00.65′ N. lat., 119°19.42′ W. long.;

(14) 33°59.45′ N. lat., 119°22.38′ W. long.;

(15) 33°58.68′ N. lat., 119°32.36′ W. long.;

(16) 33°56.12′ N. lat., 119°41.10′ W. long.;

(17) 33°55.74′ N. lat., 119°48.00′ W. long.;

(18) 33°57.78′ N. lat., 119°53.04′ W. long.;

(19) 33°59.06′ N. lat., 119°55.38′ W. long.;

(20) 33°57.57′ N. lat., 119°54.93′ W. long.;

(21) 33°56.35′ N. lat., 119°53.91′ W. long.;

(22) 33°54.43′ N. lat., 119°54.07′ W. long.;

(23) 33°52.67′ N. lat., 119°54.78′ W. long.;

(24) 33°48.33′ N. lat., 119°55.09′ W. long.;

(25) 33°47.28′ N. lat., 119°57.30′ W. long.;

(26) 33°47.36′ N. lat., 120°00.39′ W. long.;

(27) 33°49.16′ N. lat., 120°05.06′ W. long.;

(28) 33°51.41′ N. lat., 120°06.49′ W. long.;

(29) 33°52.99′ N. lat., 120°10.01′ W. long.;

(30) 33°56.64′ N. lat., 120°18.88′ W. long.;

(31) 33°58.02′ N. lat., 120°21.41′ W. long.;

(32) 33°58.73′ N. lat., 120°25.22′ W. long.;

(33) 33°59.08′ N. lat., 120°26.58′ W. long.;

(34) 33°59.95′ N. lat., 120°28.21′ W. long.;

(35) 34°03.54′ N. lat., 120°32.23′ W. long.;

(36) 34°05.57′ N. lat., 120°34.23′ W. long.;

(37) 34°08.13′ N. lat., 120°36.05′ W. long.; and

(38) 34°09.12′ N. lat., 120°35.03′ W. long.

(l) The 75 fm (137 m) depth contour around San Clemente Island off the state of California is defined by straight lines connecting all of the following points in the order stated:

(1) 33°04.54′ N. lat., 118°37.54′ W. long.;

(2) 33°02.56′ N. lat., 118°34.12′ W. long.;

(3) 32°55.54′ N. lat., 118°28.87′ W. long.;

(4) 32°55.02′ N. lat., 118°27.69′ W. long.;

(5) 32°49.78′ N. lat., 118°20.88′ W. long.;

(6) 32°48.32′ N. lat., 118°19.89′ W. long.;

(7) 32°47.41′ N. lat., 118°21.98′ W. long.;

(8) 32°44.39′ N. lat., 118°24.49′ W. long.;

(9) 32°47.93′ N. lat., 118°29.90′ W. long.;

(10) 32°49.69′ N. lat., 118°31.52′ W. long.;

(11) 32°53.57′ N. lat., 118°33.09′ W. long.;

(12) 32°55.42′ N. lat., 118°35.17′ W. long.;

(13) 33°00.49′ N. lat., 118°38.56′ W. long.;

(14) 33°03.23′ N. lat., 118°39.16′ W. long.; and

(15) 33°04.54′ N. lat., 118°37.54′ W. long.

(m) The 75 fm (137 m) depth contour around Santa Catalina Island off the state of California is defined by straight lines connecting all of the following points in the order stated:

(1) 33°28.17′ N. lat., 118°38.16′ W. long.;

(2) 33°29.35′ N. lat., 118°36.23′ W. long.;

(3) 33°28.85′ N. lat., 118°30.85′ W. long.;

(4) 33°26.69′ N. lat., 118°27.37′ W. long.;

(5) 33°26.31′ N. lat., 118°25.14′ W. long.;

(6) 33°25.35′ N. lat., 118°22.83′ W. long.;

(7) 33°22.47′ N. lat., 118°18.53′ W. long.;

(8) 33°19.51′ N. lat., 118°16.82′ W. long.;

(9) 33°17.07′ N. lat., 118°16.38′ W. long.;

(10) 33°16.58′ N. lat., 118°17.61′ W. long.;

(11) 33°18.35′ N. lat., 118°27.86′ W. long.;

(12) 33°20.07′ N. lat., 118°32.12′ W. long.;

(13) 33°21.77′ N. lat., 118°31.85′ W. long.;

(14) 33°23.15′ N. lat., 118°29.99′ W. long.;

(15) 33°24.96′ N. lat., 118°32.21′ W. long.;

(16) 33°25.67′ N. lat., 118°34.88′ W. long.;

(17) 33°27.80′ N. lat., 118°37.90′ W. long.; and

(18) 33°28.17′ N. lat., 118°38.16′ W. long.

22. Section 660.393 is added to read as follows:

§ 660.393 Latitude/longitude coordinates defining the 100 fm (183 m) through 150 fm (274 m) depth contours.

Boundaries for RCAs are defined by straight lines connecting a series of latitude/longitude coordinates. This section provides coordinates for the 100 fm (183 m) through 150 fm (274 m) depth contours.

(a) The 100 fm (183 m) depth contour used between the U.S. border with Canada and the U.S. border with Mexico is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.;

(166) 40°10.00′ N. lat., 124°21.12′ W. long.;

(167) 40°07.70′ N. lat., 124°18.44′ W. long.;

(168) 40°08.84′ N. lat., 124°15.86′ W. long.;

(169) 40°06.53′ N. lat., 124°17.39′ W. long.;

(170) 40°03.15′ N. lat., 124°14.43′ W. long.;

(171) 40°02.19′ N. lat., 124°12.85′ W. long.;

(172) 40°02.89′ N. lat., 124°11.78′ W. long.;

(173) 40°02.78′ N. lat., 124°10.70′ W. long.;

(174) 40°04.57′ N. lat., 124°10.08′ W. long.;

(175) 40°06.06′ N. lat., 124°08.30′ W. long.;

(176) 40°04.05′ N. lat., 124°08.93′ W. long.;

(177) 40°01.17′ N. lat., 124°08.80′ W. long.;

(179) 40°01.03′ N. lat., 124°10.06′ W. long.;

(179) 39°58.07′ N. lat., 124°11.89′ W. long.;

(180) 39°56.39′ N. lat., 124°08.71′ W. long.;

(181) 39°54.64′ N. lat., 124°07.30′ W. long.;

(182) 39°53.86′ N. lat., 124°07.95′ W. long.;

(183) 39°51.95′ N. lat., 124°07.63′ W. long.;

(184) 39°48.78′ N. lat., 124°03.29′ W. long.;

(185) 39°47.36′ N. lat., 124°03.31′ W. long.;

(186) 39°40.08′ N. lat., 123°58.37′ W. long.;

(187) 39°36.16′ N. lat., 123°56.90′ W. long.;

(188) 39°30.75′ N. lat., 123°55.86′ W. long.;

(189) 39°31.62′ N. lat., 123°57.33′ W. long.;

(190) 39°30.91′ N. lat., 123°57.88′ W. long.;

(191) 39°01.79′ N. lat., 123°56.59′ W. long.;

(192) 38°59.42′ N. lat., 123°55.67′ W. long.;

(193) 38°58.89′ N. lat., 123°56.28′ W. long.;

(194) 38°57.50′ N. lat., 123°56.28′ W. long.;

(195) 38°54.72′ N. lat., 123°55.68′ W. long.;

(196) 38°48.95′ N. lat., 123°51.85′ W. long.;

(197) 38°36.67′ N. lat., 123°40.20′ W. long.;

(198) 38°33.82′ N. lat., 123°39.23′ W. long.;

(199) 38°29.02′ N. lat., 123°33.52′ W. long.;

(200) 38°18.88′ N. lat., 123°25.93′ W. long.;

(201) 38°14.12′ N. lat., 123°23.26′ W. long.;

(202) 38°11.07′ N. lat., 123°22.07′ W. long.;

(203) 38°03.19′ N. lat., 123°20.70′ W. long.;

(204) 38°00.00′ N. lat., 123°23.08′ W. long.;

(205) 37°55.07′ N. lat., 123°26.81′ W. long.;

(206) 37°50.66′ N. lat., 123°23.06′ W. long.;

(207) 37°45.18′ N. lat., 123°11.88′ W. long.;

(208) 37°35.67′ N. lat., 123°01.20′ W. long.;

(209) 37°15.58′ N. lat., 122°48.36′ W. long.;

(210) 37°11.00′ N. lat., 122°44.50′ W. long.;

(211) 37°07.00′ N. lat., 122°41.25′ W. long.;

(212) 37°03.18′ N. lat., 122°38.15′ W. long.;

(213) 37°00.48′ N. lat., 122°33.93′ W. long.;

(214) 36°58.70′ N. lat., 122°27.22′ W. long.;

(215) 37°00.85′ N. lat., 122°24.70′ W. long.;

(216) 36°58.00′ N. lat., 122°24.14′ W. long.;

(217) 36°58.74′ N. lat., 122°21.51′ W. long.;

(218) 36°56.97′ N. lat., 122°21.32′ W. long.;

(219) 36°51.52′ N. lat., 122°10.68′ W. long.;

(220) 36°48.39′ N. lat., 122°07.60′ W. long.;

(221) 36°47.43′ N. lat., 122°03.22′ W. long.;

(222) 36°50.95′ N. lat., 121°58.03′ W. long.;

(223) 36°49.92′ N. lat., 121°58.01′ W. long.;

(224) 36°48.88′ N. lat., 121°58.90′ W. long.;

(225) 36°47.70′ N. lat., 121°58.75′ W. long.;

(226) 36°48.37′ N. lat., 121°51.14′ W. long.;

(227) 36°45.74′ N. lat., 121°54.17′ W. long.;

(228) 36°45.51′ N. lat., 121°57.72′ W. long.;

(229) 36°38.84′ N. lat., 122°01.32′ W. long.;

(230) 36°35.62′ N. lat., 122°00.98′ W. long.;

(231) 36°32.46′ N. lat., 121°59.15′ W. long.;

(232) 36°32.79′ N. lat., 121°57.67′ W. long.;

(233) 36°31.98′ N. lat., 121°56.55′ W. long.;

(234) 36°31.79′ N. lat., 121°58.40′ W. long.;

(235) 36°30.73′ N. lat., 121°59.70′ W. long.;

(236) 36°30.31′ N. lat., 122°00.22′ W. long.;

(237) 36°29.35′ N. lat., 122°00.36′ W. long.;

(238) 36°27.66′ N. lat., 121°59.80′ W. long.;

(239) 36°26.22′ N. lat., 121°58.35′ W. long.;

(240) 36°21.20′ N. lat., 122°00.72′ W. long.;

(241) 36°20.47′ N. lat., 122°02.92′ W. long.;

(242) 36°18.46′ N. lat., 122°04.51′ W. long.;

(243) 36°15.92′ N. lat., 122°01.33′ W. long.;

(244) 36°13.76′ N. lat., 121°57.27′ W. long.;

(245) 36°14.43′ N. lat., 121°55.43′ W. long.;

(246) 36°10.24′ N. lat., 121°43.08′ W. long.;

(247) 36°07.66′ N. lat., 121°40.91′ W. long.;

(248) 36°02.49′ N. lat., 121°36.51′ W. long.;

(249) 36°01.07′ N. lat., 121°36.82′ W. long.;

(250) 36°00.00′ N. lat., 121°35.15′ W. long.;

(251) 35°57.84′ N. lat., 121°33.10′ W. long.;

(252) 35°50.36′ N. lat., 121°29.32′ W. long.;

(253) 35°39.03′ N. lat., 121°22.86′ W. long.;

(254) 35°24.30′ N. lat., 121°02.56′ W. long.;

(255) 35°16.53′ N. lat., 121°00.39′ W. long.;

(256) 35°04.82′ N. lat., 120°53.96′ W. long.;

(257) 34°52.51′ N. lat., 120°51.62′ W. long.;

(258) 34°43.36′ N. lat., 120°52.12′ W. long.;

(259) 34°37.64′ N. lat., 120°49.99′ W. long.;

(260) 34°30.80′ N. lat., 120°45.02′ W. long.;

(261) 34°27.00′ N. lat., 120°39.00′ W. long.;

(262) 34°21.90′ N. lat., 120°25.25′ W. long.;

(263) 34°24.86′ N. lat., 120°16.81′ W. long.;

(264) 34°22.80′ N. lat., 119°57.06′ W. long.;

(265) 34°18.59′ N. lat., 119°44.84′ W. long.;

(266) 34°15.04′ N. lat., 119°40.34′ W. long.;

(267) 34°14.40′ N. lat., 119°45.39′ W. long.;

(268) 34°12.32′ N. lat., 119°42.41′ W. long.;

(269) 34°09.71′ N. lat., 119°28.85′ W. long.;

(270) 34°04.70′ N. lat., 119°15.38′ W. long.;

(271) 34°03.33′ N. lat., 119°12.93′ W. long.;

(272) 34°02.72′ N. lat., 119°07.01′ W. long.;

(273) 34°03.90′ N. lat., 119°04.64′ W. long.;

(274) 34°01.80′ N. lat., 119°03.23′ W. long.;

(275) 33°59.32′ N. lat., 119°03.50′ W. long.;

(276) 33°59.00′ N. lat., 118°59.55′ W. long.;

(277) 33°59.51′ N. lat., 118°57.25′ W. long.;

(278) 33°58.82′ N. lat., 118°52.47′ W. long.;

(279) 33°58.54′ N. lat., 118°41.86′ W. long.;

(280) 33°55.07′ N. lat., 118°34.25′ W. long.;

(281) 33°54.28′ N. lat., 118°38.68′ W. long.;

(282) 33°51.00′ N. lat., 118°36.66′ W. long.;

(283) 33°39.77′ N. lat., 118°18.41′ W. long.;

(284) 33°35.50′ N. lat., 118°16.85′ W. long.;

(285) 33°32.68′ N. lat., 118°09.82′ W. long.;

(286) 33°34.09′ N. lat., 117°54.06′ W. long.;

(287) 33°31.60′ N. lat., 117°49.28′ W. long.;

(288) 33°16.07′ N. lat., 117°34.74′ W. long.;

(289) 33°07.06′ N. lat., 117°22.71′ W. long.;

(290) 32°59.28′ N. lat., 117°19.69′ W. long.;

(291) 32°55.36′ N. lat., 117°19.54′ W. long.;

(292) 32°53.35′ N. lat., 117°17.05′ W. long.;

(293) 32°53.34′ N. lat., 117°19.13′ W. long.;

(294) 32°46.39′ N. lat., 117°23.45′ W. long.;

(295) 32°42.79′ N. lat., 117°21.16′ W. long.; and

(296) 32°34.22′ N. lat., 117°21.20′ W. long.

(b) The 100 fm (183 m) depth contour around San Clemente Island off the state of California is defined by straight lines connecting all of the following points in the order stated:

(1) 33°04.73′ N. lat., 118°37.98′ W. long.;

(2) 33°02.67′ N. lat., 118°34.06′ W. long.;

(3) 32°55.80′ N. lat., 118°28.92′ W. long.;

(4) 32°49.78′ N. lat., 118°20.88′ W. long.;

(5) 32°48.01′ N. lat., 118°19.49′ W. long.;

(6) 32°47.53′ N. lat., 118°21.76′ W. long.;

(7) 32°44.03′ N. lat., 118°24.70′ W. long.;

(8) 32°49.75′ N. lat., 118°32.10′ W. long.;

(9) 32°53.36′ N. lat., 118°33.23′ W. long.;

(10) 32°55.17′ N. lat., 118°34.64′ W. long.;

(11) 32°55.13′ N. lat., 118°35.31′ W. long.;

(12) 33°00.22′ N. lat., 118°38.68′ W. long.;

(13) 33°03.13′ N. lat., 118°39.59′ W. long.; and

(14) 33°04.73′ N. lat., 118°37.98′ W. long.

(c) The 100 fm (183 m) depth contour around Santa Catalina Island off the state of California is defined by straight lines connecting all of the following points in the order stated:

(1) 33°28.23′ N. lat., 118°39.38′ W. long.;

(2) 33°29.60′ N. lat., 118°36.11′ W. long.;

(3) 33°29.14′ N. lat., 118°30.81′ W. long.;

(4) 33°26.97′ N. lat., 118°27.57′ W. long.;

(5) 33°25.68′ N. lat., 118°23.00′ W. long.;

(6) 33°22.67′ N. lat., 118°18.41′ W. long.;

(7) 33°19.72′ N. lat., 118°16.25′ W. long.;

(8) 33°17.14′ N. lat., 118°14.96′ W. long.;

(9) 33°16.09′ N. lat., 118°15.46′ W. long.;

(10) 33°18.10′ N. lat., 118°27.95′ W. long.;

(11) 33°19.84′ N. lat., 118°32.16′ W. long.;

(12) 33°20.83′ N. lat., 118°32.83′ W. long.;

(13) 33°21.91′ N. lat., 118°31.98′ W. long.;

(14) 33°23.05′ N. lat., 118°30.11′ W. long.;

(15) 33°24.87′ N. lat., 118°32.45′ W. long.;

(16) 33°25.30′ N. lat., 118°34.32′ W. long.; and

(17) 33°28.23′ N. lat., 118°39.38′ W. long.

(d) The 125 fm (229 m) depth contour used between the U.S. border with Canada and the U.S. border with Mexico is defined by straight lines connecting all of the following points in the order stated:

(1) 48°15.00′ N. lat., 125°41.13′ W. long.;

(2) 48°13.05′ N. lat., 125°37.43′ W. long.;

(3) 48°08.62′ N. lat., 125°41.68′ W. long.;

(4) 48°07.42′ N. lat., 125°42.38′ W. long.;

(5) 48°04.20′ N. lat., 125°36.57′ W. long.;

(6) 48°02.79′ N. lat., 125°35.55′ W. long.;

(7) 48°00.48′ N. lat., 125°37.84′ W. long.;

(8) 47°54.90′ N. lat., 125°34.79′ W. long.;

(9) 47°58.37′ N. lat., 125°26.58′ W. long.;

(10) 47°59.84′ N. lat., 125°25.20′ W. long.;

(11) 48°01.85′ N. lat., 125°24.12′ W. long.;

(12) 48°02.13′ N. lat., 125°22.80′ W. long.;

(13) 48°03.31′ N. lat., 125°22.46′ W. long.;

(14) 48°06.83′ N. lat., 125°17.73′ W. long.;

(15) 48°10.08′ N. lat., 125°15.56′ W. long.;

(16) 48°11.24′ N. lat., 125°13.72′ W. long.;

(17) 48°12.41′ N. lat., 125°14.48′ W. long.;

(18) 48°13.01′ N. lat., 125°13.77′ W. long.;

(19) 48°13.59′ N. lat., 125°12.83′ W. long.;

(20) 48°12.22′ N. lat., 125°12.28′ W. long.;

(21) 48°11.15′ N. lat., 125°12.26′ W. long.;

(22) 48°10.18′ N. lat., 125°10.44′ W. long.;

(23) 48°10.18′ N. lat., 125°06.32′ W. long.;

(24) 48°15.39′ N. lat., 125°02.83′ W. long.;

(25) 48°18.32′ N. lat., 125°01.00′ W. long.;

(26) 48°21.67′ N. lat., 125°01.86′ W. long.;

(27) 48°25.70′ N. lat., 125°00.10′ W. long.;

(28) 48°26.43′ N. lat., 124°56.65′ W. long.;

(29) 48°24.28′ N. lat., 124°56.48′ W. long.;

(30) 48°23.27′ N. lat., 124°59.12′ W. long.;

(31) 48°21.79′ N. lat., 124°59.30′ W. long.;

(32) 48°20.71′ N. lat., 124°58.74′ W. long.;

(33) 48°19.84′ N. lat., 124°57.09′ W. long.;

(34) 48°22.06′ N. lat., 124°54.78′ W. long.;

(35) 48°22.45′ N. lat., 124°53.35′ W. long.;

(36) 48°22.74′ N. lat., 124°50.96′ W. long.;

(37) 48°21.04′ N. lat., 124°52.60′ W. long.;

(38) 48°18.07′ N. lat., 124°55.85′ W. long.;

(39) 48°15.03′ N. lat., 124°58.16′ W. long.;

(40) 48°11.31′ N. lat., 124°58.53′ W. long.;

(41) 48°06.25′ N. lat., 125°00.06′ W. long.;

(42) 48°04.70′ N. lat., 125°01.80′ W. long.;

(43) 48°04.93′ N. lat., 125°03.92′ W. long.;

(44) 48°06.44′ N. lat., 125°06.50′ W. long.;

(45) 48°07.34′ N. lat., 125°09.35′ W. long.;

(46) 48°07.62′ N. lat., 125°11.37′ W. long.;

(47) 48°03.71′ N. lat., 125°17.63′ W. long.;

(48) 48°01.35′ N. lat., 125°18.66′ W. long.;

(49) 48°00.05′ N. lat., 125°19.66′ W. long.;

(50) 47°59.51′ N. lat., 125°18.90′ W. long.;

(51) 47°58.29′ N. lat., 125°16.64′ W. long.;

(52) 47°54.67′ N. lat., 125°13.20′ W. long.;

(53) 47°53.15′ N. lat., 125°12.53′ W. long.;

(54) 47°48.46′ N. lat., 125°04.72′ W. long.;

(55) 47°46.10′ N. lat., 125°04.00′ W. long.;

(56) 47°44.60′ N. lat., 125°04.49′ W. long.;

(57) 47°42.90′ N. lat., 125°04.72′ W. long.;

(58) 47°40.71′ N. lat., 125°04.68′ W. long.;

(59) 47°39.02′ N. lat., 125°05.63′ W. long.;

(60) 47°34.86′ N. lat., 125°02.11′ W. long.;

(61) 47°31.64′ N. lat., 124°58.11′ W. long.;

(62) 47°29.69′ N. lat., 124°55.71′ W. long.;

(63) 47°29.35′ N. lat., 124°53.23′ W. long.;

(64) 47°28.56′ N. lat., 124°51.34′ W. long.;

(65) 47°25.31′ N. lat., 124°48.20′ W. long.;

(66) 47°23.92′ N. lat., 124°47.15′ W. long.;

(67) 47°18.09′ N. lat., 124°45.74′ W. long.;

(68) 47°18.65′ N. lat., 124°51.51′ W. long.;

(69) 47°18.12′ N. lat., 124°52.58′ W. long.;

(70) 47°17.64′ N. lat., 124°50.45′ W. long.;

(71) 47°16.31′ N. lat., 124°50.92′ W. long.;

(72) 47°15.60′ N. lat., 124°52.62′ W. long.;

(73) 47°14.25′ N. lat., 124°52.49′ W. long.;

(74) 47°11.32′ N. lat., 124°57.19′ W. long.;

(75) 47°09.14′ N. lat., 124°57.46′ W. long.;

(76) 47°08.83′ N. lat., 124°58.47′ W. long.;

(77) 47°05.88′ N. lat., 124°58.26′ W. long.;

(78) 47°03.60′ N. lat., 124°55.84′ W. long.;

(79) 47°02.91′ N. lat., 124°56.15′ W. long.;

(80) 47°01.08′ N. lat., 124°59.46′ W. long.;

(81) 46°58.13′ N. lat., 124°58.83′ W. long.;

(82) 46°57.44′ N. lat., 124°57.78′ W. long.;

(83) 46°55.98′ N. lat., 124°54.60′ W. long.;

(84) 46°54.90′ N. lat., 124°54.14′ W. long.;

(85) 46°58.47′ N. lat., 124°49.65′ W. long.;

(86) 46°54.44′ N. lat., 124°48.79′ W. long.;

(87) 46°54.41′ N. lat., 124°52.87′ W. long.;

(88) 46°49.36′ N. lat., 124°52.77′ W. long.;

(89) 46°40.06′ N. lat., 124°45.34′ W. long.;

(90) 46°39.64′ N. lat., 124°42.21′ W. long.;

(91) 46°34.27′ N. lat., 124°34.63′ W. long.;

(92) 46°33.58′ N. lat., 124°29.10′ W. long.;

(93) 46°25.64′ N. lat., 124°32.57′ W. long.;

(94) 46°21.33′ N. lat., 124°36.36′ W. long.;

(95) 46°20.59′ N. lat., 124°36.15′ W. long.;

(96) 46°19.38′ N. lat., 124°38.21′ W. long.;

(97) 46°17.94′ N. lat., 124°38.10′ W. long.;

(98) 46°16.00′ N. lat., 124°22.17′ W. long.;

(99) 46°13.37′ N. lat., 124°30.70′ W. long.;

(100) 46°12.20′ N. lat., 124°36.04′ W. long.;

(101) 46°11.01′ N. lat., 124°38.68′ W. long.;

(102) 46°09.73′ N. lat., 124°39.91′ W. long.;

(103) 46°03.23′ N. lat., 124°42.03′ W. long.;

(104) 46°01.17′ N. lat., 124°42.06′ W. long.;

(105) 46°00.35′ N. lat., 124°42.26′ W. long.;

(106) 45°52.81′ N. lat., 124°41.62′ W. long.;

(107) 45°49.70′ N. lat., 124°41.14′ W. long.;

(108) 45°46.00′ N. lat., 124°38.92′ W. long.;

(109) 45°45.18′ N. lat., 124°38.39′ W. long.;

(110) 45°43.24′ N. lat., 124°37.77′ W. long.;

(111) 45°34.75′ N. lat., 124°28.59′ W. long.;

(112) 45°20.25′ N. lat., 124°21.52′ W. long.;

(113) 45°19.90′ N. lat., 124°21.34′ W. long.;

(114) 45°12.44′ N. lat., 124°19.35′ W. long.;

(115) 45°07.48′ N. lat., 124°19.73′ W. long.;

(116) 45°03.83′ N. lat., 124°21.20′ W. long.;

(117) 44°59.96′ N. lat., 124°22.91′ W. long.;

(118) 44°54.72′ N. lat., 124°26.84′ W. long.;

(119) 44°51.15′ N. lat., 124°31.41′ W. long.;

(120) 44°49.97′ N. lat., 124°32.37′ W. long.;

(121) 44°47.06′ N. lat., 124°34.43′ W. long.;

(122) 44°41.37′ N. lat., 124°36.51′ W. long.;

(123) 44°32.78′ N. lat., 124°37.86′ W. long.;

(124) 44°29.44′ N. lat., 124°44.25′ W. long.;

(125) 44°27.95′ N. lat., 124°45.13′ W. long.;

(126) 44°24.73′ N. lat., 124°47.42′ W. long.;

(127) 44°19.67′ N. lat., 124°51.17′ W. long.;

(128) 44°17.96′ N. lat., 124°52.53′ W. long.;

(129) 44°13.70′ N. lat., 124°56.45′ W. long.;

(130) 44°12.26′ N. lat., 124°57.53′ W. long.;

(131) 44°08.30′ N. lat., 124°57.17′ W. long.;

(132) 44°07.57′ N. lat., 124°57.19′ W. long.;

(133) 44°04.78′ N. lat., 124°56.31′ W. long.;

(134) 44°01.14′ N. lat., 124°56.07′ W. long.;

(135) 43°57.39′ N. lat., 124°57.01′ W. long.;

(136) 43°54.58′ N. lat., 124°52.18′ W. long.;

(137) 43°53.18′ N. lat., 124°47.41′ W. long.;

(138) 43°53.60′ N. lat., 124°37.45′ W. long.;

(139) 43°53.04′ N. lat., 124°36.00′ W. long.;

(140) 43°47.93′ N. lat., 124°35.18′ W. long.;

(141) 43°39.32′ N. lat., 124°35.14′ W. long.;

(142) 43°32.38′ N. lat., 124°35.26′ W. long.;

(143) 43°30.32′ N. lat., 124°36.79′ W. long.;

(144) 43°27.81′ N. lat., 124°36.42′ W. long.;

(145) 43°23.73′ N. lat., 124°39.66′ W. long.;

(146) 43°20.83′ N. lat., 124°41.18′ W. long.;

(147) 43°10.48′ N. lat., 124°43.54′ W. long.;

(148) 43°04.77′ N. lat., 124°45.51′ W. long.;

(149) 43°05.94′ N. lat., 124°49.77′ W. long.;

(150) 43°03.38′ N. lat., 124°51.86′ W. long.;

(151) 42°59.32′ N. lat., 124°51.93′ W. long.;

(152) 42°56.80′ N. lat., 124°53.38′ W. long.;

(153) 42°54.54′ N. lat., 124°52.72′ W. long.;

(154) 42°52.89′ N. lat., 124°47.45′ W. long.;

(155) 42°50.00′ N. lat., 124°47.03′ W. long.;

(156) 42°48.10′ N. lat., 124°46.75′ W. long.;

(157) 42°46.34′ N. lat., 124°43.53′ W. long.;

(158) 42°41.66′ N. lat., 124°42.70′ W. long.;

(159) 42°40.50′ N. lat., 124°42.69′ W. long.;

(160) 42°32.53′ N. lat., 124°42.77′ W. long.;

(161) 42°29.74′ N. lat., 124°43.81′ W. long.;

(162) 42°28.07′ N. lat., 124°47.65′ W. long.;

(163) 42°21.58′ N. lat., 124°41.41′ W. long.;

(164) 42°15.17′ N. lat., 124°36.25′ W. long.;

(165) 42°13.67′ N. lat., 124°36.20′ W. long.;

(166) 42°08.28′ N. lat., 124°36.08′ W. long.;

(167) 42°00.00′ N. lat., 124°35.46′ W. long.;

(168) 41°47.67′ N. lat., 124°28.67′ W. long.;

(169) 41°32.91′ N. lat., 124°29.01′ W. long.;

(170) 41°22.57′ N. lat., 124°28.66′ W. long.;

(171) 41°13.38′ N. lat., 124°22.88′ W. long.;

(172) 41°06.42′ N. lat., 124°22.02′ W. long.;

(173) 40°50.19′ N. lat., 124°25.58′ W. long.;

(174) 40°44.08′ N. lat., 124°30.43′ W. long.;

(175) 40°40.54′ N. lat., 124°31.75′ W. long.;

(176) 40°37.36′ N. lat., 124°29.17′ W. long.;

(177) 40°35.30′ N. lat., 124°30.03′ W. long.;

(178) 40°37.02′ N. lat., 124°37.10′ W. long.;

(179) 40°35.82′ N. lat., 124°39.58′ W. long.;

(180) 40°31.70′ N. lat., 124°39.97′ W. long.;

(181) 40°30.00′ N. lat., 124°38.50′ W. long.;

(182) 40°24.77′ N. lat., 124°35.39′ W. long.;

(183) 40°23.22′ N. lat., 124°31.87′ W. long.;

(184) 40°23.40′ N. lat., 124°28.65′ W. long.;

(185) 40°22.30′ N. lat., 124°25.27′ W. long.;

(186) 40°21.91′ N. lat., 124°25.18′ W. long.;

(187) 40°21.91′ N. lat., 124°27.97′ W. long.;

(188) 40°21.37′ N. lat., 124°29.03′ W. long.;

(189) 40°19.74′ N. lat., 124°28.71′ W. long.;

(190) 40°18.52′ N. lat., 124°27.26′ W. long.;

(191) 40°17.57′ N. lat., 124°25.49′ W. long.;

(192) 40°18.20′ N. lat., 124°23.63′ W. long.;

(193) 40°15.89′ N. lat., 124°26.00′ W. long.;

(194) 40°17.00′ N. lat., 124°35.01′ W. long.;

(195) 40°15.97′ N. lat., 124°35.91′ W. long.;

(196) 40°10.00′ N. lat., 124°22.00′ W. long.;

(197) 40°07.35′ N. lat., 124°18.64′ W. long.;

(198) 40°08.46′ N. lat., 124°16.24′ W. long.;

(199) 40°06.26′ N. lat., 124°17.54′ W. long.;

(200) 40°03.26′ N. lat., 124°15.30′ W. long.;

(201) 40°02.00′ N. lat., 124°12.97′ W. long.;

(202) 40°02.60′ N. lat., 124°10.61′ W. long.;

(203) 40°03.63′ N. lat., 124°09.12′ W. long.;

(204) 40°02.18′ N. lat., 124°09.07′ W. long.;

(205) 40°01.26′ N. lat., 124°09.86′ W. long.;

(206) 39°58.05′ N. lat., 124°11.87′ W. long.;

(207) 39°56.39′ N. lat., 124°08.70′ W. long.;

(208) 39°54.64′ N. lat., 124°07.31′ W. long.;

(209) 39°53.87′ N. lat., 124°07.95′ W. long.;

(210) 39°52.42′ N. lat., 124°08.18′ W. long.;

(211) 39°42.50′ N. lat., 124°00.60′ W. long.;

(212) 39°34.23′ N. lat., 123°56.82′ W. long.;

(213) 39°33.00′ N. lat., 123°56.44′ W. long.;

(214) 39°30.96′ N. lat., 123°56.00′ W. long.;

(215) 39°32.03′ N. lat., 123°57.44′ W. long.;

(216) 39°31.43′ N. lat., 123°58.16′ W. long.;

(217) 39°05.56′ N. lat., 123°57.24′ W. long.;

(218) 39°01.75′ N. lat., 123°56.83′ W. long.;

(219) 38°59.52′ N. lat., 123°55.95′ W. long.;

(220) 38°58.98′ N. lat., 123°56.57′ W. long.;

(221) 38°57.50′ N. lat., 123°56.57′ W. long.;

(222) 38°53.91′ N. lat., 123°56.00′ W. long.;

(223) 38°42.57′ N. lat., 123°46.60′ W. long.;

(224) 38°28.72′ N. lat., 123°35.61′ W. long.;

(225) 38°28.01′ N. lat., 123°36.47′ W. long.;

(226) 38°20.94′ N. lat., 123°31.26′ W. long.;

(227) 38°15.94′ N. lat., 123°25.33′ W. long.;

(228) 38°10.95′ N. lat., 123°23.19′ W. long.;

(229) 38°05.52′ N. lat., 123°22.90′ W. long.;

(230) 38°08.46′ N. lat., 123°26.23′ W. long.;

(231) 38°06.95′ N. lat., 123°28.03′ W. long.;

(232) 38°06.34′ N. lat., 123°29.80′ W. long.;

(233) 38°04.57′ N. lat., 123°31.24′ W. long.;

(234) 38°02.33′ N. lat., 123°31.02′ W. long.;

(235) 38°00.00′ N. lat., 123°28.23′ W. long.;

(236) 37°58.10′ N. lat., 123°26.69′ W. long.;

(237) 37°55.46′ N. lat., 123°27.05′ W. long.;

(238) 37°51.51′ N. lat., 123°24.86′ W. long.;

(239) 37°45.01′ N. lat., 123°12.09′ W. long.;

(240) 37°35.67′ N. lat., 123°01.56′ W. long.;

(241) 37°26.62′ N. lat., 122°56.21′ W. long.;

(242) 37°14.41′ N. lat., 122°49.07′ W. long.;

(243) 37°11.00′ N. lat., 122°45.87′ W. long.;

(244) 37°07.00′ N. lat., 122°41.97′ W. long.;

(245) 37°03.19′ N. lat., 122°38.31′ W. long.;

(246) 37°00.99′ N. lat., 122°35.51′ W. long.;

(247) 36°58.23′ N. lat., 122°27.36′ W. long.;

(248) 37°00.54′ N. lat., 122°24.74′ W. long.;

(249) 36°57.81′ N. lat., 122°24.65′ W. long.;

(250) 36°58.54′ N. lat., 122°21.67′ W. long.;

(251) 36°56.52′ N. lat., 122°21.70′ W. long.;

(252) 36°55.37′ N. lat., 122°18.45′ W. long.;

(253) 36°52.16′ N. lat., 122°12.17′ W. long.;

(244) 36°51.53′ N. lat., 122°10.67′ W. long.;

(255) 36°48.05′ N. lat., 122°07.59′ W. long.;

(256) 36°47.35′ N. lat., 122°03.27′ W. long.;

(257) 36°50.71′ N. lat., 121°58.17′ W. long.;

(258) 36°48.89′ N. lat., 121°58.90′ W. long.;

(259) 36°47.70′ N. lat., 121°58.76′ W. long.;

(260) 36°48.37′ N. lat., 121°51.15′ W. long.;

(261) 36°45.74′ N. lat., 121°54.18′ W. long.;

(262) 36°45.50′ N. lat., 121°57.73′ W. long.;

(263) 36°44.02′ N. lat., 121°58.55′ W. long.;

(264) 36°38.84′ N. lat., 122°01.32′ W. long.;

(265) 36°35.63′ N. lat., 122°00.98′ W. long.;

(266) 36°32.47′ N. lat., 121°59.17′ W. long.;

(267) 36°32.52′ N. lat., 121°57.62′ W. long.;

(268) 36°30.16′ N. lat., 122°00.55′ W. long.;

(269) 36°24.56′ N. lat., 121°59.19′ W. long.;

(270) 36°22.19′ N. lat., 122°00.30′ W. long.;

(271) 36°20.62′ N. lat., 122°02.93′ W. long.;

(272) 36°18.89′ N. lat., 122°05.18′ W. long.;

(273) 36°14.45′ N. lat., 121°59.44′ W. long.;

(274) 36°13.73′ N. lat., 121°57.38′ W. long.;

(275) 36°14.41′ N. lat., 121°55.45′ W. long.;

(276) 36°10.25′ N. lat., 121°43.08′ W. long.;

(277) 36°07.67′ N. lat., 121°40.92′ W. long.;

(278) 36°02.51′ N. lat., 121°36.76′ W. long.;

(279) 36°00.00′ N. lat., 121°35.15′ W. long.;

(280) 35°57.84′ N. lat., 121°33.10′ W. long.;

(281) 35°45.57′ N. lat., 121°27.26′ W. long.;

(282) 35°39.02′ N. lat., 121°22.86′ W. long.;

(283) 35°25.92′ N. lat., 121°05.52′ W. long.;

(284) 35°16.26′ N. lat., 121°01.50′ W. long.;

(285) 35°07.60′ N. lat., 120°56.49′ W. long.;

(286) 34°57.77′ N. lat., 120°53.87′ W. long.;

(287) 34°42.30′ N. lat., 120°53.42′ W. long.;

(288) 34°37.69′ N. lat., 120°50.04′ W. long.;

(289) 34°30.13′ N. lat., 120°44.45′ W. long.;

(290) 34°27.00′ N. lat., 120°39.24′ W. long.;

(291) 34°24.71′ N. lat., 120°35.37′ W. long.;

(292) 34°21.63′ N. lat., 120°24.86′ W. long.;

(293) 34°24.39′ N. lat., 120°16.65′ W. long.;

(294) 34°22.48′ N. lat., 119°56.42′ W. long.;

(295) 34°18.54′ N. lat., 119°46.26′ W. long.;

(296) 34°16.37′ N. lat., 119°45.12′ W. long.;

(297) 34°15.91′ N. lat., 119°47.29′ W. long.;

(298) 34°13.80′ N. lat., 119°45.40′ W. long.;

(299) 34°11.69′ N. lat., 119°41.80′ W. long.;

(300) 34°09.98′ N. lat., 119°31.87′ W. long.;

(301) 34°08.12′ N. lat., 119°27.71′ W. long.;

(302) 34°06.35′ N. lat., 119°32.65′ W. long.;

(303) 34°06.80′ N. lat., 119°40.08′ W. long.;

(304) 34°07.48′ N. lat., 119°47.54′ W. long.;

(305) 34°08.21′ N. lat., 119°54.90′ W. long.;

(306) 34°06.85′ N. lat., 120°05.60′ W. long.;

(307) 34°06.99′ N. lat., 120°10.37′ W. long.;

(308) 34°08.53′ N. lat., 120°17.89′ W. long.;

(309) 34°10.00′ N. lat., 120°23.05′ W. long.;

(310) 34°12.53′ N. lat., 120°29.82′ W. long.;

(311) 34°09.02′ N. lat., 120°37.47′ W. long.;

(312) 34°01.01′ N. lat., 120°31.17′ W. long.;

(313) 33°58.07′ N. lat., 120°28.33′ W. long.;

(314) 33°53.37′ N. lat., 120°14.43′ W. long.;

(315) 33°50.53′ N. lat., 120°07.20′ W. long.;

(316) 33°45.88′ N. lat., 120°04.26′ W. long.;

(317) 33°38.19′ N. lat., 119°57.85′ W. long.;

(318) 33°38.19′ N. lat., 119°50.42′ W. long.;

(319) 33°42.36′ N. lat., 119°49.60′ W. long.;

(320) 33°53.95′ N. lat., 119°53.81′ W. long.;

(321) 33°55.85′ N. lat., 119°43.34′ W. long.;

(322) 33°58.48′ N. lat., 119°27.90′ W. long.;

(323) 34°00.34′ N. lat., 119°19.22′ W. long.;

(324) 34°04.48′ N. lat., 119°15.32′ W. long.;

(325) 34°02.80′ N. lat., 119°12.95′ W. long.;

(326) 34°02.39′ N. lat., 119°07.17′ W. long.;

(327) 34°03.75′ N. lat., 119°04.72′ W. long.;

(328) 34°01.82′ N. lat., 119°03.24′ W. long.;

(329) 33°59.33′ N. lat., 119°03.49′ W. long.;

(330) 33°59.01′ N. lat., 118°59.56′ W. long.;

(331) 33°59.51′ N. lat., 118°57.25′ W. long.;

(332) 33°58.83′ N. lat., 118°52.50′ W. long.;

(333) 33°58.55′ N. lat., 118°41.86′ W. long.;

(334) 33°55.10′ N. lat., 118°34.25′ W. long.;

(335) 33°54.30′ N. lat., 118°38.71′ W. long.;

(336) 33°50.88′ N. lat., 118°37.02′ W. long.;

(337) 33°39.78′ N. lat., 118°18.40′ W. long.;

(338) 33°35.50′ N. lat., 118°16.85′ W. long.;

(339) 33°32.46′ N. lat., 118°10.90′ W. long.;

(340) 33°34.11′ N. lat., 117°54.07′ W. long.;

(341) 33°31.61′ N. lat., 117°49.30′ W. long.;

(342) 33°16.36′ N. lat., 117°35.48′ W. long.;

(343) 33°06.81′ N. lat., 117°22.93′ W. long.;

(344) 32°59.28′ N. lat., 117°19.69′ W. long.;

(345) 32°55.37′ N. lat., 117°19.55′ W. long.;

(346) 32°53.35′ N. lat., 117°17.05′ W. long.;

(347) 32°53.36′ N. lat., 117°19.12′ W. long.;

(348) 32°46.42′ N. lat., 117°23.45′ W. long.;

(349) 32°42.71′ N. lat., 117°21.45′ W. long.; and

(350) 32°34.54′ N. lat., 117°23.04′ W. long.

(e) The 125 fm (229 m) depth contour around San Clemente Island off the state of California is defined by straight lines connecting all of the following points in the order stated:

(1) 33°04.73′ N. lat., 118°37.99′ W. long.;

(2) 33°02.67′ N. lat., 118°34.07′ W. long.;

(3) 32°55.97′ N. lat., 118°28.95′ W. long.;

(4) 32°49.79′ N. lat., 118°20.89′ W. long.;

(5) 32°48.02′ N. lat., 118°19.49′ W. long.;

(6) 32°47.37′ N. lat., 118°21.72′ W. long.;

(7) 32°43.58′ N. lat., 118°24.54′ W. long.;

(8) 32°49.74′ N. lat., 118°32.11′ W. long.;

(9) 32°53.36′ N. lat., 118°33.44′ W. long.;

(10) 32°55.03′ N. lat., 118°34.64′ W. long.;

(11) 32°54.89′ N. lat., 118°35.37′ W. long.;

(12) 33°00.20′ N. lat., 118°38.72′ W. long.;

(13) 33°03.15′ N. lat., 118°39.80′ W. long.; and

(14) 33°04.73′ N. lat., 118°37.99′ W. long.

(f) The 125 fm (229 m) depth contour around Santa Catalina Island off the state of California is defined by straight lines connecting all of the following points in the order stated:

(1) 33°28.42′ N. lat., 118°39.85′ W. long.;

(2) 33°29.99′ N. lat., 118°36.14′ W. long.;

(3) 33°29.47′ N. lat., 118°33.66′ W. long.;

(4) 33°29.31′ N. lat., 118°30.53′ W. long.;

(5) 33°27.24′ N. lat., 118°27.71′ W. long.;

(6) 33°25.77′ N. lat., 118°22.57′ W. long.;

(7) 33°23.76′ N. lat., 118°19.27′ W. long.;

(8) 33°17.61′ N. lat., 118°13.61′ W. long.;

(9) 33°16.16′ N. lat., 118°13.98′ W. long.;

(10) 33°15.86′ N. lat., 118°15.27′ W. long.;

(11) 33°18.11′ N. lat., 118°27.96′ W. long.;

(12) 33°19.83′ N. lat., 118°32.16′ W. long.;

(13) 33°20.81′ N. lat., 118°32.94′ W. long.;

(14) 33°21.99′ N. lat., 118°32.04′ W. long.;

(15) 33°23.09′ N. lat., 118°30.37′ W. long.;

(16) 33°24.78′ N. lat., 118°32.46′ W. long.;

(17) 33°25.43′ N. lat., 118°34.93′ W. long.; and

(18) 33°28.42′ N. lat., 118°39.85′ W. long.

(g) The 125 fm (229 m) depth contour around Lasuen Knoll off the state of California is defined by straight lines connecting all of the following points in the order stated:

(1) 33°24.57′ N. lat., 118°00.15′ W. long.;

(2) 33°23.42′ N. lat., 117°59.43′ W. long.;

(3) 33°23.69′ N. lat., 117°58.72′ W. long.;

(4) 33°24.72′ N. lat., 117°59.51′ W. long.; and

(5) 33°24.57′ N. lat., 118°00.15′ W. long.

(h) The 150 fm (274 m) depth contour used between the U.S. border with Canada and the U.S. border with Mexico is defined by straight lines connecting all of the following points in the order stated:

(1) 48°14.96′ N. lat., 125°41.24′ W. long.;

(2) 48°12.89′ N. lat., 125°37.83′ W. long.;

(3) 48°11.49′ N. lat., 125°39.27′ W. long.;

(4) 48°08.72′ N. lat., 125°41.84′ W. long.;

(5) 48°07.00′ N. lat., 125°45.00′ W. long.;

(6) 48°06.13′ N. lat., 125°41.57′ W. long.;

(7) 48°05.00′ N. lat., 125°39.00′ W. long.;

(8) 48°04.15′ N. lat., 125°36.71′ W. long.;

(9) 48°03.00′ N. lat., 125°36.00′ W. long.;

(10) 48°01.65′ N. lat., 125°36.96′ W. long.;

(11) 48°01.00′ N. lat., 125°38.50′ W. long.;

(12) 47°57.50′ N. lat., 125°36.50′ W. long.;

(13) 47°56.53′ N. lat., 125°30.33′ W. long.;

(14) 47°57.28′ N. lat., 125°27.89′ W. long.;

(15) 47°59.00′ N. lat., 125°25.50′ W. long.;

(16) 48°01.77′ N. lat., 125°24.05′ W. long.;

(17) 48°02.08′ N. lat., 125°22.98′ W. long.;

(18) 48°03.00′ N. lat., 125°22.50′ W. long.;

(19) 48°03.46′ N. lat., 125°22.10′ W. long.;

(20) 48°04.29′ N. lat., 125°20.37′ W. long.;

(21) 48°02.00′ N. lat., 125°18.50′ W. long.;

(22) 48°00.01′ N. lat., 125°19.90′ W. long.;

(23) 47°58.75′ N. lat., 125°17.54′ W. long.;

(24) 47°53.50′ N. lat., 125°13.50′ W. long.;

(25) 47°48.88′ N. lat., 125°05.91′ W. long.;

(26) 47°48.50′ N. lat., 125°05.00′ W. long.;

(27) 47°45.98′ N. lat., 125°04.26′ W. long.;

(28) 47°45.00′ N. lat., 125°05.50′ W. long.;

(29) 47°42.11′ N. lat., 125°04.74′ W. long.;

(30) 47°39.00′ N. lat., 125°06.00′ W. long.;

(31) 47°35.53′ N. lat., 125°04.55′ W. long.;

(32) 47°30.90′ N. lat., 124°57.31′ W. long.;

(33) 47°29.54′ N. lat., 124°56.50′ W. long.;

(34) 47°29.50′ N. lat., 124°54.50′ W. long.;

(35) 47°28.57′ N. lat., 124°51.50′ W. long.;

(36) 47°25.00′ N. lat., 124°48.00′ W. long.;

(37) 47°23.95′ N. lat., 124°47.24′ W. long.;

(38) 47°23.00′ N. lat., 124°47.00′ W. long.;

(39) 47°21.00′ N. lat., 124°46.50′ W. long.;

(40) 47°18.20′ N. lat., 124°45.84′ W. long.;

(41) 47°18.50′ N. lat., 124°49.00′ W. long.;

(42) 47°19.17′ N. lat., 124°50.86′ W. long.;

(43) 47°18.07′ N. lat., 124°53.29′ W. long.;

(44) 47°17.78′ N. lat., 124°51.39′ W. long.;

(45) 47°16.81′ N. lat., 124°50.85′ W. long.;

(46) 47°15.96′ N. lat., 124°53.15′ W. long.;

(47) 47°14.31′ N. lat., 124°52.62′ W. long.;

(48) 47°11.87′ N. lat., 124°56.90′ W. long.;

(49) 47°12.39′ N. lat., 124°58.09′ W. long.;

(50) 47°09.50′ N. lat., 124°57.50′ W. long.;

(51) 47°09.00′ N. lat., 124°59.00′ W. long.;

(52) 47°06.06′ N. lat., 124°58.80′ W. long.;

(53) 47°03.62′ N. lat., 124°55.96′ W. long.;

(54) 47°02.89′ N. lat., 124°56.89′ W. long.;

(55) 47°01.04′ N. lat., 124°59.54′ W. long.;

(56) 46°58.47′ N. lat., 124°59.08′ W. long.;

(57) 46°58.29′ N. lat., 125°00.28′ W. long.;

(58) 46°56.30′ N. lat., 125°00.75′ W. long.;

(59) 46°57.09′ N. lat., 124°58.86′ W. long.;

(60) 46°55.95′ N. lat., 124°54.88′ W. long.;

(61) 46°54.79′ N. lat., 124°54.14′ W. long.;

(62) 46°58.00′ N. lat., 124°50.00′ W. long.;

(63) 46°54.50′ N. lat., 124°49.00′ W. long.;

(64) 46°54.53′ N. lat., 124°52.94′ W. long.;

(65) 46°49.52′ N. lat., 124°53.41′ W. long.;

(66) 46°42.24′ N. lat., 124°47.86′ W. long.;

(67) 46°39.50′ N. lat., 124°42.50′ W. long.;

(68) 46°37.50′ N. lat., 124°41.00′ W. long.;

(69) 46°36.50′ N. lat., 124°38.00′ W. long.;

(70) 46°33.85′ N. lat., 124°36.99′ W. long.;

(71) 46°33.50′ N. lat., 124°29.50′ W. long.;

(72) 46°32.00′ N. lat., 124°31.00′ W. long.;

(73) 46°30.53′ N. lat., 124°30.55′ W. long.;

(74) 46°25.50′ N. lat., 124°33.00′ W. long.;

(75) 46°23.00′ N. lat., 124°35.00′ W. long.;

(76) 46°21.05′ N. lat., 124°37.00′ W. long.;

(77) 46°20.64′ N. lat., 124°36.21′ W. long.;

(78) 46°20.36′ N. lat., 124°37.85′ W. long.;

(79) 46°19.48′ N. lat., 124°38.35′ W. long.;

(80) 46°17.87′ N. lat., 124°38.54′ W. long.;

(81) 46°16.15′ N. lat., 124°25.20′ W. long.;

(82) 46°16.00′ N. lat., 124°23.00′ W. long.;

(83) 46°14.87′ N. lat., 124°26.15′ W. long.;

(84) 46°13.38′ N. lat., 124°31.36′ W. long.;

(85) 46°12.09′ N. lat., 124°38.39′ W. long.;

(86) 46°09.46′ N. lat., 124°40.64′ W. long.;

(87) 46°07.30′ N. lat., 124°40.68′ W. long.;

(88) 46°02.76′ N. lat., 124°44.01′ W. long.;

(89) 46°01.22′ N. lat., 124°43.47′ W. long.;

(90) 45°51.82′ N. lat., 124°42.89′ W. long.;

(91) 45°46.00′ N. lat., 124°40.88′ W. long.;

(92) 45°45.95′ N. lat., 124°40.72′ W. long.;

(93) 45°44.11′ N. lat., 124°43.09′ W. long.;

(94) 45°34.50′ N. lat., 124°30.27′ W. long.;

(95) 45°21.10′ N. lat., 124°23.11′ W. long.;

(96) 45°20.25′ N. lat., 124°22.92′ W. long.;

(97) 45°09.69′ N. lat., 124°20.45′ W. long.;

(98) 45°03.83′ N. lat., 124°23.30′ W. long.;

(99) 44°56.25′ N. lat., 124°27.03′ W. long.;

(100) 44°44.47′ N. lat., 124°37.85′ W. long.;

(101) 44°31.81′ N. lat., 124°39.60′ W. long.;

(102) 44°31.48′ N. lat., 124°43.30′ W. long.;

(103) 44°12.04′ N. lat., 124°58.16′ W. long.;

(104) 44°08.30′ N. lat., 124°57.84′ W. long.;

(105) 44°07.38′ N. lat., 124°57.87′ W. long.;

(106) 43°57.06′ N. lat., 124°57.20′ W. long.;

(107) 43°52.52′ N. lat., 124°49.00′ W. long.;

(108) 43°51.55′ N. lat., 124°37.49′ W. long.;

(109) 43°47.83′ N. lat., 124°36.43′ W. long.;

(110) 43°31.79′ N. lat., 124°36.80′ W. long.;

(111) 43°29.34′ N. lat., 124°36.77′ W. long.;

(112) 43°26.46′ N. lat., 124°40.02′ W. long.;

(113) 43°20.83′ N. lat., 124°42.39′ W. long.;

(114) 43°16.15′ N. lat., 124°44.37′ W. long.;

(115) 43°09.33′ N. lat., 124°45.35′ W. long.;

(116) 43°08.85′ N. lat., 124°48.92′ W. long.;

(117) 43°03.23′ N. lat., 124°52.41′ W. long.;

(118) 43°00.25′ N. lat., 124°51.93′ W. long.;

(119) 42°56.62′ N. lat., 124°53.93′ W. long.;

(120) 42°54.84′ N. lat., 124°54.01′ W. long.;

(121) 42°52.31′ N. lat., 124°50.76′ W. long.;

(122) 42°50.00′ N. lat., 124°48.97′ W. long.;

(123) 42°47.78′ N. lat., 124°47.27′ W. long.;

(124) 42°46.32′ N. lat., 124°43.59′ W. long.;

(125) 42°41.63′ N. lat., 124°44.07′ W. long.;

(126) 42°40.50′ N. lat., 124°43.52′ W. long.;

(127) 42°38.83′ N. lat., 124°42.77′ W. long.;

(128) 42°35.37′ N. lat., 124°43.22′ W. long.;

(129) 42°32.78′ N. lat., 124°44.68′ W. long.;

(130) 42°32.19′ N. lat., 124°42.40′ W. long.;

(131) 42°30.28′ N. lat., 124°44.30′ W. long.;

(132) 42°28.16′ N. lat., 124°48.38′ W. long.;

(133) 42°18.34′ N. lat., 124°38.77′ W. long.;

(134) 42°13.67′ N. lat., 124°36.80′ W. long.;

(135) 42°13.65′ N. lat., 124°36.82′ W. long.;

(136) 42°00.00′ N. lat., 124°35.99′ W. long.;

(137) 41°47.80′ N. lat., 124°29.41′ W. long.;

(138) 41°23.51′ N. lat., 124°29.50′ W. long.;

(139) 41°13.29′ N. lat., 124°23.31′ W. long.;

(140) 41°06.23′ N. lat., 124°22.62′ W. long.;

(141) 40°55.60′ N. lat., 124°26.04′ W. long.;

(142) 40°49.62′ N. lat., 124°26.57′ W. long.;

(143) 40°45.72′ N. lat., 124°30.00′ W. long.;

(144) 40°40.56′ N. lat., 124°32.11′ W. long.;

(145) 40°37.33′ N. lat., 124°29.27′ W. long.;

(146) 40°35.60′ N. lat., 124°30.49′ W. long.;

(147) 40°37.38′ N. lat., 124°37.14′ W. long.;

(148) 40°36.03′ N. lat., 124°39.97′ W. long.;

(149) 40°31.58′ N. lat., 124°40.74′ W. long.;

(150) 40°30.00′ N. lat., 124°38.50′ W. long.;

(151) 40°29.76′ N. lat., 124°38.13′ W. long.;

(152) 40°28.22′ N. lat., 124°37.23′ W. long.;

(153) 40°24.86′ N. lat., 124°35.71′ W. long.;

(154) 40°23.01′ N. lat., 124°31.94′ W. long.;

(155) 40°23.39′ N. lat., 124°28.64′ W. long.;

(156) 40°22.29′ N. lat., 124°25.25′ W. long.;

(157) 40°21.90′ N. lat., 125°25.18′ W. long.;

(158) 40°22.02′ N. lat., 124°28.00′ W. long.;

(159) 40°21.34′ N. lat., 124°29.53′ W. long.;

(160) 40°19.74′ N. lat., 124°28.95′ W. long.;

(161) 40°18.13′ N. lat., 124°27.08′ W. long.;

(162) 40°17.45′ N. lat., 124°25.53′ W. long.;

(163) 40°17.97′ N. lat., 124°24.12′ W. long.;

(164) 40°15.96′ N. lat., 124°26.05′ W. long.;

(165) 40°17.00′ N. lat., 124°35.01′ W. long.;

(166) 40°15.97′ N. lat., 124°35.90′ W. long.;

(167) 40°10.00′ N. lat., 124°22.96′ W. long.;

(168) 40°07.00′ N. lat., 124°19.00′ W. long.;

(169) 40°08.10′ N. lat., 124°16.70′ W. long.;

(170) 40°05.90′ N. lat., 124°17.77′ W. long.;

(171) 40°02.99′ N. lat., 124°15.55′ W. long.;

(172) 40°02.00′ N. lat., 124°12.97′ W. long.;

(173) 40°02.60′ N. lat., 124°10.61′ W. long.;

(174) 40°03.63′ N. lat., 124°09.12′ W. long.;

(175) 40°02.18′ N. lat., 124°09.07′ W. long.;

(176) 39°58.25′ N. lat., 124°12.56′ W. long.;

(177) 39°57.03′ N. lat., 124°11.34′ W. long.;

(178) 39°56.30′ N. lat., 124°08.96′ W. long.;

(179) 39°54.82′ N. lat., 124°07.66′ W. long.;

(180) 39°52.57′ N. lat., 124°08.55′ W. long.;

(181) 39°45.34′ N. lat., 124°03.30′ W. long.;

(182) 39°34.75′ N. lat., 123°58.50′ W. long.;

(183) 39°34.22′ N. lat., 123°56.82′ W. long.;

(184) 39°32.98′ N. lat., 123°56.43′ W. long.;

(185) 39°31.47′ N. lat., 123°58.73′ W. long.;

(186) 39°05.68′ N. lat., 123°57.81′ W. long.;

(187) 39°00.24′ N. lat., 123°56.74′ W. long.;

(188) 38°57.50′ N. lat., 123°56.74′ W. long.;

(189) 38°54.31′ N. lat., 123°56.73′ W. long.;

(190) 38°41.42′ N. lat., 123°46.75′ W. long.;

(191) 38°39.61′ N. lat., 123°46.48′ W. long.;

(192) 38°37.52′ N. lat., 123°43.78′ W. long.;

(193) 38°35.25′ N. lat., 123°42.00′ W. long.;

(194) 38°28.79′ N. lat., 123°37.07′ W. long.;

(195) 38°19.88′ N. lat., 123°32.54′ W. long.;

(196) 38°14.43′ N. lat., 123°25.56′ W. long.;

(197) 38°08.75′ N. lat., 123°24.48′ W. long.;

(198) 38°10.10′ N. lat., 123°27.20′ W. long.;

(199) 38°07.16′ N. lat., 123°28.18′ W. long.;

(200) 38°06.42′ N. lat., 123°30.18′ W. long.;

(201) 38°04.28′ N. lat., 123°31.70′ W. long.;

(202) 38°01.88′ N. lat., 123°30.98′ W. long.;

(203) 38°00.75′ N. lat., 123°29.72′ W. long.;

(204) 38°00.00′ N. lat., 123°28.60′ W. long.;

(205) 37°58.23′ N. lat., 123°26.90′ W. long.;

(206) 37°55.32′ N. lat., 123°27.19′ W. long.;

(207) 37°51.47′ N. lat., 123°24.92′ W. long.;

(208) 37°44.47′ N. lat., 123°11.57′ W. long.;

(209) 37°35.67′ N. lat., 123°01.76′ W. long.;

(210) 37°15.16′ N. lat., 122°51.64′ W. long.;

(211) 37°11.00′ N. lat., 122°47.20′ W. long.;

(212) 37°07.00′ N. lat., 122°42.90′ W. long.;

(213) 37°01.68′ N. lat., 122°37.28′ W. long.;

(214) 36°59.70′ N. lat., 122°33.71′ W. long.;

(215) 36°58.00′ N. lat., 122°27.80′ W. long.;

(216) 37°00.25′ N. lat., 122°24.85′ W. long.;

(217) 36°57.50′ N. lat., 122°24.98′ W. long.;

(218) 36°58.38′ N. lat., 122°21.85′ W. long.;

(219) 36°55.85′ N. lat., 122°21.95′ W. long.;

(220) 36°52.02′ N. lat., 122°12.10′ W. long.;

(221) 36°47.63′ N. lat., 122°07.37′ W. long.;

(222) 36°47.26′ N. lat., 122°03.22′ W. long.;

(223) 36°50.34′ N. lat., 121°58.40′ W. long.;

(224) 36°48.83′ N. lat., 121°59.14′ W. long.;

(225) 36°44.81′ N. lat., 121°58.28′ W. long.;

(226) 36°39.00′ N. lat., 122°01.71′ W. long.;

(227) 36°29.60′ N. lat., 122°00.49′ W. long.;

(228) 36°23.43′ N. lat., 121°59.76′ W. long.;

(229) 36°18.90′ N. lat., 122°05.32′ W. long.;

(230) 36°15.38′ N. lat., 122°01.40′ W. long.;

(231) 36°13.79′ N. lat., 121°58.12′ W. long.;

(232) 36°10.12′ N. lat., 121°43.33′ W. long.;

(233) 36°02.57′ N. lat., 121°37.02′ W. long.;

(234) 36°00.00′ N. lat., 121°35.15′ W. long.;

(235) 35°57.74′ N. lat., 121°33.45′ W. long.;

(236) 35°51.32′ N. lat., 121°30.08′ W. long.;

(237) 35°45.84′ N. lat., 121°28.84′ W. long.;

(238) 35°38.94′ N. lat., 121°23.16′ W. long.;

(239) 35°26.00′ N. lat., 121°08.00′ W. long.;

(240) 35°07.42′ N. lat., 120°57.08′ W. long.;

(241) 34°42.76′ N. lat., 120°55.09′ W. long.;

(242) 34°37.75′ N. lat., 120°51.96′ W. long.;

(243) 34°29.29′ N. lat., 120°44.19′ W. long.;

(244) 34°27.00′ N. lat., 120°40.42′ W. long.;

(245) 34°21.89′ N. lat., 120°31.36′ W. long.;

(246) 34°20.79′ N. lat., 120°21.58′ W. long.;

(247) 34°23.97′ N. lat., 120°15.25′ W. long.;

(248) 34°22.11′ N. lat., 119°56.63′ W. long.;

(249) 34°19.00′ N. lat., 119°48.00′ W. long.;

(250) 34°15.00′ N. lat., 119°48.00′ W. long.;

(251) 34°08.00′ N. lat., 119°37.00′ W. long.;

(252) 34°08.39′ N. lat., 119°54.78′ W. long.;

(253) 34°07.10′ N. lat., 120°10.37′ W. long.;

(254) 34°10.08′ N. lat., 120°22.98′ W. long.;

(255) 34°13.16′ N. lat., 120°29.40′ W. long.;

(256) 34°09.41′ N. lat., 120°37.75′ W. long.;

(257) 34°03.15′ N. lat., 120°34.71′ W. long.;

(258) 33°57.09′ N. lat., 120°27.76′ W. long.;

(260) 33°51.00′ N. lat., 120°09.00′ W. long.;

(261) 33°38.16′ N. lat., 119°59.23′ W. long.;

(262) 33°37.04′ N. lat., 119°50.17′ W. long.;

(263) 33°42.28′ N. lat., 119°48.85′ W. long.;

(264) 33°53.96′ N. lat., 119°53.77′ W. long.;

(265) 33°59.94′ N. lat., 119°19.57′ W. long.;

(266) 34°03.12′ N. lat., 119°15.51′ W. long.;

(267) 34°01.97′ N. lat., 119°07.28′ W. long.;

(268) 34°03.60′ N. lat., 119°04.71′ W. long.;

(269) 33°59.30′ N. lat., 119°03.73′ W. long.;

(270) 33°58.87′ N. lat., 118°59.37′ W. long.;

(271) 33°58.08′ N. lat., 118°41.14′ W. long.;

(272) 33°50.93′ N. lat., 118°37.65′ W. long.;

(273) 33°39.54′ N. lat., 118°18.70′ W. long.;

(274) 33°35.42′ N. lat., 118°17.14′ W. long.;

(275) 33°32.15′ N. lat., 118°10.84′ W. long.;

(276) 33°33.71′ N. lat., 117°53.72′ W. long.;

(277) 33°31.17′ N. lat., 117°49.11′ W. long.;

(278) 33°16.53′ N. lat., 117°36.13′ W. long.;

(279) 33°06.77′ N. lat., 117°22.92′ W. long.;

(280) 32°58.94′ N. lat., 117°20.05′ W. long.;

(281) 32°55.83′ N. lat., 117°20.15′ W. long.;

(282) 32°46.29′ N. lat., 117°23.89′ W. long.;

(283) 32°42.00′ N. lat., 117°22.16′ W. long.;

(284) 32°39.47′ N. lat., 117°27.78′ W. long.; and

(285) 32°34.83′ N. lat., 117°24.69′ W. long.

(h) The 150 fm (274 m) depth contour used around San Clemente Island off the state of California is defined by straight lines connecting all of the following points in the order stated:

(1) 32°47.95′ N. lat., 118°19.31′ W. long.;

(2) 32°49.79′ N. lat., 118°20.82′ W. long.;

(3) 32°55.99′ N. lat., 118°28.80′ W. long.;

(4) 33°03.00′ N. lat., 118°34.00′ W. long.;

(5) 33°05.00′ N. lat., 118°38.00′ W. long.;

(6) 33°03.21′ N. lat., 118°39.85′ W. long.;

(7) 33°01.93′ N. lat., 118°39.85′ W. long.;

(8) 32°54.69′ N. lat., 118°35.45′ W. long.;

(9) 32°53.28′ N. lat., 118°33.58′ W. long.;

(10) 32°48.26′ N. lat., 118°31.62′ W. long.;

(11) 32°43.03′ N. lat., 118°24.21′ W. long.;

(12) 32°47.15′ N. lat., 118°21.53′ W. long.; and

(13) 32°47.95′ N. lat., 118°19.31′ W. long.

(i) The 150 fm (274 m) depth contour used around Santa Catalina Island off the state of California is defined by straight lines connecting all of the following points in the order stated:

(1) 33°17.24′ N. lat., 118°12.94′ W. long.;

(2) 33°23.60′ N. lat., 118°18.79′ W. long.;

(3) 33°26.00′ N. lat., 118°22.00′ W. long.;

(4) 33°27.57′ N. lat., 118°27.69′ W. long.;

(5) 33°29.78′ N. lat., 118°31.01′ W. long.;

(6) 33°30.46′ N. lat., 118°36.52′ W. long.;

(7) 33°28.65′ N. lat., 118°41.07′ W. long.;

(8) 33°23.23′ N. lat., 118°30.69′ W. long.;

(9) 33°20.97′ N. lat., 118°33.29′ W. long.;

(10) 33°19.81′ N. lat., 118°32.24′ W. long.;

(11) 33°18.00′ N. lat., 118°28.00′ W. long.;

(12) 33°15.62′ N. lat., 118°14.74′ W. long.;

(13) 33°16.00′ N. lat., 118°13.00′ W. long.; and

(14) 33°17.24′ N. lat., 118°12.94′ W. long.

(j) The 150 fm (274 m) depth contour used around Lasuen Knoll off the state of California is defined by straight lines connecting all of the following points in the order stated:

(1) 33°24.99′ N. lat., 117°59.32′ W. long.;

(2) 33°23.66′ N. lat., 117°58.28′ W. long.;

(3) 33°23.21′ N. lat., 117°59.55′ W. long.;

(4) 33°24.74′ N. lat., 118°00.61′ W. long.; and

(5) 33°24.99′ N. lat., 117°59.32′ W. long.

23. Section 660.394 is added to read as follows:

§ 660.394 Latitude/longitude coordinates defining the 180 fm (329 m) through 250 fm (457 m) depth contours.

Boundaries for RCAs are defined by straight lines connecting a series of latitude/longitude coordinates. This section provides coordinates for the 180 fm (329 m) through 250 fm (457 m) depth contours.

(a) The 180 fm (329 m) depth contour used between the U.S. border with Canada and the U.S. border with Mexico is defined by straight lines connecting all of the following points in the order stated:

(1) 48°14.82′ N. lat., 125°41.61′ W. long.;

(2) 48°12.86′ N. lat., 125°37.95′ W. long.;

(3) 48°11.28′ N. lat., 125°39.67′ W. long.;

(4) 48°10.13′ N. lat., 125°42.62′ W. long.;

(5) 48°08.86′ N. lat., 125°41.92′ W. long.;

(6) 48°08.15′ N. lat., 125°44.95′ W. long.;

(7) 48°07.18′ N. lat., 125°45.67′ W. long.;

(8) 48°05.79′ N. lat., 125°44.64′ W. long.;

(9) 48°06.04′ N. lat., 125°41.84′ W. long.;

(10) 48°04.26′ N. lat., 125°40.09′ W. long.;

(11) 48°04.18′ N. lat., 125°36.94′ W. long.;

(12) 48°03.02′ N. lat., 125°36.24′ W. long.;

(13) 48°01.75′ N. lat., 125°37.42′ W. long.;

(14) 48°01.39′ N. lat., 125°39.42′ W. long.;

(15) 47°57.08′ N. lat., 125°36.51′ W. long.;

(16) 47°55.20′ N. lat., 125°36.62′ W. long.;

(17) 47°54.33′ N. lat., 125°34.98′ W. long.;

(18) 47°54.73′ N. lat., 125°31.95′ W. long.;

(19) 47°56.39′ N. lat., 125°30.22′ W. long.;

(20) 47°55.86′ N. lat., 125°28.54′ W. long.;

(21) 47°58.07′ N. lat., 125°25.72′ W. long.;

(22) 48°00.81′ N. lat., 125°24.39′ W. long.;

(23) 48°01.81′ N. lat., 125°23.76′ W. long.;

(24) 48°02.16′ N. lat., 125°22.71′ W. long.;

(25) 48°03.46′ N. lat., 125°22.01′ W. long.;

(26) 48°04.21′ N. lat., 125°20.40′ W. long.;

(27) 48°03.15′ N. lat., 125°19.50′ W. long.;

(28) 48°01.92′ N. lat., 125°18.69′ W. long.;

(29) 48°00.85′ N. lat., 125°20.02′ W. long.;

(30) 48°00.12′ N. lat., 125°20.04′ W. long.;

(31) 47°58.18′ N. lat., 125°18.78′ W. long.;

(32) 47°58.24′ N. lat., 125°17.26′ W. long.;

(33) 47°52.47′ N. lat., 125°15.30′ W. long.;

(34) 47°52.13′ N. lat., 125°12.95′ W. long.;

(35) 47°50.60′ N. lat., 125°10.65′ W. long.;

(36) 47°49.39′ N. lat., 125°10.59′ W. long.;

(37) 47°48.74′ N. lat., 125°06.07′ W. long.;

(38) 47°47.03′ N. lat., 125°06.95′ W. long.;

(39) 47°47.46′ N. lat., 125°05.20′ W. long.;

(40) 47°45.88′ N. lat., 125°04.50′ W. long.;

(41) 47°44.51′ N. lat., 125°06.64′ W. long.;

(42) 47°42.22′ N. lat., 125°04.86′ W. long.;

(43) 47°38.49′ N. lat., 125°06.32′ W. long.;

(44) 47°34.93′ N. lat., 125°04.34′ W. long.;

(45) 47°30.85′ N. lat., 124°57.42′ W. long.;

(46) 47°28.80′ N. lat., 124°56.51′ W. long.;

(47) 47°29.25′ N. lat., 124°53.92′ W. long.;

(48) 47°28.29′ N. lat., 124°51.32′ W. long.;

(49) 47°24.04′ N. lat., 124°47.38′ W. long.;

(50) 47°18.24′ N. lat., 124°45.97′ W. long.;

(51) 47°19.36′ N. lat., 124°50.96′ W. long.;

(52) 47°18.07′ N. lat., 124°53.38′ W. long.;

(53) 47°17.73′ N. lat., 124°52.83′ W. long.;

(54) 47°17.77′ N. lat., 124°51.56′ W. long.;

(55) 47°16.84′ N. lat., 124°50.94′ W. long.;

(56) 47°16.01′ N. lat., 124°53.36′ W. long.;

(57) 47°14.32′ N. lat., 124°52.73′ W. long.;

(58) 47°11.97′ N. lat., 124°56.81′ W. long.;

(59) 47°12.93′ N. lat., 124°58.47′ W. long.;

(60) 47°09.43′ N. lat., 124°57.99′ W. long.;

(61) 47°09.36′ N. lat., 124°59.29′ W. long.;

(62) 47°05.88′ N. lat., 124°59.06′ W. long.;

(63) 47°03.64′ N. lat., 124°56.07′ W. long.;

(64) 47°01.00′ N. lat., 124°59.69′ W. long.;

(65) 46°58.72′ N. lat., 124°59.17′ W. long.;

(66) 46°58.30′ N. lat., 125°00.60′ W. long.;

(67) 46°55.61′ N. lat., 125°01.19′ W. long.;

(68) 46°56.96′ N. lat., 124°58.85′ W. long.;

(69) 46°55.91′ N. lat., 124°54.98′ W. long.;

(70) 46°54.55′ N. lat., 124°54.21′ W. long.;

(71) 46°56.80′ N. lat., 124°50.55′ W. long.;

(72) 46°54.87′ N. lat., 124°49.59′ W. long.;

(73) 46°54.63′ N. lat., 124°53.48′ W. long.;

(74) 46°52.33′ N. lat., 124°54.75′ W. long.;

(75) 46°45.12′ N. lat., 124°51.82′ W. long.;

(76) 46°39.20′ N. lat., 124°47.02′ W. long.;

(77) 46°33.45′ N. lat., 124°36.61′ W. long.;

(78) 46°33.37′ N. lat., 124°30.21′ W. long.;

(79) 46°31.67′ N. lat., 124°31.41′ W. long.;

(80) 46°27.87′ N. lat., 124°32.04′ W. long.;

(81) 46°21.01′ N. lat., 124°37.63′ W. long.;

(82) 46°18.58′ N. lat., 124°38.92′ W. long.;

(83) 46°16.00′ N. lat., 124°23.57′ W. long.;

(84) 46°12.85′ N. lat., 124°35.52′ W. long.;

(85) 46°12.27′ N. lat., 124°38.69′ W. long.;

(86) 46°08.71′ N. lat., 124°41.27′ W. long.;

(87) 46°05.79′ N. lat., 124°42.12′ W. long.;

(88) 46°02.84′ N. lat., 124°48.05′ W. long.;

(89) 46°02.41′ N. lat., 124°48.15′ W. long.;

(90) 45°58.96′ N. lat., 124°43.98′ W. long.;

(91) 45°47.05′ N. lat., 124°43.25′ W. long.;

(92) 45°46.00′ N. lat., 124°43.31′ W. long.;

(93) 45°44.00′ N. lat., 124°45.37′ W. long.;

(94) 45°34.97′ N. lat., 124°31.95′ W. long.;

(95) 45°20.25′ N. lat., 124°25.18′ W. long.;

(96) 45°13.01′ N. lat., 124°21.71′ W. long.;

(97) 45°09.59′ N. lat., 124°22.78′ W. long.;

(98) 45°03.83′ N. lat., 124°26.21′ W. long.;

(99) 45°00.22′ N. lat., 124°28.31′ W. long.;

(100) 44°53.53′ N. lat., 124°32.98′ W. long.;

(101) 44°40.25′ N. lat., 124°46.34′ W. long.;

(102) 44°28.83′ N. lat., 124°47.09′ W. long.;

(103) 44°22.97′ N. lat., 124°49.38′ W. long.;

(104) 44°13.07′ N. lat., 124°58.34′ W. long.;

(105) 44°08.30′ N. lat., 124°58.23′ W. long.;

(106) 43°57.99′ N. lat., 124°57.84′ W. long.;

(107) 43°51.43′ N. lat., 124°52.02′ W. long.;

(108) 43°50.72′ N. lat., 124°39.23′ W. long.;

(109) 43°39.04′ N. lat., 124°37.82′ W. long.;

(110) 43°27.76′ N. lat., 124°39.76′ W. long.;

(111) 43°20.83′ N. lat., 124°42.70′ W. long.;

(112) 43°20.22′ N. lat., 124°42.92′ W. long.;

(113) 43°13.07′ N. lat., 124°46.03′ W. long.;

(114) 43°10.43′ N. lat., 124°50.27′ W. long.;

(115) 43°03.47′ N. lat., 124°52.80′ W. long.;

(116) 42°56.93′ N. lat., 124°53.95′ W. long.;

(117) 42°54.74′ N. lat., 124°54.19′ W. long.;

(118) 42°50.00′ N. lat., 124°52.36′ W. long.;

(119) 42°49.43′ N. lat., 124°52.03′ W. long.;

(120) 42°47.68′ N. lat., 124°47.72′ W. long.;

(121) 42°46.17′ N. lat., 124°44.05′ W. long.;

(122) 42°41.67′ N. lat., 124°44.36′ W. long.;

(123) 42°40.50′ N. lat., 124°43.86′ W. long.;

(124) 42°38.79′ N. lat., 124°42.87′ W. long.;

(125) 42°32.39′ N. lat., 124°45.38′ W. long.;

(126) 42°32.07′ N. lat., 124°43.44′ W. long.;

(127) 42°30.98′ N. lat., 124°43.84′ W. long.;

(128) 42°28.37′ N. lat., 124°48.91′ W. long.;

(129) 42°20.07′ N. lat., 124°41.59′ W. long.;

(130) 42°15.05′ N. lat., 124°38.07′ W. long.;

(131) 42°13.67′ N. lat., 124°37.77′ W. long.;

(132) 42°07.37′ N. lat., 124°37.25′ W. long.;

(133) 42°04.93′ N. lat., 124°36.79′ W. long.;

(134) 42°00.00′ N. lat., 124°36.26′ W. long.;

(135) 41°47.60′ N. lat., 124°29.75′ W. long.;

(136) 41°22.07′ N. lat., 124°29.55′ W. long.;

(137) 41°13.58′ N. lat., 124°24.17′ W. long.;

(138) 41°06.51′ N. lat., 124°23.07′ W. long.;

(139) 40°55.20′ N. lat., 124°27.46′ W. long.;

(140) 40°49.76′ N. lat., 124°27.17′ W. long.;

(141) 40°45.79′ N. lat., 124°30.37′ W. long.;

(142) 40°40.31′ N. lat., 124°32.47′ W. long.;

(143) 40°37.42′ N. lat., 124°37.20′ W. long.;

(144) 40°36.03′ N. lat., 124°39.97′ W. long.;

(145) 40°31.48′ N. lat., 124°40.95′ W. long.;

(146) 40°30.00′ N. lat., 124°38.50′ W. long.;

(147) 40°24.81′ N. lat., 124°35.82′ W. long.;

(148) 40°22.00′ N. lat., 124°30.01′ W. long.;

(149) 40°16.84′ N. lat., 124°29.87′ W. long.;

(150) 40°17.06′ N. lat., 124°35.51′ W. long.;

(151) 40°16.41′ N. lat., 124°39.10′ W. long.;

(152) 40°10.00′ N. lat., 124°23.56′ W. long.;

(153) 40°06.67′ N. lat., 124°19.08′ W. long.;

(154) 40°08.10′ N. lat., 124°16.71′ W. long.;

(155) 40°05.90′ N. lat., 124°17.77′ W. long.;

(156) 40°02.80′ N. lat., 124°16.28′ W. long.;

(157) 40°01.98′ N. lat., 124°12.99′ W. long.;

(158) 40°01.53′ N. lat., 124°09.82′ W. long.;

(159) 39°58.28′ N. lat., 124°12.93′ W. long.;

(160) 39°57.06′ N. lat., 124°12.03′ W. long.;

(161) 39°56.31′ N. lat., 124°08.98′ W. long.;

(162) 39°55.20′ N. lat., 124°07.98′ W. long.;

(163) 39°52.57′ N. lat., 124°09.04′ W. long.;

(164) 39°42.78′ N. lat., 124°02.11′ W. long.;

(165) 39°34.76′ N. lat., 123°58.51′ W. long.;

(166) 39°34.22′ N. lat., 123°56.82′ W. long.;

(167) 39°32.98′ N. lat., 123°56.43′ W. long.;

(168) 39°32.14′ N. lat., 123°58.83′ W. long.;

(169) 39°07.79′ N. lat., 123°58.72′ W. long.;

(170) 39°00.99′ N. lat., 123°57.56′ W. long.;

(171) 39°00.05′ N. lat., 123°56.83′ W. long.;

(172) 38°57.50′ N. lat., 123°57.22′ W. long.;

(173) 38°56.28′ N. lat., 123°57.53′ W. long.;

(174) 38°56.01′ N. lat., 123°58.72′ W. long.;

(175) 38°52.41′ N. lat., 123°56.38′ W. long.;

(176) 38°46.81′ N. lat., 123°51.46′ W. long.;

(177) 38°45.56′ N. lat., 123°51.32′ W. long.;

(178) 38°43.24′ N. lat., 123°49.91′ W. long.;

(179) 38°41.42′ N. lat., 123°47.22′ W. long.;

(180) 38°40.97′ N. lat., 123°47.80′ W. long.;

(181) 38°38.58′ N. lat., 123°46.07′ W. long.;

(182) 38°37.38′ N. lat., 123°43.80′ W. long.;

(183) 38°33.86′ N. lat., 123°41.51′ W. long.;

(184) 38°29.45′ N. lat., 123°38.42′ W. long.;

(185) 38°28.20′ N. lat., 123°38.17′ W. long.;

(186) 38°24.09′ N. lat., 123°35.26′ W. long.;

(187) 38°16.72′ N. lat., 123°31.42′ W. long.;

(188) 38°15.32′ N. lat., 123°29.33′ W. long.;

(189) 38°14.45′ N. lat., 123°26.15′ W. long.;

(190) 38°10.26′ N. lat., 123°25.43′ W. long.;

(191) 38°12.61′ N. lat., 123°28.08′ W. long.;

(192) 38°11.98′ N. lat., 123°29.35′ W. long.;

(193) 38°08.23′ N. lat., 123°28.04′ W. long.;

(194) 38°06.39′ N. lat., 123°30.59′ W. long.;

(195) 38°04.25′ N. lat., 123°31.81′ W. long.;

(196) 38°02.08′ N. lat., 123°31.27′ W. long.;

(197) 38°00.17′ N. lat., 123°29.43′ W. long.;

(198) 38°00.00′ N. lat., 123°28.55′ W. long.;

(199) 37°58.24′ N. lat., 123°26.91′ W. long.;

(200) 37°55.32′ N. lat., 123°27.19′ W. long.;

(201) 37°51.52′ N. lat., 123°25.01′ W. long.;

(202) 37°44.21′ N. lat., 123°11.38′ W. long.;

(203) 37°35.67′ N. lat., 123°01.86′ W. long.;

(204) 37°14.29′ N. lat., 122°52.99′ W. long.;

(205) 37°11.00′ N. lat., 122°49.28′ W. long.;

(206) 37°07.00′ N. lat., 122°44.65′ W. long.;

(207) 37°00.86′ N. lat., 122°37.55′ W. long.;

(208) 36°59.71′ N. lat., 122°33.73′ W. long.;

(209) 36°57.98′ N. lat., 122°27.80′ W. long.;

(210) 36°59.83′ N. lat., 122°25.17′ W. long.;

(211) 36°57.21′ N. lat., 122°25.17′ W. long.;

(212) 36°57.79′ N. lat., 122°22.28′ W. long.;

(213) 36°55.86′ N. lat., 122°21.99′ W. long.;

(214) 36°52.06′ N. lat., 122°12.12′ W. long.;

(215) 36°47.63′ N. lat., 122°07.40′ W. long.;

(216) 36°47.26′ N. lat., 122°03.23′ W. long.;

(217) 36°49.53′ N. lat., 121°59.35′ W. long.;

(218) 36°44.81′ N. lat., 121°58.29′ W. long.;

(219) 36°38.95′ N. lat., 122°02.02′ W. long.;

(220) 36°23.43′ N. lat., 121°59.76′ W. long.;

(221) 36°19.66′ N. lat., 122°06.25′ W. long.;

(222) 36°14.78′ N. lat., 122°01.52′ W. long.;

(223) 36°13.64′ N. lat., 121°57.83′ W. long.;

(224) 36°09.99′ N. lat., 121°43.48′ W. long.;

(225) 36°00.00′ N. lat., 121°36.95′ W. long.;

(226) 35°57.09′ N. lat., 121°34.16′ W. long.;

(227) 35°52.71′ N. lat., 121°32.32′ W. long.;

(228) 35°51.23′ N. lat., 121°30.54′ W. long.;

(229) 35°46.07′ N. lat., 121°29.75′ W. long.;

(230) 35°34.08′ N. lat., 121°19.83′ W. long.;

(231) 35°31.41′ N. lat., 121°14.80′ W. long.;

(232) 35°15.42′ N. lat., 121°03.47′ W. long.;

(233) 35°07.70′ N. lat., 120°59.31′ W. long.;

(234) 34°57.27′ N. lat., 120°56.93′ W. long.;

(235) 34°44.27′ N. lat., 120°57.65′ W. long.;

(236) 34°32.75′ N. lat., 120°50.08′ W. long.;

(237) 34°27.00′ N. lat., 120°41.50′ W. long.;

(238) 34°20.00′ N. lat., 120°30.99′ W. long.;

(239) 34°19.15′ N. lat., 120°19.78′ W. long.;

(240) 34°23.24′ N. lat., 120°14.17′ W. long.;

(241) 34°21.35′ N. lat., 119°54.89′ W. long.;

(242) 34°09.79′ N. lat., 119°44.51′ W. long.;

(243) 34°07.34′ N. lat., 120°06.71′ W. long.;

(244) 34°09.74′ N. lat., 120°19.78′ W. long.;

(245) 34°13.95′ N. lat., 120°29.78′ W. long.;

(246) 34°09.41′ N. lat., 120°37.75′ W. long.;

(247) 34°03.39′ N. lat., 120°35.26′ W. long.;

(248) 33°56.82′ N. lat., 120°28.30′ W. long.;

(249) 33°50.71′ N. lat., 120°09.24′ W. long.;

(250) 33°38.21′ N. lat., 119°59.90′ W. long.;

(251) 33°35.35′ N. lat., 119°51.95′ W. long.;

(252) 33°35.99′ N. lat., 119°49.13′ W. long.;

(253) 33°42.74′ N. lat., 119°47.80′ W. long.;

(254) 33°53.65′ N. lat., 119°53.29′ W. long.;

(255) 33°57.85′ N. lat., 119°31.05′ W. long.;

(256) 33°56.78′ N. lat., 119°27.44′ W. long.;

(257) 33°58.03′ N. lat., 119°27.82′ W. long.;

(258) 33°59.31′ N. lat., 119°20.02′ W. long.;

(259) 34°02.91′ N. lat., 119°15.38′ W. long.;

(260) 33°59.04′ N. lat., 119°03.02′ W. long.;

(261) 33°57.88′ N. lat., 118°41.69′ W. long.;

(262) 33°50.89′ N. lat., 118°37.78′ W. long.;

(263) 33°39.54′ N. lat., 118°18.70′ W. long.;

(264) 33°35.42′ N. lat., 118°17.15′ W. long.;

(265) 33°31.26′ N. lat., 118°10.84′ W. long.;

(266) 33°32.71′ N. lat., 117°52.05′ W. long.;

(267) 32°58.94′ N. lat., 117°20.05′ W. long.;

(268) 32°46.45′ N. lat., 117°24.37′ W. long.;

(269) 32°42.25′ N. lat., 117°22.87′ W. long.;

(270) 32°39.50′ N. lat., 117°27.80′ W. long.; and

(271) 32°34.83′ N. lat., 117°24.67′ W. long.

(b) The 180 fm (329 m) depth contour used around San Clemente Island off the state of California is defined by straight lines connecting all of the following points in the order stated:

(1) 33°01.90′ N. lat., 118°40.17′ W. long.;

(2) 33°03.23′ N. lat., 118°40.05′ W. long.;

(3) 33°05.07′ N. lat., 118°39.01′ W. long.;

(4) 33°05.00′ N. lat., 118°38.01′ W. long.;

(5) 33°03.00′ N. lat., 118°34.00′ W. long.;

(6) 32°55.92′ N. lat., 118°28.39′ W. long.;

(7) 32°49.78′ N. lat., 118°20.82′ W. long.;

(8) 32°47.32′ N. lat., 118°18.30′ W. long.;

(9) 32°47.46′ N. lat., 118°20.29′ W. long.;

(10) 32°46.21′ N. lat., 118°21.96′ W. long.;

(11) 32°42.25′ N. lat., 118°24.07′ W. long.;

(12) 32°47.73′ N. lat., 118°31.74′ W. long.;

(13) 32°53.16′ N. lat., 118°33.85′ W. long.;

(14) 32°54.51′ N. lat., 118°35.56′ W. long.; and

(15) 33°01.90′ N. lat., 118°40.17′ W. long.

(c) The 180 fm (329 m) depth contour used around Santa Catalina Island off the state of California is defined by straight lines connecting all of the following points in the order stated:

(1) 33°30.00′ N. lat., 118°44.18′ W. long.;

(2) 33°30.65′ N. lat., 118°35.07′ W. long.;

(3) 33°29.88′ N. lat., 118°30.89′ W. long.;

(4) 33°27.54′ N. lat., 118°26.91′ W. long.;

(5) 33°26.11′ N. lat., 118°21.97′ W. long.;

(6) 33°24.20′ N. lat., 118°19.05′ W. long.;

(7) 33°14.58′ N. lat., 118°10.35′ W. long.;

(8) 33°17.91′ N. lat., 118°28.20′ W. long.;

(9) 33°19.14′ N. lat., 118°31.34′ W. long.;

(10) 33°20.79′ N. lat., 118°33.75′ W. long.;

(11) 33°23.14′ N. lat., 118°30.80′ W. long.;and

(12) 33°30.00′ N. lat., 118°44.18′ W. long.

(d) The 180 fm (329 m) depth contour used around Lasuen Knoll off the state of California is defined by straight lines connecting all of the following points in the order stated:

(1) 33°25.12′ N. lat., 118°01.09′ W. long.;

(2) 33°25.41′ N. lat., 117°59.36′ W. long.;

(3) 33°23.49′ N. lat., 117°57.47′ W. long.;

(4) 33°23.02′ N. lat., 117°59.58′ W. long.; and

(5) 33°25.12′ N. lat., 118°01.09′ W. long.

(e) The 180 fm (329 m) depth contour used around San Diego Rise off the state of California is defined by straight lines connecting all of the following points in the order stated:

(1) 32°49.98′ N. lat., 117°50.19′ W. long.;

(2) 32°44.10′ N. lat., 117°45.34′ W. long.;

(3) 32°42.01′ N. lat., 117°46.01′ W. long.;

(4) 32°44.42′ N. lat., 117°48.69′ W. long.;

(5) 32°49.86′ N. lat., 117°50.50′ W. long.; and

(6) 32°49.98′ N. lat., 117°50.19′ W. long.

(f) The 200 fm (366 m) depth contour between the U.S. border with Canada and the U.S. border with Mexico is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.28′ N. lat., 125°36.87′ W. long.;

(16) 47°55.11′ N. lat., 125°36.92′ W. long.;

(17) 47°54.09′ N. lat., 125°34.98′ W. long.;

(18) 47°54.50′ N. lat., 125°32.01′ W. long.;

(19) 47°56.07′ N. lat., 125°30.17′ W. long.;

(20) 47°55.65′ N. lat., 125°28.46′ W. long.;

(21) 47°57.88′ N. lat., 125°25.61′ W. long.;

(22) 48°01.63′ N. lat., 125°23.75′ W. long.;

(23) 48°02.21′ N. lat., 125°22.43′ W. long.;

(24) 48°03.60′ N. lat., 125°21.84′ W. long.;

(25) 48°03.98′ N. lat., 125°20.65′ W. long.;

(26) 48°03.26′ N. lat., 125°19.76′ W. long.;

(27) 48°01.49′ N. lat., 125°18.80′ W. long.;

(28) 48°01.03′ N. lat., 125°20.12′ W. long.;

(29) 48°00.04′ N. lat., 125°20.26′ W. long.;

(30) 47°58.10′ N. lat., 125°18.91′ W. long.;

(31) 47°58.17′ N. lat., 125°17.50′ W. long.;

(32) 47°52.28′ N. lat., 125°16.06′ W. long.;

(33) 47°51.92′ N. lat., 125°13.89′ W. long.;

(34) 47°49.20′ N. lat., 125°10.67′ W. long.;

(35) 47°48.69′ N. lat., 125°06.50′ W. long.;

(36) 47°46.54′ N. lat., 125°07.68′ W. long.;

(37) 47°47.24′ N. lat., 125°05.38′ W. long.;

(38) 47°45.95′ N. lat., 125°04.61′ W. long.;

(39) 47°44.58′ N. lat., 125°07.12′ W. long.;

(40) 47°42.24′ N. lat., 125°05.15′ W. long.;

(41) 47°38.54′ N. lat., 125°06.76′ W. long.;

(42) 47°34.86′ N. lat., 125°04.67′ W. long.;

(43) 47°30.75′ N. lat., 124°57.52′ W. long.;

(44) 47°28.51′ N. lat., 124°56.69′ W. long.;

(45) 47°29.15′ N. lat., 124°54.10′ W. long.;

(46) 47°28.43′ N. lat., 124°51.58′ W. long.;

(47) 47°24.13′ N. lat., 124°47.51′ W. long.;

(48) 47°18.31′ N. lat., 124°46.17′ W. long.;

(49) 47°19.57′ N. lat., 124°51.01′ W. long.;

(50) 47°18.12′ N. lat., 124°53.66′ W. long.;

(51) 47°17.59′ N. lat., 124°52.94′ W. long.;

(52) 47°17.71′ N. lat., 124°51.63′ W. long.;

(53) 47°16.90′ N. lat., 124°51.23′ W. long.;

(54) 47°16.10′ N. lat., 124°53.67′ W. long.;

(55) 47°14.24′ N. lat., 124°53.02′ W. long.;

(56) 47°12.16′ N. lat., 124°56.77′ W. long.;

(57) 47°13.35′ N. lat., 124°58.70′ W. long.;

(58) 47°09.53′ N. lat., 124°58.32′ W. long.;

(59) 47°09.54′ N. lat., 124°59.50′ W. long.;

(60) 47°05.87′ N. lat., 124°59.29′ W. long.;

(61) 47°03.65′ N. lat., 124°56.26′ W. long.;

(62) 47°00.91′ N. lat., 124°59.73′ W. long.;

(63) 46°58.74′ N. lat., 124°59.40′ W. long.;

(64) 46°58.55′ N. lat., 125°00.70′ W. long.;

(65) 46°55.57′ N. lat., 125°01.61′ W. long.;

(66) 46°55.77′ N. lat., 124°55.04′ W. long.;

(67) 46°53.16′ N. lat., 124°53.69′ W. long.;

(68) 46°52.39′ N. lat., 124°55.24′ W. long.;

(69) 46°44.88′ N. lat., 124°51.97′ W. long.;

(70) 46°33.28′ N. lat., 124°36.96′ W. long.;

(71) 46°33.20′ N. lat., 124°30.64′ W. long.;

(72) 46°27.85′ N. lat., 124°31.95′ W. long.;

(73) 46°18.16′ N. lat., 124°39.39′ W. long.;

(74) 46°16.48′ N. lat., 124°27.41′ W. long.;

(75) 46°16.73′ N. lat., 124°23.20′ W. long.;

(76) 46°16.00′ N. lat., 124°24.88′ W. long.;

(77) 46°14.22′ N. lat., 124°26.28′ W. long.;

(78) 46°11.53′ N. lat., 124°39.58′ W. long.;

(79) 46°08.77′ N. lat., 124°41.71′ W. long.;

(80) 46°05.86′ N. lat., 124°42.27′ W. long.;

(81) 46°03.85′ N. lat., 124°48.20′ W. long.;

(82) 46°02.34′ N. lat., 124°48.51′ W. long.;

(83) 45°58.99′ N. lat., 124°44.42′ W. long.;

(84) 45°46.90′ N. lat., 124°43.50′ W. long.;

(85) 45°46.00′ N. lat., 124°44.27′ W. long.;

(86) 45°44.98′ N. lat., 124°44.93′ W. long.;

(87) 45°43.47′ N. lat., 124°44.93′ W. long.;

(88) 45°34.88′ N. lat., 124°32.58′ W. long.;

(89) 45°20.25′ N. lat., 124°25.47′ W. long.;

(90) 45°13.04′ N. lat., 124°21.92′ W. long.;

(91) 45°03.83′ N. lat., 124°27.13′ W. long.;

(92) 45°00.17′ N. lat., 124°29.28′ W. long.;

(93) 44°55.41′ N. lat., 124°31.84′ W. long.;

(94) 44°48.25′ N. lat., 124°40.62′ W. long.;

(95) 44°41.34′ N. lat., 124°49.20′ W. long.;

(96) 44°23.30′ N. lat., 124°50.17′ W. long.;

(97) 44°13.19′ N. lat., 124°58.66′ W. long.;

(98) 46°08.30′ N. lat., 124°58.50′ W. long.;

(99) 43°57.89′ N. lat., 124°58.13′ W. long.;

(100) 43°50.59′ N. lat., 124°52.80′ W. long.;

(101) 43°50.10′ N. lat., 124°40.27′ W. long.;

(102) 43°39.06′ N. lat., 124°38.55′ W. long.;

(103) 43°28.85′ N. lat., 124°39.99′ W. long.;

(104) 43°20.83′ N. lat., 124°42.84′ W. long.;

(105) 43°20.22′ N. lat., 124°43.05′ W. long.;

(106) 43°13.29′ N. lat., 124°47.00′ W. long.;

(107) 43°13.14′ N. lat., 124°52.61′ W. long.;

(108) 43°04.26′ N. lat., 124°53.05′ W. long.;

(109) 42°53.93′ N. lat., 124°54.60′ W. long.;

(110) 42°50.00′ N. lat., 124°53.31′ W. long.;

(111) 42°49.52′ N. lat., 124°53.16′ W. long.;

(112) 42°47.46′ N. lat., 124°50.24′ W. long.;

(113) 42°47.57′ N. lat., 124°48.12′ W. long.;

(114) 42°46.19′ N. lat., 124°44.52′ W. long.;

(115) 42°41.75′ N. lat., 124°44.69′ W. long.;

(116) 42°40.50′ N. lat., 124°44.02′ W. long.;

(117) 42°38.81′ N. lat., 124°43.09′ W. long.;

(118) 42°31.83′ N. lat., 124°46.23′ W. long.;

(119) 42°32.08′ N. lat., 124°43.58′ W. long.;

(120) 42°30.96′ N. lat., 124°43.84′ W. long.;

(121) 42°28.41′ N. lat., 124°49.17′ W. long.;

(122) 42°24.80′ N. lat., 124°45.93′ W. long.;

(123) 42°19.71′ N. lat., 124°41.60′ W. long.;

(124) 42°15.12′ N. lat., 124°38.34′ W. long.;

(125) 42°13.67′ N. lat., 124°38.22′ W. long.;

(126) 42°12.35′ N. lat., 124°38.09′ W. long.;

(127) 42°04.38′ N. lat., 124°36.83′ W. long.;

(128) 42°00.00′ N. lat., 124°36.80′ W. long.;

(129) 41°47.85′ N. lat., 124°30.41′ W. long.;

(130) 41°43.34′ N. lat., 124°29.89′ W. long.;

(131) 41°23.47′ N. lat., 124°30.29′ W. long.;

(132) 41°21.30′ N. lat., 124°29.36′ W. long.;

(133) 41°13.53′ N. lat., 124°24.41′ W. long.;

(134) 41°06.72′ N. lat., 124°23.30′ W. long.;

(135) 40°54.67′ N. lat., 124°28.13′ W. long.;

(136) 40°49.02′ N. lat., 124°28.52′ W. long.;

(137) 40°40.45′ N. lat., 124°32.74′ W. long.;

(138) 40°37.11′ N. lat., 124°38.03′ W. long.;

(139) 40°34.22′ N. lat., 124°41.13′ W. long.;

(140) 40°32.90′ N. lat., 124°41.83′ W. long.;

(141) 40°31.30′ N. lat., 124°40.97′ W. long.;

(142) 40°30.00′ N. lat., 124°38.04′ W. long.;

(143) 40°24.99′ N. lat., 124°36.37′ W. long.;

(144) 40°22.23′ N. lat., 124°31.78′ W. long.;

(145) 40°16.95′ N. lat., 124°31.93′ W. long.;

(146) 40°17.59′ N. lat., 124°45.23′ W. long.;

(147) 40°13.25′ N. lat., 124°32.36′ W. long.;

(148) 40°10.16′ N. lat., 124°24.57′ W. long.;

(149) 40°06.43′ N. lat., 124°19.19′ W. long.;

(150) 40°07.07′ N. lat., 124°17.75′ W. long.;

(151) 40°05.53′ N. lat., 124°18.02′ W. long.;

(152) 40°04.71′ N. lat., 124°18.10′ W. long.;

(153) 40°02.35′ N. lat., 124°16.57′ W. long.;

(154) 40°01.53′ N. lat., 124°09.82′ W. long.;

(155) 39°58.28′ N. lat., 124°13.51′ W. long.;

(156) 39°56.60′ N. lat., 124°12.02′ W. long.;

(157) 39°55.20′ N. lat., 124°07.96′ W. long.;

(158) 39°52.55′ N. lat., 124°09.40′ W. long.;

(159) 39°42.68′ N. lat., 124°02.52′ W. long.;

(160) 39°35.96′ N. lat., 123°59.49′ W. long.;

(161) 39°34.62′ N. lat., 123°59.59′ W. long.;

(162) 39°33.78′ N. lat., 123°56.82′ W. long.;

(163) 39°33.02′ N. lat., 123°57.07′ W. long.;

(164) 39°32.21′ N. lat., 123°59.13′ W. long.;

(165) 39°07.85′ N. lat., 123°59.07′ W. long.;

(166) 39°00.90′ N. lat., 123°57.88′ W. long.;

(167) 38°59.95′ N. lat., 123°56.99′ W. long.;

(168) 38°57.50′ N. lat., 123°57.50′ W. long.;

(169) 38°56.82′ N. lat., 123°57.74′ W. long.;

(170) 38°56.40′ N. lat., 123°59.41′ W. long.;

(171) 38°50.23′ N. lat., 123°55.48′ W. long.;

(172) 38°46.77′ N. lat., 123°51.49′ W. long.;

(173) 38°45.28′ N. lat., 123°51.56′ W. long.;

(174) 38°42.76′ N. lat., 123°49.76′ W. long.;

(175) 38°41.54′ N. lat., 123°47.76′ W. long.;

(176) 38°40.98′ N. lat., 123°48.07′ W. long.;

(177) 38°38.03′ N. lat., 123°45.78′ W. long.;

(178) 38°37.20′ N. lat., 123°44.01′ W. long.;

(179) 38°33.44′ N. lat., 123°41.75′ W. long.;

(180) 38°29.45′ N. lat., 123°38.42′ W. long.;

(181) 38°27.89′ N. lat., 123°38.38′ W. long.;

(182) 38°23.68′ N. lat., 123°35.40′ W. long.;

(183) 38°19.63′ N. lat., 123°33.98′ W. long.;

(184) 38°16.23′ N. lat., 123°31.83′ W. long.;

(185) 38°14.79′ N. lat., 123°29.91′ W. long.;

(186) 38°14.12′ N. lat., 123°26.29′ W. long.;

(187) 38°10.85′ N. lat., 123°25.77′ W. long.;

(188) 38°13.15′ N. lat., 123°28.18′ W. long.;

(189) 38°12.28′ N. lat., 123°29.81′ W. long.;

(190) 38°10.19′ N. lat., 123°29.04′ W. long.;

(191) 38°07.94′ N. lat., 123°28.45′ W. long.;

(192) 38°06.51′ N. lat., 123°30.89′ W. long.;

(193) 38°04.21′ N. lat., 123°31.96′ W. long.;

(194) 38°02.07′ N. lat., 123°31.30′ W. long.;

(195) 38°00.00′ N. lat., 123°29.55′ W. long.;

(196) 37°58.13′ N. lat., 123°27.21′ W. long.;

(197) 37°55.01′ N. lat., 123°27.46′ W. long.;

(198) 37°51.40′ N. lat., 123°25.18′ W. long.;

(199) 37°43.97′ N. lat., 123°11.49′ W. long.;

(200) 37°35.67′ N. lat., 123°02.25′ W. long.;

(201) 37°13.65′ N. lat., 122°54.18′ W. long.;

(202) 37°11.00′ N. lat., 122°50.90′ W. long.;

(203) 37°07.00′ N. lat., 122°45.83′ W. long.;

(204) 37°00.66′ N. lat., 122°37.84′ W. long.;

(205) 36°57.40′ N. lat., 122°28.25′ W. long.;

(206) 36°59.25′ N. lat., 122°25.54′ W. long.;

(207) 36°56.88′ N. lat., 122°25.42′ W. long.;

(208) 36°57.40′ N. lat., 122°22.62′ W. long.;

(209) 36°55.43′ N. lat., 122°22.43′ W. long.;

(210) 36°52.29′ N. lat., 122°13.18′ W. long.;

(211) 36°47.12′ N. lat., 122°07.56′ W. long.;

(212) 36°47.10′ N. lat., 122°02.11′ W. long.;

(213) 36°43.76′ N. lat., 121°59.11′ W. long.;

(214) 36°38.85′ N. lat., 122°02.20′ W. long.;

(215) 36°23.41′ N. lat., 122°00.11′ W. long.;

(216) 36°19.68′ N. lat., 122°06.93′ W. long.;

(217) 36°14.75′ N. lat., 122°01.51′ W. long.;

(218) 36°09.74′ N. lat., 121°45.00′ W. long.;

(219) 36°06.67′ N. lat., 121°41.06′ W. long.;

(220) 36°00.00′ N. lat., 121°36.95′ W. long.;

(221) 35°52.31′ N. lat., 121°32.45′ W. long.;

(222) 35°51.21′ N. lat., 121°30.91′ W. long.;

(223) 35°46.32′ N. lat., 121°30.30′ W. long.;

(224) 35°33.74′ N. lat., 121°20.10′ W. long.;

(225) 35°31.37′ N. lat., 121°15.23′ W. long.;

(226) 35°23.32′ N. lat., 121°11.44′ W. long.;

(227) 35°15.28′ N. lat., 121°04.45′ W. long.;

(228) 35°07.08′ N. lat., 121°00.30′ W. long.;

(229) 34°57.46′ N. lat., 120°58.23′ W. long.;

(230) 34°44.25′ N. lat., 120°58.29′ W. long.;

(231) 34°32.30′ N. lat., 120°50.22′ W. long.;

(232) 34°27.00′ N. lat., 120°42.55′ W. long.;

(233) 34°19.08′ N. lat., 120°31.21′ W. long.;

(234) 34°17.72′ N. lat., 120°19.26′ W. long.;

(235) 34°22.45′ N. lat., 120°12.81′ W. long.;

(236) 34°21.36′ N. lat., 119°54.88′ W. long.;

(237) 34°09.95′ N. lat., 119°46.18′ W. long.;

(238) 34°09.08′ N. lat., 119°57.53′ W. long.;

(239) 34°07.53′ N. lat., 120°06.35′ W. long.;

(240) 34°10.54′ N. lat., 120°19.07′ W. long.;

(241) 34°14.68′ N. lat., 120°29.48′ W. long.;

(242) 34°09.51′ N. lat., 120°38.32′ W. long.;

(243) 34°03.06′ N. lat., 120°35.54′ W. long.;

(244) 33°56.39′ N. lat., 120°28.47′ W. long.;

(245) 33°50.25′ N. lat., 120°09.43′ W. long.;

(246) 33°37.96′ N. lat., 120°00.08′ W. long.;

(247) 33°34.52′ N. lat., 119°51.84′ W. long.;

(248) 33°35.51′ N. lat., 119°48.49′ W. long.;

(249) 33°42.76′ N. lat., 119°47.77′ W. long.;

(250) 33°53.62′ N. lat., 119°53.28′ W. long.;

(251) 33°57.61′ N. lat., 119°31.26′ W. long.;

(252) 33°56.34′ N. lat., 119°26.40′ W. long.;

(253) 33°57.79′ N. lat., 119°26.85′ W. long.;

(254) 33°58.88′ N. lat., 119°20.06′ W. long.;

(255) 34°02.65′ N. lat., 119°15.11′ W. long.;

(256) 33°59.02′ N. lat., 119°02.99′ W. long.;

(257) 33°57.61′ N. lat., 118°42.07′ W. long.;

(258) 33°50.76′ N. lat., 118°37.98′ W. long.;

(259) 33°38.41′ N. lat., 118°17.03′ W. long.;

(260) 33°37.14′ N. lat., 118°18.39′ W. long.;

(261) 33°35.51′ N. lat., 118°18.03′ W. long.;

(262) 33°30.68′ N. lat., 118°10.35′ W. long.;

(263) 33°32.49′ N. lat., 117°51.85′ W. long.;

(264) 32°58.87′ N. lat., 117°20.36′ W. long.; and

(265) 32°35.53′ N. lat., 117°29.67′ W. long.

(g) The 200 fm (366 m) depth contour used around San Clemente Island is defined by straight lines connecting all of the following points in the order stated:

(1) 33°05.89′ N. lat., 118°39.45′ W. long.;

(2) 33°02.68′ N. lat., 118°33.14′ W. long.;

(3) 32°57.32′ N. lat., 118°29.12′ W. long.;

(4) 32°47.51′ N. lat., 118°17.88′ W. long.;

(5) 32°41.22′ N. lat., 118°23.78′ W. long.;

(6) 32°46.83′ N. lat., 118°32.10′ W. long.;

(7) 33°01.61′ N. lat., 118°40.64′ W. long.; and

(8) 33°5.89′ N. lat., 118°39.45′ W. long.

(h) The 200 fm (366 m) depth contour used around Santa Catalina Island off the state of California is defined by straight lines connecting all of the following points in the order stated:

(1) 33°32.06′ N. lat., 118°44.52′ W. long.;

(2) 33°31.36′ N. lat., 118°35.28′ W. long.;

(3) 33°30.10′ N. lat., 118°30.82′ W. long.;

(4) 33°27.91′ N. lat., 118°26.83′ W. long.;

(5) 33°26.27′ N. lat., 118°21.35′ W. long.;

(6) 33°21.34′ N. lat., 118°15.24′ W. long.;

(7) 33°13.66′ N. lat., 118°08.98′ W. long.;

(8) 33°17.15′ N. lat., 118°28.35′ W. long.;

(9) 33°20.94′ N. lat., 118°34.34′ W. long.;

(10) 33°23.32′ N. lat., 118°32.60′ W. long.;

(11) 33°28.68′ N. lat., 118°44.93′ W. long.; and

(12) 33°32.06′ N. lat., 118°44.52′ W. long.

(i) The 200 fm (366 m) depth contour used around Lasuen Knoll off the state of California is defined by straight lines connecting all of the following points in the order stated:

(1) 33°25.91′ N. lat., 117°59.44′ W. long.;

(2) 33°23.37′ N. lat., 117°56.97′ W. long.;

(3) 33°22.82′ N. lat., 117°59.50′ W. long.;

(4) 33°25.24′ N. lat., 118°01.68′ W. long.; and

(5) 33°25.91′ N. lat., 117°59.44′ W. long.

(j) The 200 fm (366 m) depth contour used around San Diego Rise off the state of California is defined by straight lines connecting all of the following points in the order stated:

(1) 32°50.30′ N. lat., 117°50.18′ W. long.;

(2) 32°44.01′ N. lat., 117°44.46′ W. long.;

(3) 32°41.34′ N. lat., 117°45.86′ W. long.;

(4) 32°45.45′ N. lat., 117°50.09′ W. long.;

(5) 32°50.10′ N. lat., 117°50.76′ W. long.; and

(6) 32°50.30′ N. lat., 117°50.18′ W. long.

(k) The 200 fm (366 m) depth contour used between the U.S. border with Canada and the U.S. border with Mexico, modified to allow fishing in petrale sole areas, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°16.00′ N. lat., 124°24.88′ W. long.;

(73) 46°14.22′ N. lat., 124°26.28′ W. long.;

(74) 46°11.53′ N. lat., 124°39.58′ W. long.;

(75) 46°08.77′ N. lat., 124°41.71′ W. long.;

(76) 46°05.86′ N. lat., 124°42.27′ W. long.;

(77) 46°03.85′ N. lat., 124°48.20′ W. long.;

(78) 46°02.34′ N. lat., 124°48.51′ W. long.;

(79) 45°58.99′ N. lat., 124°44.42′ W. long.;

(80) 45°46.00′ N. lat., 124°41.82′ W. long.;

(81) 45°49.74′ N. lat., 124°43.69′ W. long.;

(82) 45°49.68′ N. lat., 124°42.37′ W. long.;

(83) 45°40.83′ N. lat., 124°40.90′ W. long.;

(84) 45°34.88′ N. lat., 124°32.58′ W. long.;

(85) 45°20.25′ N. lat., 124°25.47′ W. long.;

(86) 45°13.04′ N. lat., 124°21.92′ W. long.;

(87) 45°03.83′ N. lat., 124°27.13′ W. long.;

(88) 45°00.17′ N. lat., 124°29.28′ W. long.;

(89) 44°50.99′ N. lat., 124°35.40′ W. long.;

(90) 44°46.87′ N. lat., 124°38.20′ W. long.;

(91) 44°48.25′ N. lat., 124°40.62′ W. long.;

(92) 44°41.34′ N. lat., 124°49.20′ W. long.;

(93) 44°23.30′ N. lat., 124°50.17′ W. long.;

(94) 44°13.19′ N. lat., 124°58.66′ W. long.;

(95) 44°08.30′ N. lat., 124°58.72′ W. long.;

(96) 43°57.37′ N. lat., 124°58.71′ W. long.;

(97) 43°52.32′ N. lat., 124°49.43′ W. long.;

(98) 43°51.35′ N. lat., 124°37.94′ W. long.;

(99) 43°49.73′ N. lat., 124°40.26′ W. long.;

(100) 43°39.06′ N. lat., 124°38.55′ W. long.;

(101) 43°28.85′ N. lat., 124°39.99′ W. long.;

(102) 43°20.83′ N. lat., 124°42.89′ W. long.;

(103) 43°20.22′ N. lat., 124°43.05′ W. long.;

(104) 43°13.29′ N. lat., 124°47.00′ W. long.;

(105) 43°10.64′ N. lat., 124°49.95′ W. long.;

(106) 43°04.26′ N. lat., 124°53.05′ W. long.;

(107) 42°53.93′ N. lat., 124°54.60′ W. long.;

(108) 42°50.00′ N. lat., 124°50.60′ W. long.;

(109) 42°47.57′ N. lat., 124°48.12′ W. long.;

(110) 42°46.19′ N. lat., 124°44.52′ W. long.;

(111) 42°41.75′ N. lat., 124°44.69′ W. long.;

(112) 42°40.50′ N. lat., 124°44.02′ W. long.;

(113) 42°38.81′ N. lat., 124°43.09′ W. long.;

(114) 42°31.83′ N. lat., 124°46.23′ W. long.;

(115) 42°32.08′ N. lat., 124°43.58′ W. long.;

(116) 42°30.96′ N. lat., 124°43.84′ W. long.;

(117) 42°28.41′ N. lat., 124°49.17′ W. long.;

(118) 42°24.80′ N. lat., 124°45.93′ W. long.;

(119) 42°19.71′ N. lat., 124°41.60′ W. long.;

(120) 42°15.12′ N. lat., 124°38.34′ W. long.;

(121) 42°13.67′ N. lat., 124°38.28′ W. long.;

(122) 42°12.35′ N. lat., 124°38.09′ W. long.;

(123) 42°00.00′ N. lat., 124°36.83′ W. long.;

(124) 41°47.79′ N. lat., 124°29.48′ W. long.;

(125) 41°21.01′ N. lat., 124°29.01′ W. long.;

(126) 41°13.50′ N. lat., 124°24.40′ W. long.;

(127) 41°11.00′ N. lat., 124°22.99′ W. long.;

(128) 41°06.69′ N. lat., 124°23.30′ W. long.;

(129) 40°54.73′ N. lat., 124°28.15′ W. long.;

(130) 40°53.95′ N. lat., 124°26.04′ W. long.;

(131) 40°49.96′ N. lat., 124°26.04′ W. long.;

(132) 40°44.49′ N. lat., 124°30.81′ W. long.;

(133) 40°40.58′ N. lat., 124°32.06′ W. long.;

(134) 40°37.36′ N. lat., 124°29.41′ W. long.;

(135) 40°35.67′ N. lat., 124°30.43′ W. long.;

(136) 40°37.41′ N. lat., 124°37.06′ W. long.;

(137) 40°36.09′ N. lat., 124°40.11′ W. long.;

(138) 40°31.31′ N. lat., 124°40.87′ W. long.;

(139) 40°29.64′ N. lat., 124°36.82′ W. long.;

(140) 40°27.34′ N. lat., 124°37.28′ W. long.;

(141) 40°25.01′ N. lat., 124°36.36′ W. long.;

(142) 40°22.28′ N. lat., 124°31.83′ W. long.;

(143) 40°16.96′ N. lat., 124°31.91′ W. long.;

(144) 40°17.00′ N. lat., 124°34.96′ W. long.;

(145) 40°16.03′ N. lat., 124°36.02′ W. long.;

(146) 40°10.00′ N. lat., 124°24.55′ W. long.;

(147) 40°06.45′ N. lat., 124°19.24′ W. long.;

(148) 40°07.08′ N. lat., 124°17.80′ W. long.;

(149) 40°05.55′ N. lat., 124°18.11′ W. long.;

(150) 40°04.74′ N. lat., 124°18.11′ W. long.;

(151) 40°02.35′ N. lat., 124°16.53′ W. long.;

(152) 40°01.13′ N. lat., 124°12.98′ W. long.;

(153) 40°01.55′ N. lat., 124°09.80′ W. long.;

(154) 39°58.54′ N. lat., 124°12.43′ W. long.;

(155) 39°55.72′ N. lat., 124°07.44′ W. long.;

(156) 39°42.64′ N. lat., 124°02.52′ W. long.;

(157) 39°35.96′ N. lat., 123°59.47′ W. long.;

(158) 39°34.61′ N. lat., 123°59.58′ W. long.;

(159) 39°34.79′ N. lat., 123°58.47′ W. long.;

(160) 39°33.79′ N. lat., 123°56.77′ W. long.;

(161) 39°33.03′ N. lat., 123°57.06′ W. long.;

(162) 39°32.20′ N. lat., 123°59.12′ W. long.;

(163) 39°07.81′ N. lat., 123°59.06′ W. long.;

(164) 39°03.06′ N. lat., 123°57.77′ W. long.;

(165) 38°57.50′ N. lat., 123°57.00′ W. long.;

(166) 38°52.26′ N. lat., 123°56.18′ W. long.;

(167) 38°50.21′ N. lat., 123°55.48′ W. long.;

(168) 38°46.81′ N. lat., 123°51.49′ W. long.;

(169) 38°45.28′ N. lat., 123°51.55′ W. long.;

(170) 38°42.76′ N. lat., 123°49.73′ W. long.;

(171) 38°41.53′ N. lat., 123°47.80′ W. long.;

(172) 38°41.41′ N. lat., 123°46.74′ W. long.;

(173) 38°38.01′ N. lat., 123°45.74′ W. long.;

(174) 38°37.19′ N. lat., 123°43.98′ W. long.;

(175) 38°35.26′ N. lat., 123°41.99′ W. long.;

(176) 38°33.38′ N. lat., 123°41.76′ W. long.;

(177) 38°19.95′ N. lat., 123°32.90′ W. long.;

(178) 38°14.38′ N. lat., 123°25.51′ W. long.;

(179) 38°09.39′ N. lat., 123°24.39′ W. long.;

(180) 38°10.09′ N. lat., 123°27.21′ W. long.;

(181) 38°03.76′ N. lat., 123°31.90′ W. long.;

(182) 38°02.06′ N. lat., 123°31.26′ W. long.;

(183) 38°00.00′ N. lat., 123°29.56′ W. long.;

(184) 37°58.07′ N. lat., 123°27.21′ W. long.;

(185) 37°55.02′ N. lat., 123°27.44′ W. long.;

(186) 37°51.39′ N. lat., 123°25.22′ W. long.;

(187) 37°43.94′ N. lat., 123°11.49′ W. long.;

(188) 37°35.67′ N. lat., 123°02.23′ W. long.;

(189) 37°23.48′ N. lat., 122°57.76′ W. long.;

(190) 37°23.23′ N. lat., 122°53.78′ W. long.;

(191) 37°13.97′ N. lat., 122°49.91′ W. long.;

(192) 37°11.00′ N. lat., 122°45.61′ W. long.;

(193) 37°07.00′ N. lat., 122°46.38′ W. long.;

(194) 37°00.64′ N. lat., 122°37.70′ W. long.;

(195) 36°57.40′ N. lat., 122°28.36′ W. long.;

(196) 36°59.21′ N. lat., 122°25.64′ W. long.;

(197) 36°56.90′ N. lat., 122°25.42′ W. long.;

(198) 36°57.43′ N. lat., 122°22.55′ W. long.;

(199) 36°55.43′ N. lat., 122°22.43′ W. long.;

(200) 36°52.27′ N. lat., 122°13.16′ W. long.;

(201) 36°47.10′ N. lat., 122°07.53′ W. long.;

(202) 36°47.10′ N. lat., 122°02.08′ W. long.;

(203) 36°43.76′ N. lat., 121°59.15′ W. long.;

(204) 36°38.84′ N. lat., 122°02.20′ W. long.;

(205) 36°30.82′ N. lat., 122°01.13′ W. long.;

(206) 36°30.94′ N. lat., 122°00.54′ W. long.;

(207) 36°25.99′ N. lat., 121°59.50′ W. long.;

(208) 36°26.43′ N. lat., 121°59.76′ W. long.;

(209) 36°22.00′ N. lat., 122°01.02′ W. long.;

(210) 36°19.01′ N. lat., 122°05.01′ W. long.;

(211) 36°14.73′ N. lat., 122°01.55′ W. long.;

(212) 36°14.03′ N. lat., 121°58.09′ W. long.;

(213) 36°09.74′ N. lat., 121°45.01′ W. long.;

(214) 36°06.75′ N. lat., 121°40.73′ W. long.;

(215) 36°00.00′ N. lat., 121°35.96′ W. long.;

(216) 35°58.19′ N. lat., 121°34.63′ W. long.;

(217) 35°52.21′ N. lat., 121°32.46′ W. long.;

(218) 35°51.21′ N. lat., 121°30.94′ W. long.;

(219) 35°46.28′ N. lat., 121°30.29′ W. long.;

(220) 35°33.67′ N. lat., 121°20.09′ W. long.;

(221) 35°31.33′ N. lat., 121°15.22′ W. long.;

(222) 35°23.29′ N. lat., 121°11.41′ W. long.;

(223) 35°15.26′ N. lat., 121°04.49′ W. long.;

(224) 35°07.05′ N. lat., 121°00.26′ W. long.;

(225) 35°07.46′ N. lat., 120°57.10′ W. long.;

(226) 34°44.29′ N. lat., 120°54.28′ W. long.;

(227) 34°44.23′ N. lat., 120°58.27′ W. long.;

(228) 34°32.33′ N. lat., 120°50.23′ W. long.;

(229) 34°27.00′ N. lat., 120°42.55′ W. long.;

(230) 34°19.08′ N. lat., 120°31.21′ W. long.;

(231) 34°17.72′ N. lat., 120°19.26′ W. long.;

(232) 34°22.45′ N. lat., 120°12.81′ W. long.;

(233) 34°21.36′ N. lat., 119°54.88′ W. long.;

(234) 34°09.95′ N. lat., 119°46.18′ W. long.;

(235) 34°09.08′ N. lat., 119°57.53′ W. long.;

(236) 34°07.53′ N. lat., 120°06.35′ W. long.;

(237) 34°10.54′ N. lat., 120°19.07′ W. long.;

(238) 34°14.68′ N. lat., 120°29.48′ W. long.;

(239) 34°09.51′ N. lat., 120°38.32′ W. long.;

(240) 34°03.06′ N. lat., 120°35.54′ W. long.;

(241) 33°56.39′ N. lat., 120°28.47′ W. long.;

(242) 33°50.25′ N. lat., 120°09.43′ W. long.;

(243) 33°37.96′ N. lat., 120°00.08′ W. long.;

(244) 33°34.52′ N. lat., 119°51.84′ W. long.;

(245) 33°35.51′ N. lat., 119°48.49′ W. long.;

(246) 33°42.76′ N. lat., 119°47.77′ W. long.;

(247) 33°53.62′ N. lat., 119°53.28′ W. long.;

(248) 33°57.61′ N. lat., 119°31.26′ W. long.;

(249) 33°56.34′ N. lat., 119°26.40′ W. long.;

(250) 33°57.79′ N. lat., 119°26.85′ W. long.;

(251) 33°58.88′ N. lat., 119°20.06′ W. long.;

(252) 34°02.65′ N. lat., 119°15.11′ W. long.;

(253) 33°59.02′ N. lat., 119°02.99′ W. long.;

(254) 33°57.61′ N. lat., 118°42.07′ W. long.;

(255) 33°50.76′ N. lat., 118°37.98′ W. long.;

(256) 33°39.54′ N. lat., 118°18.70′ W. long.;

(257) 33°37.14′ N. lat., 118°18.39′ W. long.;

(258) 33°35.51′ N. lat., 118°18.03′ W. long.;

(259) 33°30.68′ N. lat., 118°10.35′ W. long.;

(260) 33°32.49′ N. lat., 117°51.85′ W. long.;

(261) 32°58.87′ N. lat., 117°20.36′ W. long.; and

(262) 32°35.53′ N. lat., 117°29.67′ W. long.

(l) The 250 fm (457 m) depth contour used between the U.S. border with Canada and 38° N. lat. is defined by straight lines connecting all of the following points in the order stated:

(1) 48°14.68′ N. lat., 125°42.10′ W. long.;

(2) 48°13.00′ N. lat., 125°39.00′ W. long.;

(3) 48°12.73′ N. lat., 125°38.87′ W. long.;

(4) 48°12.43′ N. lat., 125°39.12′ W. long.;

(5) 48°11.83′ N. lat., 125°40.01′ W. long.;

(6) 48°11.78′ N. lat., 125°41.70′ W. long.;

(7) 48°10.62′ N. lat., 125°43.41′ W. long.;

(8) 48°09.23′ N. lat., 125°42.80′ W. long.;

(9) 48°08.79′ N. lat., 125°43.79′ W. long.;

(10) 48°08.50′ N. lat., 125°45.00′ W. long.;

(11) 48°07.43′ N. lat., 125°46.36′ W. long.;

(12) 48°06.00′ N. lat., 125°46.50′ W. long.;

(13) 48°05.38′ N. lat., 125°42.82′ W. long.;

(14) 48°04.19′ N. lat., 125°40.40′ W. long.;

(15) 48°03.50′ N. lat., 125°37.00′ W. long.;

(16) 48°01.50′ N. lat., 125°40.00′ W. long.;

(17) 47°57.00′ N. lat., 125°37.00′ W. long.;

(18) 47°55.21′ N. lat., 125°37.22′ W. long.;

(19) 47°54.02′ N. lat., 125°36.57′ W. long.;

(20) 47°53.67′ N. lat., 125°35.06′ W. long.;

(21) 47°54.14′ N. lat., 125°32.35′ W. long.;

(22) 47°55.50′ N. lat., 125°28.56′ W. long.;

(23) 47°57.03′ N. lat., 125°26.52′ W. long.;

(24) 47°57.98′ N. lat., 125°25.08′ W. long.;

(25) 48°00.54′ N. lat., 125°24.38′ W. long.;

(26) 48°01.45′ N. lat., 125°23.70′ W. long.;

(27) 48°01.97′ N. lat., 125°22.34′ W. long.;

(28) 48°03.68′ N. lat., 125°21.20′ W. long.;

(29) 48°01.96′ N. lat., 125°19.56′ W. long.;

(30) 48°00.98′ N. lat., 125°20.43′ W. long.;

(31) 48°00.00′ N. lat., 125°20.68′ W. long.;

(32) 47°58.00′ N. lat., 125°19.50′ W. long.;

(33) 47°57.65′ N. lat., 125°19.18′ W. long.;

(34) 47°58.00′ N. lat., 125°18.00′ W. long.;

(35) 47°56.59′ N. lat., 125°18.15′ W. long.;

(36) 47°51.30′ N. lat., 125°18.32′ W. long.;

(37) 47°49.88′ N. lat., 125°14.49′ W. long.;

(38) 47°49.00′ N. lat., 125°11.00′ W. long.;

(39) 47°47.99′ N. lat., 125°07.31′ W. long.;

(40) 47°46.47′ N. lat., 125°08.63′ W. long.;

(41) 47°46.00′ N. lat., 125°06.00′ W. long.;

(42) 47°44.50′ N. lat., 125°07.50′ W. long.;

(43) 47°43.39′ N. lat., 125°06.57′ W. long.;

(44) 47°42.37′ N. lat., 125°05.74′ W. long.;

(45) 47°40.61′ N. lat., 125°06.48′ W. long.;

(46) 47°37.43′ N. lat., 125°07.33′ W. long.;

(47) 47°33.68′ N. lat., 125°04.80′ W. long.;

(48) 47°30.00′ N. lat., 125°00.00′ W. long.;

(49) 47°28.00′ N. lat., 124°58.50′ W. long.;

(50) 47°28.88′ N. lat., 124°54.71′ W. long.;

(51) 47°27.70′ N. lat., 124°51.87′ W. long.;

(52) 47°24.84′ N. lat., 124°48.45′ W. long.;

(53) 47°21.76′ N. lat., 124°47.42′ W. long.;

(54) 47°18.84′ N. lat., 124°46.75′ W. long.;

(55) 47°19.82′ N. lat., 124°51.43′ W. long.;

(56) 47°18.13′ N. lat., 124°54.25′ W. long.;

(57) 47°13.50′ N. lat., 124°54.69′ W. long.;

(58) 47°15.00′ N. lat., 125°00.00′ W. long.;

(59) 47°08.00′ N. lat., 124°59.83′ W. long.;

(60) 47°05.79′ N. lat., 125°01.00′ W. long.;

(61) 47°03.34′ N. lat., 124°57.49′ W. long.;

(62) 47°01.00′ N. lat., 125°00.00′ W. long.;

(63) 46°55.00′ N. lat., 125°02.00′ W. long.;

(64) 46°51.00′ N. lat., 124°57.00′ W. long.;

(65) 46°47.00′ N. lat., 124°55.00′ W. long.;

(66) 46°34.00′ N. lat., 124°38.00′ W. long.;

(67) 46°30.50′ N. lat., 124°41.00′ W. long.;

(68) 46°33.00′ N. lat., 124°32.00′ W. long.;

(69) 46°29.00′ N. lat., 124°32.00′ W. long.;

(70) 46°20.00′ N. lat., 124°39.00′ W. long.;

(71) 46°18.16′ N. lat., 124°40.00′ W. long.;

(72) 46°16.00′ N. lat., 124°27.01′ W. long.;

(73) 46°15.00′ N. lat., 124°30.96′ W. long.;

(74) 46°13.17′ N. lat., 124°37.87′ W. long.;

(75) 46°13.17′ N. lat., 124°38.75′ W. long.;

(76) 46°10.50′ N. lat., 124°42.00′ W. long.;

(77) 46°06.21′ N. lat., 124°41.85′ W. long.;

(78) 46°03.02′ N. lat., 124°50.27′ W. long.;

(79) 45°57.00′ N. lat., 124°45.52′ W. long.;

(80) 45°46.85′ N. lat., 124°45.91′ W. long.;

(81) 45°45.81′ N. lat., 124°47.05′ W. long.;

(82) 45°44.87′ N. lat., 124°45.98′ W. long.;

(83) 45°43.44′ N. lat., 124°46.03′ W. long.;

(84) 45°35.82′ N. lat., 124°45.72′ W. long.;

(85) 45°35.70′ N. lat., 124°42.89′ W. long.;

(86) 45°24.45′ N. lat., 124°38.21′ W. long.;

(87) 45°11.68′ N. lat., 124°39.38′ W. long.;

(88) 44°57.94′ N. lat., 124°37.02′ W. long.;

(89) 44°44.28′ N. lat., 124°50.79′ W. long.;

(90) 44°32.63′ N. lat., 124°54.21′ W. long.;

(91) 44°23.20′ N. lat., 124°49.87′ W. long.;

(92) 44°13.17′ N. lat., 124°58.81′ W. long.;

(93) 43°57.92′ N. lat., 124°58.29′ W. long.;

(94) 43°50.12′ N. lat., 124°53.36′ W. long.;

(95) 43°49.53′ N. lat., 124°43.96′ W. long.;

(96) 43°42.76′ N. lat., 124°41.40′ W. long.;

(97) 43°24.00′ N. lat., 124°42.61′ W. long.;

(98) 43°19.74′ N. lat., 124°45.12′ W. long.;

(99) 43°19.62′ N. lat., 124°52.95′ W. long.;

(100) 43°17.41′ N. lat., 124°53.02′ W. long.;

(101) 42°49.15′ N. lat., 124°54.93′ W. long.;

(102) 42°46.74′ N. lat., 124°53.39′ W. long.;

(103) 42°43.76′ N. lat., 124°51.64′ W. long.;

(104) 42°45.41′ N. lat., 124°49.35′ W. long.;

(105) 42°43.92′ N. lat., 124°45.92′ W. long.;

(106) 42°38.87′ N. lat., 124°43.38′ W. long.;

(107) 42°34.78′ N. lat., 124°46.56′ W. long.;

(108) 42°31.47′ N. lat., 124°46.89′ W. long.;

(109) 42°31.00′ N. lat., 124°44.28′ W. long.;

(110) 42°29.22′ N. lat., 124°46.93′ W. long.;

(111) 42°28.39′ N. lat., 124°49.94′ W. long.;

(112) 42°26.28′ N. lat., 124°47.60′ W. long.;

(113) 42°19.58′ N. lat., 124°43.21′ W. long.;

(114) 42°13.75′ N. lat., 124°40.06′ W. long.;

(115) 42°05.12′ N. lat., 124°39.06′ W. long.;

(116) 42°00.00′ N. lat., 124°37.76′ W. long.;

(117) 41°47.93′ N. lat., 124°31.79′ W. long.;

(118) 41°21.35′ N. lat., 124°30.35′ W. long.;

(119) 41°07.11′ N. lat., 124°25.25′ W. long.;

(120) 40°57.37′ N. lat., 124°30.25′ W. long.;

(121) 40°48.77′ N. lat., 124°30.69′ W. long.;

(122) 40°41.03′ N. lat., 124°33.21′ W. long.;

(123) 40°37.40′ N. lat., 124°38.96′ W. long.;

(124) 40°33.70′ N. lat., 124°42.50′ W. long.;

(125) 40°31.31′ N. lat., 124°41.59′ W. long.;

(126) 40°30.00′ N. lat., 124°40.50′ W. long.;

(127) 40°25.00′ N. lat., 124°36.65′ W. long.;

(128) 40°22.42′ N. lat., 124°32.19′ W. long.;

(129) 40°17.17′ N. lat., 124°32.21′ W. long.;

(130) 40°18.68′ N. lat., 124°50.44′ W. long.;

(131) 40°13.55′ N. lat.,124°34.26′ W. long.;

(132) 40°10.00′ N. lat., 124°28.25′ W. long.;

(133) 40°06.72′ N. lat.,124°21.40′ W. long.;

(134) 40°01.63′ N. lat.,124°17.25′ W. long.;

(135) 40°00.68′ N. lat.,124°11.19′ W. long.;

(136) 39°59.09′ N. lat., 124°14.92′ W. long.;

(137) 39°51.85′ N. lat.,124°10.33′ W. long.;

(138) 39°36.90′ N. lat.,124°00.63′ W. long.;

(139) 39°32.41′ N. lat.,124°00.01′ W. long.;

(140) 39°05.40′ N. lat.,124°00.52′ W. long.;

(141) 39°04.32′ N. lat.,123°59.00′ W. long.;

(142) 38°58.02′ N. lat.,123°58.18′ W. long.;

(143) 38°57.50′ N. lat., 124°01.90′ W. long.;

(144) 38°50.27′ N. lat.,123°56.26′ W. long.;

(145) 38°46.73′ N. lat.,123°51.93′ W. long.;

(146) 38°44.64′ N. lat.,123°51.77′ W. long.;

(147) 38°32.97′ N. lat.,123°41.84′ W. long.;

(148) 38°14.56′ N. lat.,123°32.18′ W. long.;

(149) 38°13.85′ N. lat.,123°29.94′ W. long.;

(150) 38°11.88′ N. lat.,123°30.57′ W. long.;

(151) 38°08.72′ N. lat.,123°29.56′ W. long.;

(152) 38°05.62′ N. lat.,123°32.38′ W. long.;

(153) 38°01.90′ N. lat.,123°32.00′ W. long.; and

(154) 38°00.00′ N. lat., 123°30.00′ W. long.

(m) The 250 fm (457 m) depth contour used between the U.S. border with Canada and 38° N. lat., modified to allow fishing in petrale sole areas, is defined by straight lines connecting all of the following points in the order stated:

(1) 48°14.71′ N. lat., 125°41.95′ W. long.;

(2) 48°13.00′ N. lat., 125°39.00′ W. long.;

(3) 48°08.50′ N. lat., 125°45.00′ W. long.;

(4) 48°06.00′ N. lat., 125°46.50′ W. long.;

(5) 48°03.50′ N. lat., 125°37.00′ W. long.;

(6) 48°01.50′ N. lat., 125°40.00′ W. long.;

(7) 47°57.00′ N. lat., 125°37.00′ W. long.;

(8) 47°55.50′ N. lat., 125°28.50′ W. long.;

(9) 47°58.00′ N. lat., 125°25.00′ W. long.;

(10) 48°00.50′ N. lat., 125°24.50′ W. long.;

(11) 48°03.50′ N. lat., 125°21.00′ W. long.;

(12) 48°02.00′ N. lat., 125°19.50′ W. long.;

(13) 48°00.00′ N. lat., 125°21.00′ W. long.;

(14) 47°58.00′ N. lat., 125°20.00′ W. long.;

(15) 47°58.00′ N. lat., 125°18.00′ W. long.;

(16) 47°52.00′ N. lat., 125°16.50′ W. long.;

(17) 47°49.00′ N. lat., 125°11.00′ W. long.;

(18) 47°46.00′ N. lat., 125°06.00′ W. long.;

(19) 47°44.50′ N. lat., 125°07.50′ W. long.;

(20) 47°42.00′ N. lat., 125°06.00′ W. long.;

(21) 47°38.00′ N. lat., 125°07.00′ W. long.;

(22) 47°30.00′ N. lat., 125°00.00′ W. long.;

(23) 47°28.00′ N. lat., 124°58.50′ W. long.;

(24) 47°28.88′ N. lat., 124°54.71′ W. long.;

(25) 47°27.70′ N. lat., 124°51.87′ W. long.;

(26) 47°24.84′ N. lat., 124°48.45′ W. long.;

(27) 47°21.76′ N. lat., 124°47.42′ W. long.;

(28) 47°18.84′ N. lat., 124°46.75′ W. long.;

(29) 47°19.82′ N. lat., 124°51.43′ W. long.;

(30) 47°18.13′ N. lat., 124°54.25′ W. long.;

(31) 47°13.50′ N. lat., 124°54.69′ W. long.;

(32) 47°15.00′ N. lat., 125°00.00′ W. long.;

(33) 47°08.00′ N. lat., 124°59.82′ W. long.;

(34) 47°05.79′ N. lat., 125°01.00′ W. long.;

(35) 47°03.34′ N. lat., 124°57.49′ W. long.;

(36) 47°01.00′ N. lat., 125°00.00′ W. long.;

(37) 46°55.00′ N. lat., 125°02.00′ W. long.;

(38) 46°51.00′ N. lat., 124°57.00′ W. long.;

(39) 46°47.00′ N. lat., 124°55.00′ W. long.;

(40) 46°34.00′ N. lat., 124°38.00′ W. long.;

(41) 46°30.50′ N. lat., 124°41.00′ W. long.;

(42) 46°33.00′ N. lat., 124°32.00′ W. long.;

(43) 46°29.00′ N. lat., 124°32.00′ W. long.;

(44) 46°20.00′ N. lat., 124°39.00′ W. long.;

(45) 46°18.16′ N. lat., 124°40.00′ W. long.;

(46) 46°16.00′ N. lat., 124°27.01′ W. long.;

(47) 46°15.00′ N. lat., 124°30.96′ W. long.;

(48) 46°13.17′ N. lat., 124°38.76′ W. long.;

(49) 46°10.51′ N. lat., 124°41.99′ W. long.;

(50) 46°06.24′ N. lat., 124°41.81′ W. long.;

(51) 46°03.04′ N. lat., 124°50.26′ W. long.;

(52) 45°56.99′ N. lat., 124°45.45′ W. long.;

(53) 45°49.94′ N. lat., 124°45.75′ W. long.;

(54) 45°49.94′ N. lat., 124°42.33′ W. long.;

(55) 45°45.73′ N. lat., 124°42.18′ W. long.;

(56) 45°45.73′ N. lat., 124°43.82′ W. long.;

(57) 45°41.94′ N. lat., 124°43.61′ W. long.;

(58) 45°41.58′ N. lat., 124°39.86′ W. long.;

(59) 45°38.45′ N. lat., 124°39.94′ W. long.;

(60) 45°35.75′ N. lat., 124°42.91′ W. long.;

(61) 45°24.49′ N. lat., 124°38.20′ W. long.;

(62) 45°14.43′ N. lat., 124°39.05′ W. long.;

(63) 45°14.30′ N. lat., 124°34.19′ W. long.;

(64) 45°08.98′ N. lat., 124°34.26′ W. long.;

(65) 45°09.02′ N. lat., 124°38.81′ W. long.;

(66) 44°57.98′ N. lat., 124°36.98′ W. long.;

(67) 44°56.62′ N. lat., 124°38.32′ W. long.;

(68) 44°50.82′ N. lat., 124°35.52′ W. long.;

(69) 44°46.89′ N. lat., 124°38.32′ W. long.;

(70) 44°50.78′ N. lat., 124°44.24′ W. long.;

(71) 44°44.27′ N. lat., 124°50.78′ W. long.;

(72) 44°32.63′ N. lat., 124°54.24′ W. long.;

(73) 44°23.25′ N. lat., 124°49.78′ W. long.;

(74) 44°13.16′ N. lat., 124°58.81′ W. long.;

(75) 43°57.88′ N. lat., 124°58.25′ W. long.;

(76) 43°56.89′ N. lat., 124°57.33′ W. long.;

(77) 43°53.41′ N. lat., 124°51.95′ W. long.;

(78) 43°51.56′ N. lat., 124°47.38′ W. long.;

(79) 43°51.49′ N. lat., 124°37.77′ W. long.;

(80) 43°48.02′ N. lat., 124°43.31′ W. long.;

(81) 43°42.77′ N. lat., 124°41.39′ W. long.;

(82) 43°24.09′ N. lat., 124°42.57′ W. long.;

(83) 43°19.73′ N. lat., 124°45.09′ W. long.;

(84) 43°15.98′ N. lat., 124°47.76′ W. long.;

(85) 43°04.14′ N. lat., 124°52.55′ W. long.;

(86) 43°04.00′ N. lat., 124°53.88′ W. long.;

(87) 42°54.69′ N. lat., 124°54.54′ W. long.;

(88) 42°45.46′ N. lat., 124°49.37′ W. long.;

(89) 42°43.91′ N. lat., 124°45.90′ W. long.;

(90) 42°38.84′ N. lat., 124°43.36′ W. long.;

(91) 42°34.82′ N. lat., 124°46.56′ W. long.;

(92) 42°31.57′ N. lat., 124°46.86′ W. long.;

(93) 42°30.98′ N. lat., 124°44.27′ W. long.;

(94) 42°29.21′ N. lat., 124°46.93′ W. long.;

(95) 42°28.52′ N. lat., 124°49.40′ W. long.;

(96) 42°26.06′ N. lat., 124°46.61′ W. long.;

(97) 42°21.82′ N. lat., 124°43.76′ W. long.;

(98) 42°17.47′ N. lat., 124°38.89′ W. long.;

(99) 42°13.67′ N. lat., 124°37.51′ W. long.;

(100) 42°13.76′ N. lat., 124°40.03′ W. long.;

(101) 42°05.12′ N. lat., 124°39.06′ W. long.;

(102) 42°02.67′ N. lat., 124°38.41′ W. long.;

(103) 42°02.67′ N. lat., 124°35.95′ W. long.;

(104) 42°00.00′ N. lat., 124°36.83′ W. long.;

(105) 41°47.79′ N. lat., 124°29.48′ W. long.;

(106) 41°21.01′ N. lat., 124°29.01′ W. long.;

(107) 41°13.50′ N. lat., 124°24.40′ W. long.;

(108) 41°11.00′ N. lat., 124°22.99′ W. long.;

(109) 41°06.69′ N. lat., 124°23.30′ W. long.;

(110) 40°54.73′ N. lat., 124°28.15′ W. long.;

(111) 40°53.95′ N. lat., 124°26.04′ W. long.;

(112) 40°49.96′ N. lat., 124°26.04′ W. long.;

(113) 40°44.49′ N. lat., 124°30.81′ W. long.;

(114) 40°40.58′ N. lat., 124°32.06′ W. long.;

(115) 40°37.36′ N. lat., 124°29.41′ W. long.;

(116) 40°35.67′ N. lat., 124°30.43′ W. long.;

(117) 40°37.41′ N. lat., 124°37.06′ W. long.;

(118) 40°36.09′ N. lat., 124°40.11′ W. long.;

(119) 40°31.31′ N. lat., 124°40.87′ W. long.;

(120) 40°29.64′ N. lat., 124°36.82′ W. long.;

(121) 40°27.34′ N. lat., 124°37.28′ W. long.;

(122) 40°25.01′ N. lat., 124°36.36′ W. long.;

(123) 40°22.28′ N. lat., 124°31.83′ W. long.;

(124) 40°16.96′ N. lat., 124°31.91′ W. long.;

(125) 40°17.00′ N. lat., 124°34.96′ W. long.;

(126) 40°16.03′ N. lat., 124°36.02′ W. long.;

(127) 40°10.00′ N. lat., 124°24.55′ W. long.;

(128) 40°06.45′ N. lat., 124°19.24′ W. long.;

(129) 40°07.08′ N. lat., 124°17.80′ W. long.;

(130) 40°05.55′ N. lat., 124°18.11′ W. long.;

(131) 40°04.74′ N. lat., 124°18.11′ W. long.;

(132) 40°02.35′ N. lat., 124°16.53′ W. long.;

(133) 40°01.13′ N. lat., 124°12.98′ W. long.;

(134) 40°01.55′ N. lat., 124°09.80′ W. long.;

(135) 39°58.54′ N. lat., 124°12.43′ W. long.;

(136) 39°55.72′ N. lat., 124°07.44′ W. long.;

(137) 39°42.64′ N. lat., 124°02.52′ W. long.;

(138) 39°35.96′ N. lat., 123°59.47′ W. long.;

(139) 39°34.61′ N. lat., 123°59.58′ W. long.;

(140) 39°34.79′ N. lat., 123°58.47′ W. long.;.;

(141) 39°33.79′ N. lat., 123°56.77′ W. long.;

(142) 39°33.03′ N. lat., 123°57.06′ W. long.;

(143) 39°33.20′ N. lat., 123°59.12′ W. long.;

(144) 39°07.81′ N. lat., 123°59.06′ W. long.;

(145) 39°03.06′ N. lat., 123°57.77′ W. long.;

(146) 38°57.50′ N. lat., 123°57.00′ W. long.;

(147) 38°52.26′ N. lat., 123°56.18′ W. long.;

(148) 38°50.21′ N. lat., 123°55.48′ W. long.;

(149) 38°46.81′ N. lat., 123°51.49′ W. long.; and

(150) 38°45.28′ N. lat., 123°51.55′ W. long.

(151) 38°42.76′ N. lat., 123°49.73′ W. long.

(152) 38°41.53′ N. lat., 123°47.80′ W. long.

(153) 38°41.41′ N. lat., 123°46.74′ W. long.

(154) 38°38.01′ N. lat., 123°45.74′ W. long.

(155) 38°37.19′ N. lat., 123°43.98′ W. long.

(156) 38°35.26′ N. lat., 123°41.99′ W. long.

(157) 38°33.38′ N. lat., 123°41.76′ W. long.

(158) 38°19.95′ N. lat., 123°32.90′ W. long.

(159) 38°14.38′ N. lat., 123°25.51′ W. long.

(160) 38°09.39′ N. lat., 123°24.39′ W. long.

(161) 38°10.09′ N. lat., 123°27.21′ W. long.

(162) 38°03.76′ N. lat., 123°31.90′ W. long.

(163) 38°02.06′ N. lat., 123°31.26′ W. long.

(164) 38°00.00′ N. lat., 123°29.56′ W. long.

24. In part 660, subpart G, Tables 1-5 are added to read as follows:

BILLING CODE 3510-22-S

25. In part 660, subpart G, Figure 1, “Diagram of Selective Flatfish Trawl” is added to read as follows:

[FR Doc. 04-27740 Filed 12-22-04; 8:45 am]

BILLING CODE 3510-22-C